DEPARTMENT OF HOUSING AND URBAN DEVELOPMENT

[Docket No. FR-5907-N-16]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert E. Moriarty, P.E., AFCEC/CI, 2261 Hughes Avenue, Ste. 155, JBSA Lackland TX 78236-9853; Army: Ms. Veronica Rines, Office of the Assistant Chief of Staff for Installation Management, Department of Army, Room 5A128, 600 Army Pentagon, Washington, DC 20310, (571)-256-8145; (These are not toll-free numbers).

Dated: April 5, 2016.
Brian P. Fitzmaurice,
Director, Division of Community Assistance, Office of Special Needs Assistance Programs.

TITLE V, FEDERAL SURPLUS PROPERTY PROGRAM FEDERAL REGISTER REPORT FOR 04/15/2016

Suitable/Available Properties

Building

Alabama

C1301

Ft. McClellan

Ft. McClellan AL 36205

Landholding Agency: Army

Property Number: 21201220017

Status: Excess

Comments: off-site removal only; 2,232 sf.; barracks; extensive repairs needed; secured area; need prior approval to access property.

11 Buildings

Redstone Arsenal

Redstone Arsenal AL 35898

Landholding Agency: Army

Property Number: 21201340002

Status: Unutilized

Directions: 4469, 7328, 7352A, 7352B, 7353A, 7635, 7668A, 7688A, 7902, 7908 (Please Note: 7352A, 7352B, and 7688A are suitable/unavailable)

Comments: off-site removal only; no future agency need; sq. ft. varies; major repairs needed; secured area; contact Army for more info. on a specific property & accessibility reqs.

4 Buildings

Redstone Arsenal

Redstone Arsenal AL 35898

Landholding Agency: Army

Property Number: 21201410026

Status: Unutilized

Directions: 3535 (150 sq. ft.); 3538 (48 sq. ft.); 4637 (2,095 sq. ft.); 7330 (75 sq. ft.)

Comments: off-site removal only; no future agency need; repairs needed; secured area; contact Army for more information.

5 Buildings

Redstone Arsenal

Redstone Arsenal AL 35898

Landholding Agency: Army

Property Number: 21201420016

Status: Unutilized

Directions: 7742A; 7742B; 7740A; 7740B; 7740

Comments: off-site removal only; must be dismantled; no future agency need; extensive repairs required; contact Army for more info. on a specific property & accessibility/removal reqs.

4811

Redstone Arsenal

Redstone Arsenal AL 35898

Landholding Agency: Army

Property Number: 21201430024

Status: Unutilized

Directions: 4811

Comments: off-site removal only; no future agency need; 221 sq. ft.; Flammable/explosive storage facility; 12+ months vacant; deteriorated; secured area; contact Army for more information.

6 Buildings

Redstone Arsenal

Madison AL 35898

Landholding Agency: Army

Property Number: 21201510040

Status: Unutilized

Directions: 3757 (800 sq. ft.); 3759 (39 sq. ft.); 3762 (288 sq. ft.); 6209 (130 sq. ft.); 6210 (130 sq. ft.); 7859 (522 sq. ft.)

Comments: off-site removal only; no future agency need; prior approval to gain access is required; for more info. contact Army.

2 Buildings

Redstone Arsenal

Redstone Arsenal AL 35898

Landholding Agency: Army

Property Number: 21201530058

Status: Unutilized

Directions: Building 7359 (4,547 sq. ft.); 7369 (7,288 sq. ft.)

Comments: off-site removal; 48-70+ yrs. old; rocket plants; vacant 4 mos.; major reno. needed; contaminates; asbestos; no future agency need; prior approval needed to gain access; contact Army for more infor.

Building 3540

Redstone Arsenal

Redstone Arsenal AL 35898

Landholding Agency: Army

Property Number: 21201530092

Status: Unutilized

Comments: off-site removal only; no future agency need; 150 sq. ft.; range support; removal may be diff. due to type (brick); major renov.; LBP; endangered species- var. bat species; contact Army for more info.

4 Buildings

Fort Rucker

Fort Rucker AL 36362

Landholding Agency: Army

Property Number: 21201610035

Status: Unutilized

Directions: 1402:186819 (9,000 sq. ft.); 8828:186696 (400 sq. ft.); 5030T:183660 (1,440 sq. ft.) 1401:18663 (9,320 sq. ft.)

Comments: off-site removal; 29+-73 yrs. old; storage; admin.; fair con.; due to size may not be feasible to move; no future agency need; prior appr. to gain acc. is required; co. Army for more info.

Alaska

Bldg. 00001

Holy Cross Armory

High Cross AK 99602

Landholding Agency: Army

Property Number: 21200710051

Status: Excess

Comments: 1200 sq. ft. armory; off-site use only.

Building 00001

9679 Tuluksak Rd.

Toksook AK 99679

Landholding Agency: Army

Property Number: 21201320038

Status: Excess

Comments: 1,200 sf.; armory; 60 months vacant; poor conditions.

Building 00001

Lot 7 Block 11 US Survey 5069

Noorvik AK 99763

Landholding Agency: Army

Property Number: 21201330030

Status: Excess

Comments: 1,200 sf. armory; 60+ months vacant; poor conditions; contact Army for more info.

Building 00001

P.O. Box 22

Gambell AK 99742

Landholding Agency: Army

Property Number: 21201330031

Status: Excess

Comments: 1,208 sf.; armory; 60+ months vacant; poor conditions; contact Army for more info.

Building 0001

Kivalina Armory

Kivalina AK 99750

Landholding Agency: Army

Property Number: 21201330032

Status: Excess

Comments: 1,200 sf. armory; 600+ months vacant; poor conditions; contact Army for more info.

Akiachak 00001

500 Philips St.

Akiachak AK 99551

Landholding Agency: Army

Property Number: 21201330033

Status: Excess

Comments: 1,200 sf.; armory; 60+ months vacant; poor conditions; contact Army for more info.

Arizona

Building 90890

Fort Huachuca

Fort Huachuca AZ 85613

Landholding Agency: Army

Property Number: 21201440051

Status: Unutilized

Comments: off-site removal only; no future agency need; 40 sq. ft.; 80+ months vacant; repairs needed; contact Army for more information.

7 Buldings

Papago Park Military Reservation

Phoenix AZ 85008

Landholding Agency: Army

Property Number: 21201510025

Status: Excess

Directions: M5358 (1500 sq. ft.); M5356 (1,500 sq. ft.) M5354 (1,500 sq. ft.); M5352 (1,500 sq. ft.); M5218 (1,097 sq. ft.); M5331 (2,460 sq. ft.); M5502 (5,856 sq. ft.)

Comments: fair condition prior approve to gain access is required; for more information contact Army about a specific property.

2 Building

5636 E. McDowell Road

Phoenix AZ 85008

Landholding Agency: Army

Property Number: 21201520007

Status: Excess

Directions: Building M5502 (5,856 sq. ft.) & M5331 (2,460 sq. ft.)

Comments: 45+ & 62+ yrs. old for buildings respectively above; administration; restricted access; escort required; contact Army for more information.

Arkansas

B-1500

Vandernberg Blvd.

Little Rock AR

Landholding Agency: Air Force

Property Number: 18201610021

Status: Underutilized

Comments: 389 sq. ft.; office/visitor's center; poor conditions; contact AF for more information.

California

Bldgs. 18026, 18028

Camp Roberts

Monterey CA 93451-5000

Landholding Agency: Army

Property Number: 21200130081

Status: Excess

GSA Number:

Comments: 2024 sq. ft. sq. ft.; concrete; poor condition; off-site use only.

1201T

Tower Rd.

Dubin CA 94568

Landholding Agency: Army

Property Number: 21201310060

Status: Unutilized

Comments: off-site removal only; 30 sf.; control tower; poor conditions; restricted area; transferee must obtain real estate doc. to access/remove; contact Army for more info.

1201S & 1205S

Tower Rd.

Dublin CA 94568

Landholding Agency: Army

Property Number: 21201310062

Status: Unutilized

Directions: previously reported under 21201010006

Comments: redetermination: off-site removal only; 396 & 252 sf. respectively; storage; poor conditions; transferee will need to obtain real estate doc. to access/remove property; contact Army for more info.

2 Building

Parks Reserve Forces Training Area

Dublin CA 94568

Landholding Agency: Army

Property Number: 21201330002

Status: Underutilized

Directions: 1108, 1109

Comments: off-site removal only; no future agency need; sf. varies; poor conditions; secured area; contact Army for info. on a specific property & accessibility removal reas.

7 Building

Parks Reserve Forces Training Area

Dublin CA 94568

Landholding Agency: Army

Property Number: 21201330003

Status: Unutilized

Directions: 200, 00974, 1080, 1085, 1100, 1101, 1176

Comments: sf varies; no future agency need; poor/deteriorated conditions; secured area; escort required; contact Army for more info. on a specific property & accessibility reqs./removal options.

Building 4230

Ord Military Community

Seaside CA 93955

Landholding Agency: Army

Property Number: 21201330007

Status: Unutilized

Directions: 4230

Comments: 15,908 sf.; theater; vacant since 2000; 43 yes.-old; mold; lead-based paint, asbestos; contact Army for more info.

11 Building

Fort Hunter Liggett

FF Hunter Liggett CA 93928

Landholding Agency: Army

Property Number: 21201330018

Status: Unutilized

Directions: 0100A, 0178B, 00306, 00408, 0418A, 00850, 00851, 00932, 00945, 00946, 00947

Comments: offsite removal only; no future agency need; St. varies, conditions range from good to dilapidated secured area, contact Army for more info. on a specific property & accessibility/removal reqs.

22 Buildings

Hwy. 101, Bldg. 109

Camp Roberts CA 93451

Landholding Agency: Army

Property Number: 21201330019

Status: Excess

Directions: 00902, 00936, 01019, 06079, 06080, 06125, 06320, 14212, 14308, 14801, 25012, 25013, 27108, 27110, 27126, RB001, RB003, RB004, RB005, RB006, RB007, RB043

Comments: correction: Bldg. 14801 incorrectly published on 08/30/2013; off-site removal only; 6+ months vacant; poor conditions; contamination; secured area; contact Army for info.

11 Building

Fort Hunter Liggett

Fort Hunter Liggett CA 93928

Landholding Agency: Army

Property Number: 21201330023

Status: Unutilized

Directions: 0100A, 0178B, 00306, 00408, 0418A, 00850, 00851, 00932, 00945, 00946, 00947

Comments: offsite removal only; no future agency need; St. varies, conditions range from good to dilapidated secured area, contact Army for more info. on a specific property & accessibility/removal reqs.

23 Buildings

Hwy 101, Bldg. 109

Camp Robert CA 93451

Landholding Agency: Army

Property Number: 21201330025

Status: Excess

Directions: T0805, T0831, T0834, T0874, T0876, T0917, T0920, T0922, T0923, T0925, T0933, T0934, T0935, T0955, T0956, T0955, T0956, T0966, T0967, T0992, T6005, T6029, T6406, T7025, T7037

Comments: off-site removal only; sf varies; 6t months vacant; poor conditions; contamination; secured area; contact Army for more info. on a specific property & accessibility removal reqs.

11 Building

Fort Hunter Liggett

Fort Hunter Liggett CA 93928

Landholding Agency: Army

Property Number: 21201330026

Status: Unutilized

Directions: 0100A, 0178B, 00306, 00408, 0418A, 00850, 00851, 00932, 00945, 00946, 00947

Comments: off-site removal only; no future agency need; St. varies, conditions range from good to dilapidated secured area, contact Army for more info. on a specific property & accessibility/removal reqs.

7 Buildings

Sierra Army Depot

Herlong CA 96113

Landholding Agency: Army

Property Number: 21201330067

Status: Unutilized

Directions: 00478, 00548, 00681, 00682, 00683, 00684, and 00685

Comments: sf. varies, 36-204+ months vacant; fair to deteriorated; secured area; extensive background check required; contact Army for info. on a specifc property & accessibility reqs.

2 Buildings

Camp Roberts MTC

Camp Roberts CA 93451

Landholding Agency: Army

Property Number: 21201410024

Status: Excess

Directions: 14102 (864 sq. ft); 14801 (200 sq. ft)

Comments: off-site removal only; 72+ yrs.-old; secured area; contact Army for accessibility/removal requirements.

4 Buildings

Fort Hunter Liggett

711 ASP Road

Fort Hunter Liggett CA 93928

Landholding Agency: Army

Property Number: 21201420004

Status: Unutilized

Directions: 711; 710; 0408A; 719

Comments: off-site removal only; no future agency need; poor conditions; must obtain access documentation; contact Army for information on a specific property and accessibility/removal request.

Bldg. 53

Navy Lodge on RT Jones Rd.

Mountain View CA

Landholding Agency: Army

Property Number: 21201430003

Status: Excess

Comments: off-site removal only; 960 sq. ft.; storage; poor conditions; contact Army for more information.

00294

Los Alamitos Joint Forces Training Base (JFTB)

Los Alamitos CA 90720-5002

Landholding Agency: Army

Property Number: 21201430018

Status: Underutilized

Directions: 00294

Comments: off-site removal only; no future agency need; 980 sq. ft.; storage/general purpose; very poor condition; secured area; contact Army for more information.

Camp Roberts MTC (H) Bldg.

# T0864

Hwy 101; Bldg. 109

Camp Roberts CA 93451-5000

Landholding Agency: Army

Property Number: 21201510028

Status: Unutilized

Comments: off-site removal; 73+ yrs. old; 400 sq. ft. storage; residential; fair to poor condition; vacant 72 months; contact Army for more info.

3 Buildings

Park Reserve Forces Training Area

Dubin CA 94568

Landholding Agency: Army

Property Number: 21201530048

Status: Unutilized

Directions: Building: 973 RPUID: 376805 (1,933 sq. ft.); 1194 RPUID: 377058 (1,020 sq. ft.); 1195 RPUID:377059 (1,020 sq. ft.)

Comments: off-site removal only; no future agency need; 61/71+ yrs. old; Vacant Storage; recreation center; poor condition; contact Army for more info. on a specific property accessibility/removal requirements.

6 Buildings

Fort Hunter Liggett

Fort Hunter Liggett CA 93928

Landholding Agency: Army

Property Number: 21201530049

Status: Unutilized

Directions: Building: 0100B (124 sq. ft.); 124 (2,001 sq. ft.); 149 (1,196 sq. ft.); 283 (4,225 sq. ft.) 393 (58 sq. ft.); 394 ((58 sq. ft.)

Comments: off-site removal only; no future agency need; 35/86+ yrs. old; usage varies; contact Army for more info. on a specific property; access./removal requirements.

Building 0132A

Fort Hunter Liggett

For Hunter Liggett CA 93928

Landholding Agency: Army

Property Number: 21201530050

Status: Underutilized

Comments: off-site removal; no future agency need; 64+ yrs. old; 943 sq. ft.; residential; poor condition; contact Army for more information and accessibility/removal requirements.

Colorado

Building 00209

4809 Tevis Street

Fort Carson CO 80913

Landholding Agency: Army

Property Number: 21201520018

Status: Unutilized

Comments: off-site removal; 49+ yrs. old; 400 sq. ft.; housing; vacant 3 mos.; repairs required; asbestos; no future agency need; contact Army for more information.

Building 00220

4860 Tevis Street

Fort Carson CO 80913

Landholding Agency: Army

Property Number: 21201520033

Status: Excess

Comments: off-site removal only; 73+ yrs. old; 690 sq. ft.; Eng./housing; repairs required; concrete; maybe difficult to move; asbestos; no future agency need; contact Army for more information.

Georgia

Building 904

2022 Veterans Pkwy

Ft. Stewart GA 31314

Landholding Agency: Army

Property Number: 21201310004

Status: Excess

Comments: off-site removal only; 9,993 sf.; museum; poor conditions; asbestos & lead-based paint, w/in secured area; Gov't escort required to access/remove property.

Building 862

259 N. Lightining Rd.

Hunter Army Airfield GA 31409

Landholding Agency: Army

Property Number: 21201310010

Status: Excess

Comments: off-site removal only; 826 sf.; Battery Shop; poor conditions; w/in secured area; contact Army for info. on accessibility/removal reqs.

Building 853

140 Barren Loop Rd.

Hunter Army Airfield GA 31409

Landholding Agency: Army

Property Number: 21201310011

Status: Excess

Comments: off-site removal only; 4,100 sf.; Admin. 3 mons. vacant; fair conditions; w/in secured area; contact Army for accessibility/removal reqs.

Building 866

null

395 N. Lightining Rd.

Hunter Army Airfield GA 31409

Landholding Agency: Army

Property Number: 21201310012

Status: Excess

Comments: off-site removal only; 2,100 sf.; Admin.; fair conditions; w/in secured area; contact Army for info. on accessibility/removal reqs.

Building 9597

Bultman Ave.

Ft. Stewart GA 31314

Landholding Agency: Army

Property Number: 21201310013

Status: Excess

Comments: off-site removal only; 324 sf.; storage; 6 mons. vacant; poor conditions; w/in secured area; Gov't escort only to access/remove property.

Building 8056

N. Lightining Rd.

Hunter Army Airfield GA 31409

Landholding Agency: Army

Property Number: 21201310015

Status: Excess

Comments: off-site removal only; 3,790 sf.; navigation bldg.; 10 mons. vacant; fair conditions; asbestos; w/in secured area; Gov't escort only to access/remove property.

Buildings 7736 & 7740

Chip Rd.

Ft. Stewart GA 31314

Landholding Agency: Army

Property Number: 21201310016

Status: Excess

Comments: off-site removal only; sf. varies; poor conditions; w/in secured area; Gov't escort only to access/remove property.

3 Buildings

McFarland Ave.

Ft. Stewart GA 31314

Landholding Agency: Army

Property Number: 21201310017

Status: Excess

Directions: 1710, 1711, 1712

Comments: off-site removal only; sf. varies; poor conditions; w/in secured area; Gov't escort only to access/remove property.

Buildings 1303 & 1304

Warrior Rd.

Ft. Stewart GA 31314

Landholding Agency: Army

Property Number: 21201310018

Status: Excess

Comments: off-site removal only; sf. varies; poor conditions; w/in secured area; Gov't escort only to access/remove property.

Building 1155 & 1156

N. Lightining Rd.

Hunter Army Airfield GA 31409

Landholding Agency: Army

Property Number: 21201310019

Status: Excess

Comments: off-site removal only; sf. varies; poor conditions; w/in secured area; Gov't escort only to access/remove property.

Buildings 1139 & 1151

Veterans Pkwy

Ft. Stewart GA 31314

Landholding Agency: Army

Property Number: 21201310020

Status: Excess

Comments: off-site removal only; sf. varies; poor conditions; w/in secured area; Gov't escort only to access/remove property.

Building 1104

Frank Cochran Dr.

Hinesville GA 31314

Landholding Agency: Army

Property Number: 21201310022

Status: Excess

Comments: off-site removal only; 240 sf.; storage; poor conditions; w/in secured area; Gov't escort required to access/remove property.

Building 1105

Veterans Pkwy

Ft. Stewart GA 31314

Landholding Agency: Army

Property Number: 21201310023

Status: Excess

Comments: off-site removal only; 7,132 sf.; Maint. Facility; poor conditions; asbestos & lead; w/in secured area; Gov't escort required to access/remove property.

Building 1130

Veterans Pkwy

Ft. Stewart GA 31314

Landholding Agency: Army

Property Number: 21201310024

Status: Excess

Comments: off-site removal only; 322 sf.; storage; poor conditions; w/in secured area; Gov't escort only to access/remove property.

Building 1132

Veterans Pkwy

Ft. Stewart GA 31314

Landholding Agency: Army

Property Number: 21201310025

Status: Excess

Comments: off-site removal only; 182 sf.; latrine; poor conditions; w/in secured area; Gov't escort only to access/remove property.

Building 1133

Veterans Pkwy

Ft. Stewart GA 31314

Landholding Agency: Army

Property Number: 21201310026

Status: Excess

Comments: off-site removal only; 501 sf.; latrine; poor conditions; w/in secured area; Gov't escort only to access/remove property.

Building OT022

46 22nd Street

Fort Gordon GA 30905

Landholding Agency: Army

Property Number: 21201330005

Status: Unutilized

Comments: no future agency need; off-site removal only; 960 sf.; classroom; 120 months; dilapidated; contamination; closed post; contact Army for accessibility/removal requirements.

Building OT007

31 22nd Street

Fort Gordon GA 30905

Landholding Agency: Army

Property Number: 21201330006

Status: Unutilized

Comments: off-site removal only; no future agency need; 960 sf.; classroom; 120t months; dilapidated; contamination; closed post; contact Army for accessibility/removal reqs.

3 Buildings

Veterans Pkwy.

Fort Stewart GA 31314

Landholding Agency: Army

Property Number: 21201330036

Status: Excess

Directions: 1101, 1108, 1129

Comments: off-site removal only; poor conditions; contamination; secured area; contact Army for info. on a specific property; accessibility removal reqs.

Building 00TR4

43 Pistol Range Road

Whitfield GA 30755

Landholding Agency: Army

Property Number: 21201330045

Status: Excess

Comments: off-site removal only; 2,560 sf.; dining facility; 78 yrs. old; poor conditions; contact Army for more info.

Building 1157

Hunter Army Airfield

Hunter Army Airfield GA 31409

Landholding Agency: Army

Property Number: 21201410033

Status: Excess

Comments: off-site removal only; 5,809 sq. ft.; poor conditions; secured area; gov't escort required; contact Army for more info.

Building 7097

Fort Stewart

Ft. Stewart GA 31314

Landholding Agency: Army

Property Number: 21201440007

Status: Underutilized

Comments: off-site removal only; no future agency need; relocation difficult due to size/type; 9,520 sq. ft.; child development center; 6+ months vacant; poor conditions; contact Army for more information.

100

Hunter Army Airfield

Hunter Army Airfield GA 31409

Landholding Agency: Army

Property Number: 21201440008

Status: Excess

Comments: off-site removal only; relocation extremely difficult due to size; 13,331 sq. ft.; classroom; poor conditions; contact Army for more information.

1020

Hunter Army Airfield

Hunter Army Airfield GA 31409

Landholding Agency: Army

Property Number: 21201440009

Status: Underutilized

Comments: off-site removal only; no future agency need; relocation extremely difficult due to size/type; 39,653 sq.ft.; storage; 1+ month vacant; contact Army for more information.

9002

Hunter Army Airfield

Hunter Army Airfield GA 31406

Landholding Agency: Army

Property Number: 21201440010

Status: Underutilized

Comments: off-site removal only; no future agency need; relocation difficult due to type; 221 sq. ft.; 12+ months vacant; poor conditions; asbestos; contact Army for more information.

10 Buildings

Fort Benning

Fort Benning GA 31905

Landholding Agency: Army

Property Number: 21201520011

Status: Underutilized

Directions: 00035 (890 sq. ft.); 00036 (890 sq. ft.); 00235 (4,390 sq. ft.); 08001 (288 sq. ft.); 08007 (288 sq. ft.); 08012 (288 sq. ft.); 08014 (288 sq. ft.); 08034 (192 sq. ft.); 08582 (192 sq. ft.); 08597 (192 sq. ft.)

Comments: off-site removal; 10-94 yrs. old for buildings respectively above; toilet/shower; laundry; administrative; poor condition; no future agency need; contact Army for more information.

9 Buildings

Fort Benning

Fort Benning GA 31905

Landholding Agency: Army

Property Number: 21201520012

Status: Underutilized

Directions: 08821 (192 sq. ft.), 8781 (1,007 sq. ft.), 08730 (800 sq. ft.), 08729 (192 sq. ft.), 08721 (384 sq. ft.), 08681 (192 sq. ft.), 08637 (384 sq. ft.), 08600 (192 sq. ft.), 08618 (192 sq. ft.)

Comments: off-site removal; 10-50 yrs. old for buildings respectively above; poor condition; toilet/shower, range; no future agency need; contact Army for more information.

2 Buildings

Fort Benning

Fort Benning GA 31905

Landholding Agency: Army

Property Number: 21201520028

Status: Unutilized

Directions: Buildings 04969 (8,416 sq. ft.), 04960 (3,335 sq. ft.)

Comments: off-site removal; 34+ & 48+ yrs. old; vehicle MAINT.; poor conditions; contaminants; restricted access; no future agency need; contact Army for more information.

Building 14

Camp Frank D. Merrill

Fort Benning GA 31905

Landholding Agency: Army

Property Number: 21201540052

Status: Unutilized

Comments: off-site removal only; 120 sq. ft.; 51+ yrs. old; veh. fuel mogas; poor conditions; contact Army for information.

Building 08638-RPUID 283107

Mortar Training Area

off Wildcat Road

Fort Benning GA 31905

Landholding Agency: Army

Property Number: 21201540053

Status: Unutilized

Comments: off-site removal only; 192 sq. ft.; 10+ yrs.-old; sep toil/shower; poor conditions; contact Army for more information.

Building 08728

3279 10th Armored Division Road

Fort Benning GA

Landholding Agency: Army

Property Number: 21201540054

Status: Unutilized

Comments: off-site removal only; 192 sq. ft.; 9+ yrs.-old; sep toil/shower; poor conditions; contact Army for more information.

3 Buildings

Fort Benning

Fort Benning GA 31905

Landholding Agency: Army

Property Number: 21201610041

Status: Unutilized

Directions: Building 04977 RPUID:281480 192 sq. ft.; 04978 RPUID:282355 630 sq. ft.; 04979 RPUID:282356 400 sq. ft.

Comments: off-site removal only; 11+ & 48+ yrs. old; veh maint shops; haz mat str ins; poor condition; no future agency need; contact Army for more information.

Hawaii

P-88

Aliamanu Military Reservation

Honolulu HI 96818

Landholding Agency: Army

Property Number: 21199030324

Status: Unutilized

Directions: Approximately 600 feet from Main Gate on Aliamanu Drive

Comments: 45,216 sq. ft. underground tunnel complex; pres. of asbestos clean-up required of contamination; use of respirator required by those entering property; use limitations.

3377Z

Schofield Barracks

Wahiawa HI 96786

Landholding Agency: Army

Property Number: 21201210054

Status: Unutilized

Comments: off-site removal only; 196 sf.; current use: transformer bldg.; poor conditions—needs repairs.

Bldg 0300B

308 Paalaa Uka Pupukea

Wahiawa HI 96786

Landholding Agency: Army

Property Number: 21201210083

Status: Unutilized

Comments: off-site removal only; 114 sf.; current use: valve house for water tank; fair conditions.

12 Bldgs.

Schofield Barracks

Wahiawa HI

Landholding Agency: Army

Property Number: 21201220009

Status: Unutilized

Directions: 2509, 2510, 2511, 2512, 2513, 2514, 2516, 2517, 3030, 3031, 3032, 3035

Comments: off-site removal only; sf. varies; usage varies; storage; good conditions.

A0300

308 Paalaa Uka Pupukea Rd.

Helemano

Wahiawa HI 96786

Landholding Agency: Army

Property Number: 21201230009

Status: Unutilized

Comments: off-site removal only; 17.25 X 21ft.; water storage.

Buildings 1421 & 1422

510 CW2 Latchum Rd.

Wahiawa HI 97686

Landholding Agency: Army

Property Number: 21201310046

Status: Underutilized

Comments: off-site removal only; sf. varies; office & toilet; fair conditions; military reservation.

Buildings 3363, 3366, & 3371

Schofield Barracks

Wahiawa HI 96786

Landholding Agency: Army

Property Number: 21201310047

Status: Unutilized

Comments: off-site removal only; sf. varies; abandoned; 230 mons. vacant; transformer bldgs.

Building A0750

613 Ayers Ave. (Schofield Barracks)

Wahiawa HI 96786

Landholding Agency: Army

Property Number: 21201330038

Status: Unutilized

Comments: off-site removal only; no future agency need; 512 sf.; storage; 46 yrs.-old; poor conditions; contact Army for more info.

00038

Pohakuloa Training Area

Hilo HI 96720

Landholding Agency: Army

Property Number: 21201410007

Status: Unutilized

Comments: off-site removal only; 102 sq. ft.; storage; 49+ yrs.-old; poor conditions; contact Army for more information.

3 Buildings

Joint Base Pearl Harbor Hickam

Joint Base Pearl Harb HI 96860

Landholding Agency: Army

Property Number: 21201530046

Status: Excess

Directions: Building: 2266 (1,536 sq. ft.); 2267 (1,536 sq. ft.) 2268 (2,190 sq. ft.)

Comments: off-site removal only; 32+ yrs. old; Child Development Centers; 24 mos. Vacant; poor condition; relocation may not be feasible due to deteriorated condition; contact Army for more information.

Idaho

R1A11

16 Miles South

Boise ID 83634

Landholding Agency: Army

Property Number: 21201320005

Status: Excess

Comments: off-site removal only; 1,040 sf., dilapidated, repairs a must, temp. shelter, 9 months vacant, has hanta virus presence.

R1A13

16 Miles South

Boise ID 83634

Landholding Agency: Army

Property Number: 21201320015

Status: Excess

Comments: off-site removal only; 1,040 sf.; temp. shelter; 9 months vacant; dialpidated; Hanta virus; repairs a must.

R1A10

16 Miles South

Boise ID 83634

Landholding Agency: Army

Property Number: 21201320041

Status: Excess

Comments: off-site removal only; 1,040 sf.; dilapidated; repairs a must; 9 months vacant; Hanta virus.

R1A12

16 Miles South

Boise ID 83634

Landholding Agency: Army

Property Number: 21201320042

Status: Excess

Comments: off-site removal only; 1,040 sf.; temp. shelter; 9 months vacant; dilapidated; repairs a must; Hanta virus.

R1A15

16 Miles South

Boise ID 83634

Landholding Agency: Army

Property Number: 21201320043

Status: Excess

Comments: off-site removal only; 1,040 sf.; temp. shelter; 9 months vacant; dilapidated; Hanta virus; repair a must.

Illinois

Building GC444

195 E Street

Granite City IL 62040

Landholding Agency: Army

Property Number: 21201610061

Status: Unutilized

Directions: RPUID:967743

Comments: off-site removal only; 63+ yrs. old; 21,954 sq. ft.; training center; vacant 1+ mos.; no future agency need; size makes this economically & structurally unfeasible to move; contact Army for more info.

Iowa

Y11Q0

Camp Dodge

Johnston IA 50131

Landholding Agency: Army

Property Number: 21201330060

Status: Unutilized

Comments: 3,076 sf.; family housing; 816+ months vacant; deteriorated; secured area; escort required; contact Army for accessibility requirements.

2 Buildings

Camp Dodge

Johnston IA 50131

Landholding Agency: Army

Property Number: 21201330064

Status: Unutilized

Directions: Y1200 & TC030

Comments: 1,686 & 1,026 sf. respectively; garage; deteriorated; secured area; escort required; contact Army for accessibility requirements.

Kansas

Building 9109

Mallon Rd.

Ft. Riley KS 66442

Landholding Agency: Army

Property Number: 21201310051

Status: Unutilized

Comments: off-site removal only; 128 sf.; latrine; deteriorating conditions; located on controlled area; contact Army for more info.

Building 00620

Mitchell Terr.

Ft. Riley KS 66442

Landholding Agency: Army

Property Number: 21201320014

Status: Excess

Comments: off-site removal only; 12,640 sf.; lodging; deteriorating; asbestos.

Building 09098

Vinton School Rd.

Ft. Riley KS 66442

Landholding Agency: Army

Property Number: 21201320016

Status: Excess

Comments: off-site removal only; 120 sf.; guard shack; fair/moderate conditions.

Building 07856

Drum St.

Ft. Riley KS 66442

Landholding Agency: Army

Property Number: 21201320017

Status: Excess

Comments: off-site removal only; 13,493 sf.; dining facility; detereriorating; asbestos.

Building 07636

Normandy Dr.

Ft. Riley KS 66442

Landholding Agency: Army

Property Number: 21201320018

Status: Excess

Comments: off-site removal only; 9,850 sf.; deteriorating; asbestos.

Building 05309

Ewell St.

Ft. Riley KS 66442

Landholding Agency: Army

Property Number: 21201320019

Status: Excess

Comments: off-site removal only; 23,784 sf.; lodging; deteriorating; asbestos.

Building 00918

Caisson Hill Rd.

Ft. Riley KS 66442

Landholding Agency: Army

Property Number: 21201320020

Status: Excess

Comments: off-site removal only; 3,536 sf.; admin. general purpose; deteriorat=ing; possible contamination; secured area; however, prior approval to access is needed; contact Army for more info.

Building 00621

Mitchell Terr.

Ft. Riley KS 66442

Landholding Agency: Army

Property Number: 21201320021

Status: Excess

Comments: off-site removal only; 12, 640 sf.; lodging; deteriorating; asbestos.

Building 7610

Fort Riley

Fort Riley KS 66442

Landholding Agency: Army

Property Number: 21201410049

Status: Excess

Comments: off-site removal only; may not be feasible to relocate due to sq. ft./type of structure; 41,892 sq. Ft. barracks contact Army for more information.

8 Buildings

Fort Riley

610 Warrior Rd.

Fort Riley KS 66442

Landholding Agency: Army

Property Number: 21201420002

Status: Excess

Directions: 610, 7610, 7614, 7616, 7842, 7846, 7850, 8063

Comments: off-site removal only; major repairs needed, mold and asbestos; secured area; contact Army for information on a specific property and accessibility/removal request.

502

Fort Riley

Fort Riley KS 66442

Landholding Agency: Army

Property Number: 21201430009

Status: Excess

Directions: 502

Comments: off-site removal only; 316 sq. ft.; office; structure type: Police Station; 55+ years old; fair condition; contact Army for more information.

Kentucky

Fort Knox

Eisenhower Avenue

Fort Knox KY 40121

Landholding Agency: Army

Property Number: 21201110011

Status: Unutilized

Directions: Bldgs: 06559, 06571, 06575, 06583, 06584, 06585, 06586

Comments: off-site removal only; multiple bldgs. w/various sq. footage (2,578-8,440 sq. ft); current use varies (classroom—dental clinic); lead base paint, asbestos & mold identified.

Fort Knox, 10 Bldgs.

Bacher Street

2nd Dragoons Rd & Abel St

Fort Knox KY 40121

Landholding Agency: Army

Property Number: 21201110012

Status: Unutilized

Directions: Bldgs: 06547, 06548, 06549, 06550, 06551, 06552, 06553, 06554, 06557, 06558

Comments: off-site removal only; multiple blegs. w/various sq. footage (8,527-41,631 sq. ft.) lead base paint, abestos & mold identified in all bldgs. Current use varies.

Fort Knox, 10 Bldgs

Eisenhower Ave

Fort knox KY 40121

Landholding Agency: Army

Property Number: 21201110015

Status: Unutilized

Directions: Bldgs: 06535, 06536, 06537, 06539, 06540, 06541, 06542, 06544, 06545, 06546

Comments: off-site removal only; multiple bldgs. w/various sq. ft. (2,510-78,436 sq. ft.) lead base paint, asbestos & mold has been identified in all bldgs. Current use varies.

11 Bldgs.

Ft. Knox

Ft. Knox KY 40121

Landholding Agency: Army

Property Number: 21201140002

Status: Unutilized

Directions: 02422, 02423, 02424, 02425, 02956, 02960, 00173, 02197, 02200, 00097, 00098

Comments: off-site removal only; possible lead based paint, asbestos, and mold in all bldgs.; sq. ft. varies; current use: office.

5 Bldgs.

Ft. Knox

Ft. Knox KY 40121

Landholding Agency: Army

Property Number: 21201140003

Status: Unutilized

Directions: 02317, 02323, 02324, 02349, 02421

Comments: off-site removal only; possible lead base paint, asbestos, and mold; sq. ft. varies; current use: office.

10 Bldgs.

Ft. Knox

Ft. Knox KY 40121

Landholding Agency: Army

Property Number: 21201140016

Status: Unutilized

Directions: 120, 161, 166, 171, 101, 114, 115, 116, 117, 1196

Comments: off-site removal only; sq. ft. varies; current use: office space to storage; possible asbestos and mold.

18 Bldgs.

Ft. Knox

Ft. Knox KY 40121

Landholding Agency: Army

Property Number: 21201140032

Status: Unutilized

Directions: 51, 52, 70, 73, 74, 76, 2961, 2963, 2964, 2969, 2970, 2971, 2972, 2973, 2974, 2975, 2979, 2316

Comments: off-site removal only; possible asbestos, mold, and lead base paint; sq. ft. varies; current use: office.

Bldg. 2980

Ft. Knox

Ft. Knox KY 40121

Landholding Agency: Army

Property Number: 21201140078

Status: Unutilized

Comments: off-site removal only; 6,900 sq. ft.; current use: office; possible asbestos and mold.

Bldg. 1197

Ft. Knox

Ft. Knox KY 40121

Landholding Agency: Army

Property Number: 21201140079

Status: Unutilized

Comments: off-site removal only; 2,969 sq. ft; current use: office; possible lead base paint, asbestos, and mold.

23 Bldgs.

Ft. Knox

Ft. Knox KY 40121

Landholding Agency: Army

Property Number: 21201210034

Status: Unutilized

Directions: 6097, 6098, 6099, 6113, 6114, 6115, 6116, 6118, 6120, 6121, 6123, 6124, 6614, 6615, 6616, 7107, 9209, 9215, 9231, 9254, 9256, 9361, 9619

Comments: off-site removal only; sq. ft. varies, current use: varies; poor conditions—need repairs; lead, mold, and asbestos identified.

20 Bldgs.

Ft. Knox

Ft. Knox KY 40121

Landholding Agency: Army

Property Number: 21201210035

Status: Unutilized

Directions: 45, 46, 64, 75, 79, 107, 114, 155, 202, 205, 299, 1373, 1997, 2319, 2350, 3007, 6033, 6034, 6035, 6036

Comments: off-site removal only; sq. ft. varies, current use: varies; poor conditions—need repairs; lead, mold, and asbestos identified.

5 Bldgs.

Ft. Knox

Ft. Knox KY 40121

Landholding Agency: Army

Property Number: 21201210036

Status: Unutilized

Directions: 6038, 6039, 6040, 6093, 6094

Comments: off-site removal only; sq. ft. varies, current use: varies; poor conditions—need repairs; lead, mold, and asbestos identified.

22 Bldgs.

Ft. Knox

Ft. Knox KY 40121

Landholding Agency: Army

Property Number: 21201220020

Status: Unutilized

Directions: 79, 204, 1610, 1996, 2955, 2959, 2965, 2980, 2991, 6531, 6533, 6560, 6561, 6563, 6564, 6565, 6566, 6592, 6594, 9183, 9319, 9320

Comments: off-site removal only; sf varies; usage varies; need repairs; lead and asbestos identified; need remediation.

15 Buildings

Ft. Knox

Ft. Knox KY 40121

Landholding Agency: Army

Property Number: 21201230030

Status: Unutilized

Directions: 2991, 3006, 6127, 7345, 7346, 9254, 9264, 9294, 9302, 9311, 9315, 9335, 9427, 9503, 9504

Comments: use: maintenance; extremely poor conditions; contamination identified; contact Army for further details & accessibility requirements.

10 Buildings

Ft. Knox

Ft. Knox KY 40121

Landholding Agency: Army

Property Number: 21201230031

Status: Unutilized

Directions: 9505, 9506, 9507, 9508, 9509, 9617, 9675, 9681, 9706, 9707

Comments: sf. varies; extremely poor conditions; contamination identified; contact Army for further details & accessibility requirements.

Building A7140

Fort Campbell

Ft. Campbell KY 42223

Landholding Agency: Army

Property Number: 21201530102

Status: Underutilized

Comments: 414 sq. ft.; 56+ yrs.-old; fair conditions; registration required on daily basis to access property; contact Army for more information.

3 Buildings

Fort Campbell

Fort Campbell KY 42223

Landholding Agency: Army

Property Number: 21201610036

Status: Underutilized

Directions: Buildings 04053 (22,053 sq. ft.); 04057 (33,104 sq. ft.); 04067 (44,106 sq. ft.)

Comments: 38+ yrs. old; barracks; fair condition; no future agency need; daily registration renewal to access property; contact Army for more information.

Louisiana

7604B

Fort Polk

Fort Polk LA 71459

Landholding Agency: Army

Property Number: 21201530038

Status: Unutilized

Comments: off-site removal only; no future agency need; 3,740 sq. ft.; contact Army for more information.

7604C

Fort Polk

Fort Polk LA 71459

Landholding Agency: Army

Property Number: 21201530039

Status: Unutilized

Comments: off-site removal only; no future agency need; 3,740 sq. ft.; relocatable company building; contact Army for more information.

7308E

Fort Polk

Fort Polk LA 71459

Landholding Agency: Army

Property Number: 21201530040

Status: Unutilized

Comments: off-site removal only; no future agency need; 5,396 sq. ft.; relocatable office; contact Army for more information.

7604D

Fort Polk

Ft. Polk LA 71459

Landholding Agency: Army

Property Number: 21201530045

Status: Unutilized

Comments: off-site removal only; no future agency need; 3,740 sq. ft.; relocatable office; contact Army for more information.

9 Buildings

Fort Polk

Ft. Polk LA 71459

Landholding Agency: Army

Property Number: 21201530073

Status: Underutilized

Directions: 00002 (190857; 4,070 sq. ft.); 00003 (292997; 97 sq. ft.); 02531 (191515; 4,830 sq. ft.); 02599 (191521; 159 sq. ft.); 04250 (191272; 240 sq. ft.); 07526 (299361; 480 sq. ft.); 09787 (293242; 608 sq. ft.); 09806 (188086; 2,834 sq. ft.); M0350 (188086)?

Comments: off-site removal only; no future agency need; removal difficult due to type/size; poor conditions; contact Army for more details on a specific property.

Building 07043

Fort Polk

Fort Polk LA 71459

Landholding Agency: Army

Property Number: 21201530101

Status: Underutilized

Comments: off-site removal only; 1,200 sq. ft.; maintenance building; poor conditions; contact Army for more information.

5 Buildings

Fort Polk

Fort Polk LA 71459

Landholding Agency: Army

Property Number: 21201610045

Status: Underutilized

Directions: 02505 RPUID:191509 (2,360 sq. ft.); 01736 RPUID:299354 (4,492 sq. ft.), M0101 (2,120 sq. ft.); 4370 (5,630 sq. ft.); 4172 (1,367 sq. ft.)

Comments: off-site removal only; 47-74+ yrs. old; fire station; admin.; poor conditions; no future agency need; contact Army for more information.

3 Buildings

Fort Polk

Fort Polk LA 71459

Landholding Agency: Army

Property Number: 21201610050

Status: Underutilized

Directions: 01739-RPUID:299365 (32 sq. ft.); 01737-RPUID:292529 (96 sq. ft.); 01738-RPUID:188234 (650 sq ft.)

Comments: off-site removal only; 58+-68+ yrs. old; poor condition; storage; fire dept.; contact Army for more information.

2 Buildings

Fort Polk

Fort Polk LA 71459

Landholding Agency: Army

Property Number: 21201610051

Status: Underutilized

Directions: 02501-RPUID:299625 (3,308 sq. ft.); 00830-RPUID:301695 (82,431 sq. ft.)

Comments: off-site removal only; 39+-74+ yrs. old; shed; org club; poor condition; maybe difficult to move; contact Army for more information.

3 Buildings

Fort Polk

Fort Polk LA 71459

Landholding Agency: Army

Property Number: 21201610060

Status: Underutilized

Directions: #01741-RPUID:292498 (289 sq. ft.); 00353-RPUID:292665 (240 sq.ft.); 07530-RPUID:292944 (3,308 sq. ft.)

Comments: off-site removal only; 33+-73+ yrs. old; shed; wash platform; poor conditions; contact Army for more information.

Building 04274

4274 California Ave.,

Fort Polk LA 71459

Landholding Agency: Army

Property Number: 21201610066

Status: Unutilized

Directions: RPUID:292651

Comments: off-site removal only; 63+ yrs. old; 240 sq. ft.; toilet/shower; poor conditions; contact Army for more information.

Maryland

Bldg. 06186

Ft. Detrick

Fredrick MD 21702

Landholding Agency: Army

Property Number: 21201110026

Status: Unutilized

Comments: off-site removal only, 14,033 sq. ft., current use: communications ctr., bldg. not energy efficient but fair condition.

5 Buildings

Ft. George G. Meade

Ft. George MD 20755

Landholding Agency: Army

Property Number: 21201330008

Status: Unutilized

Directions: 4, 239, 700, 2790, 8608

Comments: off-site removal only; no future agency need; sf. varies; fair to deteriorating conditions; secured area; contact Army re. info. on a specific property & accessibility/removal reqs.

Michigan

6 Buildings

Detroit Arsenal

Warren MI 48092

Landholding Agency: Army

Property Number: 21201340026

Status: Unutilized

Directions: WH001 (4,680 sq. ft.); WH002 (3,910 sq. ft.); WH003 (5,256 sq. ft.); WH004 (3,840 sq. ft.) WH005 (5,236 sq. ft.); WH006 (5,940 sq. ft.)

Comments: off-site removal only; no future agency need; residential; repairs needed; contamination; secured area; contact Army for more information on a specific property accessibility requires.

6 Buildings

Detroit Arsenal

Warren MI 48092

Landholding Agency: Army

Property Number: 21201340027

Status: Unutilized

Directions: WH013 (4,680 sq.ft.); WH014 (5,236 sq.ft.); WH015 (3,000 sq.ft.); WH016 (3,840 sq.ft.); WH017 (3,000 sq.ft.); WH018 (5,940 sq.ft.)

Comments: off-site removal only; no future agency need; residential; repairs needed; contamination; secured area; contact Army for more infomation on a specific property & accessiblity requirements.

6 Building

Detroit Arsenal

Warren MI 48092

Landholding Agency: Army

Property Number: 21201340028

Status: Unutilized

Directions: WH007 (3,840 sq. ft.); WH008 (5,940 sq. ft.); WH009 (5,236 sq. ft.); WH010 (4,680 sq. ft.); WH011 (5,236 sq. ft.); WH012 (5,236 sq. ft.)

Comments: off-site removal only; no future agency need; residential; repairs needed; contamination; secured area; contact Army for more information on a specific property and accessibility requires.

6 Buildings

Detroit Arsenal

Warren MI 48092

Landholding Agency: Army

Property Number: 21201340029

Status: Unutilized

Directions: WH019 (4,680 sq.ft.); WH020 (5,940 sq.ft.); WH021 (5,940 sq.ft.); WH022 (4,680 sq.ft.); WH023 (5,940 sq.ft.); WH024 (1,760 sq.ft.)

Comments: off-site removal only; no future agency need; residential; repairs needed; contamination; secured area; contact Army for more information on a specific property & accessiblity requirements.

4 Buildings

Detroit Arsenal

Warren MI 48092

Landholding Agency: Army

Property Number: 21201340031

Status: Unutilized

Directions: WH025 (1,760 sq.ft.); WH026 (1,760 sq. ft.); WH027 (1,760 sq.ft.); WH028 (400 sq.ft.)

Comments: off-site removal only; no future agency need; residential; repairs needed; contamination; secured area; contact Army for more information on a specific property & accessiblity requirements.

Minnesota

18 Bldgs.

1245 Hwy 96 West

Arden Hills Army TRNG Site

Arden Hills MN 55112

Landholding Agency: Army

Property Number: 21201210059

Status: Unutilized

Directions: 12155, 12156, 12157, 01200, 01201, 01202, 01203, 01204, 01205, 01206, 04202, 11218, 11219, 11220, 11221, 11222, 11223, 04203

Comments: off-site removal only; sf. varies; current use: storage; poor conditions-need repairs.

Missouri

2 Buildings

168 SE Hwy off of Hwy 23, Whiteman AFB

Knob Noster MO 65305

Landholding Agency: Air Force

Property Number: 18201610016

Status: Excess

Directions: #5002 (2,189 sq. ft.); #5000 (1,200 sq. ft.)

Comments: off-site removal only; 20+ yrs. old; office; storage; very poor conditions; contact AF for more information.

Bldg. T2139

Fort Leonard Wood

Ft. Leonard Wood MO 65473-5000

Landholding Agency: Army

Property Number: 21199420446

Status: Underutilized

Directions:

Comments: 3663 sq. ft., 1-story; presence of lead base paint; most recent use—admin/gen. purpose; off-site use only.

Bldg. 2167

Fort Leonard Wood

Ft. Leonard Wood MO 65473-5000

Landholding Agency: Army

Property Number: 21199820179

Status: Unutilized

Directions:

Comments: 1296 sq. ft.; presence of asbestos/lead paint; most recent use—admin.; off-site use only.

Bldgs. 2192, 2196, 2198

Fort Leonard Wood

Ft. Leonard Wood MO 65473-5000

Landholding Agency: Army

Property Number: 21199820183

Status: Unutilized

Directions:

Comments: 4720 sq. ft., presence of asbestos/lead paint, most recent use—barracks, off-site use only.

12 Bldgs

Fort Leonard Wood

Ft. Leonard Wood MO 65743-8944

Landholding Agency: Army

Property Number: 21200410110

Status: Unutilized

Directions: 07036, 07050, 07054, 07102, 07400, 07401, 08245, 08249, 08251, 08255, 08257, 08261.

Comments: 7152 sq. ft. 6 plex housing quarters, potential contaminants, off-site use only.

6 Bldg

Fort Leonard Wood

Ft. Leonard Wood MO 65743-8944

Landholding Agency: Army

Property Number: 21200410111

Status: Unutilized

Directions: 07044, 07106, 07107, 08260, 08281, 08300

Comments: 9520 sq ft., 8 plex housing quarters, potential contaminants, off-site use only.

Bldgs 08283, 08285

Fort Leonard Wood

Ft. Leonard Wood MO 65743-8944

Landholding Agency: Army

Property Number: 21200410113

Status: Unutilized

Comments: 2240 sq ft, 2 plex housing quarters, potential contaminants, off-site use only

15 Bldgs

Fort Leonard Wood

Ft. Leonard Wood MO 65743-0827

Landholding Agency: Army

Property Number: 21200410114

Status: Unutilized

Directions: 08267, 08269, 08271, 08273, 08275, 08277, 08279, 08290, 8296, 08301

Comments: 4784 sq ft., 4 plex housing quarters, potential contaminants, off-site use only.

Bldg 09432

Fort Leonard Wood

Ft. Leonard Wood MO 65743-8944

Landholding Agency: Army

Property Number: 21200410115

Status: Unutilized

Comments: 8724 sq ft., 6-plex housing quarters, potential contaminants, off-site use only.

Bldgs. 5006 and 5013

Fort Leonard Wood

Ft. Leonard Wood MO 65743-8944

Landholding Agency: Army

Property Number: 21200430064

Status: Unutilized

Comments: 192 sq. ft., needs repair, most recent use—generator bldg., off-site use only.

Bldgs. 13210, 13710

Fort Leonard Wood

Ft. Leonard Wood MO 65743-8944

Landholding Agency: Army

Property Number: 21200430065

Status: Unutilized

Comments: 144 sq. ft. each, needs repair, most recent use—communication, off-site use only.

P0002

88th Reginal Support Command

Cape Girardeau MO 63701

Landholding Agency: Army

Property Number: 21201510006

Status: Unutilized

Comments: off-site removal only; 96 sq. ft.; storage; no future agency need; 14+ mons. vacant; asbestos; contact Army for more information.

Building 5332

Range 4

Fort Leonard Wood MO 65473

Landholding Agency: Army

Property Number: 21201610052

Status: Unutilized

Directions: RPUID:611105

Comments: 15+ yrs. old; 80 sq. ft.; weapons; 12+ mos. vacant; poor conditions; contact Army for more information.

Building #5333

Range 4

Fort Leonard Wood MO 65473

Landholding Agency: Army

Property Number: 21201610058

Status: Unutilized

Directions: RPUID:578451

Comments: 15+ yrs. old; 80 sq. ft.; weapons; 12+ mos. vacant; not adequate for reuse; contact Army for more information.

Montana

Bldg. 00405

Fort Harrison

Ft. Harrison MT 59636

Landholding Agency: Army

Property Number: 21200130099

Status: Unutilized

GSA Number:

Comments: 3467 sq. ft., most recent use—storage, security limitations.

Bldg. T0066

Fort Harrison

Ft. Harrison MT 59636

Landholding Agency: Army

Property Number: 21200130100

Status: Unutilized

GSA Number:

Comments: 528 sq. ft., needs rehab, presence of asbestos, security limitations.

New Jersey

4 Bldgs.

Picatinny Arsenal

Dover NJ 07806

Landholding Agency: Army

Property Number: 21201220011

Status: Unutilized

Directions: 1179, 1179A, 1179C, 1179D

Comments: off-site removal only; sf varies; usage varies; need repairs; contamination; remediation required; secured area; need proir approval to access property; contact Army for more details.

4 Building

Route 15 North

Picatinny Arsenal NJ 07806

Landholding Agency: Army

Property Number: 21201240026

Status: Unutilized

Directions: 3701, 3702, 3706, 3709

Comments: off-site removal only, sq. varies, moderate conditions, restricted area; contact Army for information on accessibility removal and specific details on a particular property.

Building 00063

Picatinny Arsenal

Picatinny Arsenal NJ 07806

Landholding Agency: Army

Property Number: 21201310039

Status: Underutilized

Comments: off-site removal only; 44,000 sf.; storage; very poor conditions; w/in secured area; contact Army for accessibility/removal requirements.

Building 01186

Pictinny Arsenal

Dover NJ 07806

Landholding Agency: Army

Property Number: 21201310040

Status: Unutilized

Comments: off-site removal only; 192 sf.; storage; very poor conditions; w/in restricted area; contact Army for info. on accessibility/removal requirements.

Building 03223

Picatinny Arsenal

Dover NJ 07806-5000

Landholding Agency: Army

Property Number: 21201330046

Status: Unutilized

Comments: off-site removal only; no future agency need; 312 sf.; 102 yrs.-old; poor conditions; secured area; contact Army for more info.

New York

Bldg. 2218

Stewart Newburg USARC

New Windsor NY 12553-9000

Landholding Agency: Army

Property Number: 21200510067

Status: Unutilized

Comments: 32,000 sq. ft., poor condition, requires major repairs, most recent use—storage/services.

7 Bldgs.

Stewart Newburg USARC

New Windsor NY 12553-9000

Landholding Agency: Army

Property Number: 21200510068

Status: Unutilized

Directions: 2122, 2124, 2126, 2128, 2106, 2108, 2104

Comments: sq. ft. varies, poor condition, needs major repairs, most recent use—storage/services.

Bldgs. 02700 and 22630

Fort Drum

Fort Drum NY 13602

Landholding Agency: Army

Property Number: 21201210080

Status: Underutilized

Comments: off-site removal only; sf. varies; current use: varies; need repairs.

Building 1560

Rte. 293

West Point NY 10996

Landholding Agency: Army

Property Number: 21201240024

Status: Unutilized

Comments: off-site removal only, 4544 sf., storage severly damage from hurricane Irene, restricted area, contact Army on information on accessibility/removal.

North Carolina

Building 42843

Ft. Bragg

Ft. Bragg NC 28310

Landholding Agency: Army

Property Number: 21201240034

Status: Underutilized

Directions: 42843

Comments: located in a secured area, public access is denied and no alternative method to gain access without compromising national security.

Building D1209

4285 Gruber Road

Ft. Bragg NC 28308

Landholding Agency: Army

Property Number: 21201330069

Status: Unutilized

Comments: 15,327 sf; 21 yrs. old; extensive repairs needed; secured area; extensive background check required; contact Army for accessibility requirements.

D3039

3912 Donovan Street

Ft. Bragg NC 28308

Landholding Agency: Army

Property Number: 21201330070

Status: Unutilized

Comments: 13,247 sf.; 42 yrs. old; dining facility; extensive repairs; extensive background check; secured area; contact Army for accessibiity requirements.

3 Buildings

Fort Bragg

Ft. Bragg NC 28310

Landholding Agency: Army

Property Number: 21201540061

Status: Unutilized

Directions: Q3113-1034505 (64 sq. ft.); Q3414-1034511 (64 sq. ft.); Q2322-296150 (17 sq. ft.)

Comments: very poor conditions; contact Army for more information on a specific property listed above.

Ohio

125

1155 Buckeye Rd.

Lima OH 45804

Landholding Agency: Army

Property Number: 21201230025

Status: Underutilized

Directions: Joint Systems Manufacturing Center

Comments: off-site removal only; 2,284 sf.; use: storage; poor conditions; asbestos identified; secured area; contact Army re: accessibility requirements.

Oklahoma

Bldg. T-838, Fort Sill

838 Macomb Road

Lawton OK 73503-5100

Landholding Agency: Army

Property Number: 21199220609

Status: Unutilized

Directions:

Comments: 151 sq. ft., wood frame, 1 story, off-site removal only, most recent use—vet facility (quarantine stable).

Bldg. T-3325, Fort Sill

3325 Naylor Road

Lawton OK 73503-5100

Landholding Agency: Army

Property Number: 21199240681

Status: Unutilized

Directions:

Comments: 8832 sq. ft., 1 story wood frame, needs rehab, off-site use only, most recent use—warehouse.

Bldg. T-810

Fort Sill

Lawton OK 73503-5100

Landholding Agency: Army

Property Number: 21199730350

Status: Unutilized

Directions:

Comments: 7205 sq. ft., possible asbestos/lead paint, most recent use—hay storage, off-site use only.

Bldgs. T-837, T-839

Fort Sill

Lawton OK 73503-5100

Landholding Agency: Army

Property Number: 21199730351

Status: Unutilized

Directions:

Comments: approx. 100 sq. ft. each, possible asbestos/lead paint, most recent use—storage, off-site use only.

Bldg. P-934

Fort Sill

Lawton OK 73503-5100

Landholding Agency: Army

Property Number: 21199730353

Status: Unutilized

Directions:

Comments: 402 sq. ft., possible asbestos/lead paint, most recent use—storage, off-site use only.

Bldg. T-2184

Fort Sill

Lawton OK 73503-5100

Landholding Agency: Army

Property Number: 21199730364

Status: Unutilized

Directions:

Comments: 454 sq. ft., possible asbestos/lead paint, most recent use—storage, off-site use only.

Bldgs. T-3001, T-3006

Fort Sill

Lawton OK 73503-5100

Landholding Agency: Army

Property Number: 21199730383

Status: Unutilized

Directions:

Comments: approx. 9300 sq. ft., possible asbestos/lead paint, most recent use—storage, off-site use only.

Bldg. T-3314

Fort Sill

Lawton OK 73503-5100

Landholding Agency: Army

Property Number: 21199730385

Status: Unutilized

Directions:

Comments: 229 sq. ft., possible asbestos/lead paint, most recent use—office, off-site use only.

Bldg. T-7775

Fort Sill

Lawton OK 73503-5100

Landholding Agency: Army

Property Number: 21199730419

Status: Unutilized

Directions:

Comments: 1452 sq. ft., possible asbestos/lead paint, most recent use—private club, off-site use only.

4 Bldgs.

Fort Sill

P-617, P-1114, P-1386, P-1608

Lawton OK 73503-5100

Landholding Agency: Army

Property Number: 21199910133

Status: Unutilized

GSA Number:

Comments: 106 sq. ft., possible asbestos/lead paint, most recent use—utility plant, off-site use only.

Bldg. P-746

Fort Sill

Lawton OK 73503-5100

Landholding Agency: Army

Property Number: 21199910135

Status: Unutilized

GSA Number:

Comments: 6299 sq. ft., possible asbestos/lead paint, most recent use—admin., off-site use only.

Bldg. S-6430

Fort Sill

Lawton OK 73503-5100

Landholding Agency: Army

Property Number: 21199910156

Status: Unutilized

GSA Number:

Comments: 2080 sq. ft., possible asbestos/lead paint, most recent use—range support, off-site use only.

Bldg. T-6461

Fort Sill

Lawton OK 73503-5100

Landholding Agency: Army

Property Number: 21199910157

Status: Unutilized

GSA Number:

Comments: 200 sq. ft., possible asbestos/lead paint, most recent use—range support, off-site use only.

Bldg. T-6462

Fort Sill

Lawton OK 73503-5100

Landholding Agency: Army

Property Number: 21199910158

Status: Unutilized

GSA Number:

Comments: 64 sq. ft., possible asbestos/lead paint, most recent use—control tower, off-site use only.

Bldg. P-7230

Fort Sill

Lawton OK 73503-5100

Landholding Agency: Army

Property Number: 21199910159

Status: Unutilized

GSA Number:

Comments: 160 sq. ft., possible asbestos/lead paint, most recent use—transmitter bldg., off-site use only.

Bldg. P-747

Fort Sill

Lawton OK 73503-5100

Landholding Agency: Army

Property Number: 21200120120

Status: Unutilized

GSA Number:

Comments: 9232 sq. ft., possible asbestos/lead paint, most recent use—lab, off-site use only.

Bldg. P-842

Fort Sill

Lawton OK 73503-5100

Landholding Agency: Army

Property Number: 21200120123

Status: Unutilized

GSA Number:

Comments: 192 sq. ft., possible asbestos/lead paint, most recent use—storage, off-site use only.

Bldg. P-1672

Fort Sill

Lawton OK 73503-5100

Landholding Agency: Army

Property Number: 21200120126

Status: Unutilized

GSA Number:

Comments: 1056 sq. ft., possible asbestos/lead paint, most recent use—storage, off-site use only.

6 Buildings

Fort Sill

Ft. Sill OK 73503

Landholding Agency: Army

Property Number: 21201540034

Status: Unutilized

Directions: 1500 (100 SQ. FT.; Fueling/POL/Wash Support Bldg); 1501 (9,802 SQ. FT.; Vehicle Maintenance Shop); 1502 (9,938 SQ. FT.; Vehicle Maintenance Shop); 1503 (10,190 SQ. FT.; Limited Use Instructional Bldg); 1521 (80 SQ. FT.; Oil Storage Building); 2590 (3,626 SQ. FT.; ADMIN GENERAL PURPOSE)

Comments: off-site removal only; no future agency need; removal difficult due to type/size; 6+ mons.vacant; contamination; contact Army for more information on a specific property listed above.

6 Buildings

Fort Sill

Fort Sill OK 73503

Landholding Agency: Army

Property Number: 21201610027

Status: Unutilized

Directions: 852 (13,379 sq .ft.); 1929 (3,200 sq. ft.); 851 (14,360 sq. ft.); 850 (22,941 sq. ft.); 745 (6,533 sq. ft.); 2037 (5,197 sq. ft.)

Comments: off-site removal; 52+ 100+ yrs. old; storage; admin. building; enlisted uph; vacant 6+ mos.; no future agency need; due to size may not be feasible to move; contact Army for more information.

9 Buildings

Fort Sill

Fort Sill OK 73503

Landholding Agency: Army

Property Number: 21201610028

Status: Unutilized

Directions: 2870 (3,658 sq. ft.); 3682 (23,502 sq. ft.); 2873 (3,658 sq. ft.); 2874 (3,872 sq. ft.); M6307 (94 sq. ft.); 6305 (879 sq. ft.); 2875 (3,682 sq. ft.); 2871 (3,872 sq. ft.); 2872 (3,658 sq. ft.)

Comments: off-site removal only; 28+ 75+ yrs. old; 6+ mos. vacant; HQ. bldg.; general purpose; training; no future agency need; due to size may not be feasible to move; contact Army for more information.

Pennsylvania

Building 01015

11 Hap Arnold Blvd.

Tobyhanna PA 18466

Landholding Agency: Army

Property Number: 21201320031

Status: Unutilized

Comments: off-site removal only; 3,120 sf.; recruiting station; 1 month vacant; poor conditions; asbestos; secured area; contact Army for more info.

Building 01001

11 Hap Arnold Blvd.

Tobyhanna PA 18466

Landholding Agency: Army

Property Number: 21201320035

Status: Excess

Comments: off-site removal only; 4,830 sf.; youth center/admin.; 1 month vacant; poor conditions; asbestos; secured area; contact Army for more info.

Puerto Rico

5 Buildings

Ft. Buchanan

Guaynabo PR 00934

Landholding Agency: Army

Property Number: 21201330037

Status: Excess

Directions: 00141, 00551, 00558, 00570, 00579

Comments: off-site removal only; deteriorated; secured area; contact Army for info. on a specific property & accessibility removal reqs.

2 Buildings

USAG Fort Buchanan RQ327

Fort Buchanan PR 00934

Landholding Agency: Army

Property Number: 21201540057

Status: Excess

Directions: 01024 (300 sq. ft.; storage); 01026 (300 sq. ft.; storage)

Comments: off-site removal only; poor conditions; contact Army for more information on a property listed above.

Tennessee

00869

Fort Campbell

Fort Campbell TN 42223

Landholding Agency: Army

Property Number: 21201430036

Status: Excess

Comments: 3,076 sq. ft.; storage; fair conditions; asbestos in floor tiles; secured area; contact Army for more information.

07612

Fort Campbell

Fort Campbell TN 42223

Landholding Agency: Army

Property Number: 21201430044

Status: Excess

Comments: 600 sq. ft.; storage; fair condition; secured area; contact Army for more information.

9 Buildings

Fort Campbell

Ft. Campbell TN 42223

Landholding Agency: Army

Property Number: 21201440002

Status: Excess

Directions: 00039; 00846; 05123; 05638; 05640; 05641; 05646; 07540; 07811

Comments: off-site removal only; relocation may be extremely difficult due to size/type; sq. ft. varies; poor conditions; contamination; contact Army for more information.

03R28, 02r28, & 01R28

Fort Campbell

Ft. Campbell TN 42223

Landholding Agency: Army

Property Number: 21201440005

Status: Underutilized

Comments: off-site removal only; no future agency need; 552 sq. ft.; range support facility; major repairs; secured area; contact Army for more information.

05127

Fort Campbell

Ft. Campbell TN 42223

Landholding Agency: Army

Property Number: 21201440058

Status: Excess

Comments: off-site removal only; 224 sq. ft.; storage; fair conditions; contact Army for more information on accessibility/removal requirements.

4 Buildings

Fort Campbell

Ft. Campbell TN 42223

Landholding Agency: Army

Property Number: 21201440059

Status: Excess

Directions: 05211 (320 sq. ft.); 05665 (800 sq. ft.); 00100 (800 sq. ft.); 01604 (126 sq. ft.)

Comments: off-site removal only; fair conditions; usage varies; contact Army for more information on a specific property.

06907

Ft. Campbell

Ft. Campbell TN 42223

Landholding Agency: Army

Property Number: 21201530029

Status: Unutilized

Comments: 2,581 Sq. ft.; office; 50+ yrs. old; fair conditions; needs repair; daily repair; contamination; daily registration required to access property; contact Army for more information.

3 Buildings

Fort Campbell

Ft. Campbell TN

Landholding Agency: Army

Property Number: 21201540017

Status: Unutilized

Directions: 6995 (RPUID: 594789; 3,687 SQ. FT.; OFFICE); 07825 (RPUID: 590376; 15,111 SQ. FT.; Ammo Repair); A6924 (RPUID: 598990; 3,688 SQ. FT.; OFFICE)

Comments: fair to poor conditions; asbestos present; contact Army for more information on a specific property listed above.

Texas

6 Buildings

Eldorado AFB

Eldorado AFB TX

Landholding Agency: Air Force

Property Number: 18201610017

Status: Excess

Directions: Building 00365 (509 sq. ft.); 00357 (434 sq. ft.); 00355 (265 sq. ft.); 00353 (15,302 sq. ft.); 00148 (1,200 sq. ft.) 00552 (97,000 sq. ft.)

Comments: 22-29 yrs. old; 16+ yrs. old; scanner bldg; fire station; police armory; entry control; store facility; contact AF for more information.

Bldgs. P6220, P6222

Fort Sam Houston

Camp Bullis

San Antonio TX

Landholding Agency: Army

Property Number: 21200330197

Status: Unutilized

GSA Number:

Comments: 384 sq. ft., most recent use—carport/storage, off-site use only.

Bldgs. P6224, P6226

Fort Sam Houston

Camp Bullis

San Antonio TX

Landholding Agency: Army

Property Number: 21200330198

Status: Unutilized

GSA Number:

Comments: 384 sq. ft., most recent use—carport/storage, off-site use only.

Bldgs. 04281, 04283

Fort Hood

Bell TX 76544

Landholding Agency: Army

Property Number: 21200720085

Status: Excess

Comments: 4000/8020 sq. ft., most recent use—storage shed, off-site use only.

Bldg. 04285

Fort Hood

Bell TX 76544

Landholding Agency: Army

Property Number: 21200720087

Status: Excess

Comments: 8000 sq. ft., most recent use—storage shed, off-site use only.

Bldg. 04286

Fort Hood

Bell TX 76544

Landholding Agency: Army

Property Number: 21200720088

Status: Excess

Comments: 36,000 sq. ft., presence of asbestos, most recent use—storage shed, off-site use only.

Bldg. 04291

Fort Hood

Bell TX 76544

Landholding Agency: Army

Property Number: 21200720089

Status: Excess

Comments: 6400 sq. ft., presence of asbestos, most recent use—storage shed, off-site use only.

Bldg. 00324

Fort Hood

Bell TX 76544

Landholding Agency: Army

Property Number: 21200810049

Status: Unutilized

Comments: 13,319 sq. ft., most recent use—roller skating rink, off-site use only.

Bldg. 04449

Fort Hood

Bell TX 76544

Landholding Agency: Army

Property Number: 21200810056

Status: Unutilized

Comments: 3822 sq. ft., most recent use—police station, off-site use only.

B-42

Fort Hood

Ft. Hood TX 76544

Landholding Agency: Army

Property Number: 21201210007

Status: Excess

Comments: off-site removal only; 893 sq. ft.; current use: storage; asbestos identified.

B-1301

Ft. Bliss

Ft. Bliss TX 79916

Landholding Agency: Army

Property Number: 21201220001

Status: Underutilized

Comments: off-site removal only; 18,739 sf.; current use: thift shop; poor conditions; need repairs.

Bldg. 7194

Ft. Bliss

Ft. Bliss TX 79916

Landholding Agency: Army

Property Number: 21201220002

Status: Unutilized

Comments: off-site removal only; 2,125 sf.; current use: housing; poor conditions—need repairs; asbestos & lead identified; need remediation.

Building 6951

11331 Montana Ave.

Ft. Bliss TX 79916

Landholding Agency: Army

Property Number: 21201240010

Status: Excess

Comments: off-site removal only; 288 sf.; utility bldg.; poor conditions; limited public access;contact Army for info. on accessibility/removal.

Building 6942

11331 Montana Ave.

Ft. Bliss TX 79916

Landholding Agency: Army

Property Number: 21201240011

Status: Excess

Comments: off-site removal only; 1,059 sf.; storage; poor conditions; limited public access; contact Army for info. on accessibility/removal.

Bldg. 2432

Carrington Rd.

Ft. Bliss TX 79916

Landholding Agency: Army

Property Number: 21201240013

Status: Excess

Comments: off-site removal only; 180 sf.; dispatch bldg.; poor conditions; limited public access; asbestos/lead identified; contact Army for info. on accessibility/removal.

Building 50

50 Slater Rd.

Ft. Bliss TX 79916

Landholding Agency: Army

Property Number: 21201240014

Status: Excess

Comments: off-site removal only; 9,900 sf.; office; poor conditions; limited public access; asbestos/lead identified; contact Army for info. on accessibility/removal.

2 Building

Fort Bliss

Fort Bliss TX 79916

Landholding Agency: Army

Property Number: 21201330029

Status: Unutilized

Directions: 05015 (22,915 sf.); 05019 (23,495 sf.)

Comments: off-site removal only; no future agency need; poor conditions; 6+months vacant; contact Army for info. on accessibility; removal reqs.

92065

92065 Supply Rd.

Fort Hoop TX 76544

Landholding Agency: Army

Property Number: 21201420021

Status: Excess

Comments: off-site removal only; 3,994 sq. ft.; admin general purpose; 1+ month vacant; contact Army for more information.

4285

Fort Hood

Fort Hood TX 76544

Landholding Agency: Army

Property Number: 21201430019

Status: Unutilized

Directions: 4285

Comments: off-site removal only; no future agency need; semi-perm. Structure type; 10,552 sq. ft.; removal may be difficult due to size; poor condition; secured area; contact Army for more information.

2 Buildings

Fort Hood

Fort Hood TX 76544

Landholding Agency: Army

Property Number: 21201430020

Status: Excess

Directions: 4461 (6,515 sq. ft.); 4611 (3,311 sq. ft.)

Comments: off-site removal only; removal may be difficult due to size/type; fair to poor condition; asbestos present in building 4611; secured area; contact Army for more information.

4408

Fort Hood

Fort Hood TX 76544

Landholding Agency: Army

Property Number: 21201430021

Status: Excess

Directions: 4408

Comments: off-site removal only; semi-perm. Structure type; 9,812 sq. ft.; removal difficult due to size; fair condition; secured area; contact Arm for more information.

9 Buildings

Fort Hood

Fort Hood TX 76544

Landholding Agency: Army

Property Number: 21201430030

Status: Unutilized

Directions: 4640 (1,606 sq. ft.); 4641 (2,021 sq. ft.); 4644 (4,080 sq. ft.); 4656 (4,045 sq. ft.); 4657 (4,040 sq. ft.); 36019 (3,192 sq. ft.); 36027 (2,425 sq. ft.); 36028 (2,400 sq. ft.); 36043 (5,000 sq. ft.)

Comments: off-site removal only; no future agency need; due to site relocation may be difficult; poor condition; secured area; contact Army for more information.

715

Fort Hood

Fort Hood TX 76544

Landholding Agency: Army

Property Number: 21201430047

Status: Excess

Comments: off-site removal only; 2,810 sq. ft.; semi-permanent structure type; 11+ months vacant; fair condition; contamination; secured area; contact Army for more information.

07133

Fort Bliss

Ft. Bliss TX 79916

Landholding Agency: Army

Property Number: 21201440011

Status: Unutilized

Comments: off-site removal only; no future agency need; relocation difficult due to size/type; 12,178 sq. ft.; storage; 120+ months vacant; poor conditions; contact Army for more information

5 Buildings

Fort Bliss

Ft. Bliss TX 79916

Landholding Agency: Army

Property Number: 21201440012

Status: Unutilized

Directions: 07134; 07142; 07153; 07162; 07178

Comments: off-site removal only; no future agency need; relocation difficult due to size/type; sq. ft. varies; 120+ months vacant; poor conditions; contact Army for more information.

05095

Fort Bliss

Ft. Bliss TX 79916

Landholding Agency: Army

Property Number: 21201440022

Status: Unutilized

Comments: off-site removal only; no future agency need; 12+ months vacant; good conditions; secured area; contact Army for more information.

07113

Fort Bliss

Ft. Bliss TX 79916

Landholding Agency: Army

Property Number: 21201440023

Status: Unutilized

Comments: off-site removal only; 8,855 sq. ft.; no future agency need; relocation difficult due to size/type; 120+ months vacant; child-care center; poor conditions; contact Army for more information.

2 Buildings

Yoakum USARC

Yoakum TX 77995

Landholding Agency: Army

Property Number: 21201440035

Status: Underutilized

Directions: P1005; P1006

Comments: off-site removal only; no future agency need; 30 sq. ft.; storage for flammable materials; 53+ yrs.-old; remediation needed; contact Army for more information.

10 Buildings

USAG Fort Bliss

USAG Fort Bliss TX 79916

Landholding Agency: Army

Property Number: 21201520043

Status: Unutilized

Directions: Building 05096 (768 sq. ft.); 08396 (198 sq. ft.); 08395 (198 sq. ft.); 08380 (900 sq. ft.); 08365 (132 sq. ft.); 08364 (432 sq. ft.); 08309 (120 sq. ft.); 08348 (108 sq. ft.); 08268 (432 sq. ft.); 08349 (100 sq. ft.)

Comments: off-site removal; 28-70 yrs. old for bldgs. respectively above; admin; toliet; storg; range bldg; off. qtrs.; vacant 12-60 mos.; poor cond; no future agency need; contact Army for more info.

90005; RPUID:285770

Clarke Road

Fort Hood TX

Landholding Agency: Army

Property Number: 21201540012

Status: Excess

Comments: off-site removal only; removal extremely difficult due to type; 181 sq. ft.; Navigation Building, Air; contact Army for more information

92044; RPUID: 286348

Loop Road

Fort Hood TX 76544

Landholding Agency: Army

Property Number: 21201540021

Status: Excess

Comments: off-site removal only; removal extremely difficult due to type/size; 1,920 SQ. FT.; Admin General Purpose; lead and asbestos contamination;contact Army for more information.

1348 (RPUID: 313187)

North Avenue

Fort Hood TX 76544

Landholding Agency: Army

Property Number: 21201540022

Status: Excess

Comments: off-site removal only; 654 sq. ft; Admin General Purpose; fair/moderate conditions; Asbestos located in Building caulking and putties; contact Army for more information.

91003; RPUID: 286087

West Headquarters Avenue

Fort Hood TX 76544

Landholding Agency: Army

Property Number: 21201540025

Status: Excess

Comments: off-site removal only; removal extremely difficult due to type; 325 sq. ft.; Storage General Purpose; possible lead and asbestos contamination;contact Army for more information.

36017; RPUID: 174093

Wratten Drive

Fort Hood TX 76544

Landholding Agency: Army

Property Number: 21201540027

Status: Excess

Comments: off-site removal only; removal extremely difficult due to type/size; 2,400 sq. ft.; Laboratory;contact Army for more information.

12 Buildings

Fort Hood

Fort Hood TX

Landholding Agency: Army

Property Number: 21201610030

Status: Excess

Directions: 56204: 311933 240 sq. ft. 56191: 170499 200 sq. ft. 56167: 171025 240 sq. ft. 56153: 172770 200 sq. ft. 56186: 312163 240 sq. ft. 56178: 312162 350 sq. ft. 56144: 172878 240 sq. ft. 56141: 17255 240 sq. ft. 56119: 314224 200 sq. ft. 56123: 314228 240 sq. ft. 56116: 314216 240 sq. ft. 56003: 172568 248 sq. ft.

Comments: off-site removal only; 13+-22+yrs old; toilet/shower; contact Army for more information.

4 Buildings

Fort Hood

Fort Hood TX

Landholding Agency: Army

Property Number: 21201610032

Status: Unutilized

Directions: Building 92062 RPUID: 286949 96 Sq. ft.; A4211 RPUID: 182761 87 sq. ft.; 92043 RPUID: 286347 464 sq. ft.; 90073 RPUID: 286004 120 sq. ft.

Comments: off-site removal only; 34+-64+ yrs. old; power plant; storage; no future agency need; contact Army for more information.

5 Buildings

Fort Hood

Fort Hood TX 76544

Landholding Agency: Army

Property Number: 21201610053

Status: Excess

Directions: 2028-RPUID: 171488 (7,848 sq. ft.); 51018-RPUID: 169913 (11,854 sq. ft.); 2032-RPUID: 171492 (1,288 sq. ft.); 51019-RPUID: 169914 (11,854 sq. ft.); 4262-RPUID: 312301 (11,854 sq. ft.)

Comments: off-site removal only; 14+-79+ yrs. old; storage; maintenance shop; toilet/shower; may be difficult to move; contact Army for more information.

5 Buildings

Fort Hood

Fort Hood TX 76544

Landholding Agency: Army

Property Number: 21201610055

Status: Excess

Directions: 11020-RPUID: 181444 (1,224 sq. ft.); 4611-RPUID: 314513 (11,854 sq. ft.); 51017-RPUID: 169912 (11,854 sq. ft.); 51015-RPUID: 169910 (11,854 sq. ft.); 7020-RPUID: 584784 (6,104 sq. ft.)

Comments: off-site removal only; 13+-49+ yrs. old; storage; battery shop; battalion hdqts.; may be difficult to move; contact Army for more information.

6 Buildings

Fort Hood

Fort Hood TX 76544

Landholding Agency: Army

Property Number: 21201610056

Status: Excess

Directions: 51020-RPUID: 169909 (11,854 sq. ft.); 51016-RPUID: 169911 (11,854 sq. ft.); 91003-RPUID: 286087 (325 sq. ft.); 92065-RPUID: 286952 (3,994 sq. ft.); 421-RPUID: 171462 (10,752 sq. ft.); 1156-RPUID: 171784 (7,079 sq. ft.)

Comments: off-site removal only; 10+-73+ yrs. old; storage; administrative; health clinic; may be difficult to move; contact Army for more information.

3 Buildings

Fort Hood

Fort Hood TX 76544

Landholding Agency: Army

Property Number: 21201610057

Status: Unutilized

Directions: 233-RPUID: 170829 (2,250 sq. ft.); 230-RPUID: 170826 (5,851 sq. ft.); 229-RPUID: 170825 (7,310 sq. ft.)

Comments: off-site removal only; 73+-74+ yrs. old; training aids center; no future agency need; contact Army for more information.

Building Number 4499

77th Street

Fort Hood TX 76544

Landholding Agency: Army

Property Number: 21201610059

Status: Excess

Directions: RPUID: 314497

Comments: 29+ yrs. old; 2,449 sq. ft.; shed; contact Army for more information.

Utah

Building 00118

1 Tooele Army Depot

Tooele UT 84074

Landholding Agency: Army

Property Number: 21201310002

Status: Underutilized

Directions: Previously reported under HUD property number 21200740163

Comments: off-site removal only; 6,136 sf.; 4 mons. vacant; barracks; major repairrs needed; w/in secured area; contact Army for info. on accessibility/removal reqs.

Building 00155

1 Tooele Army Depot

Tooele UT 84074

Landholding Agency: Army

Property Number: 21201310003

Status: Underutilized

Directions: Previously reported under HUD propertty number 21200740165

Comments: off-site removal only; 8,960 sf.; bowling ctr.; major repairs neeeded; w/in secured area; contact Army for info. on accessibility/removal reqs.

Building 00030

Tooele Army Depot

Tooele UT 84074

Landholding Agency: Army

Property Number: 21201310067

Status: Underutilized

Comments: off-site removal only; playground; disassembly required; minor restoration needed; restricted area; contact Army for accessibility/removal reqs.

Building 01322

1 Tooele Army Depot

Tooele UT 84074

Landholding Agency: Army

Property Number: 21201330047

Status: Unutilized

Comments: off-site removal only; no future agency need; 53 sf.; 26+ months vacant; access control facility; poor conditions; secured area; contact Army for more info. on accessibility removal reqs.

Virginia

Fort Story

null

Ft. Story VA 23459

Landholding Agency: Army

Property Number: 21200720065

Status: Unutilized

Comments: 525 sq. ft., most recent use—power plant, off-site use only.

8 Bldgs.

Ft. Belvoir

Ft. Belvoir VA 22060

Landholding Agency: Army

Property Number: 21201220004

Status: Excess

Directions: 808, 1150, 1197, 2303, 2903, 2905, 2907, 3137

Comments: off-site removal only; sf. varies; usage varies; good to poor conditions; may require repairs; contact Army for more details on specific properties.

9 Buildings

Ft. Belvoir

Ft. Belvoir VA 22060

Landholding Agency: Army

Property Number: 21201240003

Status: Unutilized

Directions: 358, 361, 1140, 1141, 1142, 1143, 1498, 1499, 2302

Comments: off-site removal only; sf. varies; Admin.; fair conditions; located in restricted area; contact Army for info. on accessibility/removal & specific info. on a property.

510

Defense Supply Center

Richmond VA 23237

Landholding Agency: Army

Property Number: 21201430007

Status: Excess

Directions: 510

Comments: off-site removal only; removal may be difficult due to structure type; Barbeque Pit; 20 sq. ft.; 22+ years old; secured area; contact Army for more information.

Building 22696

Fort Drum

Ft. Drum VA 13602

Landholding Agency: Army

Property Number: 21201510015

Status: Unutilized

Comments: off-site removal only; no future agency need; removal may be difficult; 400 sq. ft.; range operations bldg.; deteriorated; contact Army for more information.

T-482

JB Myer HendersonHall

Ft. Myer VA 22211

Landholding Agency: Army

Property Number: 21201520003

Status: Excess

Comments: off-site removal only; 8,267 sq. ft.; relocation may be difficult to size; office; 6+ months vacant; contact Army for more information.

Building 8400

Fort Lee

Fort Lee VA 23801

Landholding Agency: Army

Property Number: 21201610029

Status: Underutilized

Comments: 61+ yrs. old; 9,878 sq. ft.; dining facility; requires extensive renovation; prior approval to gain access is required; building in use; contact Army for more information.

Washington

Bldg. 8956

Fort Lewis

Ft. Lewis WA 98433

Landholding Agency: Army

Property Number: 21199920308

Status: Excess

GSA Number:

Comments: 100 sq. ft., needs repair, presence of asbestos/lead paint, most recent use—storage, off-site use only.

E1302 & R7610

JBLM

JBLM WA 98433

Landholding Agency: Army

Property Number: 21201230028

Status: Unutilized

Comments: 80 sf. (E1302); 503 sf. (R7610); use: varies; major repairs needed; secured area; contact Army re: accessibility requirements.

Bldg. 06239

Joint Base Lewis McChord

JBLM WA 90433

Landholding Agency: Army

Property Number: 21201430053

Status: Unutilized

Comments: off-site removal only; no future agency need; deconstruct to relocate; difficult to relocate due to size/type; poor conditions; contact Army for more info.

23 Buildings

Joint Base Lewis McChord

JBLM WA 98433

Landholding Agency: Army

Property Number: 21201430054

Status: Underutilized

Directions: 03223; 03225; 03627; 03628; 03629; 03632; 03638; 03640; 03641; 03643; 03644; 03645; 06991; 09663; 09998; 11680; A0303; C1342; F0017; F0018; J0831; J0833; W3641

Comments: off-site removal only; no future agency need; deconstruct to relocate; difficult to relocate due to type/size; poor conditions; secured area; contact for more info.

Building 02080

Joint Base Lewis McChord

JBLM WA 98433

Landholding Agency: Army

Property Number: 21201440048

Status: Underutilized

Comments: off-site removal only; no future agency need; relocation may be difficult due to type/size; 2,031 sq. ft.; storage; 1+ month vacant; major repairs needed; contact Army for more information.

2 Buildings

Joint Base Lewis McChord

JBLM WA 98433

Landholding Agency: Army

Property Number: 21201440057

Status: Underutilized

Directions: 01036; 01037

Comments: off-site removal only; no future agency need; relocation extremely difficult due to size; 8,142 sq. ft. for each; major repairs needed; contact Army for more information.

5 Buildings

Joint Base Lewis McChord

JBLM WA 98433

Landholding Agency: Army

Property Number: 21201510042

Status: Underutilized

Directions: D0110 (148 sq. ft.); 03933 (192 sq. ft.); O04ED(48 sq. ft.); 14109 (225 sq. ft.); 09643 (720 sq. ft.)

Comments: off-site removal only; no future agency need; significant repairs needed; contact Army for more information on a specific property.

Building 03932

Joint Base Lweis McChord

JBLM WA 98433

Landholding Agency: Army

Property Number: 21201520001

Status: Underutilized

Comments: off-site removal only; no future agency need; 120 sq. ft.; storage; 49+ yrs.; significant repairs for restoration;contamination; contact Army for accessibility and removal requirements.

Wisconsin

2 Buildings

Fort McCoy

Fort McCoy WI 54656

Landholding Agency: Army

Property Number: 21201610026

Status: Unutilized

Directions: 08035 RPUID: 299270 (300 sq. ft.) & 08037 RPUID: 608421 (300 sq. ft.)

Comments: off-site removal only; 44+ yrs. old; restroom; poor conditions; no future agency need; contact Army for more information.

Land

Mississippi

2 Plots

Columbus Air Force Base

Columbus Air Force Ba MS

Landholding Agency: Air Force

Property Number: 18201610006

Status: Excess

Comments: 2 x 10.36 acres, contact Air Force for more information.

Suitable/Unavailable Properties

Building

Arizona

Bldg. 22541

Fort Huachuca

Cochise AZ 85613-7010

Landholding Agency: Army

Property Number: 21200520078

Status: Excess

Comments: 1300 sq. ft., most recent use—storage, off-site use only.

Bldg. 22040

Fort Huachuca

Cochise AZ 85613

Landholding Agency: Army

Property Number: 21200540076

Status: Excess

Comments: 1131 sq. ft., presence of asbestos/lead paint, most recent use—storage, off-site use only.

California

00806

Fort Hunter Liggett

Fort Hunter Liggett CA 93928

Landholding Agency: Army

Property Number: 21201410017

Status: Unutilized

Comments: off-site removal only; no future agency need; 1,600 sq. ft.; 60+ months vacant; poor conditions; exposed to elements/wildlife; secured area; contact Army for more info.

Georgia

1096

Fort Stewart

Ft. Stewart GA 31314

Landholding Agency: Army

Property Number: 21201410001

Status: Excess

Comments: off-site removal only; due to structure type relocation may be difficult; poor conditions; 7,643 sq. ft; secured area; contact Army for more information.

3 Buildings

Hunter Army Airfield

Hunter Army Airfield GA 31409

Landholding Agency: Army

Property Number: 21201410002

Status: Excess

Directions: 1126 (1,196 sq. ft.); 1127 (1,196 sq. ft.); 1129 (5,376 sq. ft.)

Comments: off-site removal only; dissemble required; poor conditions; secured area; gov't escort required; contact Army for more information.

1124

Hunter Army Airfield

Hunter Army Airfield GA 31409

Landholding Agency: Army

Property Number: 21201410010

Status: Excess

Comments: off-site removal only; 1,188 sq. ft.; due to struture type relocation may be difficult; poor conditions; secured area; contact Army for more info.

Louisiana

Bldgs. T406, T407, T411

Fort Polk

Ft. Polk LA 71459

Landholding Agency: Army

Property Number: 21200540085

Status: Unutilized

Comments: 6165 sq. ft., most recent use—admin., off-site use only.

8 Buildings

Fort Polk

Fort Polk LA 71459

Landholding Agency: Army

Property Number: 21201340023

Status: Underutilized

Directions: 3337, 3339, 3405, 3409, 3491, 3728, 4550, 4798 (Please Note: buildigs 3728 and 4798 are Suitable/Available)

Comments: off-site removal only; no future agency need; sq. ft. varies; poor conditions; contact Army for more information on a specific property & removal requirements.

Maryland

Bldg. 1007

Ft. George G. Meade

Ft. Meade MD 20755

Landholding Agency: Army

Property Number: 21200140085

Status: Unutilized

GSA Number:

Comments: 3108 sq. ft., presence of asbestos/lead paint, most recent use—storage, off-site use only.

Bldg. 8608

Fort George G. Meade

Ft. Meade MD 20755-5115

Landholding Agency: Army

Property Number: 21200410099

Status: Unutilized

Comments: 2372 sq. ft., concrete block, most recent use—PX exchange, off-site use only.

Bldg. 0001C

Federal Support Center

Olney MD 20882

Landholding Agency: Army

Property Number: 21200520115

Status: Unutilized

Comments: 2904 sq. ft., most recent use—mess hall.

Bldgs. 00032, 00H14, 00H24

Federal Support Center

Olney MD 20882

Landholding Agency: Army

Property Number: 21200520116

Status: Unutilized

Comments: various sq. ft., most recent use—storage.

Bldgs. 00034, 00H016

Federal Support Center

Olney MD 20882

Landholding Agency: Army

Property Number: 21200520117

Status: Unutilized

Comments: 400/39 sq. ft., most recent use—storage.

Bldgs. 00H10, 00H12

Federal Support Center

Olney MD 20882

Landholding Agency: Army

Property Number: 21200520118

Status: Unutilized

Comments: 2160/469 sq. ft., most recent use—vehicle maintenance.

Missouri

Bldg. 1230

Fort Leonard Wood

Ft. Leonard Wood MO 65743-8944

Landholding Agency: Army

Property Number: 21200340087

Status: Unutilized

GSA Number:

Comments: 9160 sq. ft., most recent use—training, off-site use only.

Bldg. 1621

Fort Leonard Wood

Ft. Leonard Wood MO 65743-8944

Landholding Agency: Army

Property Number: 21200340088

Status: Unutilized

GSA Number:

Comments: 2400 sq. ft., most recent use—exchange branch, off-site use only.

Bldg. 5760

Fort Leonard Wood

Ft. Leonard Wood MO 65743-8944

Landholding Agency: Army

Property Number: 21200410102

Status: Unutilized

Comments: 2000 sq. ft., most recent use—classroom, off-site use only.

Bldg. 5762

Fort Leonard Wood

Ft. Leonard Wood MO 65743-8944

Landholding Agency: Army

Property Number: 21200410103

Status: Unutilized

Comments: 104 sq. ft., off-site use only.

Bldg. 5763

Fort Leonard Wood

Ft. Leonard Wood MO 65743-8944

Landholding Agency: Army

Property Number: 21200410104

Status: Unutilized

Comments: 120 sq. ft., most recent use—observation tower, off-site use only.

Bldg. 5765

Fort Leonard Wood

Ft. Leonard Wood MO 65743-8944

Landholding Agency: Army

Property Number: 21200410105

Status: Unutilized

Comments: 800 sq. ft., most recent use—range support, off-site use only.

Bldg. 5760

Fort Leonard Wood

Ft. Leonard Wood MO 65743-8944

Landholding Agency: Army

Property Number: 21200420059

Status: Unutilized

Comments: 2000 sq. ft., most recent use—classroom, off-site use only.

Bldg. 5762

Fort Leonard Wood

Ft. Leonard Wood MO 65743-8944

Landholding Agency: Army

Property Number: 21200420060

Status: Unutilized

Comments: 104 sq. ft., off-site use only.

Bldg. 5763

Fort Leonard Wood

Ft. Leonard Wood MO 65743-8944

Landholding Agency: Army

Property Number: 21200420061

Status: Unutilized

Comments: 120 sq. ft., most recent use—obs. tower, off-site use only.

Bldg. 5765

Fort Leonard Wood

Ft. Leonard Wood MO 65743-8944

Landholding Agency: Army

Property Number: 21200420062

Status: Unutilized

Comments: 800 sq. ft., most recent use—support bldg., off-site use only.

Bldg. 00467

Fort Leonard Wood

Ft. Leonard Wood MO 65743

Landholding Agency: Army

Property Number: 21200530085

Status: Unutilized

Comments: 2790 sq. ft., most recent use—fast food facility, off-site use only.

Texas

Bldg. 04632

Fort Hood

Bell TX 76544

Landholding Agency: Army

Property Number: 21200620093

Status: Excess

Comments: 4000 sq. ft., presence of asbestos, most recent use—storage, off-site use only.

Bldg. 04640

Fort Hood

Bell TX 76544

Landholding Agency: Army

Property Number: 21200620094

Status: Excess

Comments: 1600 sq. ft., presence of asbestos, most recent use—storage, off-site use only.

Bldg. 4207

Fort Hood

Bell TX 76544

Landholding Agency: Army

Property Number: 21200740076

Status: Excess

Comments: 2240 sq. ft., presence of asbestos, most recent use—maint. shop, off-site use only.

Bldg. 4219A

Fort Hood

Bell TX 76544

Landholding Agency: Army

Property Number: 21200740079

Status: Excess

Comments: 446 sq. ft., presence of asbestos, most recent use—storage, off-site use only.

Bldg. 04485

Fort Hood

Bell TX 76544

Landholding Agency: Army

Property Number: 21200740084

Status: Excess

Comments: 640 sq. ft., presence of asbestos, most recent use—maint., off-site use only.

Bldg. 04489

Fort Hood

Ft. Hood TX 76544

Landholding Agency: Army

Property Number: 21200740086

Status: Excess

Comments: 880 sq. ft., presence of asbestos, most recent use—admin., off-site use only.

Bldg. 20102

Fort Hood

Bell TX 76544

Landholding Agency: Army

Property Number: 21200740091

Status: Excess

Comments: 252 sq. ft., presence of asbestos, most recent use—recreation services, off-site use only.

Bldg. 56329

Fort Hood

Bell TX 76544

Landholding Agency: Army

Property Number: 21200740100

Status: Excess

Comments: 2080 sq. ft., presence of asbestos, most recent use—officers qtrs., off-site use only.

Bldg. 92043

Fort Hood

Bell TX 76544

Landholding Agency: Army

Property Number: 21200740102

Status: Excess

Comments: 450 sq. ft., presence of asbestos, most recent use—storage, off-site use only.

Bldg.4404

Fort Hood

Bell TX 76544

Landholding Agency: Army

Property Number: 21200740190

Status: Excess

Comments: 8043 sq ft., presence of asbestos, most recent use—training bldg., off-site use only.

Bldg. 94031

Fort Hood

Bell TX 76544

Landholding Agency: Army

Property Number: 21200740194

Status: Excess

Comments: 1008 sq. ft., presence of asbestos, most recent use—training, off-site use only.

Building 6924

11331 Montana Ave.

Ft. Bliss TX 79916

Landholding Agency: Army

Property Number: 21201240012

Status: Excess

Comments: off-site removal only; 10,340 sf.; aircraft hanger; poor conditions; limited public access; contact Army for info. on accessibility/removal.

8 Buildings

Fort Hood

Ft. Hood TX 76544

Landholding Agency: Army

Property Number: 21201410020

Status: Excess

Directions: 94030 (2,567 sq. ft); 90083 (150 sq. ft.); 26011 (4,789 sq. ft.); 26010 (4,735 sq. ft.); 26009 (4,735 sq. ft.); 26008 (4,735 sq. ft.); 26007 (4,735 sq. ft.); 08640 (3,735 sq. ft.)

Comments: off-site removal only; removal difficult due to structure type; contamination; secured area; contact Army for more information.

9 Buildings

Fort Hood

Fort Hood TX 96544

Landholding Agency: Army

Property Number: 21201410021

Status: Excess

Directions: 04481 (48 sq. ft.); 4292 (1,830 sq. ft.); 4291 (6,400 sq. ft.); 04290 (674 sq. ft.); 4283 (8,940 sq. ft.); 4281 (2,000 sq. ft.); 04273 (687 sq. ft.); 04206 (651 sq. ft.); 04203 (2,196 sq. ft.)

Comments: off-site removal only; removal may be difficult due to structure type; secured area; contact Army for more information.

8 Buildings

Fort Hood

Fort Hood TX 76544

Landholding Agency: Army

Property Number: 21201410023

Status: Excess

Directions: 07035 (1,702 sq. ft.); 7008 (288 sq. ft.); 6987 (192 sq. ft.); 04643 (4,017 sq. ft.); 04642 (4,017 sq. ft.); 04619 (4,103 sq. ft.); 04496 (284 sq. ft.); 04495 (347 sq. ft.)

Comments: off-site removal only; removal may be difficult due to structure type; secured area; contact Army for more information.

8 Buildings

Fort Hood

Ft. Hood TX 76544

Landholding Agency: Army

Property Number: 21201410028

Status: Excess

Directions: 04163, 04165, 51015, 51016, 51017, 51018, 51019, 51020

Comments: off-site removal only; sq. ft. varies; secured area; contact Army for specific property and/or accessibility/removal reqs.

Virginia

Bldg. T2827

Fort Pickett

Blackstone VA 23824

Landholding Agency: Army

Property Number: 21200320172

Status: Unutilized

GSA Number:

Comments: 3550 sq. ft., presence of asbestos, most recent use—dining, off-site use only.

Bldg. 01014

Fort Story

Ft. Story VA 23459

Landholding Agency: Army

Property Number: 21200720067

Status: Unutilized

Comments: 1014 sq. ft., most recent use—admin., off-site use only.

Bldg. 01063

Fort Story

Ft. Story VA 23459

Landholding Agency: Army

Property Number: 21200720072

Status: Unutilized

Comments: 2000 sq. ft., most recent use—storage, off-site use only.

Bldg. 00215

Fort Eustis

Ft. Eustis VA 23604

Landholding Agency: Army

Property Number: 21200720073

Status: Unutilized

Comments: 2540 sq. ft., most recent use—admin., off-site use only.

Washington

03215

Joint Base Lewis McChord

JBLM WA 98433

Landholding Agency: Army

Property Number: 21201410008

Status: Underutilized

Comments: off-site removal only; still existing Federal need; due to age/structure relocation may be difficult; 33,460 sq. ft.; 61+ yrs.-old; barracks; signficant renovations; secured area; contact Army.

03221

Joint Base Lewis McChord

JBLM WA 98433

Landholding Agency: Army

Property Number: 21201410039

Status: Underutilized

Comments: off-site removal only; still existing Federal need; dissemble may be required; 33,460 sq. ft.; may be difficult to relocate due to sq. ft. & structure type; contact Army for more info.

**Suitable/Undefined**

Building

Texas

12 Buildings

Foot Hood

Foot Hood TX

Landholding Agency: Army

Property Number: 21201610031

Status: Excess

Directions: 56224:172687 80 sq.ft; 56211:172817 200 sq.ft; 56243:172623 240 sq.ft; 56256:172644 220 sq.ft; 56264:312164 240 sq.ft; 56283:171026 240 sq.ft; 56258:172645 220 sq.ft; 56338 117 sq.ft; 56291:170733 200 sq.ft; 56236:172643 384 sq.ft; 56228:314213 80 sq.ft; 56226:172828 80 sq.ft.

Comments: off-site removal only; 1+-28+ yrs. old; toilet/shower; contact Army for more information.

Washington

Pair of Adjacent one-hole pit

State Hwy 261/Lyons Ferry State Park

Starbuck WA 99359

Landholding Agency: Army

Property Number: 21201610046

Status: Excess

Comments: 36+ yrs. old; 36 sq. ft. each; toilets; poor conditions; contact ARMY for more information.

Unsuitable Properties

Building

Alabama

Bldg. 7339A

Redstone Arsenal

Redstone Arsenal AL 35898-5000

Landholding Agency: Army

Property Number: 21200340011

Status: Unutilized

GSA Number:

Reasons: Extensive deterioration; Secured Area

Bldgs. 04122, 04184

Redstone Arsenal

Madison AL 35898

Landholding Agency: Army

Property Number: 21200920011

Status: Unutilized

Reasons: Secured area

Bldg. 7358A

Sandpiper Road

Redstone Arsenal AL 35898

Landholding Agency: Army

Property Number: 21201140047

Status: Unutilized

Reasons: Within 2000 ft. of flammable or explosive material; Secured Area

Bldg. C1302

null

Fort McClellan AL 36205

Landholding Agency: Army

Property Number: 21201140073

Status: Unutilized

Reasons: Secured area; Extensive deterioration

106

Red Arsenal

Red Arsenal AL 35898

Landholding Agency: Army

Property Number: 21201430048

Status: Unutilized

Comments: documented deficiencies: building is collapsing; extensive conditions that represents a clear threat to personal physical safety.

Reasons: Extensive deterioration

C1310

Fort McClellan

Ft. McClellan AL 36205

Landholding Agency: Army

Property Number: 21201440032

Status: Unutilized

Comments: public access denied and no alternative method to gain access w/out compromising national security.

Reasons: Secured area

7134

Redstone Arsenal

Redstone Aresnal AL 35898

Landholding Agency: Army

Property Number: 21201440038

Status: Unutilized

Comments: documented deficiencies: suffered severe flood damage; severe structural damage; clear threat to physical safety.

Reasons: Extensive deterioration

4812

Redstone Arsenal

Redstone Arsenal AL 35898

Landholding Agency: Army

Property Number: 21201440039

Status: Unutilized

Comments: documented deficiencies: suffered major damage from tornado; roof torn completely off; clear threat to physical safety.

Reasons: Extensive deterioration

2 Buildings

Restone Arsenal

Redstone Arsenal AL 35898

Landholding Agency: Army

Property Number: 21201520024

Status: Unutilized

Directions: Buildings 4122, 4123

Comments: public access denied and no alternative method to gain access without compromising national security.

Reasons: Within 2000 ft. of flammable or explosive material; Secured Area

Building 4120A

4120A Redstone Road

Redstone AL 35898

Landholding Agency: Army

Property Number: 21201520025

Status: Unutilized

Comments: flammable/explosive material are located on adjacent industrial, commercial, or Federal facility. Further detailed provided under “comments” below.

Reasons: Within 2000 ft. of flammable or explosive material

Building 4120

4120 Redstons Road

Madison AL 35898

Landholding Agency: Army

Property Number: 21201520045

Status: Unutilized

Comments: flam./explosive material are located on adjacent indus.; commercial, or Federal facility; further details provided. Public access denied & no alt. method to gain access w/out compromising Nat. Sec.

Reasons: Secured Area; Within 2000 ft. of flammable or explosive material

Building 7352

Redstone Arsenal; Flicker Rd.

Redstone Arsenal AL 35898

Landholding Agency: Army

Property Number: 21201530090

Status: Unutilized

Comments: 2,000 ft. within explosive testing conducted on surrounding properties; suffered major damage due to explosive testing; structurally unsound.

Reasons: Extensive deterioration; Within 2000 ft. of flammable or explosive material

3 Buildings

Redstone Arsenal

Redstone Arsenal AL

Landholding Agency: Army

Property Number: 21201530091

Status: Unutilized

Directions: 7358; 7309; 7810

Comments: 2,000 ft. w/in explosive testing conducted on surrounding properties.

Reasons: Within 2000 ft. of flammable or explosive material

8 Buildings

Ft. McClellan Training Center

Ft. McClellan AL 36205

Landholding Agency: Army

Property Number: 21201610004

Status: Unutilized

Directions: C1328:300651; C1327:300650; C1323:300647; C1356:300653; C1324:300648; C1355:302115; C1321:299707; C1317:299705

Comments: public access denied and no alternative method to gain access without compromising national security.

Reasons: Secured area

Building C1319

203 Essayons Ave.

Ft. McClellan AL 36205

Landholding Agency: Army

Property Number: 21201610005

Status: Unutilized

Directions: RPUID:299706

Comments: public access denied and no alternative method to gain access without compromising national security; property located within floodway which has not been correct or contained.

Reasons: Secured area

Building 454

Anniston Army Depot

Anniston AL 36201

Landholding Agency: Army

Property Number: 21201610013

Status: Unutilized

Directions: RPUID: 236244

Comments: public access denied and no alternative method to gain access without compromising national security.

Reasons: Secured area

2 Buildings

Ft. McClellan Training Center

Ft. McClellan AL 36206

Landholding Agency: Army

Property Number: 21201610033

Status: Unutilized

Directions: P8205 RPUID:303146; P8604 RPUID:302852

Comments: public access denied and no alternative method to gain access without compromising national security.

Reasons: Secured area

2 Buildings

Redstone Arsenal

Redstone Arsenal AL 35898

Landholding Agency: Army

Property Number: 21201610038

Status: Unutilized

Directions: 115 RPUID:365235 (2,787 sq. ft.); 7549 RPUID:367945 (3,200 sq. ft.)

Comments: flammable/explosive materials are located on adjacent industrial, commercial, or Federal facility; which covers 38,138 acres.

Reasons: Within 2000 ft. of flammable or explosive material

Alaska

Building 111

Powerplant at Clear AFS

Clear AK 99704

Landholding Agency: Air Force

Property Number: 18201610014

Status: Unutilized

Comments: public access denied and no alternative method to gain access without compromising national security.

Reasons: Secured Area

Bldgs. 55294, 55298, 55805

Fort Richardson

Ft. Richardson AK 99505

Landholding Agency: Army

Property Number: 21200340006

Status: Unutilized

GSA Number:

Reasons: Extensive deterioration

Bldg. 02A60

Noatak Armory

Kotzebue AK

Landholding Agency: Army

Property Number: 21200740105

Status: Excess

Reasons: Within 2000 ft. of flammable or explosive material

Bldg. 00604

Ft. Richardson

Ft. Richardson AK 99505

Landholding Agency: Army

Property Number: 21200830006

Status: Excess

Reasons: Secured Area

Bldgs. 789-790

Fort Richardson

Anchorage AK 99505

Landholding Agency: Army

Property Number: 21201030001

Status: Unutilized

Reasons: Secured Area

Building 2092

Kinney Rd.

Fort Wainwright AK 99703

Landholding Agency: Army

Property Number: 21201540005

Status: Underutilized

Comments: located w/in floodway which has not been corrected or contained; public access denied and no alternative method to gain access without compromising national security.

Reasons: Secured Area; Floodway

Building 3562B

3562B Neely Road

Fort Wainwright AK 99703

Landholding Agency: Army

Property Number: 21201610048

Status: Underutilized

Directions: RPUID:1176767

Comments: public access denied and no alternative method to gain access without compromising national security.

Reasons: Secured Area

Arizona

12 Buildings

Luke AFB

Glendale AZ

Landholding Agency: Air Force

Property Number: 18201610008

Status: Unutilized

Directions: Building #1677, 1681, 1682, 1683, 1685, 1686, 1687, 1688, 1689, 1690, 1691, 1692

Comments: public access denied and no alternative method to gain access without compromising national security.

Reasons: Secured Area

10 Buildings

Luke AFB

Glendale AZ

Landholding Agency: Air Force

Property Number: 18201610009

Status: Unutilized

Directions: Building #1693, 1668, 1669, 1670, 1671, 1672, 1673, 1674, 1675, 1676

Comments: public access denied and no alternative method to gain access without compromising national security.

Reasons: Secured Area

Bldg. 004 (4118)

Navajo Depot Activity

Bellemont AZ 86015

Landholding Agency: Army

Property Number: 21199014560

Status: Underutilized

Directions: 12 miles west of Flagstaff, Arizona on I-40

Comments:

Reasons: Secured Area

Bldg. 6

Navajo Depot Activity

Bellemont AZ 86015

Landholding Agency: Army

Property Number: 21199014561

Status: Underutilized

Directions: 12 miles west of Flagstaff, Arizona on I-40

Comments:

Reasons: Secured Area

Bldg. 8

Navajo Depot Activity

Bellemont AZ 86015

Landholding Agency: Army

Property Number: 21199014562

Status: Underutilized

Directions: 12 miles west of Flagstaff, Arizona on I-40

Comments:

Reasons: Secured Area

Bldg. 31 (45)

Navajo Depot Activity

Bellemont AZ 86015

Landholding Agency: Army

Property Number: 21199014569

Status: Underutilized

Directions: 12 miles west of Flagstaff, Arizona on I-40

Comments:

Reasons: Secured Area

Bldg. 33

Navajo Depot Activity

Bellemont AZ 86015

Landholding Agency: Army

Property Number: 21199014570

Status: Underutilized

Directions: 12 miles west of Flagstaff, Arizona on I-40

Comments:

Reasons: Secured Area

Bldg. 211

Navajo Depot Activity

Bellemont AZ 86015

Landholding Agency: Army

Property Number: 21199014582

Status: Underutilized

Directions: 12 miles west of Flagstaff, Arizona on I-40

Comments:

Reasons: Secured Area

Bldg. 214

Navajo Depot Activity

Bellemont AZ 86015

Landholding Agency: Army

Property Number: 21199014583

Status: Underutilized

Directions: 12 miles west of Flagstaff, Arizona on I-40

Comments:

Reasons: Secured Area

Bldg. 216

Navajo Depot Activity

Bellemont AZ 86015

Landholding Agency: Army

Property Number: 21199014584

Status: Underutilized

Directions: 12 miles west of Flagstaff, Arizona on I-40

Comments:

Reasons: Secured Area

Bldg. 218

Navajo Depot Activity

Bellemont AZ 86015

Landholding Agency: Army

Property Number: 21199014585

Status: Underutilized

Directions: 12 miles west of Flagstaff, Arizona on I-40

Comments:

Reasons: Secured Area

Bldg. 239

Navajo Depot Activity

Bellemont AZ 86015

Landholding Agency: Army

Property Number: 21199014587

Status: Underutilized

Directions: 12 miles west of Flagstaff, Arizona on I-40

Comments:

Reasons: Secured Area

Bldg. 240

Navajo Depot Activity

Bellemont AZ 86015

Landholding Agency: Army

Property Number: 21199014588

Status: Underutilized

Directions: 12 miles west of Flagstaff, Arizona on I-40

Comments:

Reasons: Secured Area

Bldg. 241

Navajo Depot Activity

Bellemont AZ 86015

Landholding Agency: Army

Property Number: 21199014589

Status: Underutilized

Directions: 12 miles west of Flagstaff, Arizona on I-40

Comments:

Reasons: Secured Area

Bldg. 304

Navajo Depot Activity

Bellemont AZ 86015

Landholding Agency: Army

Property Number: 21199014590

Status: Underutilized

Directions: 12 miles west of Flagstaff, Arizona on I-40

Comments:

Reasons: Secured Area

Bldg. 351

Navajo Depot Activity

Bellemont AZ 86015

Landholding Agency: Army

Property Number: 21199014591

Status: Underutilized

Directions: 12 miles west of Flagstaff, Arizona on I-40

Comments:

Reasons: Secured Area

G101-242

Navajo Depot Activity

Bellemont AZ 86015

Landholding Agency: Army

Property Number: 21199014592

Status: Underutilized

Directions: 12 miles west of Flagstaff, Arizona on I-40. (91 Earth covered igloos)

Comments:

Reasons: Secured Area

H101-220

Navajo Depot Activity

Bellemont AZ 86015

Landholding Agency: Army

Property Number: 21199014593

Status: Underutilized

Directions: 12 miles west of Flagstaff, Arizona on I-40. (80 Earth covered igloos)

Comments:

Reasons: Secured Area

C101-518

Navajo Depot Activity

Bellemont AZ 86015

Landholding Agency: Army

Property Number: 21199014595

Status: Underutilized

Directions: 12 miles west of Flagstaff, Arizona on I-40. (100 Earth covered igloos)

Comments:

Reasons: Secured Area

A101-434

Navajo Depot Activity

Bellemont AZ 86015

Landholding Agency: Army

Property Number: 21199014597

Status: Underutilized

Directions: 12 miles west of Flagstaff, Arizona on I-40. (90 Earth covered igloos)

Comments:

Reasons: Secured Area

B386-387

Navajo Depot Activity

Bellemont AZ 86015

Landholding Agency: Army

Property Number: 21199014598

Status: Underutilized

Directions: 12 miles west of Flagstaff, Arizona on I-40. (2 Earth covered igloos)

Comments:

Reasons: Secured Area

D101-433

Navajo Depot Activity

Bellemont AZ 86015

Landholding Agency: Army

Property Number: 21199014600

Status: Underutilized

Directions: 12 miles west of Flagstaff, Arizona on I-40. (100 Earth covered igloos)

Comments:

Reasons: Secured Area

F101-324

Navajo Depot Activity

Bellemont AZ 86015

Landholding Agency: Army

Property Number: 21199014601

Status: Underutilized

Directions: 12 miles west of Flagstaff, Arizona on I-40. (100 Earth covered igloos)

Comments:

Reasons: Secured Area

Bldg. 308

Navajo Depot Activity

Bellemont AZ 86015-5000

Landholding Agency: Army

Property Number: 21199030273

Status: Unutilized

Directions: 12 miles west of Flagstaff, on I-40

Comments:

Reasons: Secured Area

Bldg. 316—Navajo Depot Activity

Bellemont AZ 86015-5000

Landholding Agency: Army

Property Number: 21199120177

Status: Unutilized

Directions: 12 Miles West of Flagstaff on I-40

Comments:

Reasons: Secured Area

Bldg. 318—Navajo Depot Activity

12 Miles West of Flagstaff on I-40

Bellemont AZ 86015-5000

Landholding Agency: Army

Property Number: 21199120178

Status: Unutilized

Directions:

Comments:

Reasons: Secured Area

Bldg. 350—Navajo Depot Activity

12 Miles West of Flagstaff on I-40

Bellemont AZ 86015-5000

Landholding Agency: Army

Property Number: 21199120181

Status: Unutilized

Directions:

Comments:

Reasons: Secured Area

Bldg. S0220

Camp Navajo

Bellemont AZ 86015

Landholding Agency: Army

Property Number: 21200140006

Status: Unutilized

GSA Number:

Reasons: Within 2000 ft. of flammable or explosive material; Secured Area; Extensive deterioration

Bldg. 00310

Camp Navajo

Bellemont AZ 86015

Landholding Agency: Army

Property Number: 21200140008

Status: Unutilized

GSA Number:

Reasons: Extensive deterioration; Secured Area; Within 2000 ft. of flammable or explosive material

Bldg. S0327

Camp Navajo

Bellemont AZ 86015

Landholding Agency: Army

Property Number: 21200140010

Status: Unutilized

GSA Number:

Reasons: Secured Area; Extensive deterioration

Bldgs. M5218, M5219, M5222

Papago Park Military Rsv

Phoenix AZ 85008

Landholding Agency: Army

Property Number: 21200740001

Status: Unutilized

Reasons: Within airport runway clear zone; Secured Area; Extensive deterioration

4 Bldgs.

Papago Park Military Rsv

M5234, M5238, M5242, M5247

Phoenix AZ 85008

Landholding Agency: Army

Property Number: 21200740002

Status: Unutilized

Reasons: Secured Area; Extensive deterioration; Within airport runway clear zone

Bldg. 00002

Camp Navajo

Bellemont AZ 86015

Landholding Agency: Army

Property Number: 21200740109

Status: Unutilized

Reasons: Secured Area

Bldgs. 00203, 00216, 00218

Camp Navajo

Bellemont AZ 86015

Landholding Agency: Army

Property Number: 21200740110

Status: Unutilized

Reasons: Extensive deterioration; Secured Area

Bldgs. 00244, 00252, 00253

Camp Navajo

Bellemont AZ

Landholding Agency: Army

Property Number: 21200740111

Status: Unutilized

Reasons: Secured Area; Extensive deterioration

7 Bldgs.

Camp Navajo

Bellemont AZ 86015

Landholding Agency: Army

Property Number: 21200740112

Status: Unutilized

Directions: 00302, 00303, 00304, 00311, S0312, S0313, S0319

Reasons: Secured Area; Extensive deterioration

4 Bldgs.

Camp Navajo

Bellemont AZ 86015

Landholding Agency: Army

Property Number: 21200740113

Status: Unutilized

Directions: S0320, 00323, S0324, 00329

Reasons: Secured Area

7 Bldgs.

Camp Navajo

Bellemont AZ 86015

Landholding Agency: Army

Property Number: 21200740114

Status: Unutilized

Directions: 00330, 00331, 00332, 00335, 00336, 00338, S0340

Reasons: Secured Area

Bldgs. 30025, 43003

Fort Huachuca

Cochise AZ 85613

Landholding Agency: Army

Property Number: 21200920030

Status: Excess

Reasons: Extensive deterioration

S0350

Camp Navajo

Bellemont AZ 86015

Landholding Agency: Army

Property Number: 21201410006

Status: Unutilized

Comments: public access denied and no alternative method to gain access w/out compromising national security.

Reasons: Secured Area

L5322

FMR East

Florence AZ 85232

Landholding Agency: Army

Property Number: 21201510044

Status: Underutilized

Comments: public access denied and no alternative method to gain access without compromising national security.

Reasons: Secured Area

4 Buildings

5636 E. McDowell Road

Phoenix AZ 85008

Landholding Agency: Army

Property Number: 21201520006

Status: Excess

Directions: Building M5352, M5354, M5358, M5356

Comments: flammable materials located on adjacent property w/in 200 ft.

Reasons: Within 2000 ft. of flammable or explosive material

Arkansas

3 Buildings

Little Rock

Little Rock AR

Landholding Agency: Air Force

Property Number: 18201610020

Status: Underutilized

Directions: B-222; B-1502; B-2905

Comments: public access denied and no alternative method to gain access without compromising national security.

Reasons: Secured Area

11 Buildings

Little Rock

Little Rock AR

Landholding Agency: Air Force

Property Number: 18201610022

Status: Unutilized

Directions: 1432; 1439; 1437; 1435; 1431; 1420; 1418; 1417; 1416; 1415; 1389

Comments: public access denied and no alternative method to gain access without compromising national security.

Reasons: Secured Area

Bldg. 1672

Fort Chaffee

Ft. Chaffee AR 72905-5000

Landholding Agency: Army

Property Number: 21199640466

Status: Unutilized

Directions:

Comments:

Reasons: Extensive deterioration

Bldg. 1682

Fort Chaffee

Ft. Chaffee AR 72905-5000

Landholding Agency: Army

Property Number: 21199640467

Status: Unutilized

Directions:

Comments:

Reasons: Extensive deterioration

Bldg. 1756

Fort Chaffee

Ft. Chaffee AR 72905-5000

Landholding Agency: Army

Property Number: 21199640468

Status: Unutilized

Directions:

Comments:

Reasons: Extensive deterioration

Bldg. 1786

Fort Chaffee

Ft. Chaffee AR 72905-5000

Landholding Agency: Army

Property Number: 21199640470

Status: Unutilized

Directions:

Comments:

Reasons: Extensive deterioration

Bldg. 2327

Fort Chaffee

Ft. Chaffee AR 72905-5000

Landholding Agency: Army

Property Number: 21199640475

Status: Unutilized

Directions:

Comments:

Reasons: Extensive deterioration

Bldg. 2425

Fort Chaffee

Ft. Chaffee AR 72905-5000

Landholding Agency: Army

Property Number: 21199640476

Status: Unutilized

Directions:

Comments:

Reasons: Extensive deterioration

11 Bldgs.

Ft. Chaffee Maneuver Training Center

Ft. Chaffee AR 72905-1370

Landholding Agency: Army

Property Number: 21200110001

Status: Unutilized

GSA Number:

Directions: 1300, 1304, 1307, 1308, 1311, 1363, 1431, 1434, 1534, 1546, Demo 2

Reasons: Extensive deterioration

17 Bldgs.

Ft. Chaffee Maneuver Training Center

Ft. Chaffee AR 72905-1370

Landholding Agency: Army

Property Number: 21200110002

Status: Unutilized

GSA Number:

Directions: 1301, 1302, 1303, 1305, 1306, 1309, 1310, 1360, 1505, 1529, 1537, 1543, 1577, 1581, 1700, 1711, Demo 1

Reasons: Extensive deterioration

Bldg. 1326

Ft. Chaffee Maneuver Training Center

Ft. Chaffee AR 72905-1370

Landholding Agency: Army

Property Number: 21200110003

Status: Unutilized

GSA Number:

Reasons: Extensive deterioration

7 Bldgs.

Ft. Chaffee Maneuver Training Center

Ft. Chaffee AR 72905-1370

Landholding Agency: Army

Property Number: 21200110005

Status: Unutilized

GSA Number:

Directions: 1449, 1528, 1591, 1592, 1593, 1596, 1735

Reasons: Extensive deterioration

4 Bldgs.

Ft. Chaffee Maneuver Training Center

Ft. Chaffee AR 72905-1370

Landholding Agency: Army

Property Number: 21200110006

Status: Unutilized

GSA Number:

Directions: 1571, 1703, 1758, 1760

Reasons: Extensive deterioration

Bldgs. 1692, 1693

Ft. Chaffee Maneuver Training Center

Ft. Chaffee AR 72905-1370

Landholding Agency: Army

Property Number: 21200110007

Status: Unutilized

GSA Number:

Reasons: Extensive deterioration

Bldgs. 1707, Demo 3

Ft. Chaffee Maneuver Training Center

Ft. Chaffee AR 72905-1370

Landholding Agency: Army

Property Number: 21200110008

Status: Unutilized

GSA Number:

Reasons: Extensive deterioration

7 Bldgs.

Ft. Chaffee Maneuver Training Center

Ft. Chaffee AR 72905-1370

Landholding Agency: Army

Property Number: 21200110009

Status: Unutilized

GSA Number:

Directions: 1749-1754, 1551

Reasons: Extensive deterioration

Bldgs. 2040, 2041

Ft. Chaffee Maneuver Training Center

Ft. Chaffee AR 72905-1370

Landholding Agency: Army

Property Number: 21200110010

Status: Unutilized

GSA Number:

Reasons: Extensive deterioration

Bldg. 2208

Ft. Chaffee Maneuver Training Center

Ft. Chaffee AR 72905-1370

Landholding Agency: Army

Property Number: 21200110012

Status: Unutilized

GSA Number:

Reasons: Extensive deterioration

Bldg. 2421

Ft. Chaffee Maneuver Training Center

Ft. Chaffee AR 72905-1370

Landholding Agency: Army

Property Number: 21200110014

Status: Unutilized

GSA Number:

Reasons: Extensive deterioration

Bldg. 3850

Ft. Chaffee Maneuver Training Center

Ft. Chaffee AR 72905-1370

Landholding Agency: Army

Property Number: 21200110016

Status: Unutilized

GSA Number:

Reasons: Extensive deterioration

Bldg. 1336

Fort Chaffee

Ft. Chaffee AR 72905-1370

Landholding Agency: Army

Property Number: 21200140011

Status: Unutilized

GSA Number:

Reasons: Extensive deterioration

Bldg. 1759

Fort Chaffee

Ft. Chaffee AR 72905-1370

Landholding Agency: Army

Property Number: 21200140012

Status: Unutilized

GSA Number:

Reasons: Extensive deterioration

Bldgs. 2513, 2515

Fort Chaffee

Ft. Chaffee AR 72905-1370

Landholding Agency: Army

Property Number: 21200140014

Status: Unutilized

GSA Number:

Reasons: Extensive deterioration

16340

Fleming Drive

Pine Bluff Arsenal AR 71602

Landholding Agency: Army

Property Number: 21201540035

Status: Unutilized

Comments: public access denied and no alternative method to gain access without compromising national security.

Reasons: Secured Area

11 Buildings

Pine Bluff Arsenal

Pine Bluff AR 71602

Landholding Agency: Army

Property Number: 21201610006

Status: Unutilized

Directions: #60090; 60520; 34160; 60070; 32130; 32140; 32150; 60060; 64251; 64351; 34985

Comments: public access denied and no alternative method to gain access without compromising national security.

Reasons: Secured Area

3 Buildings

Pine Bluff Arsenal

Pine Bluff AR 71602

Landholding Agency: Army

Property Number: 21201610049

Status: Unutilized

Directions: Building #85131, 83611,81020

Comments: public access denied and no alternative method to gain access without compromising national security.

Reasons: Secured Area

California

Building 64

Fort MacArthur

San Pedro CA

Landholding Agency: Air Force

Property Number: 18201530037

Status: Underutilized

Comments: flammable/explosion material are located on adjacent industrial, commercial, or Federal facility. Public access denied and no alternative method to gain access without compromising national security.

Reasons: Secured Area; Within 2000 ft. of flammable or explosive material

Bldg. 18

Riverbank Army Ammunition Plant

5300 Claus Road

Riverbank CA 95367

Landholding Agency: Army

Property Number: 21199012554

Status: Unutilized

Directions:

Comments:

Reasons: Secured Area; Within 2000 ft. of flammable or explosive material

Bldg. 2

Riverbank Army Ammunition Plant

5300 Claus Road

Riverbank CA 95367

Landholding Agency: Army

Property Number: 21199013582

Status: Underutilized

Directions:

Comments:

Reasons: Secured Area

Bldg. 3

Riverbank Army Ammunition Plant

5300 Claus Road

Riverbank CA 95367

Landholding Agency: Army

Property Number: 21199013583

Status: Underutilized

Directions:

Comments:

Reasons: Secured Area

Bldg. 5

Riverbank Army Ammunition Plant

5300 Claus Road

Riverbank CA 95367

Landholding Agency: Army

Property Number: 21199013585

Status: Underutilized

Directions:

Comments:

Reasons: Secured Area

Bldg. 6

Riverbank Army Ammunition Plant

5300 Claus Road

Riverbank CA 95367

Landholding Agency: Army

Property Number: 21199013586

Status: Underutilized

Directions:

Comments:

Reasons: Secured Area

Bldg. 7

Riverbank Army Ammunition Plant

5300 Claus Road

Riverbank CA 95367

Landholding Agency: Army

Property Number: 21199013587

Status: Underutilized

Directions:

Comments:

Reasons: Secured Area

Bldg. 8

Riverbank Army Ammunition Plant

5300 Claus Road

Riverbank CA 95367

Landholding Agency: Army

Property Number: 21199013588

Status: Underutilized

Directions:

Comments:

Reasons: Secured Area

Bldg. 13 Riverbank Ammun Plant

5300 Claus Road

Riverbank CA 95367

Landholding Agency: Army

Property Number: 21199120162

Status: Underutilized

Directions:

Comments:

Reasons: Secured Area

Bldg. 171 Riverbank Ammun Plant

5300 Claus Road

Riverbank CA 95367

Landholding Agency: Army

Property Number: 21199120163

Status: Underutilized

Directions:

Comments:

Reasons: Secured Area

Bldg. 178 Riverbank Ammun Plant

5300 Claus Road

Riverbank CA 95367

Landholding Agency: Army

Property Number: 21199120164

Status: Underutilized

Directions:

Comments:

Reasons: Secured Area

Bldg. 120

Riverbank Army Ammunition Plant

Riverbank CA 95367

Landholding Agency: Army

Property Number: 21199240445

Status: Underutilized

Directions:

Comments:

Reasons: Secured Area

Bldg. 181

Riverbank Army Ammunition Plant

Riverbank CA 95367

Landholding Agency: Army

Property Number: 21199240446

Status: Underutilized

Directions:

Comments:

Reasons: Secured Area

Building S-45

DDRW Sharpe Facility

Lathrop CA 95331

Landholding Agency: Army

Property Number: 21199610289

Status: Unutilized

Directions:

Comments:

Reasons: Secured Area

Bldgs. 18013, 18030

Camp Roberts

Camp Roberts CA

Landholding Agency: Army

Property Number: 21199730014

Status: Excess

Directions:

Comments:

Reasons: Extensive deterioration

2 Div. HQ Bldgs.

Camp Roberts

Camp Roberts CA 93446

Landholding Agency: Army

Property Number: 21199820205

Status: Unutilized

Directions:

Comments:

Reasons: Secured Area; Extensive deterioration

Clorinator Bldg.

Camp Roberts

Camp Roberts CA 93446

Landholding Agency: Army

Property Number: 21199820217

Status: Unutilized

Directions:

Comments:

Reasons: Secured Area; Extensive deterioration

Scale House

Camp Roberts

Camp Roberts CA 93446

Landholding Agency: Army

Property Number: 21199820222

Status: Unutilized

Directions:

Comments:

Reasons: Extensive deterioration; Secured Area

Insect. Storage Fac.

Camp Roberts

Camp Roberts CA 93446

Landholding Agency: Army

Property Number: 21199820225

Status: Unutilized

Directions:

Comments:

Reasons: Extensive deterioration; Secured Area

Oil Storage Bldg.

Camp Roberts

Camp Roberts CA 93446

Landholding Agency: Army

Property Number: 21199820234

Status: Unutilized

Directions:

Comments:

Reasons: Extensive deterioration; Secured Area

Bldg. 576

Sierra Army Depot

Herlong CA 96113

Landholding Agency: Army

Property Number: 21199920033

Status: Unutilized

GSA Number:

Reasons: Within 2000 ft. of flammable or explosive material; Secured Area

Bldg. 578

Sierra Army Depot

Herlong CA 96113

Landholding Agency: Army

Property Number: 21199920034

Status: Unutilized

GSA Number:

Reasons: Secured Area; Within 2000 ft. of flammable or explosive material

Bldg. 597

Sierra Army Depot

Herlong CA 96113

Landholding Agency: Army

Property Number: 21199920035

Status: Unutilized

GSA Number:

Reasons: Within 2000 ft. of flammable or explosive material; Secured Area

Bldg. 598

Sierra Army Depot

Herlong CA 96113

Landholding Agency: Army

Property Number: 21199920036

Status: Unutilized

GSA Number:

Reasons: Within 2000 ft. of flammable or explosive material; Secured Area

Bldg. S-9

Sharpe Site

French Camp CA 95231

Landholding Agency: Army

Property Number: 21199930021

Status: Unutilized

GSA Number:

Reasons: Secured Area

24 Garages

Presidio of Monterey

Monterey CA 93944

Landholding Agency: Army

Property Number: 21199940051

Status: Unutilized

GSA Number:

Reasons: Extensive deterioration

Bldg. S-10

Sharpe Site

Lathrop CA 95231

Landholding Agency: Army

Property Number: 21200030005

Status: Unutilized

GSA Number:

Reasons: Secured Area

Bldg. S-11

Sharpe Site

Lathrop CA 95231

Landholding Agency: Army

Property Number: 21200030006

Status: Unutilized

GSA Number:

Reasons: Secured Area

Bldg. S-14

Sharpe Site

Lathrop CA 95231

Landholding Agency: Army

Property Number: 21200030007

Status: Unutilized

GSA Number:

Reasons: Secured Area

Bldg. S-380

Sharpe Site

Lathrop CA 95231

Landholding Agency: Army

Property Number: 21200030010

Status: Unutilized

GSA Number:

Reasons: Secured Area

Bldg. S-648

Sharpe Site

Lathrop CA 95231

Landholding Agency: Army

Property Number: 21200030012

Status: Unutilized

GSA Number:

Reasons: Secured Area

Bldg. S-654

Sharpe Site

Lathrop CA 95231

Landholding Agency: Army

Property Number: 21200030013

Status: Unutilized

GSA Number:

Reasons: Secured Area

Bldg. S-3A

Tracy Facility

Tracy CA 95376

Landholding Agency: Army

Property Number: 21200030015

Status: Unutilized

GSA Number:

Reasons: Secured Area

Bldg. S-508

Sharpe Site

Lathrop CA 95231

Landholding Agency: Army

Property Number: 21200040015

Status: Underutilized

GSA Number:

Reasons: Secured Area

Bldg. S-1

Sharpe Site

Lathrop CA 95231

Landholding Agency: Army

Property Number: 21200120029

Status: Unutilized

GSA Number:

Reasons: Secured Area

Bldg. S-2

Sharpe Site

Lathrop CA 95231

Landholding Agency: Army

Property Number: 21200120030

Status: Unutilized

GSA Number:

Reasons: Secured Area

Bldg. P-32

Sharpe Site

Lathrop CA 95231

Landholding Agency: Army

Property Number: 21200120031

Status: Unutilized

GSA Number:

Reasons: Secured Area

Bldg. S-42

Sharpe Site

Lathrop CA 95231

Landholding Agency: Army

Property Number: 21200120032

Status: Unutilized

GSA Number:

Reasons: Secured Area

Bldg. S-213

Sharpe Site

Lathrop CA 95231

Landholding Agency: Army

Property Number: 21200120034

Status: Unutilized

GSA Number:

Reasons: Secured Area

Bldg. P-217

Sharpe Site

Lathrop CA 95231

Landholding Agency: Army

Property Number: 21200120035

Status: Unutilized

GSA Number:

Reasons: Secured Area

Bldg. S-218

Sharpe Site

Lathrop CA 95231

Landholding Agency: Army

Property Number: 21200120036

Status: Unutilized

GSA Number:

Reasons: Secured Area

Bldg. S-288

Sharpe Site

Lathrop CA 95231

Landholding Agency: Army

Property Number: 21200120037

Status: Unutilized

GSA Number:

Reasons: Secured Area

Bldg. P-403

Sharpe Site

Lathrop CA 95231

Landholding Agency: Army

Property Number: 21200120038

Status: Unutilized

GSA Number:

Reasons: Secured Area

Bldg. P-405

Sharpe Site

Lathrop CA 95231

Landholding Agency: Army

Property Number: 21200120039

Status: Unutilized

GSA Number:

Reasons: Secured Area

Bldg. S-647

Sharpe Site

Lathrop CA 95231

Landholding Agency: Army

Property Number: 21200130004

Status: Unutilized

GSA Number:

Reasons: Extensive deterioration; Secured Area

Bldg. T-451

Fort Irwin

Ft. Irwin CA 92310

Landholding Agency: Army

Property Number: 21200210002

Status: Unutilized

GSA Number:

Reasons: Secured Area; Extensive deterioration

3 Bldgs.

DDJC Sharpe

S00004, 00006, 00012

Lathrop CA 95231

Landholding Agency: Army

Property Number: 21200240025

Status: Unutilized

GSA Number:

Reasons: Secured Area

Bldg. S00108

DDJC Sharpe

Lathrop CA 95231

Landholding Agency: Army

Property Number: 21200240026

Status: Unutilized

GSA Number:

Reasons: Secured Area

Bldgs. S00161, 00162

DDJC Sharpe

Lathrop CA 95231

Landholding Agency: Army

Property Number: 21200240027

Status: Unutilized

GSA Number:

Reasons: Secured Area

Bldg. S00221

DDJC Sharpe

Lathrop CA 95231

Landholding Agency: Army

Property Number: 21200240028

Status: Unutilized

GSA Number:

Reasons: Secured Area

Bldg. P00620

DDJC-Sharpe

Lathrop CA 95231

Landholding Agency: Army

Property Number: 21200330007

Status: Excess

GSA Number:

Reasons: Secured Area

Bldg. 00079

Riverbank Army Ammo Plant

Stanaslaus CA 95357-7241

Landholding Agency: Army

Property Number: 21200530003

Status: Excess

Reasons: Extensive deterioration

Bldgs. 00302, 00306, 00321

Camp Roberts

San Miguel CA 93451

Landholding Agency: Army

Property Number: 21200540008

Status: Unutilized

Reasons: Extensive deterioration

4 Bldgs.

Camp Roberts

00921, T0929, T2014, T0948

San Miguel CA 93451

Landholding Agency: Army

Property Number: 21200540009

Status: Unutilized

Reasons: Extensive deterioration

Bldgs. T1003, T1008

Camp Roberts

San Miguel CA 93451

Landholding Agency: Army

Property Number: 21200540010

Status: Unutilized

Reasons: Extensive deterioration

Bldgs. T1121, T1221, T3014

Camp Roberts

San Miguel CA 93451

Landholding Agency: Army

Property Number: 21200540012

Status: Unutilized

Reasons: Extensive deterioration

54 Bldgs.

Camp Roberts

San Miguel CA 93451

Landholding Agency: Army

Property Number: 21200540014

Status: Unutilized

Directions: T1202-T1209, T1212-T1219, T1302, T3102-T3109, T3112-T3119, T3302-T3309, T3312-T3316, T6102-T6107, T6308-T6309

Reasons: Extensive deterioration

4 Bldgs.

Camp Roberts

San Miguel CA 93451

Landholding Agency: Army

Property Number: 21200540015

Status: Unutilized

Directions: T1222, T1223, T1225, T1226

Reasons: Extensive deterioration

8 Bldgs.

Camp Roberts

San Miguel CA 93451

Landholding Agency: Army

Property Number: 21200540021

Status: Unutilized

Directions: 03121, 03122, 03124-03125, T1122, T1123, T1125-T1126

Reasons: Extensive deterioration

Bldgs. T3321, T3322, T3324

Camp Roberts

San Miguel CA 93451

Landholding Agency: Army

Property Number: 21200540022

Status: Unutilized

Reasons: Extensive deterioration

Bldg. T3325

Camp Roberts

San Miguel CA 93451

Landholding Agency: Army

Property Number: 21200540023

Status: Unutilized

Reasons: Extensive deterioration

Bldgs. 06409, T6411

Camp Roberts

San Miguel CA 93451

Landholding Agency: Army

Property Number: 21200540027

Status: Unutilized

Reasons: Extensive deterioration

Bldg. 07006

Camp Roberts

San Miguel CA 93451

Landholding Agency: Army

Property Number: 21200540028

Status: Unutilized

Reasons: Extensive deterioration

Bldg. 27110

Camp Roberts

San Miguel CA 93451

Landholding Agency: Army

Property Number: 21200540030

Status: Unutilized

Reasons: Extensive deterioration

Bldg. 76910

Camp Roberts

San Miguel CA 93451

Landholding Agency: Army

Property Number: 21200540031

Status: Unutilized

Reasons: Extensive deterioration

Bldgs. 00548, 00549, 00550

March AFRC

Riverside CA 92518

Landholding Agency: Army

Property Number: 21200710001

Status: Unutilized

Reasons: Extensive deterioration

Bldg. 00117

Riverbank AAP

Stanislaus CA 95367

Landholding Agency: Army

Property Number: 21200840009

Status: Excess

Reasons: Secured Area; Extensive deterioration

Bldgs. 00040, 00412

SHARPE

Lathrop CA 95231

Landholding Agency: Army

Property Number: 21200920031

Status: Underutilized

Reasons: Secured Area

Bldg. 00005

Los Alamitos Joint Force

Training Base

Orange CA 90720

Landholding Agency: Army

Property Number: 21200940023

Status: Excess

Reasons: Extensive deterioration

13 Bldgs.

Fort Irwin

San Bernardino CA 92310

Landholding Agency: Army

Property Number: 21201040003

Status: Unutilized

Directions: 100, 338, 343, 385, 411, 412, 413, 486, 489, 490, 491, 493, 5006

Reasons: Secured Area

4 Bldgs.

JFTB

Los Alanitos CA 90720

Landholding Agency: Army

Property Number: 21201110046

Status: Excess

Directions: 00147, 00207, 00259, 00297

Reasons: Extensive deterioration

Bldg. 00023

Sierra Army Depot

Herlong CA

Landholding Agency: Army

Property Number: 21201120054

Status: Unutilized

Reasons: Secured Area

2 Bldgs

Sierra Army Depot

Herlong CA 96113

Landholding Agency: Army

Property Number: 21201140076

Status: Unutilized

Directions: 00349, 00587

Reasons: Secured Area; Contamination; Extensive deterioration

Bldg 00203

4th Street, Sierra Army Depot

Herlong CA 96113

Landholding Agency: Army

Property Number: 21201140077

Status: Unutilized

Reasons: Contamination; Secured Area

13 Building

Sierra Army Depot

Herlong CA 96113

Landholding Agency: Army

Property Number: 21201240032

Status: Unutilized

Directions: 10, 20, 54, 141, 202, 227, 633, 634, 639, 640, 641, 642, 643

Comments: located in a secured area, public access is denied and no alternative method to gain access without compromising national security.

Reasons: Secured Area

Building 179

Sharpe Site

Lathrop CA 95231

Landholding Agency: Army

Property Number: 21201330072

Status: Unutilized

Directions: 179

Comments: public access denied and no alternative method to sain access w/out compromising nat'l security.

Reasons: Secured Area

Building 178

Defense Distribution San Joaquin, Sharpe Site

700 E Roth Road

San Joaquin CA 95231

Landholding Agency: Army

Property Number: 21201340024

Status: Unutilized

Directions: 178

Comments: public access denied and no alternative method to gain access without compromising national security.

Reasons: Secured Area

3 Buildings

Sierra Army Depot

Herlong CA 96113

Landholding Agency: Army

Property Number: 21201520023

Status: Unutilized

Directions: Buildings 00502, 00503, 00504

Comments: public access denied and no alternative method to gain access without compromising national security.

Reasons: Secured Area

Building 275

275 7th Division Road

Fort Hunter Liggett CA 93928

Landholding Agency: Army

Property Number: 21201520027

Status: Unutilized

Comments: public access denied and no alternative method to gain access without compromising national security.

Reasons: Secured Area

10 Buildings

Military Ocean Terminal Concord

Concord CA 94520

Landholding Agency: Army

Property Number: 21201530033

Status: Unutilized

Directions: Building's 0E103-RPUID:960149, 0E101-960148, 00A32-959952, 00A29-959951, 00A17-959945, 00A16-959944, 00A14-1039400, 00A11-1039401, 00A10-959942, 00407-959923

Comments: public access denied and no alternative method to gain access without compromising national security.

Reasons: Secured Area

Building 00083

Sierra Army Depot

Herlong CA 96113

Landholding Agency: Army

Property Number: 21201530034

Status: Underutilized

Directions: RPUID:200781

Comments: public access denied and no alternative method to gain access without compromising national security.

Reasons: Secured Area

4 Buildings

Sierra Army Depot

Herlong CA 96113

Landholding Agency: Army

Property Number: 21201530035

Status: Unutilized

Directions: 536-RPUID:7277536, 129-197360, 00577-202547, 679-203542

Comments: public access denied and no alternative method to gain access without compromising national security.

Reasons: Secured Area

2 Buildings

Sierra Army Depot

Herlong CA 96113

Landholding Agency: Army

Property Number: 21201530036

Status: Excess

Directions: Building 00187-RPUID:197384, 00183-197382

Comments: public access denied and no alternative method to gain access without compromising national security.

Reasons: Secured Area

Building 01265

Sierra Army Depot

Herlong CA 96113

Landholding Agency: Army

Property Number: 21201530057

Status: Unutilized

Comments: public access denied and no alternative method to gain access without compromising National Security.

Reasons: Secured Area

2 Buildings

Sierra Army Depot

Herlong CA 96113

Landholding Agency: Army

Property Number: 21201530086

Status: Unutilized

Directions: 02105 RPUID:203564; 02106 RPUID:203565

Comments: public access denied and no alternative method to gain access without compromising national security.

Reasons: Secured Area

2 Buildings

Sierra Army Depot

Herlong CA 96113

Landholding Agency: Army

Property Number: 21201530097

Status: Unutilized

Directions: 02105 (203564); 012106 (203565)

Comments: public access denied and no alternative method to gain access w/out compromising national security.

Reasons: Secured Area

Colorado

Bldg. T-317

Rocky Mountain Arsenal

Commerce CO 80022-2180

Landholding Agency: Army

Property Number: 21199320013

Status: Unutilized

Directions:

Comments:

Reasons: Within 2000 ft. of flammable or explosive material; Secured Area

Bldg. T-412

Rocky Mountain Arsenal

Commerce CO 80022-2180

Landholding Agency: Army

Property Number: 21199320014

Status: Unutilized

Directions:

Comments:

Reasons: Secured Area; Other—Extensive deterioration; Within 2000 ft. of flammable or explosive material

4 Bldgs.

Fort Carson

56231, 56232, 56234, 56250

El Paso CO 80913

Landholding Agency: Army

Property Number: 21200720003

Status: Unutilized

Reasons: Secured Area

Building 00593

45825 Hay 96 East

Pueblo CO 81006

Landholding Agency: Army

Property Number: 21201320006

Status: Underutilized

Comments: public access denied & no alter. method w/out compromising nat'l sec.

Reasons: Secured Area

4 Buildings

Fort Carson

Fort Carson CO 80913

Landholding Agency: Army

Property Number: 21201520016

Status: Underutilized

Directions: Buildings 01669, 00221, 00210, 00207

Comments: public access denied and no alternative method to gain access without compromising national security.

Reasons: Secured Area

2 Buildings

Fort Carson

Fort Carson CO 80913

Landholding Agency: Army

Property Number: 21201520017

Status: Unutilized

Directions: Building 00812, 0209A

Comments: public access denied and no alternative method to gain access without compromising national security.

Reasons: Secured Area

7 Buildings

Fort Carson

Fort Carson CO 80902

Landholding Agency: Army

Property Number: 21201540018

Status: Unutilized

Directions: 5557 (RPUID:591785); 5559 (RPUID:596873); 5561 (RPUID:601301); 5563 (RPUID:577607); 5565 (RPUID:593788); 5567 (RPUID:591786); 5569 (RPUID:591787)

Comments: (property located within floodway which has not been correct or contained)

Reasons: Floodway

8 Buildings

Fort Carson

Ft. Carson CO 80902

Landholding Agency: Army

Property Number: 21201540019

Status: Unutilized

Directions: 5540 (RPUID:610022); 5541 (RPUID:586846); 5542 (RPUID:616626); 5543 (RPUID:598076); 5544(RPUID:567013); 5545 (RPUID:596871); 5546 (RPUID:593098); 5547(RPUID:616627); 5549 (RPUID:616627); 5551 (RPUID:596872); 5553 (RPUID:606097); 5555 (RPUID:606639)

Comments: (property located within floodway which has not been correct or contained)

Reasons: Floodway

Building 00318

Fort Carson

Fort Carson CO 80913

Landholding Agency: Army

Property Number: 21201610025

Status: Unutilized

Comments: public access denied and no alternative method to gain access without compromising national security.

Reasons: Secured Area

Florida

Building 685

964 Rescue Road

Patrick AFB FL 32925

Landholding Agency: Air Force

Property Number: 18201610015

Status: Unutilized

Comments: public access denied and no alternative method to gain access without compromising national security; property located within an airport runway clear zone or military airfield.

Reasons: Secured Area

Georgia

Facility 20

135 Beale Drive

Robins AFB GA 31098

Landholding Agency: Air Force

Property Number: 18201530033

Status: Unutilized

Comments: property located within floodway which has not been correct or contained; public access denied and no alternative method to gain access without compromising national security.

Reasons: Floodway; Secured Area

Facility 7525

Robins AFB

Robins AFB GA 31098

Landholding Agency: Air Force

Property Number: 18201610024

Status: Unutilized

Comments: public access denied and no alternative method to gain access without compromising national security.

Reasons: Secured Area

Facility 21

Robins AFB

Robins AFB GA

Landholding Agency: Air Force

Property Number: 18201610026

Status: Unutilized

Comments: public access denied and no alternative method to gain access without compromising national security.

Reasons: Secured Area

Savannah HHIAP, Facility 1907

XDQU; 1401 Robert b. Miller Dr.

Garden City GA 31048

Landholding Agency: Air Force

Property Number: 18201620002

Status: Underutilized

Comments: public access denied and no alternative method to gain access without compromising national security.

Reasons: Secured Area

Fort Stewart

Sewage Treatment Plant

Ft. Stewart GA 31314

Landholding Agency: Army

Property Number: 21199013922

Status: Unutilized

Directions:

Comments:

Reasons: Other—sewage treatment

Bldg. 308, Fort Gillem

null

Ft. Gillem GA 30050-5000

Landholding Agency: Army

Property Number: 21199620815

Status: Unutilized

Directions:

Comments:

Reasons: Secured Area; Extensive deterioration

Bldg. P8121

Fort Stewart

Ft. Stewart GA 31314-3913

Landholding Agency: Army

Property Number: 21199940060

Status: Excess

GSA Number:

Reasons: Extensive deterioration

Bldg. 00933

Fort Gillem

Ft. Gillem GA 30050-5233

Landholding Agency: Army

Property Number: 21200220011

Status: Unutilized

GSA Number:

Reasons: Extensive deterioration

Bldg. 00934

Fort Gillem

Ft. Gillem GA 30050-5233

Landholding Agency: Army

Property Number: 21200220012

Status: Unutilized

GSA Number:

Reasons: Extensive deterioration

Bldg. 00111

Fort Gillem

Ft. Gillem GA 30050-5101

Landholding Agency: Army

Property Number: 21200340013

Status: Unutilized

GSA Number:

Reasons: Extensive deterioration

Bldg. 00116

Fort Gillem

Ft. Gillem GA 30050-5101

Landholding Agency: Army

Property Number: 21200340014

Status: Unutilized

GSA Number:

Reasons: Extensive deterioration

Bldg. 00226

Fort Gillem

Ft. Gillem GA 30050-5101

Landholding Agency: Army

Property Number: 21200340015

Status: Unutilized

GSA Number:

Reasons: Extensive deterioration

Bldgs. 00733, 00753

Fort Gillem

Ft. Gillem GA 30050-5101

Landholding Agency: Army

Property Number: 21200340016

Status: Unutilized

GSA Number:

Reasons: Extensive deterioration

Bldg. 404

Fort Gillem

Forest Park GA 30297

Landholding Agency: Army

Property Number: 21200420075

Status: Unutilized

Reasons: Extensive deterioration

Bldg. 00813

Fort Gillem

Forest Park GA 30297

Landholding Agency: Army

Property Number: 21200420076

Status: Unutilized

Reasons: Extensive deterioration

Bldg. 00814

Fort Gillem

Forest Park GA 30297

Landholding Agency: Army

Property Number: 21200420077

Status: Unutilized

Reasons: Extensive deterioration

Bldg. 00817

Fort Gillem

Forest Park GA 30297

Landholding Agency: Army

Property Number: 21200420078

Status: Unutilized

Reasons: Extensive deterioration

Bldg. 00819

Fort Gillem

Forest Park GA 30297

Landholding Agency: Army

Property Number: 21200420080

Status: Unutilized

Reasons: Extensive deterioration

Bldg. 00822

Fort Gillem

Forest Park GA 30297

Landholding Agency: Army

Property Number: 21200420082

Status: Unutilized

Reasons: Extensive deterioration

Bldg. 00022

Fort Stewart

Hinesville GA 31314

Landholding Agency: Army

Property Number: 21200710005

Status: Excess

Reasons: Extensive deterioration

Bldgs. 01001, 01080, 0113

Fort Stewart

Hinesville GA 31314

Landholding Agency: Army

Property Number: 21200710006

Status: Excess

Reasons: Extensive deterioration

Bldgs. 02110, 02111

Fort Stewart

Hinesville GA 31314

Landholding Agency: Army

Property Number: 21200710007

Status: Excess

Reasons: Extensive deterioration

Bldgs. 07703, 07783

Fort Stewart

Hinesville GA 31314

Landholding Agency: Army

Property Number: 21200710008

Status: Excess

Reasons: Extensive deterioration

Bldgs. 08061, 08091

Fort Stewart

Hinesville GA 31314

Landholding Agency: Army

Property Number: 21200710009

Status: Excess

Reasons: Extensive deterioration

Bldg. 08053

Hunter Army Airfield

Savannah GA 31409

Landholding Agency: Army

Property Number: 21200710010

Status: Excess

Reasons: Extensive deterioration

Bldgs. 00205, 01016, 01567

Fort Stewart

Hinesville GA 31314

Landholding Agency: Army

Property Number: 21200720011

Status: Excess

Reasons: Extensive deterioration

Bldgs. 00129, 00145

Hunter Army Airfield

Savannah GA 31409

Landholding Agency: Army

Property Number: 21200720012

Status: Excess

Reasons: Extensive deterioration

Bldgs. 00956, 00958, 00966

Fort Stewart

Hinesville GA 31314

Landholding Agency: Army

Property Number: 21200740007

Status: Excess

Reasons: Extensive deterioration

Bldg. 00930

Hunter Army Airfield

Savannah GA 31409

Landholding Agency: Army

Property Number: 21200740117

Status: Excess

Reasons: Extensive deterioration

Bldgs. 01241, 01246

Hunter Army Airfield

Savannah GA 31409

Landholding Agency: Army

Property Number: 21200740118

Status: Excess

Reasons: Extensive deterioration

Bldg. 06052

Hunter Army Airfield

Savannah GA 31409

Landholding Agency: Army

Property Number: 21200740119

Status: Excess

Reasons: Extensive deterioration

Bldgs. 00957, 01001

Fort Stewart

Hinesville GA 31314

Landholding Agency: Army

Property Number: 21200740123

Status: Excess

Reasons: Extensive deterioration

Bldgs. 01013, 01014, 01016

Fort Stewart

Hinesville GA 31314

Landholding Agency: Army

Property Number: 21200740124

Status: Excess

Reasons: Extensive deterioration

Bldgs. 01080, 07337, 15016

Fort Stewart

Hinesville GA 31314

Landholding Agency: Army

Property Number: 21200740125

Status: Excess

Reasons: Extensive deterioration

Bldg. 00902

Fort Gillem

Forest Park GA

Landholding Agency: Army

Property Number: 21200810003

Status: Unutilized

Reasons: Secured Area

Bldg. 00816

Hunter Army Airfield

Savannah GA 31409

Landholding Agency: Army

Property Number: 21200820065

Status: Excess

Reasons: Extensive deterioration

Bldg. 00021

Fort Stewart

Hinesville GA 31314

Landholding Agency: Army

Property Number: 21200820066

Status: Excess

Reasons: Extensive deterioration

Bldgs. 00705, 00706, 00803

Hunter Army Airfield

Chatham GA 31409

Landholding Agency: Army

Property Number: 21200920012

Status: Excess

Reasons: Secured Area

5 Bldgs.

Fort Stewart

Liberty GA 31314

Landholding Agency: Army

Property Number: 21200920013

Status: Excess

Directions: 00270, 00272, 00276, 00277, 00616, 00718

Reasons: Secured Area

Bldgs. 728, 729

Fort Stewart

Liberty GA 31314

Landholding Agency: Army

Property Number: 21200920034

Status: Excess

Reasons: Secured Area

7 Bldgs.

Fort Stewart

Liberty GA 31314

Landholding Agency: Army

Property Number: 21200940025

Status: Excess

Directions: 918, 1076, 1103, 1268, 7803, 7804, 7805

Reasons: Extensive deterioration

Bldgs. 240, 701, 719

Hunter Army Airfield

Savannah GA 31409

Landholding Agency: Army

Property Number: 21200940026

Status: Excess

Reasons: Extensive deterioration

Bldg. 815

Hunter Army Airfield

Savannah GA 31409

Landholding Agency: Army

Property Number: 21201030008

Status: Excess

Reasons: Secured Area

Bldg. 1257

Fort Stewart

Hinesville GA 31314

Landholding Agency: Army

Property Number: 21201030009

Status: Excess

Reasons: Extensive deterioration

Bldg. 08708

Hunter Army Airfield

Savannah GA

Landholding Agency: Army

Property Number: 21201120050

Status: Excess

Reasons: Extensive deterioration

Bldg. 08711

Hunter Army Airfield

Savannah GA

Landholding Agency: Army

Property Number: 21201120051

Status: Excess

Reasons: Extensive deterioration

Bldg. 08712

Hunter Army Airfield

Savannah GA

Landholding Agency: Army

Property Number: 21201120052

Status: Excess

Reasons: Extensive deterioration

2 Buildings

Ft. Bragg

FT. Bragg GA 28310

Landholding Agency: Army

Property Number: 21201530016

Status: Unutilized

Directions: 42101 (RPUID: 297832); 83846 (RPUID: 289837)

Comments: public access denied and no alternative method to gain access without compromising National Security.

Reasons: Secured Area

Hawaii

PU-01, 02, 03, 04, 05

Schofield Barracks

Kolekole Pass Road

Wahiawa HI 96786

Landholding Agency: Army

Property Number: 21199014836

Status: Unutilized

Directions:

Comments:

Reasons: Secured Area

PU-06,07,08,09,10,11

Schofield Barracks

Kolekole Pass Road

Wahiawa HI 96786

Landholding Agency: Army

Property Number: 21199014837

Status: Unutilized

Directions:

Comments:

Reasons: Secured Area

71 Tunnels

Aliamanu

Honolulu HI 96818

Landholding Agency: Army

Property Number: 21200440015

Status: Unutilized

Reasons: Other—contamination

10 Tunnels

Aliamanu

Honolulu HI 96818

Landholding Agency: Army

Property Number: 21200440016

Status: Unutilized

Reasons: Other—contamination

49 Tunnels

Aliamanu

Honolulu HI 96818

Landholding Agency: Army

Property Number: 21200440017

Status: Unutilized

Reasons: Other—contamination

Bldgs. 01500 thru 01503

Wheeler Army Airfield

Honolulu HI 96786

Landholding Agency: Army

Property Number: 21200520008

Status: Unutilized

Reasons: Extensive deterioration

10 Bldgs.

Aliamanu

Honolulu HI 96818

Landholding Agency: Army

Property Number: 21200620005

Status: Unutilized

Directions: 9, A0043, A0044, C0001, C0002, C0003, C0004, C0005, C0029, E0027

Reasons: Secured Area

Bldgs. 1124, 1125

Schofield Barracks

Wahiawa HI 96786

Landholding Agency: Army

Property Number: 21200620009

Status: Unutilized

Reasons: Extensive deterioration

Bldg. 00182

Kalaeloa

Kapolei HI

Landholding Agency: Army

Property Number: 21200640108

Status: Unutilized

Reasons: Extensive deterioration

Bldgs. 01676, 01677

Kalaeloa

Kapolei HI 96707

Landholding Agency: Army

Property Number: 21200640110

Status: Unutilized

Reasons: Extensive deterioration

Bldgs. 01818, 01875

Kalaeloa

Kapolei HI 96707

Landholding Agency: Army

Property Number: 21200640111

Status: Unutilized

Reasons: Extensive deterioration

Bldg. 01954

Kalaeloa

Kapolei HI 96707

Landholding Agency: Army

Property Number: 21200640112

Status: Unutilized

Reasons: Extensive deterioration

Bldg. 75073

Wheeler Army Airfield

Wahiawa HI 96786

Landholding Agency: Army

Property Number: 21201030011

Status: Unutilized

Reasons: Within airport runway clear zone

6 Bldgs.

Schofield Barracks

Wahiawa HI 96786

Landholding Agency: Army

Property Number: 21201110020

Status: Unutilized

Reasons: Extensive deterioration

Bldg. 01070

Wheeler Army Airfield

Denny Rd

Wahiawa HI 96786

Landholding Agency: Army

Property Number: 21201110021

Status: Unutilized

Directions: Between Denny Rd & wastewater treatment plant on Wheeler Army Airfield

Reasons: Extensive deterioration; Within airport runway clear zone

Bldg. 224

124 Danis Road

Wahiawa HI 96857

Landholding Agency: Army

Property Number: 21201120101

Status: Unutilized

Reasons: Secured Area; Within airport runway clear zone

7 Bldgs.

91-1227 Enterprise Ave

Kalaeloa

Kapolei HI 96707

Landholding Agency: Army

Property Number: 21201140046

Status: Unutilized

Directions: 01676, 01677, 01818, 01875, 01954, 00537, 00182

Reasons: Extensive deterioration; Secured Area

Bldg 01537

124 Takata Road

Honolulu HI 96819

Landholding Agency: Army

Property Number: 21201140075

Status: Unutilized

Reasons: Extensive deterioration; Secured Area

Idaho

Bldg 00253

4097 W. Cessna St.

Gowen Field 16A20

Boise ID 83705

Landholding Agency: Army

Property Number: 21201140068

Status: Excess

Reasons: Extensive deterioration; Secured Area

Illinois

Bldgs. T-20, T-21, T-23

Charles Melvin Price Support Center

Granite City IL 62040

Landholding Agency: Army

Property Number: 21199820027

Status: Underutilized

Directions:

Comments:

Reasons: Secured Area; Floodway

Bldg. T-105

Charles Melvin Price Support Center

Granite City IL 62040

Landholding Agency: Army

Property Number: 21199930042

Status: Unutilized

GSA Number:

Reasons: Secured Area; Within 2000 ft. of flammable or explosive material; Floodway

Bldg. T-108

Charles Melvin Price Support Center

Granite City IL 62040

Landholding Agency: Army

Property Number: 21199930043

Status: Unutilized

GSA Number:

Reasons: Secured Area; Within 2000 ft. of flammable or explosive material; Floodway

Bldg. T-401

Charles Melvin Price Support Center

Granite City IL 62040

Landholding Agency: Army

Property Number: 21199930045

Status: Unutilized

GSA Number:

Reasons: Secured Area; Floodway; Within 2000 ft. of flammable or explosive material

Bldg. T-402

Charles Melvin Price Support Center

Granite City IL 62040

Landholding Agency: Army

Property Number: 21199930046

Status: Unutilized

GSA Number:

Reasons: Floodway; Secured Area; Within 2000 ft. of flammable or explosive material

Bldg. T-404

Charles Melvin Price Support Center

Granite City IL 62040

Landholding Agency: Army

Property Number: 21199930047

Status: Unutilized

GSA Number:

Reasons: Secured Area; Within 2000 ft. of flammable or explosive material; Floodway

Bldg. T-413

Charles Melvin Price Support Center

Granite City IL 62040

Landholding Agency: Army

Property Number: 21199930048

Status: Unutilized

GSA Number:

Reasons: Secured Area; Floodway; Within 2000 ft. of flammable or explosive material

Bldg. T-416

Charles Melvin Price Support Center

Granite City IL 62040

Landholding Agency: Army

Property Number: 21199930049

Status: Unutilized

GSA Number:

Reasons: Floodway; Within 2000 ft. of flammable or explosive material; Secured Area

Bldg. S-434

Charles Melvin Price Support Center

Granite City IL 62040

Landholding Agency: Army

Property Number: 21199930050

Status: Unutilized

GSA Number:

Reasons: Floodway; Secured Area; Within 2000 ft. of flammable or explosive material

Bldg. S-593

Charles Melvin Price Support Center

Granite City IL 62040

Landholding Agency: Army

Property Number: 21199930051

Status: Unutilized

GSA Number:

Reasons: Secured Area; Floodway

Bldg. S-594

Charles Melvin Price Support Center

Granite City IL 62040

Landholding Agency: Army

Property Number: 21199930052

Status: Unutilized

GSA Number:

Reasons: Floodway; Secured Area

Bldg. S-595

Charles Melvin Price Support Center

Granite City IL 62040

Landholding Agency: Army

Property Number: 21199930053

Status: Unutilized

GSA Number:

Reasons: Floodway; Secured Area

2 Buildings

Peoria AASF #3

Peoria IL 61607

Landholding Agency: Army

Property Number: 21201610003

Status: Unutilized

Directions: Building 00003 & 00020

Comments: public access denied and no alternative method to gain access without compromising national security; property located within an airport runway clear zone or military airfield.

Reasons: Secured Area

4 Buildings

Rock Island Arsenal

Rock Island IL 61299

Landholding Agency: Army

Property Number: 21201610009

Status: Underutilized

Directions: 94 RPUID:612402; 100 RPUID:621314; 98 RPUID:591307; 97 RPUID:591861

Comments: public access denied and no alternative method to gain access without compromising national security.

Reasons: Secured Area

19 Buildings

Rock Island Arsenal

Rock Island Arsenal IL 61299

Landholding Agency: Army

Property Number: 21201610043

Status: Underutilized

Directions: Building's #99G01, 98G03, 100G2, 97G02, 99G02, 100G1, 99G03, 99, 98G01, 96G02, 98G02, 94G02, 94G01, 97G01, 96G01, 95, 96, 95G01, 95G02

Comments: public access denied and no alternative method to gain access without compromising national security.

Reasons: Secured Area

Building 98G02

1612/98G02 Walker Ct.

Rock Island IL 61299

Landholding Agency: Army

Property Number: 21201610063

Status: Underutilized

Directions: RPUID:366349

Comments: public access denied and no alternative method to gain access without compromising national security.

Reasons: Secured Area

Indiana

Building 31

181 IW, 8001 Reinoehl Rd.

Terre Haute IN 47803

Landholding Agency: Air Force

Property Number: 18201620001

Status: Unutilized

Comments: public access denied and no alternative method to gain access without compromising national security.

Reasons: Secured Area

Bldg. 1417-51

Newport Army Ammunition Plant

Newport IN 47966

Landholding Agency: Army

Property Number: 21199011640

Status: Unutilized

Directions:

Comments:

Reasons: Secured Area

Fuel Station

Atterbury Reserve Forces Training Area

Edinburgh IN 46124-1096

Landholding Agency: Army

Property Number: 21199230030

Status: Unutilized

Directions:

Comments:

Reasons: Extensive deterioration

Post Exchange

Atterbury Reserve Forces Training Area

Edinburgh IN 46124-1096

Landholding Agency: Army

Property Number: 21199230031

Status: Unutilized

Directions:

Comments:

Reasons: Extensive deterioration

2 Buildings

3008 Hospital Rd.

Edinburgh IN 46124

Landholding Agency: Army

Property Number: 21201320002

Status: Unutilized

Directions: 00126 & 00331

Comments: located in secured area; public access denied & no alternative method to gain access w/out compromising nat'l security.

Reasons: Secured Area

Building 00400

3008 Hospital Road (Camp Atterbury)

Edinburgh IN 46124

Landholding Agency: Army

Property Number: 21201330034

Status: Underutilized

Comments: public access denied & no alternative to gain access w/out compromising nat'l security.

Reasons: Secured Area

00435

Camp Atterbury

Edinburgh IN 46124

Landholding Agency: Army

Property Number: 21201530003

Status: Unutilized

Comments: public access denied and no alternative method to gain access without compromising National Security.

Reasons: Secured Area

Building AR009

1LT Charles L. Waples USARC

Anderson IN 46016

Landholding Agency: Army

Property Number: 21201540047

Status: Unutilized

Comments: documented deficiencies: structurally unsound; clear threat to physical safety.

Reasons: Extensive deterioration

Building AR033

1LT Charles L. Waples USARC

Anderson IN 46016

Landholding Agency: Army

Property Number: 21201540048

Status: Unutilized

Comments: documented deficiencies: structurally unsound; clear threat to physical safety.

Reasons: Extensive deterioration

Iowa

Bldg. 5B-137-1

Iowa Army Ammunition Plant

Middletown IA 52638

Landholding Agency: Army

Property Number: 21199012605

Status: Unutilized

Directions:

Comments:

Reasons: Within 2000 ft. of flammable or explosive material; Secured Area

Bldg. 5B-137-2

Iowa Army Ammunition Plant

Middletown IA 52638

Landholding Agency: Army

Property Number: 21199012607

Status: Unutilized

Directions:

Comments:

Reasons: Within 2000 ft. of flammable or explosive material; Secured Area

Bldg. 600-52

Iowa Army Ammunition Plant

Middletown IA 52638

Landholding Agency: Army

Property Number: 21199012609

Status: Unutilized

Directions:

Comments:

Reasons: Within 2000 ft. of flammable or explosive material; Secured Area

Bldg. 6-137-3

Iowa Army Ammunition Plant

Middletown IA 52638

Landholding Agency: Army

Property Number: 21199012611

Status: Unutilized

Directions:

Comments:

Reasons: Within 2000 ft. of flammable or explosive material; Secured Area

Bldg. 30-137-2

Iowa Army Ammunition Plant

Middletown IA 52638

Landholding Agency: Army

Property Number: 21199012613

Status: Unutilized

Directions:

Comments:

Reasons: Secured Area; Within 2000 ft. of flammable or explosive material

Bldg. 1-129

Iowa Army Ammunition Plant

Middletown IA 52638

Landholding Agency: Army

Property Number: 21199012620

Status: Unutilized

Directions:

Comments:

Reasons: Secured Area; Within 2000 ft. of flammable or explosive material

Bldg. 1-78

Iowa Army Ammunition Plant

Middletown IA 52638

Landholding Agency: Army

Property Number: 21199012624

Status: Unutilized

Directions:

Comments:

Reasons: Secured Area; Within 2000 ft. of flammable or explosive material

Bldg. 600-85

Iowa Army Ammunition Plant

Middletown IA

Landholding Agency: Army

Property Number: 21199013706

Status: Unutilized

Directions:

Comments:

Reasons: Secured Area

Bldg. 800-70-2

Iowa Army Ammunition Plant

Middletown IA

Landholding Agency: Army

Property Number: 21199013708

Status: Underutilized

Directions:

Comments:

Reasons: Secured Area

Bldg. 5B-03-3

Iowa Army Ammunition Plant

Middletown IA

Landholding Agency: Army

Property Number: 21199013712

Status: Unutilized

Directions:

Comments:

Reasons: Secured Area

Bldg. 5B-09-1

Iowa Army Ammunition Plant

Middletown IA

Landholding Agency: Army

Property Number: 21199013713

Status: Unutilized

Directions:

Comments:

Reasons: Secured Area

Bldg. 5B-25

Iowa Army Ammunition Plant

Middletown IA

Landholding Agency: Army

Property Number: 21199013715

Status: Unutilized

Directions:

Comments:

Reasons: Secured Area

Bldg. 5B-26

Iowa Army Ammunition Plant

Middletown IA

Landholding Agency: Army

Property Number: 21199013716

Status: Unutilized

Directions:

Comments:

Reasons: Secured Area

Bldg. 5B-27

Iowa Army Ammunition Plant

Middletown IA

Landholding Agency: Army

Property Number: 21199013717

Status: Unutilized

Directions:

Comments:

Reasons: Secured Area

Bldg. 5B-28

Iowa Army Ammunition Plant

Middletown IA

Landholding Agency: Army

Property Number: 21199013718

Status: Unutilized

Directions:

Comments:

Reasons: Secured Area

Bldg. 5B-55

Iowa Army Ammunition Plant

Middletown IA

Landholding Agency: Army

Property Number: 21199013720

Status: Unutilized

Directions:

Comments:

Reasons: Secured Area

Bldg. 5B-56

Iowa Army Ammunition Plant

Middletown IA

Landholding Agency: Army

Property Number: 21199013721

Status: Unutilized

Directions:

Comments:

Reasons: Secured Area

Bldg. 6-98

Iowa Army Ammunition Plant

Middletown IA

Landholding Agency: Army

Property Number: 21199013722

Status: Unutilized

Directions:

Comments:

Reasons: Secured Area

Bldg. 6-28

Iowa Army Ammunition Plant

Middletown IA

Landholding Agency: Army

Property Number: 21199013723

Status: Unutilized

Directions:

Comments:

Reasons: Secured Area

Bldg. 6-33

Iowa Army Ammunition Plant

Middletown IA

Landholding Agency: Army

Property Number: 21199013724

Status: Unutilized

Directions:

Comments:

Reasons: Secured Area

Bldg. 6-34

Iowa Army Ammunition Plant

Middletown IA

Landholding Agency: Army

Property Number: 21199013725

Status: Unutilized

Directions:

Comments:

Reasons: Secured Area

Bldg. 6-69-6

Iowa Army Ammunition Plant

Middletown IA

Landholding Agency: Army

Property Number: 21199013727

Status: Unutilized

Directions:

Comments:

Reasons: Secured Area

Bldg. 6-88

Iowa Army Ammunition Plant

Middletown IA

Landholding Agency: Army

Property Number: 21199013728

Status: Unutilized

Directions:

Comments:

Reasons: Secured Area

Bldg. 6-09-1

Iowa Army Ammunition Plant

Middletown IA

Landholding Agency: Army

Property Number: 21199013730

Status: Unutilized

Directions:

Comments:

Reasons: Secured Area

Bldg. 1-08-1A

Iowa Army Ammunition Plant

Middletown IA

Landholding Agency: Army

Property Number: 21199013733

Status: Unutilized

Directions:

Comments:

Reasons: Secured Area

Bldg. 1-60

Iowa Army Ammunition Plant

Middletown IA

Landholding Agency: Army

Property Number: 21199013734

Status: Unutilized

Directions:

Comments:

Reasons: Secured Area

Bldg. 1-67-2E

Iowa Army Ammunition Plant

Middletown IA

Landholding Agency: Army

Property Number: 21199013736

Status: Unutilized

Directions:

Comments:

Reasons: Secured Area

Bldg. 1-207-1

Iowa Army Ammunition Plant

Middletown IA

Landholding Agency: Army

Property Number: 21199013738

Status: Unutilized

Directions:

Comments:

Reasons: Secured Area

Bldg. 5A-137-2

Iowa Army Ammunition Plant

Middletown IA 52638

Landholding Agency: Army

Property Number: 21199120173

Status: Unutilized

Directions:

Comments:

Reasons: Within 2000 ft. of flammable or explosive material; Secured Area

Bldg. 5A-137-3

Iowa Army Ammunition Plant

Middletown IA 52638

Landholding Agency: Army

Property Number: 21199120174

Status: Unutilized

Directions:

Comments:

Reasons: Within 2000 ft. of flammable or explosive material; Secured Area

Bldg. 1021

Iowa Army Ammunition Plant

Middletown IA 52638

Landholding Agency: Army

Property Number: 21199230024

Status: Unutilized

Directions:

Comments:

Reasons: Extensive deterioration

Bldg. 6-09-2

Iowa Army Ammunition Plant

Middletown IA 52638

Landholding Agency: Army

Property Number: 21199310017

Status: Excess

Directions:

Comments:

Reasons: Extensive deterioration

Bldg. A218

Iowa Army Ammunition Plant

Middletown IA 52638

Landholding Agency: Army

Property Number: 21199440112

Status: Excess

Directions:

Comments:

Reasons: Within 2000 ft. of flammable or explosive material

Bldg. 219

Iowa Army Ammunition Plant

Middletown IA 52638

Landholding Agency: Army

Property Number: 21199440113

Status: Excess

Directions:

Comments:

Reasons: Within 2000 ft. of flammable or explosive material

Bldg. 220

Iowa Army Ammunition Plant

Middletown IA 52638

Landholding Agency: Army

Property Number: 21199440114

Status: Excess

Directions:

Comments:

Reasons: Within 2000 ft. of flammable or explosive material

Bldg. 221

Iowa Army Ammunition Plant

Middletown IA 52638

Landholding Agency: Army

Property Number: 21199440115

Status: Unutilized

Directions:

Comments:

Reasons: Within 2000 ft. of flammable or explosive material

Bldg. 222

Iowa Army Ammunition Plant

Middletown IA 52638

Landholding Agency: Army

Property Number: 21199440116

Status: Excess

Directions:

Comments:

Reasons: Within 2000 ft. of flammable or explosive material

Bldg. 223

Iowa Army Ammunition Plant

Middletown IA 52638

Landholding Agency: Army

Property Number: 21199440117

Status: Excess

Directions:

Comments:

Reasons: Within 2000 ft. of flammable or explosive material

Bldg. 224

Iowa Army Ammunition Plant

Middletown IA 52638

Landholding Agency: Army

Property Number: 21199440118

Status: Excess

Directions:

Comments:

Reasons: Within 2000 ft. of flammable or explosive material

Bldg. 225

Iowa Army Ammunition Plant

Middletown IA 52638

Landholding Agency: Army

Property Number: 21199440119

Status: Excess

Directions:

Comments:

Reasons: Within 2000 ft. of flammable or explosive material

Bldg. 227

Iowa Army Ammunition Plant

Middletown IA 52638

Landholding Agency: Army

Property Number: 21199440121

Status: Excess

Directions:

Comments:

Reasons: Within 2000 ft. of flammable or explosive material

Bldg. 228

Iowa Army Ammunition Plant

Middletown IA 52638

Landholding Agency: Army

Property Number: 21199440122

Status: Excess

Directions:

Comments:

Reasons: Within 2000 ft. of flammable or explosive material

Bldg. 230

Iowa Army Ammunition Plant

Middletown IA 52638

Landholding Agency: Army

Property Number: 21199440123

Status: Excess

Directions:

Comments:

Reasons: Within 2000 ft. of flammable or explosive material

Bldg. 231

Iowa Army Ammunition Plant

Middletown IA 52638

Landholding Agency: Army

Property Number: 21199440124

Status: Excess

Directions:

Comments:

Reasons: Within 2000 ft. of flammable or explosive material

Bldg. CO231

Iowa Army Ammunition Plant

Middletown IA 52638

Landholding Agency: Army

Property Number: 21199440125

Status: Excess

Directions:

Comments:

Reasons: Within 2000 ft. of flammable or explosive material

Bldg. 233

Iowa Army Ammunition Plant

Middletown IA 52638

Landholding Agency: Army

Property Number: 21199440127

Status: Excess

Directions:

Comments:

Reasons: Within 2000 ft. of flammable or explosive material

Bldg. 234

Iowa Army Ammunition Plant

Middletown IA 52638

Landholding Agency: Army

Property Number: 21199440128

Status: Excess

Directions:

Comments:

Reasons: Within 2000 ft. of flammable or explosive material

Bldg. 235

Iowa Army Ammunition Plant

Middletown IA 52638

Landholding Agency: Army

Property Number: 21199440129

Status: Excess

Directions:

Comments:

Reasons: Within 2000 ft. of flammable or explosive material

Bldg. 236

Iowa Army Ammunition Plant

Middletown IA 52638

Landholding Agency: Army

Property Number: 21199440130

Status: Excess

Directions:

Comments:

Reasons: Within 2000 ft. of flammable or explosive material

Bldgs. 238-256

Iowa Army Ammunition Plant

Middletown IA 52638

Landholding Agency: Army

Property Number: 21199440131

Status: Excess

Directions:

Comments:

Reasons: Within 2000 ft. of flammable or explosive material

Bldg. 259

Iowa Army Ammunition Plant

Middletown IA 52638

Landholding Agency: Army

Property Number: 21199440133

Status: Excess

Directions:

Comments:

Reasons: Within 2000 ft. of flammable or explosive material

Bldg. A0260

Iowa Army Ammunition Plant

Middletown IA 52638

Landholding Agency: Army

Property Number: 21199440134

Status: Excess

Directions:

Comments:

Reasons: Within 2000 ft. of flammable or explosive material

Bldgs. 261-263

Iowa Army Ammunition Plant

Middletown IA 52638

Landholding Agency: Army

Property Number: 21199440135

Status: Excess

Directions:

Comments:

Reasons: Within 2000 ft. of flammable or explosive material

Bldgs. 264-266

Iowa Army Ammunition Plant

Middletown IA 52638

Landholding Agency: Army

Property Number: 21199440136

Status: Excess

Directions:

Comments:

Reasons: Within 2000 ft. of flammable or explosive material

Bldg. 267

Iowa Army Ammunition Plant

Middletown IA 52638

Landholding Agency: Army

Property Number: 21199440137

Status: Excess

Directions:

Comments:

Reasons: Within 2000 ft. of flammable or explosive material

Bldg. 276

Iowa Army Ammunition Plant

Middletown IA 52638

Landholding Agency: Army

Property Number: 21199440138

Status: Excess

Directions:

Comments:

Reasons: Within 2000 ft. of flammable or explosive material

Bldg. 280

Iowa Army Ammunition Plant

Middletown IA 52638

Landholding Agency: Army

Property Number: 21199440139

Status: Excess

Directions:

Comments:

Reasons: Within 2000 ft. of flammable or explosive material

Bldg. 284

Iowa Army Ammunition Plant

Middletown IA 52638

Landholding Agency: Army

Property Number: 21199440140

Status: Excess

Directions:

Comments:

Reasons: Within 2000 ft. of flammable or explosive material

Bldg. 285

Iowa Army Ammunition Plant

Middletown IA 52638

Landholding Agency: Army

Property Number: 21199440141

Status: Excess

Directions:

Comments:

Reasons: Within 2000 ft. of flammable or explosive material

Bldg. 312

Iowa Army Ammunition Plant

Middletown IA 52638

Landholding Agency: Army

Property Number: 21199440142

Status: Excess

Directions:

Comments:

Reasons: Within 2000 ft. of flammable or explosive material

Bldg. 313

Iowa Army Ammunition Plant

Middletown IA 52638

Landholding Agency: Army

Property Number: 21199440143

Status: Excess

Directions:

Comments:

Reasons: Within 2000 ft. of flammable or explosive material

Bldg. 317

Iowa Army Ammunition Plant

Middletown IA 52638

Landholding Agency: Army

Property Number: 21199440144

Status: Excess

Directions:

Comments:

Reasons: Within 2000 ft. of flammable or explosive material

Bldg. 743

Iowa Army Ammunition Plant

Middletown IA 52638

Landholding Agency: Army

Property Number: 21199440145

Status: Excess

Directions:

Comments:

Reasons: Within 2000 ft. of flammable or explosive material

Bldg. 745

Iowa Army Ammunition Plant

Middletown IA 52638

Landholding Agency: Army

Property Number: 21199440146

Status: Excess

Directions:

Comments:

Reasons: Within 2000 ft. of flammable or explosive material

Bldgs. 973-990

Iowa Army Ammunition Plant

Middletown IA 52638

Landholding Agency: Army

Property Number: 21199440147

Status: Excess

Directions:

Comments:

Reasons: Within 2000 ft. of flammable or explosive material

Bldg. 992

Iowa Army Ammunition Plant

Middletown IA 52638

Landholding Agency: Army

Property Number: 21199440148

Status: Excess

Directions:

Comments:

Reasons: Within 2000 ft. of flammable or explosive material

Bldgs. 994-995

Iowa Army Ammunition Plant

Middletown IA 52638

Landholding Agency: Army

Property Number: 21199440149

Status: Excess

Directions:

Comments:

Reasons: Within 2000 ft. of flammable or explosive material

Bldgs. 998-1005

Iowa Army Ammunition Plant

Middletown IA 52638

Landholding Agency: Army

Property Number: 21199440150

Status: Excess

Directions:

Comments:

Reasons: Within 2000 ft. of flammable or explosive material

Bldg. 1008

Iowa Army Ammunition Plant

Middletown IA 52638

Landholding Agency: Army

Property Number: 21199440151

Status: Excess

Directions:

Comments:

Reasons: Within 2000 ft. of flammable or explosive material

Bldgs. 1010-1018

Iowa Army Ammunition Plant

Middletown IA 52638

Landholding Agency: Army

Property Number: 21199440152

Status: Excess

Directions:

Comments:

Reasons: Within 2000 ft. of flammable or explosive material

Bldg. 1040

Iowa Army Ammunition Plant

Middletown IA 52638

Landholding Agency: Army

Property Number: 21199440154

Status: Excess

Directions:

Comments:

Reasons: Within 2000 ft. of flammable or explosive material

Bldg. 1064

Iowa Army Ammunition Plant

Middletown IA 52638

Landholding Agency: Army

Property Number: 21199440155

Status: Excess

Directions:

Comments:

Reasons: Within 2000 ft. of flammable or explosive material

Bldg. 1088

Iowa Army Ammunition Plant

Middletown IA 52638

Landholding Agency: Army

Property Number: 21199440157

Status: Excess

Directions:

Comments:

Reasons: Within 2000 ft. of flammable or explosive material

Bldg. 5390

Iowa Army Ammunition Plant

Middletown IA 52638

Landholding Agency: Army

Property Number: 21199440158

Status: Excess

Directions:

Comments:

Reasons: Within 2000 ft. of flammable or explosive material

Bldgs. 27, 340

Iowa Army Ammunition Plant

Middletown IA 52638

Landholding Agency: Army

Property Number: 21199520002

Status: Unutilized

Directions:

Comments:

Reasons: Within 2000 ft. of flammable or explosive material

Bldg. 237

Iowa Army Ammunition Plant

Middletown IA 52638

Landholding Agency: Army

Property Number: 21199520070

Status: Surplus

Directions:

Comments:

Reasons: Within 2000 ft. of flammable or explosive material

Bldg. 500-128

Iowa Army Ammunition Plant

Middletown IA 52638

Landholding Agency: Army

Property Number: 21199740027

Status: Unutilized

Directions:

Comments:

Reasons: Secured Area

Bldg. 01075

Iowa AAP

Middletown IA 52638

Landholding Agency: Army

Property Number: 21200220022

Status: Underutilized

GSA Number:

Reasons: Extensive deterioration; Within 2000 ft. of flammable or explosive material

Bldg. 00310

Iowa AAP

Middletown IA 52638

Landholding Agency: Army

Property Number: 21200230019

Status: Unutilized

GSA Number:

Reasons: Secured Area; Within 2000 ft. of flammable or explosive material

Bldg. 00887

Iowa AAP

Middletown IA 52638

Landholding Agency: Army

Property Number: 21200230020

Status: Unutilized

GSA Number:

Reasons: Secured Area; Within 2000 ft. of flammable or explosive material

Bldgs. 00912, 00913

Iowa AAP

Middletown IA 52638

Landholding Agency: Army

Property Number: 21200230021

Status: Unutilized

GSA Number:

Reasons: Within 2000 ft. of flammable or explosive material; Secured Area

Bldg. 01059

Iowa AAP

Middletown IA 52638

Landholding Agency: Army

Property Number: 21200230023

Status: Unutilized

GSA Number:

Reasons: Secured Area; Within 2000 ft. of flammable or explosive material

Bldg. 00765

Iowa Army Ammo Plant

Middletown IA 52638

Landholding Agency: Army

Property Number: 21200330012

Status: Unutilized

GSA Number:

Reasons: Within 2000 ft. of flammable or explosive material; Secured Area

Bldg. 05274

Iowa Army Ammo Plant

Middletown IA 52638

Landholding Agency: Army

Property Number: 21200330013

Status: Unutilized

GSA Number:

Reasons: Secured Area; Within 2000 ft. of flammable or explosive material

Bldg. 05325

Iowa Army Ammo Plant

Middletown IA 52638

Landholding Agency: Army

Property Number: 21200330014

Status: Unutilized

GSA Number:

Reasons: Secured Area; Within 2000 ft. of flammable or explosive material

Bldg. 01073

Iowa Army Ammo Plant

Middletown IA 52638

Landholding Agency: Army

Property Number: 21200420083

Status: Unutilized

Reasons: Secured Area

Bldgs. 01072, 01074

Iowa AAP

Middletown IA 52638

Landholding Agency: Army

Property Number: 21200430018

Status: Unutilized

Reasons: Secured Area

Bldgs. 00677, 00671

Iowa Army Ammo Plant

Middletown IA 52601

Landholding Agency: Army

Property Number: 21200440018

Status: Excess

Reasons: Secured Area

Facility 00844

Iowa Army Ammo Plant

Middletown IA 52638

Landholding Agency: Army

Property Number: 21200510004

Status: Excess

Reasons: Extensive deterioration

Facilities 01025, 01026

Iowa Army Ammo Plant

Middletown IA 52638

Landholding Agency: Army

Property Number: 21200510006

Status: Excess

Reasons: Extensive deterioration

Bldg. 00700

Iowa Army Ammo Plant

Middletown IA 52601

Landholding Agency: Army

Property Number: 21200540038

Status: Unutilized

Reasons: Within 2000 ft. of flammable or explosive material; Extensive deterioration

Bldgs. 01091, 01092

Iowa Army Ammo Plant

Middletown IA 52601

Landholding Agency: Army

Property Number: 21200540039

Status: Unutilized

Reasons: Within 2000 ft. of flammable or explosive material; Extensive deterioration

Bldg. 01039

Iowa Army Ammo Plant

Middletown IA 52601

Landholding Agency: Army

Property Number: 21200620012

Status: Unutilized

Reasons: Secured Area; Within 2000 ft. of flammable or explosive material

Bldg. 00344

Iowa AAP

Middletown IA 52601

Landholding Agency: Army

Property Number: 21200710020

Status: Unutilized

Reasons: Secured Area; Within 2000 ft. of flammable or explosive material

4 Bldgs.

Iowa AAP

Middletown IA 52601

Landholding Agency: Army

Property Number: 21200710021

Status: Unutilized

Directions: 00903, 00993, 00996, 00997

Reasons: Within 2000 ft. of flammable or explosive material; Secured Area

4 Bldgs.

Iowa AAP

01000, 01006, 01007, 01009

Middletown IA 52601

Landholding Agency: Army

Property Number: 21200710022

Status: Unutilized

Reasons: Secured Area; Within 2000 ft. of flammable or explosive material

Bldg. 01063

Iowa AAP

Middletown IA 52601

Landholding Agency: Army

Property Number: 21200710023

Status: Unutilized

Reasons: Within 2000 ft. of flammable or explosive material; Secured Area

Bldg. 05366

Iowa AAP

Middletown IA 52601

Landholding Agency: Army

Property Number: 21200710024

Status: Unutilized

Reasons: Within 2000 ft. of flammable or explosive material; Secured Area

9 Bldgs.

Iowa Army Ammo Plant

Middletown IA 52601

Landholding Agency: Army

Property Number: 21200740126

Status: Unutilized

Directions: 00176, 00204, B0205, C0205, 00206, 00207, 00208, 00209, 00210

Reasons: Within 2000 ft. of flammable or explosive material; Secured Area

6 Bldgs.

Iowa Army Ammo Plant

Middletown IA 52601

Landholding Agency: Army

Property Number: 21200740127

Status: Unutilized

Directions: 00211, 00212, 00213, 00217, 00218, C0218

Reasons: Secured Area; Within 2000 ft. of flammable or explosive material

13 Bldgs.

Iowa Army Ammo Plant

Middletown IA 52601

Landholding Agency: Army

Property Number: 21200740128

Status: Unutilized

Directions: 00287, 00288, 00289, 00290, A0290, 00291, 00292, 00293, A0293, B0293, C0293, D0293, E0293

Reasons: Secured Area; Within 2000 ft. of flammable or explosive material

8 Bldgs.

Iowa Army Ammo Plant

Middletown IA 52601

Landholding Agency: Army

Property Number: 21200740129

Status: Unutilized

Directions: A0294, 00295, 00296, 00316, 00326, 00328, 00330 00341

Reasons: Secured Area; Within 2000 ft. of flammable or explosive material

11 Bldgs.

Iowa Army Ammo Plant

Middletown IA 52601

Landholding Agency: Army

Property Number: 21200740130

Status: Unutilized

Directions: 00949, 00962, 00963, 00964, 00965, 00967, 00968, 00969, 00970, 00971, 00972

Reasons: Secured Area; Within 2000 ft. of flammable or explosive material

9 Bldgs.

Iowa Army Ammo Plant

Middletown IA 52601

Landholding Agency: Army

Property Number: 21200740131

Status: Unutilized

Directions: 01028, 01029, 01030, 01031, 01032, 01033, 01035, 01036, 01037

Reasons: Within 2000 ft. of flammable or explosive material; Secured Area

7 Bldgs.

Iowa Army Ammo Plant

Middletown IA 52601

Landholding Agency: Army

Property Number: 21200740132

Status: Unutilized

Directions: 01038, B1038, C1038, D1038, E1038, 01042, 01043

Reasons: Within 2000 ft. of flammable or explosive material; Secured Area

Bldgs. 00013, C0847

Iowa Army Ammo Plant

Middletown IA 52601

Landholding Agency: Army

Property Number: 21200810008

Status: Unutilized

Reasons: Secured Area; Within 2000 ft. of flammable or explosive material

Bldgs. TD010, TD020

Camp Dodge

Johnson IA 50131

Landholding Agency: Army

Property Number: 21200920036

Status: Excess

Reasons: Extensive deterioration

Bldgs. A0190, 00190, 01069

Iowa AAP

Middletown IA 52601

Landholding Agency: Army

Property Number: 21201040007

Status: Unutilized

Reasons: Within 2000 ft. of flammable or explosive material; Secured Area; Extensive deterioration

Bldg 01110, Iowa Army Ammo

17575 State Highway 79

Middletown IA 52601

Landholding Agency: Army

Property Number: 21201120005

Status: Unutilized

Reasons: Secured Area; Not accessible by road; Within 2000 ft. of flammable or explosive material; Extensive deterioration

10 Buildings

Iowa Army Ammunition Plant

Middletown IA 52638

Landholding Agency: Army

Property Number: 21201230019

Status: Underutilized

Directions: 620, 626, 641, 642, 643, 644, 645, 646, 647, 5207

Comments: public access denied & no alternative method to gain access w/out comprising nat'l security.

Reasons: Secured Area

4 Buildings

Iwa Army Ammunition Plant

Middletown IA 52601

Landholding Agency: Army

Property Number: 21201340034

Status: Unutilized

Directions: 0023A, 00128, 00153, 05213

Comments: public access denied and no alternative method to gain access without compromising national security.

Reasons: Secured Area

9 Buildings

Iowa Army Ammunition Plant

17575 Highway 79

Middletown IA 52601

Landholding Agency: Army

Property Number: 21201420031

Status: Unutilized

Directions: 00028; 00029; 00030; 00031; 00033; 00918; 00920; 05026; 05072

Comments: public access denied and no alternative method to gain access without compromising national security.

Reasons: Secured Area

Kansas

Bldg. 3013 KAAP

Kansas Army Ammunition Plant

Production Area

Parsons KS 67357

Landholding Agency: Army

Property Number: 21199011909

Status: Unutilized

Directions:

Comments:

Reasons: Secured Area

Bldg. 1066 KAAP

Kansas Army Ammunition Plant

Production Area

Parsons KS 67357

Landholding Agency: Army

Property Number: 21199011911

Status: Unutilized

Directions:

Comments:

Reasons: Secured Area

Bldg. 507 KAAP

Kansas Army Ammunition Plant

Production Area

Parsons KS 67357

Landholding Agency: Army

Property Number: 21199011912

Status: Unutilized

Directions:

Comments:

Reasons: Within 2000 ft. of flammable or explosive material; Secured Area

Bldg. 502 KAAP

Kansas Army Ammunition Plant

Production Area

Parsons KS 67357

Landholding Agency: Army

Property Number: 21199011913

Status: Unutilized

Directions:

Comments:

Reasons: Within 2000 ft. of flammable or explosive material; Secured Area

Bldg. 805 KAAP

Kansas Army Ammunition Plant

Production Ara

Parsons KS 67357

Landholding Agency: Army

Property Number: 21199011915

Status: Unutilized

Directions:

Comments:

Reasons: Secured Area; Within 2000 ft. of flammable or explosive material

Bldg. 810 KAAP

Kansas Army Ammunition Plant

Production Area

Parsons KS 67357

Landholding Agency: Army

Property Number: 21199011916

Status: Unutilized

Directions:

Comments:

Reasons: Within 2000 ft. of flammable or explosive material; Secured Area

Bldg. 811 KAAP

Kansas Army Ammunition Plant

Production Area

Parsons KS 67357

Landholding Agency: Army

Property Number: 21199011917

Status: Unutilized

Directions:

Comments:

Reasons: Secured Area; Within 2000 ft. of flammable or explosive material

Bldg. 1013 KAAP

Kansas Army Ammunition Plant

Production Area

Parsons KS 67357

Landholding Agency: Army

Property Number: 21199011918

Status: Unutilized

Directions:

Comments:

Reasons: Within 2000 ft. of flammable or explosive material; Secured Area

Bldg. 806 KAAP

Kansas Army Ammunition Plant

Production Area

Parsons KS 67357

Landholding Agency: Army

Property Number: 21199011919

Status: Unutilized

Directions:

Comments:

Reasons: Within 2000 ft. of flammable or explosive material; Secured Area

Bldg. 807 KAAP

Kansas Army Ammunition Plant

Production Area

Parsons KS 67357

Landholding Agency: Army

Property Number: 21199011920

Status: Unutilized

Directions:

Comments:

Reasons: Secured Area; Within 2000 ft. of flammable or explosive material

Bldg. 914 KAAP

Kansas Army Ammunition Plant

Production Area

Parsons KS 67357

Landholding Agency: Army

Property Number: 21199011921

Status: Unutilized

Directions:

Comments:

Reasons: Secured Area; Within 2000 ft. of flammable or explosive material

Bldg. 926 KAAP

Kansas Army Ammunition Plant

Production Area

Parsons KS 67357

Landholding Agency: Army

Property Number: 21199011922

Status: Unutilized

Directions:

Comments:

Reasons: Secured Area; Within 2000 ft. of flammable or explosive material

Bldg. 1021 KAAP

Kansas Army Ammunition Plant

Production Area

Parsons KS 67357

Landholding Agency: Army

Property Number: 21199011923

Status: Unutilized

Directions:

Comments:

Reasons: Within 2000 ft. of flammable or explosive material; Secured Area

Bldg. 1078 KAAP

Kansas Army Ammunition Plant

Production Area

Parsons KS 67357

Landholding Agency: Army

Property Number: 21199011924

Status: Unutilized

Directions:

Comments:

Reasons: Within 2000 ft. of flammable or explosive material; Secured Area

Bldg. 540 KAAP

Kansas Army Ammunition Plant

Production Area

Parsons KS 67357

Landholding Agency: Army

Property Number: 21199011925

Status: Unutilized

Directions:

Comments:

Reasons: Within 2000 ft. of flammable or explosive material; Secured Area

Bldg. 541 KAAP

Kansas Army Ammunition Plant

Production Area

Parsons KS 67357

Landholding Agency: Army

Property Number: 21199011926

Status: Unutilized

Directions:

Comments:

Reasons: Secured Area; Within 2000 ft. of flammable or explosive material

Bldg. 922 KAAP

Kansas Army Ammunition Plant

Production Area

Parsons KS 67357

Landholding Agency: Army

Property Number: 21199011927

Status: Unutilized

Directions:

Comments:

Reasons: Secured Area; Within 2000 ft. of flammable or explosive material

Bldg. 928 KAAP

Kansas Army Ammunition Plant

Production Area

Parsons KS 67357

Landholding Agency: Army

Property Number: 21199011929

Status: Unutilized

Directions:

Comments:

Reasons: Within 2000 ft. of flammable or explosive material; Secured Area

Bldg. 985 KAAP

Kansas Army Ammunition Plant

Production Area

Parsons KS 67357

Landholding Agency: Army

Property Number: 21199011930

Status: Unutilized

Directions:

Comments:

Reasons: Within 2000 ft. of flammable or explosive material; Secured Area

Bldg. 1096 KAAP

Kansas Army Ammunition Plant

Production Ara

Parsons KS 67357

Landholding Agency: Army

Property Number: 21199011931

Status: Unutilized

Directions:

Comments:

Reasons: Within 2000 ft. of flammable or explosive material; Secured Area

Bldg. 511 KAAP

Kansas Army Ammunition Plant

Production Ara

Parsons KS 67357

Landholding Agency: Army

Property Number: 21199011932

Status: Unutilized

Directions:

Comments:

Reasons: Within 2000 ft. of flammable or explosive material; Secured Area

Bldg. 814 KAAP

Kansas Army Ammunition Plant

Production Area

Parsons KS 67357

Landholding Agency: Army

Property Number: 21199011933

Status: Unutilized

Directions:

Comments:

Reasons: Within 2000 ft. of flammable or explosive material; Secured Area

Bldg. 909 KAAP

Kansas Army Ammunition Plant

Production Area

Parsons KS 67357

Landholding Agency: Army

Property Number: 21199011934

Status: Unutilized

Directions:

Comments:

Reasons: Within 2000 ft. of flammable or explosive material; Secured Area

Bldg. 719 KAAP

Kansas Army Ammunition Plant

Production Area

Parsons KS 67357

Landholding Agency: Army

Property Number: 21199011935

Status: Unutilized

Directions:

Comments:

Reasons: Within 2000 ft. of flammable or explosive material; Secured Area

Bldg. 918 KAAP

Kansas Army Ammunition Plant

Production Area

Parsons KS 67357

Landholding Agency: Army

Property Number: 21199011936

Status: Unutilized

Directions:

Comments:

Reasons: Within 2000 ft. of flammable or explosive material; Secured Area

Bldg. 1014 KAAP

Kansas Army Ammunition Plant

Production Area

Parsons KS 67357

Landholding Agency: Army

Property Number: 21199011937

Status: Unutilized

Directions:

Comments:

Reasons: Secured Area; Within 2000 ft. of flammable or explosive material

Bldg. 1015 KAAP

Kansas Army Ammunition Plant

Production Area

Parsons KS 67357

Landholding Agency: Army

Property Number: 21199011938

Status: Unutilized

Directions:

Comments:

Reasons: Within 2000 ft. of flammable or explosive material; Secured Area

Bldg. 932 KAAP

Kansas Army Ammunition Plant

Production Ara

Parsons KS 67357

Landholding Agency: Army

Property Number: 21199011939

Status: Unutilized

Directions:

Comments:

Reasons: Within 2000 ft. of flammable or explosive material; Secured Area

Bldg. 933 KAAP

Kansas Army Ammunition Plant

Production Area

Parsons KS 67357

Landholding Agency: Army

Property Number: 21199011940

Status: Unutilized

Directions:

Comments:

Reasons: Within 2000 ft. of flammable or explosive material; Secured Area

Bldg. 934 KAAP

Kansas Army Ammunition Plant

Production Area

Parsons KS 67357

Landholding Agency: Army

Property Number: 21199011941

Status: Unutilized

Directions:

Comments:

Reasons: Secured Area; Within 2000 ft. of flammable or explosive material

Bldg. 809 KAAP

Kansas Army Ammunition Plant

Production Area

Parsons KS 67357

Landholding Agency: Army

Property Number: 21199011942

Status: Unutilized

Directions:

Comments:

Reasons: Secured Area; Within 2000 ft. of flammable or explosive material

Bldg. 816 KAAP

Kansas Army Ammunition Plant

Production Area

Parsons KS 67357

Landholding Agency: Army

Property Number: 21199011943

Status: Unutilized

Directions:

Comments:

Reasons: Secured Area; Within 2000 ft. of flammable or explosive material

Bldg. 3001 KAAP

Kansas Army Ammunition Plant

Production Area

Parsons KS 67357

Landholding Agency: Army

Property Number: 21199011944

Status: Unutilized

Directions:

Comments:

Reasons: Secured Area; Within 2000 ft. of flammable or explosive material

Bldg. 3002 KAAP

Kansas Army Ammunition Plant

Production Area

Parsons KS 67357

Landholding Agency: Army

Property Number: 21199011945

Status: Unutilized

Directions:

Comments:

Reasons: Within 2000 ft. of flammable or explosive material; Secured Area

Building 50

Kansas Army Ammunition Plant

Parsons KS 67357

Landholding Agency: Army

Property Number: 21199620518

Status: Unutilized

Directions:

Comments:

Reasons: Secured Area

Building 112

Kansas Army Ammunition Plant

Parsons KS 67357

Landholding Agency: Army

Property Number: 21199620519

Status: Unutilized

Directions:

Comments:

Reasons: Secured Area

Building 210

Kansas Army Ammunition Plant

Parsons KS 67357

Landholding Agency: Army

Property Number: 21199620520

Status: Unutilized

Directions:

Comments:

Reasons: Secured Area

Buildings 212, 221

Kansas Army Ammunition Plant

Parsons KS 67357

Landholding Agency: Army

Property Number: 21199620521

Status: Unutilized

Directions:

Comments:

Reasons: Secured Area

Building 219

Kansas Army Ammunition Plant

Parsons KS 67357

Landholding Agency: Army

Property Number: 21199620522

Status: Unutilized

Directions:

Comments:

Reasons: Secured Area

Buildings 209, 509, 724, 813,

Kansas Army Ammunition Plant

Parsons KS 67357

Landholding Agency: Army

Property Number: 21199620523

Status: Unutilized

Directions: 902, 1002

Comments:

Reasons: Secured Area

Buildings 231, 244

Kansas Army Ammunition Plant

Parsons KS 67357

Landholding Agency: Army

Property Number: 21199620524

Status: Unutilized

Directions:

Comments:

Reasons: Secured Area

Building 247

Kansas Army Ammunition Plant

Parsons KS 67357

Landholding Agency: Army

Property Number: 21199620526

Status: Unutilized

Directions:

Comments:

Reasons: Secured Area

Building 248, 252

Kansas Army Ammunition Plant

Parsons KS 67357

Landholding Agency: Army

Property Number: 21199620527

Status: Unutilized

Directions:

Comments:

Reasons: Secured Area

Building 302

Kansas Army Ammunition Plant

Parsons KS 67357

Landholding Agency: Army

Property Number: 21199620528

Status: Unutilized

Directions:

Comments:

Reasons: Secured Area

Building 304

Kansas Army Ammunition Plant

Parsons KS 67357

Landholding Agency: Army

Property Number: 21199620529

Status: Unutilized

Directions:

Comments:

Reasons: Secured Area

Building 305

Kansas Army Ammunition Plant

Parsons KS 67357

Landholding Agency: Army

Property Number: 21199620530

Status: Unutilized

Directions:

Comments:

Reasons: Secured Area

Building 306

Kansas Army Ammunition Plant

Parsons KS 67357

Landholding Agency: Army

Property Number: 21199620531

Status: Unutilized

Directions:

Comments:

Reasons: Secured Area

Building 308

Kansas Army Ammunition Plant

Parsons KS 67357

Landholding Agency: Army

Property Number: 21199620532

Status: Unutilized

Directions:

Comments:

Reasons: Secured Area

Building 311

Kansas Army Ammunition Plant

Parsons KS 67357

Landholding Agency: Army

Property Number: 21199620533

Status: Unutilized

Directions:

Comments:

Reasons: Secured Area

Building 312

Kansas Army Ammunition Plant

Parsons KS 67357

Landholding Agency: Army

Property Number: 21199620534

Status: Unutilized

Directions:

Comments:

Reasons: Secured Area

Building 315

Kansas Army Ammunition Plant

Parsons KS 67357

Landholding Agency: Army

Property Number: 21199620535

Status: Unutilized

Directions:

Comments:

Reasons: Secured Area

Building 316

Kansas Army Ammunition Plant

Parsons KS 67357

Landholding Agency: Army

Property Number: 21199620536

Status: Unutilized

Directions:

Comments:

Reasons: Secured Area

Building 321

Kansas Army Ammunition Plant

Parsons KS 67357

Landholding Agency: Army

Property Number: 21199620537

Status: Unutilized

Directions:

Comments:

Reasons: Secured Area

Building 324

Kansas Army Ammunition Plant

Parsons KS 67357

Landholding Agency: Army

Property Number: 21199620539

Status: Unutilized

Directions:

Comments:

Reasons: Secured Area

Building 325

Kansas Army Ammunition Plant

Parsons KS 67357

Landholding Agency: Army

Property Number: 21199620540

Status: Unutilized

Directions:

Comments:

Reasons: Secured Area

Building 326

Kansas Army Ammunition Plant

Parsons KS 67357

Landholding Agency: Army

Property Number: 21199620541

Status: Unutilized

Directions:

Comments:

Reasons: Secured Area

Building 327

Kansas Army Ammunition Plant

Parsons KS 67357

Landholding Agency: Army

Property Number: 21199620542

Status: Unutilized

Directions:

Comments:

Reasons: Secured Area

Building 328

Kansas Army Ammunition Plant

Parsons KS 67357

Landholding Agency: Army

Property Number: 21199620543

Status: Unutilized

Directions:

Comments:

Reasons: Secured Area

Building 503

Kansas Army Ammunition Plant

Parsons KS 67357

Landholding Agency: Army

Property Number: 21199620545

Status: Unutilized

Directions:

Comments:

Reasons: Secured Area

Buildings 504, 512

Kansas Army Ammunition Plant

Parsons KS 67357

Landholding Agency: Army

Property Number: 21199620546

Status: Unutilized

Directions:

Comments:

Reasons: Secured Area

Building 513

Kansas Army Ammunition Plant

Parsons KS 67357

Landholding Agency: Army

Property Number: 21199620548

Status: Unutilized

Directions:

Comments:

Reasons: Secured Area

Building 515

Kansas Army Ammunition Plant

Parsons KS 67357

Landholding Agency: Army

Property Number: 21199620549

Status: Unutilized

Directions:

Comments:

Reasons: Secured Area

Building 701

Kansas Army Ammunition Plant

Parsons KS 67357

Landholding Agency: Army

Property Number: 21199620550

Status: Unutilized

Directions:

Comments:

Reasons: Secured Area

Buildings 702, 704, 707, 709,

Kansas Army Ammunition Plant

Parsons KS 67357

Landholding Agency: Army

Property Number: 21199620551

Status: Unutilized

Directions: 711, 712, 727, 729, 735, 737, 738, 742, 743, 747

Comments:

Reasons: Secured Area

Buildings 705, 706,

Kansas Army Ammunition Plant

Parsons KS 67357

Landholding Agency: Army

Property Number: 21199620553

Status: Unutilized

Directions:

Comments:

Reasons: Secured Area

Buildings 715, 716, 717

Kansas Army Ammunition Plant

Parsons KS 67357

Landholding Agency: Army

Property Number: 21199620554

Status: Unutilized

Directions:

Comments:

Reasons: Secured Area

Building 722

Kansas Army Ammunition Plant

Parsons KS 67357

Landholding Agency: Army

Property Number: 21199620555

Status: Unutilized

Directions:

Comments:

Reasons: Secured Area

Building 723

Kansas Army Ammunition Plant

Parsons KS 67357

Landholding Agency: Army

Property Number: 21199620556

Status: Unutilized

Directions:

Comments:

Reasons: Secured Area

Building 725

Kansas Army Ammunition Plant

Parsons KS 67357

Landholding Agency: Army

Property Number: 21199620557

Status: Unutilized

Directions:

Comments:

Reasons: Secured Area

Building 726

Kansas Army Ammunition Plant

Parsons KS 67357

Landholding Agency: Army

Property Number: 21199620558

Status: Unutilized

Directions:

Comments:

Reasons: Secured Area

Building 741

Kansas Army Ammunition Plant

Parsons KS 67357

Landholding Agency: Army

Property Number: 21199620560

Status: Unutilized

Directions:

Comments:

Reasons: Secured Area

Building 744

Kansas Army Ammunition Plant

Parsons KS 67357

Landholding Agency: Army

Property Number: 21199620561

Status: Unutilized

Directions:

Comments:

Reasons: Secured Area

Building 745

Kansas Army Ammunition Plant

Parsons KS 67357

Landholding Agency: Army

Property Number: 21199620562

Status: Unutilized

Directions:

Comments:

Reasons: Secured Area

Building 749

Kansas Army Ammunition Plant

Parsons KS 67357

Landholding Agency: Army

Property Number: 21199620563

Status: Unutilized

Directions:

Comments:

Reasons: Secured Area

Building 750

Kansas Army Ammunition Plant

Parsons KS 67357

Landholding Agency: Army

Property Number: 21199620564

Status: Unutilized

Directions:

Comments:

Reasons: Secured Area

Building 782

Kansas Army Ammunition Plant

Parsons KS 67357

Landholding Agency: Army

Property Number: 21199620565

Status: Unutilized

Directions:

Comments:

Reasons: Secured Area

Buildings 802, 808

Kansas Army Ammunition Plant

Parsons KS 67357

Landholding Agency: Army

Property Number: 21199620566

Status: Unutilized

Directions:

Comments:

Reasons: Secured Area

Buildings 804

Kansas Army Ammunition Plant

Parsons KS 67357

Landholding Agency: Army

Property Number: 21199620567

Status: Unutilized

Directions:

Comments:

Reasons: Secured Area

Building 812

Kansas Army Ammunition Plant

Parsons KS 67357

Landholding Agency: Army

Property Number: 21199620568

Status: Unutilized

Directions:

Comments:

Reasons: Secured Area

Building 818

Kansas Army Ammunition Plant

Parsons KS 67357

Landholding Agency: Army

Property Number: 21199620569

Status: Unutilized

Directions:

Comments:

Reasons: Secured Area

Building 841

Kansas Army Ammunition Plant

Parsons KS 67357

Landholding Agency: Army

Property Number: 21199620571

Status: Unutilized

Directions:

Comments:

Reasons: Secured Area

Building 903

Kansas Army Ammunition Plant

Parsons KS 67357

Landholding Agency: Army

Property Number: 21199620573

Status: Unutilized

Directions:

Comments:

Reasons: Secured Area

Building 905

Kansas Army Ammunition Plant

Parsons KS 67357

Landholding Agency: Army

Property Number: 21199620575

Status: Unutilized

Directions:

Comments:

Reasons: Secured Area

Buildings 906, 908, 911,

Kansas Army Ammunition Plant

Parsons KS 67357

Landholding Agency: Army

Property Number: 21199620576

Status: Unutilized

Directions: 916, 993

Comments:

Reasons: Secured Area

Building 910

Kansas Army Ammunition Plant

Parsons KS 67357

Landholding Agency: Army

Property Number: 21199620578

Status: Unutilized

Directions:

Comments:

Reasons: Secured Area

Building 912

Kansas Army Ammunition Plant

Parsons KS 67357

Landholding Agency: Army

Property Number: 21199620579

Status: Unutilized

Directions:

Comments:

Reasons: Secured Area

Building 913

Kansas Army Ammunition Plant

Parsons KS 67357

Landholding Agency: Army

Property Number: 21199620580

Status: Unutilized

Directions:

Comments:

Reasons: Secured Area

Building 915

Kansas Army Ammunition Plant

Parsons KS 67357

Landholding Agency: Army

Property Number: 21199620581

Status: Unutilized

Directions:

Comments:

Reasons: Secured Area

Buildings 921, 923, 973, 974,

Kansas Army Ammunition Plant

Parsons KS 67357

Landholding Agency: Army

Property Number: 21199620583

Status: Unutilized

Directions: 983, 984, 986, 989

Comments:

Reasons: Secured Area

Building 924

Kansas Army Ammunition Plant

Parsons KS 67357

Landholding Agency: Army

Property Number: 21199620584

Status: Unutilized

Directions:

Comments:

Reasons: Secured Area

Building 929

Kansas Army Ammunition Plant

Parsons KS 67357

Landholding Agency: Army

Property Number: 21199620586

Status: Unutilized

Directions:

Comments:

Reasons: Secured Area

Building 946

Kansas Army Ammunition Plant

Parsons KS 67357

Landholding Agency: Army

Property Number: 21199620588

Status: Unutilized

Directions:

Comments:

Reasons: Secured Area

Building 951

Kansas Army Ammunition Plant

Parsons KS 67357

Landholding Agency: Army

Property Number: 21199620589

Status: Unutilized

Directions:

Comments:

Reasons: Secured Area

Building 927

Kansas Army Ammunition Plant

Parsons KS 67357

Landholding Agency: Army

Property Number: 21199620591

Status: Unutilized

Directions:

Comments:

Reasons: Secured Area

Building 997

Kansas Army Ammunition Plant

Parsons KS 67357

Landholding Agency: Army

Property Number: 21199620592

Status: Unutilized

Directions:

Comments:

Reasons: Secured Area

Buildings 1004, 1018

Kansas Army Ammunition Plant

Parsons KS 67357

Landholding Agency: Army

Property Number: 21199620594

Status: Unutilized

Directions:

Comments:

Reasons: Secured Area

Building 1005

Kansas Army Ammunition Plant

Parsons KS 67357

Landholding Agency: Army

Property Number: 21199620595

Status: Unutilized

Directions:

Comments:

Reasons: Secured Area

Buildings 1007, 1009

Kansas Army Ammunition Plant

Parsons KS 67357

Landholding Agency: Army

Property Number: 21199620597

Status: Unutilized

Directions:

Comments:

Reasons: Secured Area

Building 1008

Kansas Army Ammunition Plant

Parsons KS 67357

Landholding Agency: Army

Property Number: 21199620598

Status: Unutilized

Directions:

Comments:

Reasons: Secured Area

Building 1011

Kansas Army Ammunition Plant

Parsons KS 67357

Landholding Agency: Army

Property Number: 21199620599

Status: Unutilized

Directions:

Comments:

Reasons: Secured Area

Buildings 1012, 1022, 1023

Kansas Army Ammunition Plant

Parsons KS 67357

Landholding Agency: Army

Property Number: 21199620600

Status: Unutilized

Directions:

Comments:

Reasons: Secured Area

Building 1019

Kansas Army Ammunition Plant

Parsons KS 67357

Landholding Agency: Army

Property Number: 21199620602

Status: Unutilized

Directions:

Comments:

Reasons: Secured Area

Building 1020

Kansas Army Ammunition Plant

Parsons KS 67357

Landholding Agency: Army

Property Number: 21199620603

Status: Unutilized

Directions:

Comments:

Reasons: Secured Area

Building 1025

Kansas Army Ammunition Plant

Parsons KS 67357

Landholding Agency: Army

Property Number: 21199620604

Status: Unutilized

Directions:

Comments:

Reasons: Secured Area

Building 1028

Kansas Army Ammunition Plant

Parsons KS 67357

Landholding Agency: Army

Property Number: 21199620605

Status: Unutilized

Directions:

Comments:

Reasons: Secured Area

Building 1047

Kansas Army Ammunition Plant

Parsons KS 67357

Landholding Agency: Army

Property Number: 21199620606

Status: Unutilized

Directions:

Comments:

Reasons: Secured Area

Buildings 1048, 1068, 1090

Kansas Army Ammunition Plant

Parsons KS 67357

Landholding Agency: Army

Property Number: 21199620607

Status: Unutilized

Directions:

Comments:

Reasons: Secured Area

Building 1064

Kansas Army Ammunition Plant

Parsons KS 67357

Landholding Agency: Army

Property Number: 21199620608

Status: Unutilized

Directions:

Comments:

Reasons: Secured Area

Building 1065

Kansas Army Ammunition Plant

Parsons KS 67357

Landholding Agency: Army

Property Number: 21199620609

Status: Unutilized

Directions:

Comments:

Reasons: Secured Area

Buildings 1072, 1082, 1095

Kansas Army Ammunition Plant

Parsons KS 67357

Landholding Agency: Army

Property Number: 21199620610

Status: Unutilized

Directions:

Comments:

Reasons: Secured Area

Building 1202

Kansas Army Ammunition Plant

Parsons KS 67357

Landholding Agency: Army

Property Number: 21199620612

Status: Unutilized

Directions:

Comments:

Reasons: Secured Area

Building 1205

Kansas Army Ammunition Plant

Parsons KS 67357

Landholding Agency: Army

Property Number: 21199620613

Status: Unutilized

Directions:

Comments:

Reasons: Secured Area

Building 1206

Kansas Army Ammunition Plant

Parsons KS 67357

Landholding Agency: Army

Property Number: 21199620614

Status: Unutilized

Directions:

Comments:

Reasons: Secured Area

Building 1207

Kansas Army Ammunition Plant

Parsons KS 67357

Landholding Agency: Army

Property Number: 21199620615

Status: Unutilized

Directions:

Comments:

Reasons: Secured Area

Building 1223

Kansas Army Ammunition Plant

Parsons KS 67357

Landholding Agency: Army

Property Number: 21199620616

Status: Unutilized

Directions:

Comments:

Reasons: Secured Area

Building 1225

Kansas Army Ammunition Plant

Parsons KS 67357

Landholding Agency: Army

Property Number: 21199620617

Status: Unutilized

Directions:

Comments:

Reasons: Secured Area

Buildings 1402, 1403, 1404

Kansas Army Ammunition Plant

Parsons KS 67357

Landholding Agency: Army

Property Number: 21199620618

Status: Unutilized

Directions: 1405, 1406, 1407, 1408, 1409, 1410

Comments:

Reasons: Secured Area

Buildings 1502 thru 1556

Kansas Army Ammunition Plant

Parsons KS 67357

Landholding Agency: Army

Property Number: 21199620619

Status: Unutilized

Directions: (55 total)

Comments:

Reasons: Secured Area

Buildings 1602 thru 1625

Kansas Army Ammunition Plant

Parsons KS 67357

Landholding Agency: Army

Property Number: 21199620620

Status: Unutilized

Directions: (24 total)

Comments:

Reasons: Secured Area

Buildings 1702 thru 1721

Kansas Army Ammunition Plant

Parsons KS 67357

Landholding Agency: Army

Property Number: 21199620621

Status: Unutilized

Directions: (20 total)

Comments:

Reasons: Secured Area

Buildings 1803, 1804, 1805,

Kansas Army Ammunition Plant

Parsons KS 67357

Landholding Agency: Army

Property Number: 21199620622

Status: Unutilized

Directions: 1806, 1807, 1810, 1811, 1812, 1813, 1816, 1818, 1819, 1823, 1825

Comments:

Reasons: Secured Area

Buildings 1931 thru 1989

Kansas Army Ammunition Plant

Parsons KS 67357

Landholding Agency: Army

Property Number: 21199620623

Status: Unutilized

Directions: Except 1961, 1974, 1976

Comments:

Reasons: Secured Area

Building 2002

Kansas Army Ammunition Plant

Parsons KS 67357

Landholding Agency: Army

Property Number: 21199620624

Status: Unutilized

Directions:

Comments:

Reasons: Secured Area

Building 2105A

Kansas Army Ammunition Plant

Parsons KS 67357

Landholding Agency: Army

Property Number: 21199620625

Status: Unutilized

Directions:

Comments:

Reasons: Secured Area

Building 3004

Kansas Army Ammunition Plant

Parsons KS 67357

Landholding Agency: Army

Property Number: 21199620626

Status: Unutilized

Directions:

Comments:

Reasons: Secured Area

Building 3007

Kansas Army Ammunition Plant

Parsons KS 67357

Landholding Agency: Army

Property Number: 21199620629

Status: Unutilized

Directions:

Comments:

Reasons: Secured Area

Building 3008

Kansas Army Ammunition Plant

Parsons KS 67357

Landholding Agency: Army

Property Number: 21199620630

Status: Unutilized

Directions:

Comments:

Reasons: Secured Area

Building 3009

Kansas Army Ammunition Plant

Parsons KS 67357

Landholding Agency: Army

Property Number: 21199620631

Status: Unutilized

Directions:

Comments:

Reasons: Secured Area

Building 3011

Kansas Army Ammunition Plant

Parsons KS 67357

Landholding Agency: Army

Property Number: 21199620633

Status: Unutilized

Directions:

Comments:

Reasons: Secured Area

Building 3012

Kansas Army Ammunition Plant

Parsons KS 67357

Landholding Agency: Army

Property Number: 21199620634

Status: Unutilized

Directions:

Comments:

Reasons: Secured Area

Building 3015

Kansas Army Ammunition Plant

Parsons KS 67357

Landholding Agency: Army

Property Number: 21199620636

Status: Unutilized

Directions:

Comments:

Reasons: Secured Area

Building 3016

Kansas Army Ammunition Plant

Parsons KS 67357

Landholding Agency: Army

Property Number: 21199620637

Status: Unutilized

Directions:

Comments:

Reasons: Secured Area

Building 3017

Kansas Army Ammunition Plant

Parsons KS 67357

Landholding Agency: Army

Property Number: 21199620638

Status: Unutilized

Directions:

Comments:

Reasons: Secured Area

Bldg. 09451

9455 Rifle Range Road

Fort Riley KS

Landholding Agency: Army

Property Number: 21201120068

Status: Unutilized

Reasons: Other—Temporary bldg., gas chamber

Bldg. 00745

745 Ray Rd.

Fort Riley USAR

Fort Riley KS

Landholding Agency: Army

Property Number: 21201120069

Status: Unutilized

Reasons: Other—aviation storage shed; off site removal

Bldg. 8329

8329 Wells St.

Ft. Riley

Fort Riley KS

Landholding Agency: Army

Property Number: 21201120072

Status: Unutilized

Reasons: Other—vehicle maint.; oil storage

Bldg. 08324

8324 Wells St.

Fort Riley KS

Landholding Agency: Army

Property Number: 21201120073

Status: Unutilized

Reasons: Other—to be demolished

Bldg. 07634

7634 McGlachlin

Fort Riley KS

Landholding Agency: Army

Property Number: 21201120074

Status: Unutilized

Reasons: Other—Power Plant

Bldg. 00747

747 Ray Rd.

Fort Riley KS

Landholding Agency: Army

Property Number: 21201120078

Status: Unutilized

Reasons: Other—Power plant; off site removal

Bldg. 00613

null

Fort Riley KS

Landholding Agency: Army

Property Number: 21201120079

Status: Unutilized

Reasons: Other—off site removal only

Bldg. 01781

1781 “K” Street

Fort Riley KS

Landholding Agency: Army

Property Number: 21201120082

Status: Unutilized

Reasons: Other environmental; Other—work animal storage (DNE)

Bldg. 09455

9455 Rifle Range Road

Fort Riley KS

Landholding Agency: Army

Property Number: 21201120085

Status: Unutilized

Reasons: Other—Gas Chamber; off site removal only

Bldg. 00615

615 Huebner Rd.

Fort Riley KS

Landholding Agency: Army

Property Number: 21201120087

Status: Unutilized

Reasons: Other—off site removal only

Bldg. 08323

8323 Wells St.

Fort Riley KS

Landholding Agency: Army

Property Number: 21201120088

Status: Unutilized

Reasons: Other—vehicle maint. shop; off site removal

Bldg. 08328

8328 Wells St.

Fort Riley KS

Landholding Agency: Army

Property Number: 21201120089

Status: Unutilized

Reasons: Other environmental

Bldg. 07739

7739 Apennines Drive

Fort Riley KS

Landholding Agency: Army

Property Number: 21201120090

Status: Unutilized

Reasons: Other environmental, Other—oil storage bldg.; off site removal

Bldg. 01780

1780 “K” Street

Fort Riley KS

Landholding Agency: Army

Property Number: 21201120091

Status: Unutilized

Reasons: Other environmental

Bldg. 09382

Fort Riley

Fort Riley KS 66442

Landholding Agency: Army

Property Number: 21201130035

Status: Unutilized

Reasons: Extensive deterioration

4 Bldgs.

null

Fort Riley KS

Landholding Agency: Army

Property Number: 21201130037

Status: Unutilized

Directions: 09081, 07123, 1865, 00747

Reasons: Extensive deterioration

6 Bldgs.

null

Fort Riley KS

Landholding Agency: Army

Property Number: 21201130038

Status: Unutilized

Directions: 09079, 09078, 09455, 09382, 09087, 09381

Reasons: Extensive deterioration

Bldgs. 09133 and 1865

null

Fort Riley KS 66442

Landholding Agency: Army

Property Number: 21201130043

Status: Unutilized

Reasons: Extensive deterioration

Bldg. 612

null

Fort Riley KS 66442

Landholding Agency: Army

Property Number: 21201130045

Status: Unutilized

Reasons: Extensive deterioration

5 Bldgs.

null

Fort Riley KS 66442

Landholding Agency: Army

Property Number: 21201130060

Status: Unutilized

Directions: 09455, 07634, 00852, 00853

Reasons: Extensive deterioration

2 Bldgs.

null

Fort Riley KS 66442

Landholding Agency: Army

Property Number: 21201130064

Status: Unutilized

Directions: 09098, 00613

Reasons: Extensive deterioration

Bldgs. 00512 & 00617

Fort Riley

Fort Riley KS 66442

Landholding Agency: Army

Property Number: 21201140064

Status: Unutilized

Reasons: Secured Area

Kentucky

Bldg. 126

Lexington—Blue Grass Army Depot

Lexington KY 40511

Landholding Agency: Army

Property Number: 21199011661

Status: Unutilized

Directions: 12 miles northeast of Lexington, Kentucky.

Comments:

Reasons: Other—Sewage treatment facility; Secured Area

Bldg. 12

Lexington—Blue Grass Army Depot

Lexington KY 40511

Landholding Agency: Army

Property Number: 21199011663

Status: Unutilized

Directions: 12 miles Northeast of Lexington Kentucky.

Comments:

Reasons: Other—Industrial waste treatment plant.

Fort Knox Bldg. #487

Spearhead Division Avenue

Fort Knox KY 40121

Landholding Agency: Army

Property Number: 21201510022

Status: Unutilized

Directions: 487

Comments: public access denied & no alternative method to gain access w/out compromising Nat'l Sec.

Reasons: Secured Area

4 Buildings

Fort Knox

Fort Knox KY 40121

Landholding Agency: Army

Property Number: 21201610017

Status: Unutilized

Directions: 1069 RPUID:310462; 1478 RPUID:309724; 4556 RPUID:286473; 6295: RPUID:3072543

Comments: public access denied and no alternative method to gain access without compromising national security.

Reasons: Secured Area

Louisiana

Bldg. 108

Louisiana Army Ammunition Plant

Area A

Doyline LA 71023

Landholding Agency: Army

Property Number: 21199011714

Status: Unutilized

Directions:

Comments:

Reasons: Secured Area; Within 2000 ft. of flammable or explosive material

Bldg. 110

Louisiana Army Ammunition Plant

Area A

Doyline LA 71023

Landholding Agency: Army

Property Number: 21199011715

Status: Unutilized

Directions:

Comments:

Reasons: Within 2000 ft. of flammable or explosive material; Secured Area

Bldg. 111

Louisiana Army Ammunition Plant

Area A

Doyline LA 71023

Landholding Agency: Army

Property Number: 21199011716

Status: Unutilized

Directions:

Comments:

Reasons: Within 2000 ft. of flammable or explosive material; Secured Area

Bldg. A133

Louisiana Army Ammunition Plant

Doyline LA 71023

Landholding Agency: Army

Property Number: 21199011735

Status: Unutilized

Directions:

Comments:

Reasons: Secured Area

Bldg. A132

Louisiana Army Amnmunition Plant

Area K

Doyline LA 71023

Landholding Agency: Army

Property Number: 21199011736

Status: Unutilized

Directions:

Comments:

Reasons: Secured Area

Bldg. A131

Louisiana Army Ammunition Plant

Doyline LA 71023

Landholding Agency: Army

Property Number: 21199011737

Status: Underutilized

Directions:

Comments:

Reasons: Secured Area

Bldg. A130

Louisiana Army Ammunition Plant

Area A

Doyline LA 71023

Landholding Agency: Army

Property Number: 21199012112

Status: Unutilized

Directions:

Comments:

Reasons: Secured Area

Bldg. X5093

Louisiana Army Ammunition Plant

Doyline LA

Landholding Agency: Army

Property Number: 21199013863

Status: Unutilized

Directions:

Comments:

Reasons: Secured Area

Bldg. X5094

Louisiana Army Ammunition Plant

Doyline LA

Landholding Agency: Army

Property Number: 21199013865

Status: Unutilized

Directions:

Comments:

Reasons: Secured Area

Bldg. S1627

Louisiana Army Ammunition Plant

Doyline LA

Landholding Agency: Army

Property Number: 21199013868

Status: Unutilized

Directions:

Comments:

Reasons: Secured Area

Bldg. X5032

Louisiana Army Ammunition Plant

Doyline LA

Landholding Agency: Army

Property Number: 21199013869

Status: Unutilized

Directions:

Comments:

Reasons: Secured Area

Bldg. J1015m

Louisiana Army Ammunition Plant

Doyline LA

Landholding Agency: Army

Property Number: 21199110131

Status: Unutilized

Directions:

Comments:

Reasons: Within 2000 ft. of flammable or explosive material; Secured Area

Bldg. B-1442

Louisiana Army Ammunition Plant

Doyline LA 71023

Landholding Agency: Army

Property Number: 21199240138

Status: Unutilized

Directions:

Comments:

Reasons: Secured Area

Bldg. B-1453

Louisiana Army Ammunition Plant

Doyline LA 71023

Landholding Agency: Army

Property Number: 21199240139

Status: Unutilized

Directions:

Comments:

Reasons: Secured Area

Bldg. D1249

Louisiana Army Ammunition Plant

Doyline LA 71023

Landholding Agency: Army

Property Number: 21199240140

Status: Unutilized

Directions:

Comments:

Reasons: Secured Area

Bldg. K1104

Louisiana Army Ammunition Plant

Doyline LA 71023

Landholding Agency: Army

Property Number: 21199240147

Status: Unutilized

Directions:

Comments:

Reasons: Secured Area

Bldg. X-5033

Louisiana Army Ammunition Plant

Doyline LA 71023

Landholding Agency: Army

Property Number: 21199420332

Status: Unutilized

Directions:

Comments:

Reasons: Extensive deterioration; Secured Area; Within 2000 ft. of flammable or explosive material

Bldg. D1253

Louisiana Army Ammunition Plant

Doyline LA 71023

Landholding Agency: Army

Property Number: 21199610050

Status: Unutilized

Directions:

Comments:

Reasons: Within 2000 ft. of flammable or explosive material; Extensive deterioration

Bldg. E1727

Louisiana Army Ammunition Plant

Doyline LA 71023

Landholding Agency: Army

Property Number: 21199610051

Status: Unutilized

Directions:

Comments:

Reasons: Extensive deterioration; Within 2000 ft. of flammable or explosive material

Bldgs. C1300, C1346, D1200

Louisiana Army Ammunition Plant

Doyline LA 71023

Landholding Agency: Army

Property Number: 21199610054

Status: Unutilized

Directions:

Comments:

Reasons: Within 2000 ft. of flammable or explosive material; Secured Area

Bldgs. S1600, S1606

Louisiana Army Ammunition Plant

Doyline LA 71023

Landholding Agency: Army

Property Number: 21199610055

Status: Unutilized

Directions:

Comments:

Reasons: Within 2000 ft. of flammable or explosive material; Secured Area

Bldgs. M2700

Louisiana Army Ammunition Plant

Doyline LA 71023

Landholding Agency: Army

Property Number: 21199610056

Status: Unutilized

Directions:

Comments:

Reasons: Within 2000 ft. of flammable or explosive material; Secured Area

Bldg. S-1636

Louisiana Army Ammunition Plant

Doyline LA 71023

Landholding Agency: Army

Property Number: 21199610060

Status: Unutilized

Directions:

Comments:

Reasons: Within 2000 ft. of flammable or explosive material; Secured Area

Bldg. S-1635

Louisiana Army Ammunition Plant

Doyline LA 71023

Landholding Agency: Army

Property Number: 21199610061

Status: Underutilized

Directions:

Comments:

Reasons: Within 2000 ft. of flammable or explosive material; Secured Area

Bldg. D-1237

Louisiana Army Ammunition Plant

Doyline LA 71023

Landholding Agency: Army

Property Number: 21199610063

Status: Underutilized

Directions:

Comments:

Reasons: Secured Area; Within 2000 ft. of flammable or explosive material

Bldg. C-1344

Louisiana Army Ammunition Plant

Doyline LA 71023

Landholding Agency: Army

Property Number: 21199610064

Status: Underutilized

Directions:

Comments:

Reasons: Secured Area; Within 2000 ft. of flammable or explosive material

Bldg. C-1309

Louisiana Army Ammunition Plant

Doyline LA 71023

Landholding Agency: Army

Property Number: 21199610065

Status: Underutilized

Directions:

Comments:

Reasons: Secured Area; Within 2000 ft. of flammable or explosive material

Bldg. B-1461

Louisiana Army Ammunition Plant

Doyline LA 71023

Landholding Agency: Army

Property Number: 21199610066

Status: Underutilized

Directions:

Comments:

Reasons: Secured Area; Within 2000 ft. of flammable or explosive material

Bldg. S-1604

Louisiana Army Ammunition Plant

Doyline LA 71023

Landholding Agency: Army

Property Number: 21199610067

Status: Underutilized

Directions:

Comments:

Reasons: Within 2000 ft. of flammable or explosive material; Secured Area

Bldgs. S-1620, S-1621

Louisiana Army Ammunition Plant

Doyline LA 71023

Landholding Agency: Army

Property Number: 21199610069

Status: Underutilized

Directions:

Comments:

Reasons: Within 2000 ft. of flammable or explosive material; Secured Area

Bldg. A-120

Louisiana Army Ammunition Plant

Doyline LA 71023

Landholding Agency: Army

Property Number: 21199610070

Status: Underutilized

Directions:

Comments:

Reasons: Within 2000 ft. of flammable or explosive material; Secured Area

Bldg. S-1602

Louisiana Army Ammunition Plant

Doyline LA 71023

Landholding Agency: Army

Property Number: 21199610072

Status: Underutilized

Directions:

Comments:

Reasons: Secured Area; Within 2000 ft. of flammable or explosive material

Bldg. C-1310

Louisiana Army Ammunition Plant

Doyline LA 71023

Landholding Agency: Army

Property Number: 21199610074

Status: Underutilized

Directions:

Comments:

Reasons: Within 2000 ft. of flammable or explosive material; Secured Area

Bldg. S-1605

Louisiana Army Ammunition Plant

Doyline LA 71023

Landholding Agency: Army

Property Number: 21199610075

Status: Underutilized

Directions:

Comments:

Reasons: Secured Area; Within 2000 ft. of flammable or explosive material

Bldg. A-118

Louisiana Army Ammunition Plant

Doyline LA 71023

Landholding Agency: Army

Property Number: 21199610076

Status: Underutilized

Directions:

Comments:

Reasons: Secured Area; Within 2000 ft. of flammable or explosive material

Bldg. A-129

Louisiana Army Ammunition Plant

Doyline LA 71023

Landholding Agency: Army

Property Number: 21199610078

Status: Unutilized

Directions:

Comments:

Reasons: Within 2000 ft. of flammable or explosive material; Secured Area

Bldg. A-116

Louisiana Army Ammunition Plant

Doyline LA 71023

Landholding Agency: Army

Property Number: 21199610079

Status: Unutilized

Directions:

Comments:

Reasons: Secured Area; Within 2000 ft. of flammable or explosive material

Bldgs. C-1301, C-1303

Louisiana Army Ammunition Plant

Doyline LA 71023

Landholding Agency: Army

Property Number: 21199610083

Status: Unutilized

Directions:

Comments:

Reasons: Secured Area; Within 2000 ft. of flammable or explosive material

Bldg. S-1601

Louisiana Army Ammunition Plant

Doyline LA 71023

Landholding Agency: Army

Property Number: 21199610086

Status: Unutilized

Directions:

Comments:

Reasons: Secured Area; Within 2000 ft. of flammable or explosive material

Bldgs. K-1101, K-1103

Louisiana Army Ammunition Plant

Doyline LA 71023

Landholding Agency: Army

Property Number: 21199610087

Status: Unutilized

Directions:

Comments:

Reasons: Secured Area; Within 2000 ft. of flammable or explosive material

Bldg. J-1002

Louisiana Army Ammunition Plant

Doyline LA 71023

Landholding Agency: Army

Property Number: 21199610088

Status: Unutilized

Directions:

Comments:

Reasons: Within 2000 ft. of flammable or explosive material; Secured Area

Bldgs. D-1201, D-1203

Louisiana Army Ammunition Plant

Doyline LA 71023

Landholding Agency: Army

Property Number: 21199610091

Status: Unutilized

Directions:

Comments:

Reasons: Secured Area; Within 2000 ft. of flammable or explosive material

Bldgs. S-1612, S-1618, S-1615

Louisiana Army Ammunition Plant

Doyline LA 71023

Landholding Agency: Army

Property Number: 21199610092

Status: Unutilized

Directions:

Comments:

Reasons: Within 2000 ft. of flammable or explosive material; Secured Area

Bldg. C-1360

Louisiana Army Ammunition Plant

Doyline LA 71023

Landholding Agency: Army

Property Number: 21199610093

Status: Unutilized

Directions:

Comments:

Reasons: Within 2000 ft. of flammable or explosive material; Secured Area

Bldg. S-1603

Louisiana Army Ammunition Plant

Doyline LA 71023

Landholding Agency: Army

Property Number: 21199610096

Status: Unutilized

Directions:

Comments:

Reasons: Within 2000 ft. of flammable or explosive material; Secured Area

Bldg. O-1503

Louisiana Army Ammunition Plant

Doyline LA 71023

Landholding Agency: Army

Property Number: 21199610097

Status: Unutilized

Directions:

Comments:

Reasons: Secured Area; Within 2000 ft. of flammable or explosive material

Bldg. K-1100

Louisiana Army Ammunition Plant

Doyline LA 71023

Landholding Agency: Army

Property Number: 21199610098

Status: Unutilized

Directions:

Comments:

Reasons: Secured Area; Within 2000 ft. of flammable or explosive material

Bldg. J-1001

Louisiana Army Ammunition Plant

Doyline LA 71023

Landholding Agency: Army

Property Number: 21199610099

Status: Unutilized

Directions:

Comments:

Reasons: Within 2000 ft. of flammable or explosive material; Secured Area

Bldg. D-1202

Louisiana Army Ammunition Plant

Doyline LA 71023

Landholding Agency: Army

Property Number: 21199610101

Status: Unutilized

Directions:

Comments:

Reasons: Secured Area; Within 2000 ft. of flammable or explosive material

Bldg. C-1302

Louisiana Army Ammunition Plant

Doyline LA 71023

Landholding Agency: Army

Property Number: 21199610102

Status: Unutilized

Directions:

Comments:

Reasons: Within 2000 ft. of flammable or explosive material; Secured Area

Bldg. S-1613

Louisiana Army Ammunition Plant

Doyline LA 71023

Landholding Agency: Army

Property Number: 21199610104

Status: Unutilized

Directions:

Comments:

Reasons: Within 2000 ft. of flammable or explosive material; Secured Area

Bldgs. K-1105, K-1111, K-1110

Louisiana Army Ammunition Plant

Doyline LA 71023

Landholding Agency: Army

Property Number: 21199610105

Status: Unutilized

Directions:

Comments:

Reasons: Secured Area; Within 2000 ft. of flammable or explosive material

Bldg. A-149

Louisiana Army Ammunition Plant

Doyline LA 71023

Landholding Agency: Army

Property Number: 21199610107

Status: Unutilized

Directions:

Comments:

Reasons: Within 2000 ft. of flammable or explosive material; Secured Area

Bldg. J-1011

Louisiana Army Ammunition Plant

Doyline LA 71023

Landholding Agency: Army

Property Number: 21199610115

Status: Unutilized

Directions:

Comments:

Reasons: Within 2000 ft. of flammable or explosive material; Secured Area

4 Bldgs.

Louisiana Army Ammunition Plant

X-5013, X-5043, X-5083, X-5091

Doyline LA 71023

Landholding Agency: Army

Property Number: 21199610116

Status: Unutilized

Directions:

Comments:

Reasons: Within 2000 ft. of flammable or explosive material; Secured Area

Bldgs. D-1262, D-1263, D-1264

Louisiana Army Ammunition Plant

Doyline LA 71023

Landholding Agency: Army

Property Number: 21199610118

Status: Unutilized

Directions:

Comments:

Reasons: Secured Area; Within 2000 ft. of flammable or explosive material

Bldg. C-1370

Louisiana Army Ammunition Plant

Doyline LA 71023

Landholding Agency: Army

Property Number: 21199610119

Status: Unutilized

Directions:

Comments:

Reasons: Within 2000 ft. of flammable or explosive material; Secured Area

Bldg. S-1637

Louisiana Army Ammunition Plant

Doyline LA 71023

Landholding Agency: Army

Property Number: 21199610126

Status: Unutilized

Directions:

Comments:

Reasons: Within 2000 ft. of flammable or explosive material; Secured Area

Bldgs. E-1736, E-1734, E-1733

Louisiana Army Ammunition Plant

Doyline LA 71023

Landholding Agency: Army

Property Number: 21199610129

Status: Unutilized

Directions:

Comments:

Reasons: Within 2000 ft. of flammable or explosive material; Secured Area

Bldg. Y-2621

Louisiana Army Ammunition Plant

Doyline LA 71023

Landholding Agency: Army

Property Number: 21199610130

Status: Unutilized

Directions:

Comments:

Reasons: Secured Area; Within 2000 ft. of flammable or explosive material

Bldg. D-1256

Louisiana Army Ammunition Plant

Doyline LA 71023

Landholding Agency: Army

Property Number: 21199610131

Status: Unutilized

Directions:

Comments:

Reasons: Secured Area; Within 2000 ft. of flammable or explosive material

Bldg. X-5016

Louisiana Army Ammunition Plant

Doyline LA 71023

Landholding Agency: Army

Property Number: 21199610132

Status: Unutilized

Directions:

Comments:

Reasons: Secured Area; Within 2000 ft. of flammable or explosive material

Bldgs. X-5026, X-5106

Louisiana Army Ammunition Plant

Doyline LA 71023

Landholding Agency: Army

Property Number: 21199610133

Status: Unutilized

Directions:

Comments:

Reasons: Within 2000 ft. of flammable or explosive material; Secured Area

Bldgs. D-1248, D-1251

Louisiana Army Ammunition Plant

Doyline LA 71023

Landholding Agency: Army

Property Number: 21199610134

Status: Unutilized

Directions:

Comments:

Reasons: Within 2000 ft. of flammable or explosive material; Secured Area

Bldg. E-1715

Louisiana Army Ammunition Plant

Doyline LA 71023

Landholding Agency: Army

Property Number: 21199610135

Status: Unutilized

Directions:

Comments:

Reasons: Secured Area; Within 2000 ft. of flammable or explosive material

Bldg. S-1629

Louisiana Army Ammunition Plant

Doyline LA 71023

Landholding Agency: Army

Property Number: 21199610137

Status: Unutilized

Directions:

Comments:

Reasons: Secured Area; Within 2000 ft. of flammable or explosive material

Bldg. D-1239

Louisiana Army Ammunition Plant

Doyline LA 71023

Landholding Agency: Army

Property Number: 21199610139

Status: Unutilized

Directions:

Comments:

Reasons: Within 2000 ft. of flammable or explosive material; Secured Area

Bldg. E-1732

Louisiana Army Ammunition Plant

Doyline LA 71023

Landholding Agency: Army

Property Number: 21199610140

Status: Unutilized

Directions:

Comments:

Reasons: Secured Area; Within 2000 ft. of flammable or explosive material

Bldg. J-1014

Louisiana Army Ammunition Plant

Doyline LA 71023

Landholding Agency: Army

Property Number: 21199610141

Status: Unutilized

Directions:

Comments:

Reasons: Secured Area; Within 2000 ft. of flammable or explosive material

Bldgs. C-1347, C-1349

Louisiana Army Ammunition Plant

Doyline LA 71023

Landholding Agency: Army

Property Number: 21199610142

Status: Unutilized

Directions:

Comments:

Reasons: Within 2000 ft. of flammable or explosive material; Secured Area

Bldg. C-1362

Louisiana Army Ammunition Plant

Doyline LA 71023

Landholding Agency: Army

Property Number: 21199610143

Status: Unutilized

Directions:

Comments:

Reasons: Within 2000 ft. of flammable or explosive material; Secured Area

Bldg. D-1259

Louisiana Army Ammunition Plant

Doyline LA 71023

Landholding Agency: Army

Property Number: 21199610144

Status: Unutilized

Directions:

Comments:

Reasons: Within 2000 ft. of flammable or explosive material; Secured Area

Bldgs. M-2702, M-2706

Louisiana Army Ammunition Plant

Doyline LA 71023

Landholding Agency: Army

Property Number: 21199610145

Status: Unutilized

Directions:

Comments:

Reasons: Within 2000 ft. of flammable or explosive material; Secured Area

Bldg. X-6112

Louisiana Army Ammunition Plant

Doyline LA 71023

Landholding Agency: Army

Property Number: 21199610147

Status: Unutilized

Directions:

Comments:

Reasons: Within 2000 ft. of flammable or explosive material; Secured Area

Bldg. C-1361

Louisiana Army Ammunition Plant

Doyline LA 71023

Landholding Agency: Army

Property Number: 21199610148

Status: Unutilized

Directions:

Comments:

Reasons: Within 2000 ft. of flammable or explosive material; Secured Area

Bldgs. D-1257, D-1267

Louisiana Army Ammunition Plant

Doyline LA 71023

Landholding Agency: Army

Property Number: 21199610149

Status: Unutilized

Directions:

Comments:

Reasons: Secured Area; Within 2000 ft. of flammable or explosive material

Bldgs. A-154, A-155

Louisiana Army Ammunition Plant

Doyline LA 71023

Landholding Agency: Army

Property Number: 21199610151

Status: Unutilized

Directions:

Comments:

Reasons: Within 2000 ft. of flammable or explosive material; Secured Area

Bldgs. S-1652, S-1653

Louisiana Army Ammunition Plant

Doyline LA 71023

Landholding Agency: Army

Property Number: 21199610153

Status: Unutilized

Directions:

Comments:

Reasons: Secured Area; Within 2000 ft. of flammable or explosive material

Bldgs. Y-2613, Y-2614

Louisiana Army Ammunition Plant

Doyline LA 71023

Landholding Agency: Army

Property Number: 21199610154

Status: Unutilized

Directions:

Comments:

Reasons: Within 2000 ft. of flammable or explosive material; Secured Area

Bldgs. A-115, A-153

Louisiana Army Ammunition Plant

Doyline LA 71023

Landholding Agency: Army

Property Number: 21199610155

Status: Unutilized

Directions:

Comments:

Reasons: Within 2000 ft. of flammable or explosive material; Secured Area

Bldgs. M-2708, M-2709

Louisiana Army Ammunition Plant

Doyline LA 71023

Landholding Agency: Army

Property Number: 21199610157

Status: Unutilized

Directions:

Comments:

Reasons: Secured Area; Within 2000 ft. of flammable or explosive material

Bldgs. S-1639, S-1646

Louisiana Army Ammunition Plant

Doyline LA 71023

Landholding Agency: Army

Property Number: 21199610158

Status: Unutilized

Directions:

Comments:

Reasons: Within 2000 ft. of flammable or explosive material; Secured Area

Bldgs. C-1356, C-1366, C-1367

Louisiana Army Ammunition Plant

Doyline LA 71023

Landholding Agency: Army

Property Number: 21199610164

Status: Unutilized

Directions:

Comments:

Reasons: Within 2000 ft. of flammable or explosive material; Secured Area

Bldg. A-157

Louisiana Army Ammunition Plant

Doyline LA 71023

Landholding Agency: Army

Property Number: 21199610165

Status: Unutilized

Directions:

Comments:

Reasons: Secured Area; Within 2000 ft. of flammable or explosive material

Bldg. S-1624

Louisiana Army Ammunition Plant

Doyline LA 71023

Landholding Agency: Army

Property Number: 21199610170

Status: Unutilized

Directions:

Comments:

Reasons: Within 2000 ft. of flammable or explosive material; Secured Area

Bldg. M-0218

Louisiana Army Ammunition Plant

Doyline LA 71023

Landholding Agency: Army

Property Number: 21199610171

Status: Unutilized

Directions:

Comments:

Reasons: Secured Area; Within 2000 ft. of flammable or explosive material

Bldg. M-0217

Louisiana Army Ammunition Plant

Doyline LA 71023

Landholding Agency: Army

Property Number: 21199610172

Status: Unutilized

Directions:

Comments:

Reasons: Within 2000 ft. of flammable or explosive material; Secured Area

Bldg. D-1258

Louisiana Army Ammunition Plant

Doyline LA 71023

Landholding Agency: Army

Property Number: 21199610173

Status: Unutilized

Directions:

Comments:

Reasons: Within 2000 ft. of flammable or explosive material; Secured Area

Bldg. C-1363

Louisiana Army Ammunition Plant

Doyline LA 71023

Landholding Agency: Army

Property Number: 21199610174

Status: Unutilized

Directions:

Comments:

Reasons: Secured Area; Within 2000 ft. of flammable or explosive material

Building C-1319

Louisiana Army Ammunition Plant

Doyline LA 71023

Landholding Agency: Army

Property Number: 21199610175

Status: Unutilized

Directions:

Comments:

Reasons: Secured Area; Within 2000 ft. of flammable or explosive material

Building C-1317

Louisiana Army Ammunition Plant

Doyline LA 71023

Landholding Agency: Army

Property Number: 21199610176

Status: Unutilized

Directions:

Comments:

Reasons: Secured Area; Within 2000 ft. of flammable or explosive material

Building C-1345

Louisiana Army Ammunition Plant

Doyline LA 71023

Landholding Agency: Army

Property Number: 21199610178

Status: Unutilized

Directions:

Comments:

Reasons: Secured Area; Within 2000 ft. of flammable or explosive material

Building C-1333

Louisiana Army Ammunition Plant

Doyline LA 71023

Landholding Agency: Army

Property Number: 21199610180

Status: Unutilized

Directions:

Comments:

Reasons: Secured Area; Within 2000 ft. of flammable or explosive material

Building C-1331

Louisiana Army Ammunition Plant

Doyline LA 71023

Landholding Agency: Army

Property Number: 21199610181

Status: Unutilized

Directions:

Comments:

Reasons: Within 2000 ft. of flammable or explosive material; Secured Area

Building C-1321

Louisiana Army Ammunition Plant

Doyline LA 71023

Landholding Agency: Army

Property Number: 21199610182

Status: Unutilized

Directions:

Comments:

Reasons: Secured Area; Within 2000 ft. of flammable or explosive material

Building C-1307

Louisiana Army Ammunition Plant

Doyline LA 71023

Landholding Agency: Army

Property Number: 21199610183

Status: Unutilized

Directions:

Comments:

Reasons: Secured Area; Within 2000 ft. of flammable or explosive material

Building S-1648

Louisiana Army Ammunition Plant

Doyline LA 71023

Landholding Agency: Army

Property Number: 21199610184

Status: Underutilized

Directions:

Comments:

Reasons: Secured Area; Within 2000 ft. of flammable or explosive material

Building S-1640

Louisiana Army Ammunition Plant

Doyline LA 71023

Landholding Agency: Army

Property Number: 21199610185

Status: Underutilized

Directions:

Comments:

Reasons: Secured Area; Within 2000 ft. of flammable or explosive material

Building S-1625

Louisiana Army Ammunition Plant

Doyline LA 71023

Landholding Agency: Army

Property Number: 21199610186

Status: Underutilized

Directions:

Comments:

Reasons: Secured Area; Within 2000 ft. of flammable or explosive material

Building S-1619

Louisiana Army Ammunition Plant

Doyline LA 71023

Landholding Agency: Army

Property Number: 21199610191

Status: Underutilized

Directions:

Comments:

Reasons: Secured Area; Within 2000 ft. of flammable or explosive material

Building S-1617

Louisiana Army Ammunition Plant

Doyline LA 71023

Landholding Agency: Army

Property Number: 21199610192

Status: Underutilized

Directions:

Comments:

Reasons: Secured Area; Within 2000 ft. of flammable or explosive material

Building S-1611

Louisiana Army Ammunition Plant

Doyline LA 71023

Landholding Agency: Army

Property Number: 21199610193

Status: Underutilized

Directions:

Comments:

Reasons: Within 2000 ft. of flammable or explosive material; Secured Area

Building S-1610

Louisiana Army Ammunition Plant

Doyline LA 71023

Landholding Agency: Army

Property Number: 21199610194

Status: Underutilized

Directions:

Comments:

Reasons: Within 2000 ft. of flammable or explosive material; Secured Area

Building E-1720

Louisiana Army Ammunition Plant

Doyline LA 71023

Landholding Agency: Army

Property Number: 21199610196

Status: Unutilized

Directions:

Comments:

Reasons: Within 2000 ft. of flammable or explosive material; Secured Area

Building E-1710

Louisiana Army Ammunition Plant

Doyline LA 71023

Landholding Agency: Army

Property Number: 21199610198

Status: Unutilized

Directions:

Comments:

Reasons: Within 2000 ft. of flammable or explosive material; Secured Area

Building E-1707

Louisiana Army Ammunition Plant

Doyline LA 71023

Landholding Agency: Army

Property Number: 21199610200

Status: Unutilized

Directions:

Comments:

Reasons: Within 2000 ft. of flammable or explosive material; Secured Area

Building B-1475

Louisiana Army Ammunition Plant

Doyline LA 71023

Landholding Agency: Army

Property Number: 21199610201

Status: Unutilized

Directions:

Comments:

Reasons: Secured Area; Within 2000 ft. of flammable or explosive material

Building B-1426

Louisiana Army Ammunition Plant

Doyline LA 71023

Landholding Agency: Army

Property Number: 21199610203

Status: Unutilized

Directions:

Comments:

Reasons:

Within 2000 ft. of flammable or explosive material; Secured Area

Building J-1018

Louisiana Army Ammunition Plant

Doyline LA 71023

Landholding Agency: Army

Property Number: 21199610204

Status: Unutilized

Directions:

Comments:

Reasons: Within 2000 ft. of flammable or explosive material; Secured Area

Building M-219

Louisiana Army Ammunition Plant

Doyline LA 71023

Landholding Agency: Army

Property Number: 21199610205

Status: Unutilized

Directions:

Comments:

Reasons: Secured Area; Within 2000 ft. of flammable or explosive material

Building Y-2609

Louisiana Army Ammunition Plant

Doyline LA 71023

Landholding Agency: Army

Property Number: 21199610206

Status: Unutilized

Directions:

Comments:

Reasons: Secured Area; Within 2000 ft. of flammable or explosive material

Building E-1726

Louisiana Army Ammunition Plant

Doyline LA 71023

Landholding Agency: Army

Property Number: 21199610210

Status: Unutilized

Directions:

Comments:

Reasons: Secured Area; Within 2000 ft. of flammable or explosive material

Building E-1724

Louisiana Army Ammunition Plant

Doyline LA 71023

Landholding Agency: Army

Property Number: 21199610211

Status: Unutilized

Directions:

Comments:

Reasons: Within 2000 ft. of flammable or explosive material; Secured Area

Building K-1114

Louisiana Army Ammunition Plant

Doyline LA 71023

Landholding Agency: Army

Property Number: 21199610213

Status: Unutilized

Directions:

Comments:

Reasons: Secured Area; Within 2000 ft. of flammable or explosive material

Building K-1112

Louisiana Army Ammunition Plant

Doyline LA 71023

Landholding Agency: Army

Property Number: 21199610214

Status: Unutilized

Directions:

Comments:

Reasons: Within 2000 ft. of flammable or explosive material; Secured Area

Building D-1220

Louisiana Army Ammunition Plant

Doyline LA 71023

Landholding Agency: Army

Property Number: 21199610215

Status: Unutilized

Directions:

Comments:

Reasons: Within 2000 ft. of flammable or explosive material; Secured Area

Building K-1117

Louisiana Army Ammunition Plant

Doyline LA 71023

Landholding Agency: Army

Property Number: 21199610216

Status: Unutilized

Directions:

Comments:

Reasons: Within 2000 ft. of flammable or explosive material; Secured Area

Building K-1106

Louisiana Army Ammunition Plant

Doyline LA 71023

Landholding Agency: Army

Property Number: 21199610217

Status: Unutilized

Directions:

Comments:

Reasons: Within 2000 ft. of flammable or explosive material; Secured Area

Building J-1013

Louisiana Army Ammunition Plant

Doyline LA 71023

Landholding Agency: Army

Property Number: 21199610219

Status: Unutilized

Directions:

Comments:

Reasons: Secured Area; Within 2000 ft. of flammable or explosive material

Building J-1007

Louisiana Army Ammunition Plant

Doyline LA 71023

Landholding Agency: Army

Property Number: 21199610220

Status: Unutilized

Directions:

Comments:

Reasons: Within 2000 ft. of flammable or explosive material; Secured Area

Building C-1335

Louisiana Army Ammunition Plant

Doyline LA 71023

Landholding Agency: Army

Property Number: 21199610221

Status: Unutilized

Directions:

Comments:

Reasons: Secured Area; Within 2000 ft. of flammable or explosive material

Building C-1334

Louisiana Army Ammunition Plant

Doyline LA 71023

Landholding Agency: Army

Property Number: 21199610222

Status: Unutilized

Directions:

Comments:

Reasons: Secured Area; Within 2000 ft. of flammable or explosive material

Building C-1325

Louisiana Army Ammunition Plant

Doyline LA 71023

Landholding Agency: Army

Property Number: 21199610223

Status: Unutilized

Directions:

Comments:

Reasons: Secured Area; Within 2000 ft. of flammable or explosive material

Building C-1313

Louisiana Army Ammunition Plant

Doyline LA 71023

Landholding Agency: Army

Property Number: 21199610224

Status: Unutilized

Directions:

Comments:

Reasons: Within 2000 ft. of flammable or explosive material; Secured Area

Building D-1228

Louisiana Army Ammunition Plant

Doyline LA 71023

Landholding Agency: Army

Property Number: 21199610225

Status: Unutilized

Directions:

Comments:

Reasons: Secured Area; Within 2000 ft. of flammable or explosive material

Building D-1233

Louisiana Army Ammunition Plant

Doyline LA 71023

Landholding Agency: Army

Property Number: 21199610226

Status: Unutilized

Directions:

Comments:

Reasons: Within 2000 ft. of flammable or explosive material; Secured Area

Building D-1227

Louisiana Army Ammunition Plant

Doyline LA 71023

Landholding Agency: Army

Property Number: 21199610227

Status: Unutilized

Directions:

Comments:

Reasons: Secured Area; Within 2000 ft. of flammable or explosive material

Building D-1217

Louisiana Army Ammunition Plant

Doyline LA 71023

Landholding Agency: Army

Property Number: 21199610228

Status: Unutilized

Directions:

Comments:

Reasons: Within 2000 ft. of flammable or explosive material; Secured Area

Building D-1226

Louisiana Army Ammunition Plant

Doyline LA 71023

Landholding Agency: Army

Property Number: 21199610229

Status: Unutilized

Directions:

Comments:

Reasons: Within 2000 ft. of flammable or explosive material; Secured Area

Building D-1207

Louisiana Army Ammunition Plant

Doyline LA 71023

Landholding Agency: Army

Property Number: 21199610230

Status: Unutilized

Directions:

Comments:

Reasons: Within 2000 ft. of flammable or explosive material; Secured Area

Building S-1623

Louisiana Army Ammunition Plant

Doyline LA 71023

Landholding Agency: Army

Property Number: 21199610233

Status: Unutilized

Directions:

Comments:

Reasons: Within 2000 ft. of flammable or explosive material; Secured Area

Building S-1616

Louisiana Army Ammunition Plant

Doyline LA 71023

Landholding Agency: Army

Property Number: 21199610235

Status: Unutilized

Directions:

Comments:

Reasons: Within 2000 ft. of flammable or explosive material; Secured Area

Building E-1716

Louisiana Army Ammunition Plant

Doyline LA 71023

Landholding Agency: Army

Property Number: 21199610236

Status: Unutilized

Directions:

Comments:

Reasons: Secured Area; Within 2000 ft. of flammable or explosive material

Building D-1242

Louisiana Army Ammunition Plant

Doyline LA 71023

Landholding Agency: Army

Property Number: 21199610237

Status: Unutilized

Directions:

Comments:

Reasons: Within 2000 ft. of flammable or explosive material; Secured Area

Building D-1223

Louisiana Army Ammunition Plant

Doyline LA 71023

Landholding Agency: Army

Property Number: 21199610238

Status: Unutilized

Directions:

Comments:

Reasons: Secured Area; Within 2000 ft. of flammable or explosive material

Building C-1330

Louisiana Army Ammunition Plant

Doyline LA 71023

Landholding Agency: Army

Property Number: 21199610239

Status: Unutilized

Directions:

Comments:

Reasons: Within 2000 ft. of flammable or explosive material; Secured Area

Building C-1305

Louisiana Army Ammunition Plant

Doyline LA 71023

Landholding Agency: Army

Property Number: 21199610240

Status: Unutilized

Directions:

Comments:

Reasons: Secured Area; Within 2000 ft. of flammable or explosive material

4 Buildings

Louisiana Army Ammunition Plant

Doyline LA 71023

Landholding Agency: Army

Property Number: 21199610241

Status: Unutilized

Directions: S1631, S1632, S1633, S1634

Comments:

Reasons: Within 2000 ft. of flammable or explosive material; Secured Area

Building D-1238

Louisiana Army Ammunition Plant

Doyline LA 71023

Landholding Agency: Army

Property Number: 21199610242

Status: Unutilized

Directions:

Comments:

Reasons: Within 2000 ft. of flammable or explosive material; Secured Area

Building B-1435

Louisiana Army Ammunition Plant

Doyline LA 71023

Landholding Agency: Army

Property Number: 21199610245

Status: Unutilized

Directions:

Comments:

Reasons: Within 2000 ft. of flammable or explosive material; Secured Area

Building E-1712

Louisiana Army Ammunition Plant

Doyline LA 71023

Landholding Agency: Army

Property Number: 21199610253

Status: Unutilized

Directions:

Comments:

Reasons: Secured Area; Within 2000 ft. of flammable or explosive material

Building B-1476

Louisiana Army Ammunition Plant

Doyline LA 71023

Landholding Agency: Army

Property Number: 21199610254

Status: Unutilized

Directions:

Comments:

Reasons: Within 2000 ft. of flammable or explosive material; Secured Area

Building M-2100

Louisiana Army Ammunition Plant

Doyline LA 71023

Landholding Agency: Army

Property Number: 21199610255

Status: Unutilized

Directions:

Comments:

Reasons: Within 2000 ft. of flammable or explosive material; Secured Area

Building M-0600

Louisiana Army Ammunition Plant

Doyline LA 71023

Landholding Agency: Army

Property Number: 21199610256

Status: Unutilized

Directions:

Comments:

Reasons: Within 2000 ft. of flammable or explosive material; Secured Area

Building L-2346

Louisiana Army Ammunition Plant

Doyline LA 71023

Landholding Agency: Army

Property Number: 21199610258

Status: Unutilized

Directions:

Comments:

Reasons: Secured Area; Within 2000 ft. of flammable or explosive material

Building L-0700

Louisiana Army Ammunition Plant

Doyline LA 71023

Landholding Agency: Army

Property Number: 21199610260

Status: Unutilized

Directions:

Comments:

Reasons: Within 2000 ft. of flammable or explosive material; Secured Area

Building K-1102

Louisiana Army Ammunition Plant

Doyline LA 71023

Landholding Agency: Army

Property Number: 21199610263

Status: Unutilized

Directions:

Comments:

Reasons: Within 2000 ft. of flammable or explosive material; Secured Area

Building K-1119

Louisiana Army Ammunition Plant

Doyline LA 71023

Landholding Agency: Army

Property Number: 21199620002

Status: Unutilized

Directions:

Comments:

Reasons: Secured Area; Within 2000 ft. of flammable or explosive material

Building A-0150

Louisiana Army Ammunition Plant

Doyline LA 71023

Landholding Agency: Army

Property Number: 21199620006

Status: Unutilized

Directions:

Comments:

Reasons: Within 2000 ft. of flammable or explosive material; Secured Area

Building M-2109

Louisiana Army Ammunition Plant

Doyline LA 71023

Landholding Agency: Army

Property Number: 21199620008

Status: Unutilized

Directions:

Comments:

Reasons: Secured Area; Within 2000 ft. of flammable or explosive material

Building M-2108

Louisiana Army Ammunition Plant

Doyline LA 71023

Landholding Agency: Army

Property Number: 21199620009

Status: Unutilized

Directions:

Comments:

Reasons: Secured Area; Within 2000 ft. of flammable or explosive material

Building M-2107

Louisiana Army Ammunition Plant

Doyline LA 71023

Landholding Agency: Army

Property Number: 21199620010

Status: Unutilized

Directions:

Comments:

Reasons: Within 2000 ft. of flammable or explosive material; Secured Area

Building J-1009

Louisiana Army Ammunition Plant

Doyline LA 71023

Landholding Agency: Army

Property Number: 21199620011

Status: Unutilized

Directions:

Comments:

Reasons: Secured Area; Within 2000 ft. of flammable or explosive material

Building J-1004

Louisiana Army Ammunition Plant

Doyline LA 71023

Landholding Agency: Army

Property Number: 21199620012

Status: Unutilized

Directions:

Comments:

Reasons: Secured Area; Within 2000 ft. of flammable or explosive material

Building C-1368

Louisiana Army Ammunition Plant

Doyline LA 71023

Landholding Agency: Army

Property Number: 21199620020

Status: Unutilized

Directions:

Comments:

Reasons: Within 2000 ft. of flammable or explosive material; Secured Area

Building D-1260

Louisiana Army Ammunition Plant

Doyline LA 71023

Landholding Agency: Army

Property Number: 21199620021

Status: Unutilized

Directions:

Comments:

Reasons: Within 2000 ft. of flammable or explosive material; Secured Area

Building C-1369

Louisiana Army Ammunition Plant

Doyline LA 71023

Landholding Agency: Army

Property Number: 21199620022

Status: Unutilized

Directions:

Comments:

Reasons: Secured Area; Within 2000 ft. of flammable or explosive material

Building B-1414

Louisiana Army Ammunition Plant

Doyline LA 71023

Landholding Agency: Army

Property Number: 21199620025

Status: Unutilized

Directions:

Comments:

Reasons: Within 2000 ft. of flammable or explosive material; Secured Area

Building C-1340

Louisiana Army Ammunition Plant

Doyline LA 71023

Landholding Agency: Army

Property Number: 21199620026

Status: Unutilized

Directions:

Comments:

Reasons: Within 2000 ft. of flammable or explosive material; Secured Area

Building X-5103

Louisiana Army Ammunition Plant

Doyline LA 71023

Landholding Agency: Army

Property Number: 21199620027

Status: Unutilized

Directions:

Comments:

Reasons: Within 2000 ft. of flammable or explosive material; Secured Area

Building D-1234

Louisiana Army Ammunition Plant

Doyline LA 71023

Landholding Agency: Army

Property Number: 21199620029

Status: Unutilized

Directions:

Comments:

Reasons: Within 2000 ft. of flammable or explosive material; Secured Area

Building S-1630

Louisiana Army Ammunition Plant

Doyline LA 71023

Landholding Agency: Army

Property Number: 21199620032

Status: Unutilized

Directions:

Comments:

Reasons: Within 2000 ft. of flammable or explosive material; Secured Area

Building J-1003

Louisiana Army Ammunition Plant

Doyline LA 71023

Landholding Agency: Army

Property Number: 21199620033

Status: Unutilized

Directions:

Comments:

Reasons: Within 2000 ft. of flammable or explosive material; Secured Area

Building X-5072

Louisiana Army Ammunition Plant

Doyline LA 71023

Landholding Agency: Army

Property Number: 21199620035

Status: Unutilized

Directions:

Comments:

Reasons: Secured Area; Within 2000 ft. of flammable or explosive material

Building J-1016

Louisiana Army Ammunition Plant

Doyline LA 71023

Landholding Agency: Army

Property Number: 21199620036

Status: Unutilized

Directions:

Comments:

Reasons: Within 2000 ft. of flammable or explosive material; Secured Area

Building O-1500

Louisiana Army Ammunition Plant

Doyline LA 71023

Landholding Agency: Army

Property Number: 21199620037

Status: Unutilized

Directions:

Comments:

Reasons: Secured Area; Within 2000 ft. of flammable or explosive material

Building X-5000

Louisiana Army Ammunition Plant

Doyline LA 71023

Landholding Agency: Army

Property Number: 21199620038

Status: Unutilized

Directions:

Comments:

Reasons: Within 2000 ft. of flammable or explosive material; Secured Area

Building O-1501

Louisiana Army Ammunition Plant

Doyline LA 71023

Landholding Agency: Army

Property Number: 21199620039

Status: Unutilized

Directions:

Comments:

Reasons: Within 2000 ft. of flammable or explosive material; Secured Area

Building D-1218

Louisiana Army Ammunition Plant

Doyline LA 71023

Landholding Agency: Army

Property Number: 21199620042

Status: Unutilized

Directions:

Comments:

Reasons: Secured Area; Within 2000 ft. of flammable or explosive material

Building D-1216

Louisiana Army Ammunition Plant

Doyline LA 71023

Landholding Agency: Army

Property Number: 21199620043

Status: Unutilized

Directions:

Comments:

Reasons: Secured Area; Within 2000 ft. of flammable or explosive material

Building D-1213

Louisiana Army Ammunition Plant

Doyline LA 71023

Landholding Agency: Army

Property Number: 21199620044

Status: Unutilized

Directions:

Comments:

Reasons: Within 2000 ft. of flammable or explosive material; Secured Area

Building D-1211

Louisiana Army Ammunition Plant

Doyline LA 71023

Landholding Agency: Army

Property Number: 21199620045

Status: Unutilized

Directions:

Comments:

Reasons: Within 2000 ft. of flammable or explosive material; Secured Area

Building D-1209

Louisiana Army Ammunition Plant

Doyline LA 71023

Landholding Agency: Army

Property Number: 21199620046

Status: Unutilized

Directions:

Comments:

Reasons: Within 2000 ft. of flammable or explosive material; Secured Area

Building D-1208

Louisiana Army Ammunition Plant

Doyline LA 71023

Landholding Agency: Army

Property Number: 21199620047

Status: Unutilized

Directions:

Comments:

Reasons: Secured Area; Within 2000 ft. of flammable or explosive material

Building C-1327

Louisiana Army Ammunition Plant

Doyline LA 71023

Landholding Agency: Army

Property Number: 21199620048

Status: Unutilized

Directions:

Comments:

Reasons: Within 2000 ft. of flammable or explosive material; Secured Area

Building C-1326

Louisiana Army Ammunition Plant

Doyline LA 71023

Landholding Agency: Army

Property Number: 21199620049

Status: Unutilized

Directions:

Comments:

Reasons: Within 2000 ft. of flammable or explosive material; Secured Area

Building C-1324

Louisiana Army Ammunition Plant

Doyline LA 71023

Landholding Agency: Army

Property Number: 21199620050

Status: Unutilized

Directions:

Comments:

Reasons: Secured Area; Within 2000 ft. of flammable or explosive material

Building C-1336

Louisiana Army Ammunition Plant

Doyline LA 71023

Landholding Agency: Army

Property Number: 21199620052

Status: Unutilized

Directions:

Comments:

Reasons: Secured Area; Within 2000 ft. of flammable or explosive material

Building C-1320

Louisiana Army Ammunition Plant

Doyline LA 71023

Landholding Agency: Army

Property Number: 21199620053

Status: Unutilized

Directions:

Comments:

Reasons: Within 2000 ft. of flammable or explosive material; Secured Area

Building K-1116

Louisiana Army Ammunition Plant

Doyline LA 71023

Landholding Agency: Army

Property Number: 21199620054

Status: Unutilized

Directions:

Comments:

Reasons: Within 2000 ft. of flammable or explosive material; Secured Area

Building K-1118

Louisiana Army Ammunition Plant

Doyline LA 71023

Landholding Agency: Army

Property Number: 21199620055

Status: Unutilized

Directions:

Comments:

Reasons: Within 2000 ft. of flammable or explosive material; Secured Area

Building K-1113

Louisiana Army Ammunition Plant

Doyline LA 71023

Landholding Agency: Army

Property Number: 21199620056

Status: Unutilized

Directions:

Comments:

Reasons: Secured Area; Within 2000 ft. of flammable or explosive material

Building S-1628

Louisiana Army Ammunition Plant

Doyline LA 71023

Landholding Agency: Army

Property Number: 21199620057

Status: Unutilized

Directions:

Comments:

Reasons: Within 2000 ft. of flammable or explosive material; Secured Area

Building D-1214

Louisiana Army Ammunition Plant

Doyline LA 71023

Landholding Agency: Army

Property Number: 21199620059

Status: Unutilized

Directions:

Comments:

Reasons: Secured Area; Within 2000 ft. of flammable or explosive material

Building D-1229

Louisiana Army Ammunition Plant

Doyline LA 71023

Landholding Agency: Army

Property Number: 21199620060

Status: Unutilized

Directions:

Comments:

Reasons: Within 2000 ft. of flammable or explosive material; Secured Area

Building E-1713

Louisiana Army Ammunition Plant

Doyline LA 71023

Landholding Agency: Army

Property Number: 21199620061

Status: Unutilized

Directions:

Comments:

Reasons: Within 2000 ft. of flammable or explosive material; Secured Area

Building E-1711

Louisiana Army Ammunition Plant

Doyline LA 71023

Landholding Agency: Army

Property Number: 21199620062

Status: Unutilized

Directions:

Comments:

Reasons: Within 2000 ft. of flammable or explosive material; Secured Area

Building E-1721

Louisiana Army Ammunition Plant

Doyline LA 71023

Landholding Agency: Army

Property Number: 21199620064

Status: Unutilized

Directions:

Comments:

Reasons: Within 2000 ft. of flammable or explosive material; Secured Area

Building E-1718

Louisiana Army Ammunition Plant

Doyline LA 71023

Landholding Agency: Army

Property Number: 21199620065

Status: Unutilized

Directions:

Comments:

Reasons: Secured Area; Within 2000 ft. of flammable or explosive material

Building E-1714

Louisiana Army Ammunition Plant

Doyline LA 71023

Landholding Agency: Army

Property Number: 21199620066

Status: Unutilized

Directions:

Comments:

Reasons: Secured Area; Within 2000 ft. of flammable or explosive material

Building C-1316

Louisiana Army Ammunition Plant

Doyline LA 71023

Landholding Agency: Army

Property Number: 21199620068

Status: Unutilized

Directions:

Comments:

Reasons: Within 2000 ft. of flammable or explosive material; Secured Area

Building C-1318

Louisiana Army Ammunition Plant

Doyline LA 71023

Landholding Agency: Army

Property Number: 21199620070

Status: Unutilized

Directions:

Comments:

Reasons: Secured Area; Within 2000 ft. of flammable or explosive material

Building C-1312

Louisiana Army Ammunition Plant

Doyline LA 71023

Landholding Agency: Army

Property Number: 21199620073

Status: Unutilized

Directions:

Comments:

Reasons: Within 2000 ft. of flammable or explosive material; Secured Area

Building C-1311

Louisiana Army Ammunition Plant

Doyline LA 71023

Landholding Agency: Army

Property Number: 21199620074

Status: Unutilized

Directions:

Comments:

Reasons: Within 2000 ft. of flammable or explosive material; Secured Area

Building C-1308

Louisiana Army Ammunition Plant

Doyline LA 71023

Landholding Agency: Army

Property Number: 21199620075

Status: Unutilized

Directions:

Comments:

Reasons: Within 2000 ft. of flammable or explosive material; Secured Area

Building C-1315

Louisiana Army Ammunition Plant

Doyline LA 71023

Landholding Agency: Army

Property Number: 21199620076

Status: Unutilized

Directions:

Comments:

Reasons: Secured Area; Within 2000 ft. of flammable or explosive material

Building M-0634

Louisiana Army Ammunition Plant

Doyline LA 71023

Landholding Agency: Army

Property Number: 21199620084

Status: Unutilized

Directions:

Comments:

Reasons: Secured Area; Within 2000 ft. of flammable or explosive material

Building M-0633

Louisiana Army Ammunition Plant

Doyline LA 71023

Landholding Agency: Army

Property Number: 21199620085

Status: Unutilized

Directions:

Comments:

Reasons: Secured Area; Within 2000 ft. of flammable or explosive material

Building M-0632

Louisiana Army Ammunition Plant

Doyline LA 71023

Landholding Agency: Army

Property Number: 21199620086

Status: Unutilized

Directions:

Comments:

Reasons: Within 2000 ft. of flammable or explosive material; Secured Area

Building B-1473

Louisiana Army Ammunition Plant

Doyline LA 71023

Landholding Agency: Army

Property Number: 21199620089

Status: Unutilized

Directions:

Comments:

Reasons: Within 2000 ft. of flammable or explosive material; Secured Area

Building M-0635

Louisiana Army Ammunition Plant

Doyline LA 71023

Landholding Agency: Army

Property Number: 21199620092

Status: Unutilized

Directions:

Comments:

Reasons: Within 2000 ft. of flammable or explosive material; Secured Area

Building K-1108

Louisiana Army Ammunition Plant

Doyline LA 71023

Landholding Agency: Army

Property Number: 21199620093

Status: Unutilized

Directions:

Comments:

Reasons: Within 2000 ft. of flammable or explosive material; Secured Area

Building M-0203

Louisiana Army Ammunition Plant

Doyline LA 71023

Landholding Agency: Army

Property Number: 21199620095

Status: Unutilized

Directions:

Comments:

Reasons: Within 2000 ft. of flammable or explosive material; Secured Area

Building M-0204

Louisiana Army Ammunition Plant

Doyline LA 71023

Landholding Agency: Army

Property Number: 21199620096

Status: Unutilized

Directions:

Comments:

Reasons: Secured Area; Within 2000 ft. of flammable or explosive material

Building S-1607

Louisiana Army Ammunition Plant

Doyline LA 71023

Landholding Agency: Army

Property Number: 21199620097

Status: Unutilized

Directions:

Comments:

Reasons: Within 2000 ft. of flammable or explosive material; Secured Area

Building C-1304

Louisiana Army Ammunition Plant

Doyline LA 71023

Landholding Agency: Army

Property Number: 21199620098

Status: Unutilized

Directions:

Comments:

Reasons: Within 2000 ft. of flammable or explosive material; Secured Area

Building M-0647

Louisiana Army Ammunition Plant

Doyline LA 71023

Landholding Agency: Army

Property Number: 21199620102

Status: Unutilized

Directions:

Comments:

Reasons: Within 2000 ft. of flammable or explosive material; Secured Area

Building M-0646

Louisiana Army Ammunition Plant

Doyline LA 71023

Landholding Agency: Army

Property Number: 21199620104

Status: Unutilized

Directions:

Comments:

Reasons: Secured Area; Within 2000 ft. of flammable or explosive material

Building B-1424

Louisiana Army Ammunition Plant

Doyline LA 71023

Landholding Agency: Army

Property Number: 21199620105

Status: Unutilized

Directions:

Comments:

Reasons: Within 2000 ft. of flammable or explosive material; Secured Area

Building B-1456

Louisiana Army Ammunition Plant

Doyline LA 71023

Landholding Agency: Army

Property Number: 21199620106

Status: Unutilized

Directions:

Comments:

Reasons: Secured Area; Within 2000 ft. of flammable or explosive material

Building B-1457

Louisiana Army Ammunition Plant

Doyline LA 71023

Landholding Agency: Army

Property Number: 21199620107

Status: Unutilized

Directions:

Comments:

Reasons: Within 2000 ft. of flammable or explosive material; Secured Area

Building B-1458

Louisiana Army Ammunition Plant

Doyline LA 71023

Landholding Agency: Army

Property Number: 21199620108

Status: Unutilized

Directions:

Comments:

Reasons: Secured Area; Within 2000 ft. of flammable or explosive material

Building C-1306

Louisiana Army Ammunition Plant

Doyline LA 71023

Landholding Agency: Army

Property Number: 21199620111

Status: Unutilized

Directions:

Comments:

Reasons: Secured Area; Within 2000 ft. of flammable or explosive material

Building E-1725

Louisiana Army Ammunition Plant

Doyline LA 71023

Landholding Agency: Army

Property Number: 21199620113

Status: Unutilized

Directions:

Comments:

Reasons: Secured Area; Within 2000 ft. of flammable or explosive material

Building B-1449

Louisiana Army Ammunition Plant

Doyline LA 71023

Landholding Agency: Army

Property Number: 21199620117

Status: Unutilized

Directions:

Comments:

Reasons: Secured Area; Within 2000 ft. of flammable or explosive material

Building B-1443

Louisiana Army Ammunition Plant

Doyline LA 71023

Landholding Agency: Army

Property Number: 21199620118

Status: Unutilized

Directions:

Comments:

Reasons: Secured Area; Within 2000 ft. of flammable or explosive material

Building S-1609

Louisiana Army Ammunition Plant

Doyline LA 71023

Landholding Agency: Army

Property Number: 21199620119

Status: Unutilized

Directions:

Comments:

Reasons: Within 2000 ft. of flammable or explosive material; Secured Area

Building K-1121

Louisiana Army Ammunition Plant

Doyline LA 71023

Landholding Agency: Army

Property Number: 21199620120

Status: Unutilized

Directions:

Comments:

Reasons: Secured Area; Within 2000 ft. of flammable or explosive material

Building M-0612

Louisiana Army Ammunition Plant

Doyline LA 71023

Landholding Agency: Army

Property Number: 21199620124

Status: Unutilized

Directions:

Comments:

Reasons: Secured Area; Within 2000 ft. of flammable or explosive material

Building M-0611

Louisiana Army Ammunition Plant

Doyline LA 71023

Landholding Agency: Army

Property Number: 21199620125

Status: Unutilized

Directions:

Comments:

Reasons: Within 2000 ft. of flammable or explosive material; Secured Area

Building M-0610

Louisiana Army Ammunition Plant

Doyline LA 71023

Landholding Agency: Army

Property Number: 21199620126

Status: Unutilized

Directions:

Comments:

Reasons: Secured Area; Within 2000 ft. of flammable or explosive material

Building M-0609

Louisiana Army Ammunition Plant

Doyline LA 71023

Landholding Agency: Army

Property Number: 21199620127

Status: Unutilized

Directions:

Comments:

Reasons: Within 2000 ft. of flammable or explosive material; Secured Area

Building M-0613

Louisiana Army Ammunition Plant

Doyline LA 71023

Landholding Agency: Army

Property Number: 21199620128

Status: Unutilized

Directions:

Comments:

Reasons: Within 2000 ft. of flammable or explosive material; Secured Area

Building M-0607

Louisiana Army Ammunition Plant

Doyline LA 71023

Landholding Agency: Army

Property Number: 21199620129

Status: Unutilized

Directions:

Comments:

Reasons: Secured Area; Within 2000 ft. of flammable or explosive material

Building M-0606

Louisiana Army Ammunition Plant

Doyline LA 71023

Landholding Agency: Army

Property Number: 21199620130

Status: Unutilized

Directions:

Comments:

Reasons: Secured Area; Within 2000 ft. of flammable or explosive material

Building M-0605

Louisiana Army Ammunition Plant

Doyline LA 71023

Landholding Agency: Army

Property Number: 21199620131

Status: Unutilized

Directions:

Comments:

Reasons: Secured Area; Within 2000 ft. of flammable or explosive material

Building M-0604

Louisiana Army Ammunition Plant

Doyline LA 71023

Landholding Agency: Army

Property Number: 21199620132

Status: Unutilized

Directions:

Comments:

Reasons: Within 2000 ft. of flammable or explosive material; Secured Area

Building M-0603

Louisiana Army Ammunition Plant

Doyline LA 71023

Landholding Agency: Army

Property Number: 21199620133

Status: Unutilized

Directions:

Comments:

Reasons: Within 2000 ft. of flammable or explosive material; Secured Area

Building M-0211

Louisiana Army Ammunition Plant

Doyline LA 71023

Landholding Agency: Army

Property Number: 21199620134

Status: Unutilized

Directions:

Comments:

Reasons: Secured Area; Within 2000 ft. of flammable or explosive material

Building M-0210

Louisiana Army Ammunition Plant

Doyline LA 71023

Landholding Agency: Army

Property Number: 21199620136

Status: Unutilized

Directions:

Comments:

Reasons: Secured Area; Within 2000 ft. of flammable or explosive material

Building M-0207

Louisiana Army Ammunition Plant

Doyline LA 71023

Landholding Agency: Army

Property Number: 21199620137

Status: Unutilized

Directions:

Comments:

Reasons: Within 2000 ft. of flammable or explosive material; Secured Area

Building M-0206

Louisiana Army Ammunition Plant

Doyline LA 71023

Landholding Agency: Army

Property Number: 21199620138

Status: Unutilized

Directions:

Comments:

Reasons: Within 2000 ft. of flammable or explosive material; Secured Area

Building M-2110

Louisiana Army Ammunition Plant

Doyline LA 71023

Landholding Agency: Army

Property Number: 21199620139

Status: Unutilized

Directions:

Comments:

Reasons: Within 2000 ft. of flammable or explosive material; Secured Area

Building M-2105

Louisiana Army Ammunition Plant

Doyline LA 71023

Landholding Agency: Army

Property Number: 21199620140

Status: Unutilized

Directions:

Comments:

Reasons: Within 2000 ft. of flammable or explosive material; Secured Area

Building M-2104

Louisiana Army Ammunition Plant

Doyline LA 71023

Landholding Agency: Army

Property Number: 21199620141

Status: Unutilized

Directions:

Comments:

Reasons: Within 2000 ft. of flammable or explosive material; Secured Area

Building M-2103

Louisiana Army Ammunition Plant

Doyline LA 71023

Landholding Agency: Army

Property Number: 21199620142

Status: Unutilized

Directions:

Comments:

Reasons: Secured Area; Within 2000 ft. of flammable or explosive material

Building M-2102

Louisiana Army Ammunition Plant

Doyline LA 71023

Landholding Agency: Army

Property Number: 21199620143

Status: Unutilized

Directions:

Comments:

Reasons: Within 2000 ft. of flammable or explosive material; Secured Area

Building M-2101

Louisiana Army Ammunition Plant

Doyline LA 71023

Landholding Agency: Army

Property Number: 21199620144

Status: Unutilized

Directions:

Comments:

Reasons: Secured Area; Within 2000 ft. of flammable or explosive material

Building X-5070

Louisiana Army Ammunition Plant

Doyline LA 71023

Landholding Agency: Army

Property Number: 21199620145

Status: Unutilized

Directions:

Comments:

Reasons: Secured Area; Within 2000 ft. of flammable or explosive material

Building X-5100

Louisiana Army Ammunition Plant

Doyline LA 71023

Landholding Agency: Army

Property Number: 21199620146

Status: Unutilized

Directions:

Comments:

Reasons: Within 2000 ft. of flammable or explosive material; Secured Area

Building B-1463

Louisiana Army Ammunition Plant

Doyline LA 71023

Landholding Agency: Army

Property Number: 21199620149

Status: Unutilized

Directions:

Comments:

Reasons: Within 2000 ft. of flammable or explosive material; Secured Area

Building N-1814

Louisiana Army Ammunition Plant

Doyline LA 71023

Landholding Agency: Army

Property Number: 21199620150

Status: Unutilized

Directions:

Comments:

Reasons: Within 2000 ft. of flammable or explosive material; Secured Area

Building N-1815

Louisiana Army Ammunition Plant

Doyline LA 71023

Landholding Agency: Army

Property Number: 21199620151

Status: Unutilized

Directions:

Comments:

Reasons: Secured Area; Within 2000 ft. of flammable or explosive material

Building Y-2612

Louisiana Army Ammunition Plant

Doyline LA 71023

Landholding Agency: Army

Property Number: 21199620152

Status: Unutilized

Directions:

Comments:

Reasons: Within 2000 ft. of flammable or explosive material; Secured Area

Building A-0151

Louisiana Army Ammunition Plant

Doyline LA 71023

Landholding Agency: Army

Property Number: 21199620153

Status: Unutilized

Directions:

Comments:

Reasons: Within 2000 ft. of flammable or explosive material; Secured Area

Building L-2220

Louisiana Army Ammunition Plant

Doyline LA 71023

Landholding Agency: Army

Property Number: 21199620173

Status: Unutilized

Directions:

Comments:

Reasons: Secured Area; Within 2000 ft. of flammable or explosive material

Building L-2219

Louisiana Army Ammunition Plant

Doyline LA 71023

Landholding Agency: Army

Property Number: 21199620174

Status: Unutilized

Directions:

Comments:

Reasons: Secured Area; Within 2000 ft. of flammable or explosive material

Building L-2218

Louisiana Army Ammunition Plant

Doyline LA 71023

Landholding Agency: Army

Property Number: 21199620175

Status: Unutilized

Directions:

Comments:

Reasons: Within 2000 ft. of flammable or explosive material; Secured Area

Building L-2217

Louisiana Army Ammunition Plant

Doyline LA 71023

Landholding Agency: Army

Property Number: 21199620176

Status: Unutilized

Directions:

Comments:

Reasons: Within 2000 ft. of flammable or explosive material; Secured Area

Building L-2221

Louisiana Army Ammunition Plant

Doyline LA 71023

Landholding Agency: Army

Property Number: 21199620177

Status: Unutilized

Directions:

Comments:

Reasons: Within 2000 ft. of flammable or explosive material; Secured Area

Building L-2215

Louisiana Army Ammunition Plant

Doyline LA 71023

Landholding Agency: Army

Property Number: 21199620179

Status: Unutilized

Directions:

Comments:

Reasons: Within 2000 ft. of flammable or explosive material; Secured Area

Building L-2213

Louisiana Army Ammunition Plant

Doyline LA 71023

Landholding Agency: Army

Property Number: 21199620180

Status: Unutilized

Directions:

Comments:

Reasons: Secured Area; Within 2000 ft. of flammable or explosive material

Building L-2214

Louisiana Army Ammunition Plant

Doyline LA 71023

Landholding Agency: Army

Property Number: 21199620181

Status: Unutilized

Directions:

Comments:

Reasons: Within 2000 ft. of flammable or explosive material; Secured Area

Building L-2212

Louisiana Army Ammunition Plant

Doyline LA 71023

Landholding Agency: Army

Property Number: 21199620182

Status: Unutilized

Directions:

Comments:

Reasons: Secured Area; Within 2000 ft. of flammable or explosive material

Building L-2211

Louisiana Army Ammunition Plant

Doyline LA 71023

Landholding Agency: Army

Property Number: 21199620183

Status: Unutilized

Directions:

Comments:

Reasons: Within 2000 ft. of flammable or explosive material; Secured Area

Building L-2210

Louisiana Army Ammunition Plant

Doyline LA 71023

Landholding Agency: Army

Property Number: 21199620184

Status: Unutilized

Directions:

Comments:

Reasons: Secured Area; Within 2000 ft. of flammable or explosive material

Building L-2208

Louisiana Army Ammunition Plant

Doyline LA 71023

Landholding Agency: Army

Property Number: 21199620186

Status: Unutilized

Directions:

Comments:

Reasons: Secured Area; Within 2000 ft. of flammable or explosive material

Building L-2249

Louisiana Army Ammunition Plant

Doyline LA 71023

Landholding Agency: Army

Property Number: 21199620187

Status: Unutilized

Directions:

Comments:

Reasons: Secured Area; Within 2000 ft. of flammable or explosive material

Building L-2238

Louisiana Army Ammunition Plant

Doyline LA 71023

Landholding Agency: Army

Property Number: 21199620188

Status: Unutilized

Directions:

Comments:

Reasons: Within 2000 ft. of flammable or explosive material; Secured Area

Building L-2236

Louisiana Army Ammunition Plant

Doyline LA 71023

Landholding Agency: Army

Property Number: 21199620189

Status: Unutilized

Directions:

Comments:

Reasons: Secured Area; Within 2000 ft. of flammable or explosive material

Building L-2250

Louisiana Army Ammunition Plant

Doyline LA 71023

Landholding Agency: Army

Property Number: 21199620190

Status: Unutilized

Directions:

Comments:

Reasons: Within 2000 ft. of flammable or explosive material; Secured Area

Building L-2235

Louisiana Army Ammunition Plant

Doyline LA 71023

Landholding Agency: Army

Property Number: 21199620191

Status: Unutilized

Directions:

Comments:

Reasons: Within 2000 ft. of flammable or explosive material; Secured Area

Building L-2233

Louisiana Army Ammunition Plant

Doyline LA 71023

Landholding Agency: Army

Property Number: 21199620192

Status: Unutilized

Directions:

Comments:

Reasons: Secured Area; Within 2000 ft. of flammable or explosive material

Building L-2232

Louisiana Army Ammunition Plant

Doyline LA 71023

Landholding Agency: Army

Property Number: 21199620193

Status: Unutilized

Directions:

Comments:

Reasons: Secured Area; Within 2000 ft. of flammable or explosive material

Building L-2231

Louisiana Army Ammunition Plant

Doyline LA 71023

Landholding Agency: Army

Property Number: 21199620194

Status: Unutilized

Directions:

Comments:

Reasons: Within 2000 ft. of flammable or explosive material; Secured Area

Building L-2230

Louisiana Army Ammunition Plant

Doyline LA 71023

Landholding Agency: Army

Property Number: 21199620195

Status: Unutilized

Directions:

Comments:

Reasons: Within 2000 ft. of flammable or explosive material; Secured Area

Building L-2229

Louisiana Army Ammunition Plant

Doyline LA 71023

Landholding Agency: Army

Property Number: 21199620196

Status: Unutilized

Directions:

Comments:

Reasons: Within 2000 ft. of flammable or explosive material; Secured Area

Building L-2222

Louisiana Army Ammunition Plant

Doyline LA 71023

Landholding Agency: Army

Property Number: 21199620197

Status: Unutilized

Directions:

Comments:

Reasons: Secured Area; Within 2000 ft. of flammable or explosive material

Building L-2223

Louisiana Army Ammunition Plant

Doyline LA 71023

Landholding Agency: Army

Property Number: 21199620198

Status: Unutilized

Directions:

Comments:

Reasons: Within 2000 ft. of flammable or explosive material; Secured Area

Building L-2227

Louisiana Army Ammunition Plant

Doyline LA 71023

Landholding Agency: Army

Property Number: 21199620199

Status: Unutilized

Directions:

Comments:

Reasons: Secured Area; Within 2000 ft. of flammable or explosive material

Building L-2228

Louisiana Army Ammunition Plant

Doyline LA 71023

Landholding Agency: Army

Property Number: 21199620200

Status: Unutilized

Directions:

Comments:

Reasons: Secured Area; Within 2000 ft. of flammable or explosive material

Building M-650

Louisiana Army Ammunition Plant

Doyline LA 71023

Landholding Agency: Army

Property Number: 21199620749

Status: Unutilized

Directions:

Comments:

Reasons: Within 2000 ft. of flammable or explosive material; Secured Area

Building B-1462

Louisiana Army Ammunition Plant

Doyline LA 71023

Landholding Agency: Army

Property Number: 21199620752

Status: Unutilized

Directions:

Comments:

Reasons: Secured Area; Within 2000 ft. of flammable or explosive material

Building S-1651

Louisiana Army Ammunition Plant

Doyline LA 71023

Landholding Agency: Army

Property Number: 21199620754

Status: Unutilized

Directions:

Comments:

Reasons: Secured Area; Within 2000 ft. of flammable or explosive material

Building E-1741

Louisiana Army Ammunition Plant

Doyline LA 71023

Landholding Agency: Army

Property Number: 21199620755

Status: Unutilized

Directions:

Comments:

Reasons: Secured Area; Within 2000 ft. of flammable or explosive material

Building N-1820

Louisiana Army Ammunition Plant

Doyline LA 71023

Landholding Agency: Army

Property Number: 21199620757

Status: Unutilized

Directions:

Comments:

Reasons: Within 2000 ft. of flammable or explosive material; Secured Area

Building N-1823

Louisiana Army Ammunition Plant

Doyline LA 71023

Landholding Agency: Army

Property Number: 21199620758

Status: Unutilized

Directions:

Comments:

Reasons: Within 2000 ft. of flammable or explosive material; Secured Area

Building N-1824

Louisiana Army Ammunition Plant

Doyline LA 71023

Landholding Agency: Army

Property Number: 21199620759

Status: Unutilized

Directions:

Comments:

Reasons: Within 2000 ft. of flammable or explosive material; Secured Area

Building L-2301

Louisiana Army Ammunition Plant

Doyline LA 71023

Landholding Agency: Army

Property Number: 21199620760

Status: Unutilized

Directions:

Comments:

Reasons: Secured Area; Within 2000 ft. of flammable or explosive material

Building L-2302

Louisiana Army Ammunition Plant

Doyline LA 71023

Landholding Agency: Army

Property Number: 21199620761

Status: Unutilized

Directions:

Comments:

Reasons: Secured Area; Within 2000 ft. of flammable or explosive material

Building L-2303

Louisiana Army Ammunition Plant

Doyline LA 71023

Landholding Agency: Army

Property Number: 21199620762

Status: Unutilized

Directions:

Comments:

Reasons: Within 2000 ft. of flammable or explosive material; Secured Area

Building L-2304

Louisiana Army Ammunition Plant

Doyline LA 71023

Landholding Agency: Army

Property Number: 21199620763

Status: Unutilized

Directions:

Comments:

Reasons: Secured Area; Within 2000 ft. of flammable or explosive material

Building L-2305

Louisiana Army Ammunition Plant

Doyline LA 71023

Landholding Agency: Army

Property Number: 21199620764

Status: Unutilized

Directions:

Comments:

Reasons: Secured Area; Within 2000 ft. of flammable or explosive material

Building L-2306

Louisiana Army Ammunition Plant

Doyline LA 71023

Landholding Agency: Army

Property Number: 21199620765

Status: Unutilized

Directions:

Comments:

Reasons: Within 2000 ft. of flammable or explosive material; Secured Area

Building L-2308

Louisiana Army Ammunition Plant

Doyline LA 71023

Landholding Agency: Army

Property Number: 21199620767

Status: Unutilized

Directions:

Comments:

Reasons: Secured Area; Within 2000 ft. of flammable or explosive material

Building L-2309

Louisiana Army Ammunition Plant

Doyline LA 71023

Landholding Agency: Army

Property Number: 21199620768

Status: Unutilized

Directions:

Comments:

Reasons: Within 2000 ft. of flammable or explosive material; Secured Area

Building L-2310

Louisiana Army Ammunition Plant

Doyline LA 71023

Landholding Agency: Army

Property Number: 21199620769

Status: Unutilized

Directions:

Comments:

Reasons: Secured Area; Within 2000 ft. of flammable or explosive material

Building L-2312

Louisiana Army Ammunition Plant

Doyline LA 71023

Landholding Agency: Army

Property Number: 21199620771

Status: Unutilized

Directions:

Comments:

Reasons: Secured Area; Within 2000 ft. of flammable or explosive material

Building L-2313

Louisiana Army Ammunition Plant

Doyline LA 71023

Landholding Agency: Army

Property Number: 21199620772

Status: Unutilized

Directions:

Comments:

Reasons: Within 2000 ft. of flammable or explosive material; Secured Area

Building L-2314

Louisiana Army Ammunition Plant

Doyline LA 71023

Landholding Agency: Army

Property Number: 21199620773

Status: Unutilized

Directions:

Comments:

Reasons: Within 2000 ft. of flammable or explosive material; Secured Area

Building L-2315

Louisiana Army Ammunition Plant

Doyline LA 71023

Landholding Agency: Army

Property Number: 21199620774

Status: Unutilized

Directions:

Comments:

Reasons: Secured Area; Within 2000 ft. of flammable or explosive material

Building L-2316

Louisiana Army Ammunition Plant

Doyline LA 71023

Landholding Agency: Army

Property Number: 21199620775

Status: Unutilized

Directions:

Comments:

Reasons: Within 2000 ft. of flammable or explosive material; Secured Area

Building L-2318

Louisiana Army Ammunition Plant

Doyline LA 71023

Landholding Agency: Army

Property Number: 21199620777

Status: Unutilized

Directions:

Comments:

Reasons: Within 2000 ft. of flammable or explosive material; Secured Area

Building L-2319

Louisiana Army Ammunition Plant

Doyline LA 71023

Landholding Agency: Army

Property Number: 21199620778

Status: Unutilized

Directions:

Comments:

Reasons: Secured Area; Within 2000 ft. of flammable or explosive material

Building L-2320

Louisiana Army Ammunition Plant

Doyline LA 71023

Landholding Agency: Army

Property Number: 21199620779

Status: Unutilized

Directions:

Comments:

Reasons: Within 2000 ft. of flammable or explosive material; Secured Area

Building L-2321

Louisiana Army Ammunition Plant

Doyline LA 71023

Landholding Agency: Army

Property Number: 21199620780

Status: Unutilized

Directions:

Comments:

Reasons: Within 2000 ft. of flammable or explosive material; Secured Area

Buildings L-2322, L-2323,

Louisiana Army Ammunition Plant

Doyline LA 71023

Landholding Agency: Army

Property Number: 21199620781

Status: Unutilized

Directions: L-2324, L-2325, L-2326, L-2327, L-2328

Comments:

Reasons: Within 2000 ft. of flammable or explosive material; Secured Area

Buildings L-2329, L-2330,

Louisiana Army Ammunition Plant

Doyline LA 71023

Landholding Agency: Army

Property Number: 21199620782

Status: Unutilized

Directions: L-2331, L-2332, L-2333, L-2334, L-2335

Comments:

Reasons: Within 2000 ft. of flammable or explosive material; Secured Area

Building P-2500

Louisiana Army Ammunition Plant

Doyline LA 71023

Landholding Agency: Army

Property Number: 21199620793

Status: Unutilized

Directions:

Comments:

Reasons: Secured Area; Within 2000 ft. of flammable or explosive material

Building P-2501

Louisiana Army Ammunition Plant

Doyline LA 71023

Landholding Agency: Army

Property Number: 21199620794

Status: Unutilized

Directions:

Comments:

Reasons: Within 2000 ft. of flammable or explosive material; Secured Area

Building Y-2608

Louisiana Army Ammunition Plant

Doyline LA 71023

Landholding Agency: Army

Property Number: 21199620795

Status: Unutilized

Directions:

Comments:

Reasons: Within 2000 ft. of flammable or explosive material; Secured Area

Building Y-2632

Louisiana Army Ammunition Plant

Doyline LA 71023

Landholding Agency: Army

Property Number: 21199620797

Status: Unutilized

Directions:

Comments:

Reasons: Within 2000 ft. of flammable or explosive material; Secured Area

Building Y-2633

Louisiana Army Ammunition Plant

Doyline LA 71023

Landholding Agency: Army

Property Number: 21199620798

Status: Unutilized

Directions:

Comments:

Reasons: Secured Area; Within 2000 ft. of flammable or explosive material

Building Y-2640

Louisiana Army Ammunition Plant

Doyline LA 71023

Landholding Agency: Army

Property Number: 21199620799

Status: Unutilized

Directions:

Comments:

Reasons: Secured Area; Within 2000 ft. of flammable or explosive material

Building X-5108

Louisiana Army Ammunition Plant

Doyline LA 71023

Landholding Agency: Army

Property Number: 21199620801

Status: Unutilized

Directions:

Comments:

Reasons: Secured Area; Within 2000 ft. of flammable or explosive material

Bldg. M3-208

Louisiana AAP

Doyline LA 71023

Landholding Agency: Army

Property Number: 21199820047

Status: Excess

Directions:

Comments:

Reasons: Floodway, Secured Area

Bldg. M4-2704

Louisiana AAP

Doyline LA 71023

Landholding Agency: Army

Property Number: 21199820049

Status: Excess

Directions:

Comments:

Reasons: Floodway, Secured Area

Bldg. B-1412

Louisiana AAP

Doyline LA 71023

Landholding Agency: Army

Property Number: 21199820051

Status: Excess

Directions:

Comments:

Reasons: Secured Area

Bldg. B-1427

Louisiana AAP

Doyline LA 71023

Landholding Agency: Army

Property Number: 21199820052

Status: Excess

Directions:

Comments:

Reasons: Within 2000 ft. of flammable or explosive material; Secured Area

Bldg. B-1433

Louisiana AAP

Doyline LA 71023

Landholding Agency: Army

Property Number: 21199820053

Status: Excess

Directions:

Comments:

Reasons: Floodway, Secured Area

Bldg. B-1434

Louisiana AAP

Doyline LA 71023

Landholding Agency: Army

Property Number: 21199820054

Status: Excess

Directions:

Comments:

Reasons: Floodway, Secured Area

Bldg. B-1472

Louisiana AAP

Doyline LA 71023

Landholding Agency: Army

Property Number: 21199820058

Status: Excess

Directions:

Comments:

Reasons: Secured Area; Floodway

Bldg. C-1322

Louisiana AAP

Doyline LA 71023

Landholding Agency: Army

Property Number: 21199820059

Status: Excess

Directions:

Comments:

Reasons: Secured Area; Floodway

Bldg. C-1323

Louisiana AAP

Doyline LA 71023

Landholding Agency: Army

Property Number: 21199820060

Status: Excess

Directions:

Comments:

Reasons: Secured Area; Floodway

Bldg. C-1348

Louisiana AAP

Doyline LA 71023

Landholding Agency: Army

Property Number: 21199820061

Status: Excess

Directions:

Comments:

Reasons: Secured Area; Within 2000 ft. of flammable or explosive material

Bldg. D-1232

Louisiana AAP

Doyline LA 71023

Landholding Agency: Army

Property Number: 21199820063

Status: Excess

Directions:

Comments:

Reasons: Within 2000 ft. of flammable or explosive material; Secured Area

Bldgs. STP-2000, 2001, 2002

Louisiana AAP

Doyline LA 71023

Landholding Agency: Army

Property Number: 21199820065

Status: Excess

Directions:

Comments:

Reasons: Secured Area; Floodway

Bldg. STP-2004

Louisiana AAP

Doyline LA 71023

Landholding Agency: Army

Property Number: 21199820066

Status: Excess

Directions:

Comments:

Reasons: Floodway, Secured Area

Bldg. W-2900

Louisiana AAP

Doyline LA 71023

Landholding Agency: Army

Property Number: 21199820067

Status: Excess

Directions:

Comments:

Reasons: Secured Area; Floodway

Bldgs. W-2905, 2906

Louisiana AAP

Doyline LA 71023

Landholding Agency: Army

Property Number: 21199820069

Status: Excess

Directions:

Comments:

Reasons: Secured Area; Floodway

Bldg. W-2907

Louisiana AAP

Doyline LA 71023

Landholding Agency: Army

Property Number: 21199820070

Status: Excess

Directions:

Comments:

Reasons: Floodway, Secured Area

Bldgs. X-5080, 5101, 5102

Louisiana AAP

Doyline LA 71023

Landholding Agency: Army

Property Number: 21199820071

Status: Excess

Directions:

Comments:

Reasons: Secured Area; Floodway

Bldg. X-5104

Louisiana AAP

Doyline LA 71023

Landholding Agency: Army

Property Number: 21199820072

Status: Excess

Directions:

Comments:

Reasons: Floodway, Secured Area

Bldg. X-5105

Louisiana AAP

Doyline LA 71023

Landholding Agency: Army

Property Number: 21199820073

Status: Excess

Directions:

Comments:

Reasons: Floodway, Secured Area

Bldgs. X-5107, X-5115

Louisiana AAP

Doyline LA 71023

Landholding Agency: Army

Property Number: 21199820074

Status: Excess

Directions:

Comments:

Reasons: Floodway, Secured Area

Bldg. X-5114

Louisiana AAP

Doyline LA 71023

Landholding Agency: Army

Property Number: 21199820075

Status: Excess

Directions:

Comments:

Reasons: Floodway, Secured Area

Bldg. X-5116

Louisiana AAP

Doyline LA 71023

Landholding Agency: Army

Property Number: 21199820076

Status: Excess

Directions:

Comments:

Reasons: Secured Area; Floodway

Bldg. X-5117

Louisiana AAP

Doyline LA 71023

Landholding Agency: Army

Property Number: 21199820077

Status: Excess

Directions:

Comments:

Reasons: Floodway, Secured Area

Bldg. Y-2604

Louisiana AAP

Doyline LA 71023

Landholding Agency: Army

Property Number: 21199820078

Status: Excess

Directions:

Comments:

Reasons: Floodway, Secured Area

2 Bldgs.

Fort Polk

00414, 00418

Vernon LA 71459

Landholding Agency: Army

Property Number: 21200530008

Status: Unutilized

Comments: 00417 is demolished.

Reasons: Secured Area; Floodway

Maryland

Bldg. E5760

Aberdeen Proving Ground

Edgewood Area

Aberdeen City MD 21010-5425

Landholding Agency: Army

Property Number: 21199012610

Status: Unutilized

Directions:

Comments:

Reasons: Secured Area; Within 2000 ft. of flammable or explosive material

Bldg. E5375

Aberdeen Proving Ground

Edgewood Area

Aberdeen City MD 21010-5425

Landholding Agency: Army

Property Number: 21199012638

Status: Unutilized

Directions:

Comments:

Reasons: Within 2000 ft. of flammable or explosive material

Bldg. E5441

Aberdeen Proving Ground

Edgewood Area

Aberdeen City MD 21010-5425

Landholding Agency: Army

Property Number: 21199012640

Status: Unutilized

Directions:

Comments:

Reasons: Within 2000 ft. of flammable or explosive material

Bldg. 0909A

Aberdeen Proving Ground

MD 21005-5001

Landholding Agency: Army

Property Number: 21199730077

Status: Unutilized

Directions:

Comments:

Reasons: Extensive deterioration

Bldg. 00211

Curtis Bay Ordnance Depot

Baltimore MD 21226-1790

Landholding Agency: Army

Property Number: 21200320024

Status: Unutilized

GSA Number:

Reasons: Extensive deterioration

Bldg. 0001B

Federal Support Center

Olney MD 20882

Landholding Agency: Army

Property Number: 21200530018

Status: Underutilized

Reasons: Within 2000 ft. of flammable or explosive material

Bldg. SPITO

Adelphi Lab Center

Prince George MD 20783

Landholding Agency: Army

Property Number: 21201010008

Status: Unutilized

Reasons: Extensive deterioration

Bldg 00517

517 Blossom Point Road

Blossom Point Research Facility

Welcome MD 20693

Landholding Agency: Army

Property Number: 21201140040

Status: Unutilized

Reasons: Secured Area; Extensive deterioration

Bldg. 00402

402 Blossom Point Road

Blossom Point Research Facility

Welcome MD 20693

Landholding Agency: Army

Property Number: 21201140041

Status: Unutilized

Reasons: Within 2000 ft. of flammable or explosive material; Secured Area

0184C

Fort Detrick Forest Glen Annex

Silver Spring MD 20910

Landholding Agency: Army

Property Number: 21201430031

Status: Unutilized

Comments: public access denied & no alternative without compromising National Security.

Reasons: Secured Area

Building 01247

Fort Detrick

Frederick MD 21702

Landholding Agency: Army

Property Number: 21201520029

Status: Unutilized

Comments: public access denied and no alternative method to gain access without compromising national security.

Reasons: Secured Area

E5868

Aberdeen Proving Ground

5868 Austin Rd.

Harford MD 21005

Landholding Agency: Army

Property Number: 21201520049

Status: Unutilized

Comments: public access denied and no alternative method to gain access without compromising national security.

Reasons: Secured Area

4 Buildings

Aberdeen Proving Ground

Aberdeen Proving Grou MD 21005

Landholding Agency: Army

Property Number: 21201540006

Status: Unutilized

Directions: 530-RPUID: 232987; 00502-RPUID:231120; 00504-RPUID: 231122; 00507-RPUID:231124

Comments: public access denied and no alternative method to gain access without compromising national security.

Reasons: Secured Area

10 Buildings

Aberdeen Proving Ground

Aberdeen Proving Grou MD 21005

Landholding Agency: Army

Property Number: 21201540008

Status: Unutilized

Directions: E2499-RPUID: 1115220; 248-RPUID: 233131; 324-RPUID:233380; 00325-RPUID: 233381; 335-RPUID: 233389; 00336-RPUID: 233390; 00342-RPUID: 233396; 00343-RPUID: 233397; 00501-RPUID: 21119; 00503-RPUID: 231121

Comments: public access denied and no alternative method to gain access without compromising national security.

Reasons: Secured Area

10 Buildings

Aberdeen Proving Ground

Aberdeen Proving Grou MD 21005

Landholding Agency: Army

Property Number: 21201540009

Status: Unutilized

Directions: 1100A-RPUID: 232502; 5112-RPUID: 231874; E1426-RPUID:230361; E2144-RPUID:231462; E2180-RPUID:231474; E2200-RPUID:236777; E3100-RPUID:229840; E3240-RPUID: 225691; E3245-RPUID:1233661; E5027-RPUID: 235043

Comments: public access denied and no alternative method to gain access without compromising national security.

Reasons: Secured Area

10 Buildings

Aberdeen Proving Ground

Aberdeen MD 21005

Landholding Agency: Army

Property Number: 21201540010

Status: Unutilized

Directions: 00320-RPUID:233377; 00534-RPUID:232990; 00894-RPUID:229860; 01096-RPUID:230735; 2352-RPUID:232067;4314-RPUID:230781; 00938-RPUID:229876; E1932-RPUID:231449; E1942-RPUID:230062; 00535-RPUID:232991

Comments: public access denied and no alternative method to gain access without compromising national security.

Reasons: Secured Area

10 Buildings

Aberdeen Proving Ground

Aberdeen Proving Grou MD 21005

Landholding Agency: Army

Property Number: 21201540011

Status: Unutilized

Directions: E3032-RPUID:981051; E5060-RPUID:235049; E5140-RPUID:235827; E5172-RPUID:235834; E5173-RPUID:235835; E5244-RPUID:235853; E5352-RPUID:236079; E5429-RPUID:236092; E5826-RPUID:237105; E7987-RPUID:234070

Comments: public access denied and no alternative method to gain access without compromising national security.

Reasons: Secured Area

10 Buildings

Aberdeen Proving Ground

Aberdeen Proving Grou MD 21005

Landholding Agency: Army

Property Number: 21201540043

Status: Underutilized

Directions: E2162-RPUID:231464; E2166-RPUID:231465; E2182-RPUID:231475; E2188-RPUID:236771; E2194-RPUID:236773; E2198-RPUID:236776; E5061-RPUID:235050; E5101-RPUID:230074; E5842-RPUID:237111; E5844-RPUID:237112?

Comments: public access denied and no alternative method to gain access without compromising national security.

Reasons: Secured Area

8 Buildings

Aberdeen Providing Ground

Aberdeen Providing Gr MD 21005

Landholding Agency: Army

Property Number: 21201540044

Status: Unutilized

Directions: E5848-RPUID:237114; E5860-RPUID:237116; E5862-RPUID:237117; E5884-RPUID:237129; E5886-RPUID:237130; E5892-RPUID:237888; E5894-RPUID:237889; E5896-RPUID:237890

Comments: public access denied and no alternative method to gain access without compromising national security.

Reasons: Secured Area

Building 00922

922 Live Fire Lane

Aberdeen Proving Grou MD 21005

Landholding Agency: Army

Property Number: 21201540045

Status: Unutilized

Comments: public access denied and no alternative method to gain access without compromising national security.

Reasons: Secured Area

10 Buildings

Aberdeen Proving Ground

Aberdeen Proving Grou MD 21005

Landholding Agency: Army

Property Number: 21201610007

Status: Unutilized

Directions: Building #714A RPUID:231382; 714B RPUID:231383; 714C RPUID:231384; 892 RPUID:229858; 893 RPUID:229859; 2482 RPUID:232910; 2482 RPUID:232910; 2483 RPUID:232911; 2484 RPUID:232912 E5106 RPUID:235814

Comments: public access denied and no alternative method to gain access without compromising national security.

Reasons: Secured Area

10 Buildings

Aberdeen Proving Ground

Aberdeen Proving Grou MD 21010

Landholding Agency: Army

Property Number: 21201610008

Status: Unutilized

Directions: Building #E7248 RPUID:230927; E7931 RPUID:234069; 1103A RPUID:233336; E1407 RPUID:230346; E1410 RPUID:230349; E2195 RPUID:236774; E3220 RPUID:225680; E5282 RPUID:236063; 713 RPUID: 233259; 714 RPUID:233260

Comments: public access denied and no alternative method to gain access without compromising national security.

Reasons: Secured Area

12 Buildings

Aberdeen Proving Grounds

Aberdeen Proving Grou MD 21010

Landholding Agency: Army

Property Number: 21201610014

Status: Unutilized

Directions: Building #E7012 RPUID:234053; E6833 RPUID:234044; E5916 RPUID:237898; E5738 RPUID:236872; E5664 RPUID:236854; E5604 RPUID:236842; E5265 RPUID:233752; E3728 RPUID:237182; E3640 RPUID:? 237173; E3623 RPUID:237171; E3561 RPUID:236930; E3517 RPUID:236913

Comments: public access denied and no alternative method to gain access without compromising national security.

Reasons: Secured Area

5 Buildings

Fort Detrick

Frederick MD 21702

Landholding Agency: Army

Property Number: 21201610015

Status: Unutilized

Directions: Building 00121; 00387; 00722; 01531; 01656

Comments: public access denied and no alternative method to gain access without compromising national security.

Reasons: Secured Area

11 Buildings

Aberdeen Proving Ground

Aberdeen Proving Grou MD 21010

Landholding Agency: Army

Property Number: 21201610020

Status: Unutilized

Directions: Building #E3349 RPUID:225917; E3109 RPUID:225672; E3106 RPUID:225670; E2650 RPUID:237053; E2340 RPUID:236789; E2340 RPUID:236789; E2338 RPUID:236788; E1485 RPUID: 231226; E1443 RPUID:231202; E1041 RPUID:957911; 5650 RPUID: 231144

Comments: public access denied and no alternative method to gain access without compromising national security.

Reasons: Secured Area

12 Buildings

Aberdeen Proving Ground

Aberdeen Proving Grou MD 21010

Landholding Agency: Army

Property Number: 21201610067

Status: Unutilized

Directions: E5354 RPUID:236080; 4025A RPUID:233596; E5179 RPUID:235837; E3160 RPUID:225676; E1426: RPUID:230361; 797 RPUID:229641; 655 RPUID:233016; 459B RPUID:230811; 2334 RPUID:232061; 1132 RPUID: 230962; E5554 RPUID:236839; E5560 RPUID:236840

Comments: public access denied and no alternative method to gain access without compromising national security.

Reasons: Secured Area

Massachusetts

Bldg. 3713

USAG Devens

Devens MA 01434

Landholding Agency: Army

Property Number: 21200840022

Status: Excess

Reasons: Secured Area

Michigan

Building 835

Fitness Facility/Thrift

43515 n. Jefferson Ave.

Selfridge ANGB MI 48045

Landholding Agency: Air Force

Property Number: 18201540034

Status: Unutilized

Comments: public access denied and no alternative method to gain access without compromising national security.

Reasons: Secured Area

Bldg. 5756

Newport Weekend Training Site

Carleton MI 48166

Landholding Agency: Army

Property Number: 21199310061

Status: Unutilized

Directions:

Comments:

Reasons: Extensive deterioration; Secured Area

Bldg. 930

U.S. Army Garrison-Selfridge

Selfridge MI 48045

Landholding Agency: Army

Property Number: 21200420093

Status: Unutilized

Reasons: Secured Area

Bldg. 001

Crabble USARC

Saginaw MI 48601-4099

Landholding Agency: Army

Property Number: 21200420094

Status: Unutilized

Reasons: Extensive deterioration

Bldg. 00714

Selfridge Air Natl Guard Base

Macomb MI 48045

Landholding Agency: Army

Property Number: 21200440032

Status: Unutilized

Reasons: Extensive deterioration

20 Bldgs.

US Army Garrison-Selfridge

Macomb MI 48045

Landholding Agency: Army

Property Number: 21200510020

Status: Unutilized

Directions: 227, 229, 231, 233, 235, 256 thru 270

Reasons: Secured Area

4 Bldgs.

US Army Garrison-Selfridge

Macomb MI 48045

Landholding Agency: Army

Property Number: 21200510021

Status: Unutilized

Directions: 769, 770, 774, 775

Reasons: Secured Area

9 Bldgs.

US Army Garrison-Selfridge

Macomb MI 48045

Landholding Agency: Army

Property Number: 21200510022

Status: Unutilized

Directions: 905, 907-909, 929-931, 935-936

Reasons: Secured Area

5 Bldgs.

US Army Garrison-Selfridge

Macomb MI 48045

Landholding Agency: Army

Property Number: 21200510023

Status: Unutilized

Directions: 50905, 50907-50909, 50911

Reasons: Secured Area

4 Buildings

Detroit Arsenal

T0209, T0216, T0246, T0247

Warren MI 48397-5000

Landholding Agency: Army

Property Number: 21200520022

Status: Unutilized

Reasons: Secured Area

6 Bldgs.

Detroit Arsenal

Warren MI 48397

Landholding Agency: Army

Property Number: 21201010009

Status: Unutilized

Directions:

521, 213, 214, 237, 00007, 00008

Reasons: Secured Area

Building 01197

Bldg. #1197 Flight Line Road

Grayling MI 49738

Landholding Agency: Army

Property Number: 21201610012

Status: Excess

Directions: RPUID:324513

Comments: public access denied and no alternative method to gain access without compromising national security.

Reasons: Secured Area

2 Buildings

Grayling Army Airfield

Grayling MI 49738

Landholding Agency: Army

Property Number: 21201610037

Status: Unutilized

Directions: Building 01107 RPUID:324301 & 01106 RPUID:324302

Comments: public access denied and no alternative method to gain access without compromising national security.

Reasons: Secured Area

Minnesota

Bldg. 575

Twin Cities Army Ammunition Plant

New Brighton MN 55112

Landholding Agency: Army

Property Number: 21199120166

Status: Unutilized

Directions:

Comments:

Reasons: Secured Area

Bldg. 187

Twin Cities Army Ammunition Plant

New Brighton MN 55112

Landholding Agency: Army

Property Number: 21199220227

Status: Unutilized

Directions:

Comments:

Reasons: Within 2000 ft. of flammable or explosive material; Secured Area

Bldg. 188

Twin Cities Army Ammunition Plant

New Brighton MN 55112

Landholding Agency: Army

Property Number: 21199220228

Status: Unutilized

Directions:

Comments:

Reasons: Secured Area; Within 2000 ft. of flammable or explosive material

Bldg. 507

Twin Cities Army Ammunition Plant

New Brighton MN 55112

Landholding Agency: Army

Property Number: 21199220231

Status: Unutilized

Directions:

Comments:

Reasons: Within 2000 ft. of flammable or explosive material; Secured Area

Bldg. 972

Twin Cities Army Ammunition Plant

New Brighton MN 55112

Landholding Agency: Army

Property Number: 21199220233

Status: Unutilized

Directions:

Comments:

Reasons: Within 2000 ft. of flammable or explosive material; Secured Area

Bldg. 973

Twin Cities Army Ammunition Plant

New Brighton MN 55112

Landholding Agency: Army

Property Number: 21199220234

Status: Unutilized

Directions:

Comments:

Reasons: Secured Area; Within 2000 ft. of flammable or explosive material

Bldg. 975

Twin Cities Army Ammunition Plant

New Brighton MN 55112

Landholding Agency: Army

Property Number: 21199220235

Status: Unutilized

Directions:

Comments:

Reasons: Within 2000 ft. of flammable or explosive material; Secured Area

Bldg. 595

Twin Cities Army Ammunition Plant

New Brighton MN 55112

Landholding Agency: Army

Property Number: 21199240328

Status: Unutilized

Directions:

Comments:

Reasons: Within 2000 ft. of flammable or explosive material; Secured Area

Bldg. 586

Twin Cities Army Ammunition Plant

New Brighton MN 55112

Landholding Agency: Army

Property Number: 21199310056

Status: Underutilized

Directions:

Comments:

Reasons: Secured Area

Bldg. 598

Twin Cities Army Ammunition Plant

New Brighton MN 55112

Landholding Agency: Army

Property Number: 21199320152

Status: Unutilized

Directions:

Comments:

Reasons: Secured Area

Bldg. 901

Twin Cities Army Ammunition Plant

New Brighton MN 55112

Landholding Agency: Army

Property Number: 21199320153

Status: Unutilized

Directions:

Comments:

Reasons: Secured Area

Bldg. 5530

Twin Cities Army Ammunition Plant

New Brighton MN 55112

Landholding Agency: Army

Property Number: 21199320155

Status: Unutilized

Directions:

Comments:

Reasons: Secured Area

Bldg. 5554

Twin Cities Army Ammunition Plant

New Brighton MN 55112

Landholding Agency: Army

Property Number: 21199320156

Status: Unutilized

Directions:

Comments:

Reasons: Secured Area

Bldg. 174

null

Twin Cities Army Ammunition Plant

New Brighton MN 55112

Landholding Agency: Army

Property Number: 21199330096

Status: Unutilized

Directions:

Comments:

Reasons: Within 2000 ft. of flammable or explosive material; Secured Area

Bldg. 176

null

Twin Cities Army Ammunition Plant

New Brighton MN 55112

Landholding Agency: Army

Property Number: 21199330097

Status: Unutilized

Directions:

Comments:

Reasons: Secured Area; Within 2000 ft. of flammable or explosive material

Bldg. 517A

null

Twin Cities Army Ammunition Plant

New Brighton MN 55112

Landholding Agency: Army

Property Number: 21199330100

Status: Unutilized

Directions:

Comments:

Reasons: Secured Area; Within 2000 ft. of flammable or explosive material

Bldg. 517B

null

Twin Cities Army Ammunition Plant

New Brighton MN 55112

Landholding Agency: Army

Property Number: 21199330101

Status: Unutilized

Directions:

Comments:

Reasons: Secured Area; Within 2000 ft. of flammable or explosive material

Bldg. 517C

null

Twin Cities Army Ammunition Plant

New Brighton MN 55112

Landholding Agency: Army

Property Number: 21199330102

Status: Unutilized

Directions:

Comments:

Reasons: Within 2000 ft. of flammable or explosive material; Secured Area

Bldg. 576

null

Twin Cities Army Ammunition Plant

New Brighton MN 55112

Landholding Agency: Army

Property Number: 21199330106

Status: Unutilized

Directions:

Comments:

Reasons: Secured Area

Bldg. 585

Twin Cities Army Ammunition Plant

New Brighton MN 55112

Landholding Agency: Army

Property Number: 21199340015

Status: Unutilized

Directions:

Comments:

Reasons: Extensive deterioration; Secured Area

Bldg. 101

Twin Cities Army Ammunition Plant

New Brighton MN 55112

Landholding Agency: Army

Property Number: 21199410159

Status: Unutilized

Directions:

Comments:

Reasons: Secured Area; Within 2000 ft. of flammable or explosive material

Bldg. 108

Twin Cities Army Ammunition Plant

New Brighton MN 55112

Landholding Agency: Army

Property Number: 21199410161

Status: Unutilized

Directions:

Comments:

Reasons: Secured Area; Within 2000 ft. of flammable or explosive material

Bldg. 111

Twin Cities Army Ammunition Plant

New Brighton MN 55112

Landholding Agency: Army

Property Number: 21199410162

Status: Unutilized

Directions:

Comments:

Reasons: Within 2000 ft. of flammable or explosive material; Secured Area

Bldg. 112

Twin Cities Army Ammunition Plant

New Brighton MN 55112

Landholding Agency: Army

Property Number: 21199410163

Status: Unutilized

Directions:

Comments:

Reasons: Secured Area; Within 2000 ft. of flammable or explosive material

Bldg. 114

Twin Cities Army Ammunition Plant

New Brighton MN 55112

Landholding Agency: Army

Property Number: 21199410164

Status: Unutilized

Directions:

Comments:

Reasons: Within 2000 ft. of flammable or explosive material; Secured Area

Bldg. 115

Twin Cities Army Ammunition Plant

New Brighton MN 55112

Landholding Agency: Army

Property Number: 21199410165

Status: Unutilized

Directions:

Comments:

Reasons: Secured Area; Within 2000 ft. of flammable or explosive material

Bldg. 117C

Twin Cities Army Ammunition Plant

New Brighton MN 55112

Landholding Agency: Army

Property Number: 21199410166

Status: Unutilized

Directions:

Comments:

Reasons: Within 2000 ft. of flammable or explosive material; Secured Area

Bldg. 146

Twin Cities Army Ammunition Plant

New Brighton MN 55112

Landholding Agency: Army

Property Number: 21199410167

Status: Unutilized

Directions:

Comments:

Reasons: Secured Area; Within 2000 ft. of flammable or explosive material

Bldg. 151

Twin Cities Army Ammunition Plant

New Brighton MN 55112

Landholding Agency: Army

Property Number: 21199410168

Status: Unutilized

Directions:

Comments:

Reasons: Secured Area; Within 2000 ft. of flammable or explosive material

Bldg. 152

Twin Cities Army Ammunition Plant

New Brighton MN 55112

Landholding Agency: Army

Property Number: 21199410169

Status: Unutilized

Directions:

Comments:

Reasons: Secured Area; Within 2000 ft. of flammable or explosive material

Bldg. 153

Twin Cities Army Ammunition Plant

New Brighton MN 55112

Landholding Agency: Army

Property Number: 21199410170

Status: Unutilized

Directions:

Comments:

Reasons: Within 2000 ft. of flammable or explosive material; Secured Area

Bldg. 155

Twin Cities Army Ammunition Plant

New Brighton MN 55112

Landholding Agency: Army

Property Number: 21199410171

Status: Unutilized

Directions:

Comments:

Reasons: Secured Area; Within 2000 ft. of flammable or explosive material

Bldg. 157

Twin Cities Army Ammunition Plant

New Brighton MN 55112

Landholding Agency: Army

Property Number: 21199410172

Status: Unutilized

Directions:

Comments:

Reasons: Within 2000 ft. of flammable or explosive material; Secured Area

Bldg. 167

Twin Cities Army Ammunition Plant

New Brighton MN 55112

Landholding Agency: Army

Property Number: 21199410173

Status: Unutilized

Directions:

Comments:

Reasons: Extensive deterioration; Within 2000 ft. of flammable or explosive material; Secured Area

Bldg. 172

Twin Cities Army Ammunition Plant

New Brighton MN 55112

Landholding Agency: Army

Property Number: 21199410174

Status: Unutilized

Directions:

Comments:

Reasons: Secured Area; Within 2000 ft. of flammable or explosive material

Bldg. 502

Twin Cities Army Ammunition Plant

New Brighton MN 55112

Landholding Agency: Army

Property Number: 21199410175

Status: Unutilized

Directions:

Comments:

Reasons: Within 2000 ft. of flammable or explosive material; Secured Area

Bldg. 599

Twin Cities Army Ammunition Plant

New Brighton MN 55112

Landholding Agency: Army

Property Number: 21199410186

Status: Unutilized

Directions:

Comments:

Reasons: Secured Area; Within 2000 ft. of flammable or explosive material

Bldg. 950

Twin Cities Army Ammunition Plant

New Brighton MN 55112

Landholding Agency: Army

Property Number: 21199410187

Status: Unutilized

Directions:

Comments:

Reasons: Secured Area; Within 2000 ft. of flammable or explosive material

Bldg. 951

Twin Cities Army Ammunition Plant

New Brighton MN 55112

Landholding Agency: Army

Property Number: 21199410188

Status: Unutilized

Directions:

Comments:

Reasons: Within 2000 ft. of flammable or explosive material; Secured Area

Bldg. 955

Twin Cities Army Ammunition Plant

New Brighton MN 55112

Landholding Agency: Army

Property Number: 21199410189

Status: Unutilized

Directions:

Comments:

Reasons: Within 2000 ft. of flammable or explosive material; Secured Area

Bldg. 119H

Twin Cities Army Ammunition Plant

New Brighton MN 55112

Landholding Agency: Army

Property Number: 21199420198

Status: Unutilized

Directions:

Comments:

Reasons: Secured Area; Within 2000 ft. of flammable or explosive material; Extensive deterioration

Bldg. 119P

Twin Cities Army Ammunition Plant

New Brighton MN 55112

Landholding Agency: Army

Property Number: 21199420199

Status: Unutilized

Directions:

Comments:

Reasons: Extensive deterioration; Secured Area; Within 2000 ft. of flammable or explosive material

Bldg. 119R

Twin Cities Army Ammunition Plant

New Brighton MN 55112

Landholding Agency: Army

Property Number: 21199420200

Status: Unutilized

Directions:

Comments:

Reasons: Extensive deterioration; Within 2000 ft. of flammable or explosive material; Secured Area

Bldg. 119U

Twin Cities Army Ammunition Plant

New Brighton MN 55112

Landholding Agency: Army

Property Number: 21199420203

Status: Unutilized

Directions:

Comments:

Reasons: Within 2000 ft. of flammable or explosive material; Secured Area; Extensive deterioration

Bldg. 126

Twin Cities Army Ammunition Plant

New Brighton MN 55112

Landholding Agency: Army

Property Number: 21199420207

Status: Unutilized

Directions:

Comments:

Reasons: Secured Area; Within 2000 ft. of flammable or explosive material

Bldg. 127

Twin Cities Army Ammunition Plant

New Brighton MN 55112

Landholding Agency: Army

Property Number: 21199420208

Status: Unutilized

Directions:

Comments:

Reasons: Within 2000 ft. of flammable or explosive material; Secured Area

Bldg. 128

Twin Cities Army Ammunition Plant

New Brighton MN 55112

Landholding Agency: Army

Property Number: 21199420209

Status: Unutilized

Directions:

Comments:

Reasons: Secured Area; Within 2000 ft. of flammable or explosive material

Bldg. 129A

Twin Cities Army Ammunition Plant

New Brighton MN 55112

Landholding Agency: Army

Property Number: 21199420210

Status: Unutilized

Directions:

Comments:

Reasons: Secured Area; Within 2000 ft. of flammable or explosive material

Bldg. 129B

Twin Cities Army Ammunition Plant

New Brighton MN 55112

Landholding Agency: Army

Property Number: 21199420211

Status: Unutilized

Directions:

Comments:

Reasons: Within 2000 ft. of flammable or explosive material; Secured Area

Bldg. 130

Twin Cities Army Ammunition Plant

New Brighton MN 55112

Landholding Agency: Army

Property Number: 21199420212

Status: Unutilized

Directions:

Comments:

Reasons: Secured Area; Extensive deterioration

Bldg. 131

Twin Cities Army Ammunition Plant

New Brighton MN 55112

Landholding Agency: Army

Property Number: 21199420213

Status: Unutilized

Directions:

Comments:

Reasons: Within 2000 ft. of flammable or explosive material; Secured Area

Bldg. 132A

Twin Cities Army Ammunition Plant

New Brighton MN 55112

Landholding Agency: Army

Property Number: 21199420214

Status: Unutilized

Directions:

Comments:

Reasons: Within 2000 ft. of flammable or explosive material; Secured Area

Bldg. 132B

Twin Cities Army Ammunition Plant

New Brighton MN 55112

Landholding Agency: Army

Property Number: 21199420215

Status: Unutilized

Directions:

Comments:

Reasons: Within 2000 ft. of flammable or explosive material; Secured Area

Bldg. 135

Twin Cities Army Ammunition Plant

New Brighton MN 55112

Landholding Agency: Army

Property Number: 21199420216

Status: Unutilized

Directions:

Comments:

Reasons: Within 2000 ft. of flammable or explosive material; Secured Area

Bldg. 136

Twin Cities Army Ammunition Plant

New Brighton MN 55112

Landholding Agency: Army

Property Number: 21199420217

Status: Unutilized

Directions:

Comments:

Reasons: Within 2000 ft. of flammable or explosive material; Secured Area

Bldg. 137

Twin Cities Army Ammunition Plant

New Brighton MN 55112

Landholding Agency: Army

Property Number: 21199420218

Status: Unutilized

Directions:

Comments:

Reasons: Within 2000 ft. of flammable or explosive material

Bldg. 138A

Twin Cities Army Ammunition Plant

New Brighton MN 55112

Landholding Agency: Army

Property Number: 21199420219

Status: Unutilized

Directions:

Comments:

Reasons: Secured Area; Within 2000 ft. of flammable or explosive material

Bldg. 138B

Twin Cities Army Ammunition Plant

New Brighton MN 55112

Landholding Agency: Army

Property Number: 21199420220

Status: Unutilized

Directions:

Comments:

Reasons: Within 2000 ft. of flammable or explosive material; Secured Area

Bldg. 138C

Twin Cities Army Ammunition Plant

New Brighton MN 55112

Landholding Agency: Army

Property Number: 21199420221

Status: Unutilized

Directions:

Comments:

Reasons: Within 2000 ft. of flammable or explosive material; Secured Area

Bldg. 139A

Twin Cities Army Ammunition Plant

New Brighton MN 55112

Landholding Agency: Army

Property Number: 21199420222

Status: Unutilized

Directions:

Comments:

Reasons: Secured Area; Within 2000 ft. of flammable or explosive material

Bldg. 139B

Twin Cities Army Ammunition Plant

New Brighton MN 55112

Landholding Agency: Army

Property Number: 21199420223

Status: Unutilized

Directions:

Comments:

Reasons: Within 2000 ft. of flammable or explosive material; Secured Area

Bldg. 139C

Twin Cities Army Ammunition Plant

New Brighton MN 55112

Landholding Agency: Army

Property Number: 21199420224

Status: Unutilized

Directions:

Comments:

Reasons: Within 2000 ft. of flammable or explosive material; Secured Area

Bldg. 139D

Twin Cities Army Ammunition Plant

New Brighton MN 55112

Landholding Agency: Army

Property Number: 21199420225

Status: Unutilized

Directions:

Comments:

Reasons: Within 2000 ft. of flammable or explosive material; Secured Area

Bldg. 140A

Twin Cities Army Ammunition Plant

New Brighton MN 55112

Landholding Agency: Army

Property Number: 21199420226

Status: Unutilized

Directions:

Comments:

Reasons: Secured Area; Within 2000 ft. of flammable or explosive material

Bldg. 140B

Twin Cities Army Ammunition Plant

New Brighton MN 55112

Landholding Agency: Army

Property Number: 21199420227

Status: Unutilized

Directions:

Comments:

Reasons: Within 2000 ft. of flammable or explosive material; Secured Area

Bldg. 140C

Twin Cities Army Ammunition Plant

New Brighton MN 55112

Landholding Agency: Army

Property Number: 21199420228

Status: Unutilized

Directions:

Comments:

Reasons: Within 2000 ft. of flammable or explosive material; Secured Area

Bldg. 141A

Twin Cities Army Ammunition Plant

New Brighton MN 55112

Landholding Agency: Army

Property Number: 21199420229

Status: Unutilized

Directions:

Comments:

Reasons: Within 2000 ft. of flammable or explosive material; Secured Area

Bldg. 141B

Twin Cities Army Ammunition Plant

New Brighton MN 55112

Landholding Agency: Army

Property Number: 21199420230

Status: Unutilized

Directions:

Comments:

Reasons: Secured Area; Within 2000 ft. of flammable or explosive material

Bldg. 142

Twin Cities Army Ammunition Plant

New Brighton MN 55112

Landholding Agency: Army

Property Number: 21199420231

Status: Unutilized

Directions:

Comments:

Reasons: Within 2000 ft. of flammable or explosive material; Secured Area

Bldg. 144A

Twin Cities Army Ammunition Plant

New Brighton MN 55112

Landholding Agency: Army

Property Number: 21199420233

Status: Unutilized

Directions:

Comments:

Reasons: Within 2000 ft. of flammable or explosive material; Secured Area

Bldg. 144C

Twin Cities Army Ammunition Plant

New Brighton MN 55112

Landholding Agency: Army

Property Number: 21199420234

Status: Unutilized

Directions:

Comments:

Reasons: Within 2000 ft. of flammable or explosive material; Secured Area

Bldg. 144D

Twin Cities Army Ammunition Plant

New Brighton MN 55112

Landholding Agency: Army

Property Number: 21199420235

Status: Unutilized

Directions:

Comments:

Reasons: Secured Area; Within 2000 ft. of flammable or explosive material

Bldg. 144F

Twin Cities Army Ammunition Plant

New Brighton MN 55112

Landholding Agency: Army

Property Number: 21199420237

Status: Unutilized

Directions:

Comments:

Reasons: Within 2000 ft. of flammable or explosive material; Secured Area

Bldg. 144H

Twin Cities Army Ammunition Plant

New Brighton MN 55112

Landholding Agency: Army

Property Number: 21199420239

Status: Unutilized

Directions:

Comments:

Reasons: Secured Area; Within 2000 ft. of flammable or explosive material

Bldg. 149A

Twin Cities Army Ammunition Plant

New Brighton MN 55112

Landholding Agency: Army

Property Number: 21199420240

Status: Unutilized

Directions:

Comments:

Reasons: Secured Area; Within 2000 ft. of flammable or explosive material

Bldg. 149C

Twin Cities Army Ammunition Plant

New Brighton MN 55112

Landholding Agency: Army

Property Number: 21199420242

Status: Unutilized

Directions:

Comments:

Reasons: Secured Area; Within 2000 ft. of flammable or explosive material

Bldg. 149D

Twin Cities Army Ammunition Plant

New Brighton MN 55112

Landholding Agency: Army

Property Number: 21199420243

Status: Unutilized

Directions:

Comments:

Reasons: Within 2000 ft. of flammable or explosive material; Secured Area

Bldg. 149F

Twin Cities Army Ammunition Plant

New Brighton MN 55112

Landholding Agency: Army

Property Number: 21199420245

Status: Unutilized

Directions:

Comments:

Reasons: Within 2000 ft. of flammable or explosive material; Secured Area

Bldg. 149G

Twin Cities Army Ammunition Plant

New Brighton MN 55112

Landholding Agency: Army

Property Number: 21199420246

Status: Unutilized

Directions:

Comments:

Reasons: Secured Area; Within 2000 ft. of flammable or explosive material

Bldg. 149H

Twin Cities Army Ammunition Plant

New Brighton MN 55112

Landholding Agency: Army

Property Number: 21199420247

Status: Unutilized

Directions:

Comments:

Reasons: Within 2000 ft. of flammable or explosive material; Secured Area

Bldg. 149I

Twin Cities Army Ammunition Plant

New Brighton MN 55112

Landholding Agency: Army

Property Number: 21199420248

Status: Unutilized

Directions:

Comments:

Reasons: Within 2000 ft. of flammable or explosive material; Secured Area

Bldg. 149J

Twin Cities Army Ammunition Plant

New Brighton MN 55112

Landholding Agency: Army

Property Number: 21199420249

Status: Unutilized

Directions:

Comments:

Reasons: Secured Area; Within 2000 ft. of flammable or explosive material

Bldg. 149K

Twin Cities Army Ammunition Plant

New Brighton MN 55112

Landholding Agency: Army

Property Number: 21199420250

Status: Unutilized

Directions:

Comments:

Reasons: Within 2000 ft. of flammable or explosive material; Secured Area

Bldg. 149M

Twin Cities Army Ammunition Plant

New Brighton MN 55112

Landholding Agency: Army

Property Number: 21199420252

Status: Unutilized

Directions:

Comments:

Reasons: Secured Area; Within 2000 ft. of flammable or explosive material

Bldg. 149N

Twin Cities Army Ammunition Plant

New Brighton MN 55112

Landholding Agency: Army

Property Number: 21199420253

Status: Unutilized

Directions:

Comments:

Reasons: Within 2000 ft. of flammable or explosive material; Secured Area

Bldg. 159

Twin Cities Army Ammunition Plant

New Brighton MN 55112

Landholding Agency: Army

Property Number: 21199420254

Status: Unutilized

Directions:

Comments:

Reasons: Within 2000 ft. of flammable or explosive material

Bldg. 177

Twin Cities Army Ammunition Plant

New Brighton MN 55112

Landholding Agency: Army

Property Number: 21199420256

Status: Unutilized

Directions:

Comments:

Reasons: Within 2000 ft. of flammable or explosive material; Secured Area

Bldg. 180

Twin Cities Army Ammunition Plant

New Brighton MN 55112

Landholding Agency: Army

Property Number: 21199420257

Status: Unutilized

Directions:

Comments:

Reasons: Within 2000 ft. of flammable or explosive material; Secured Area

Bldg. 191

Twin Cities Army Ammunition Plant

New Brighton MN 55112

Landholding Agency: Army

Property Number: 21199420258

Status: Unutilized

Directions:

Comments:

Reasons: Extensive deterioration; Secured Area; Within 2000 ft. of flammable or explosive material

Bldg. 192A

Twin Cities Army Ammunition Plant

New Brighton MN 55112

Landholding Agency: Army

Property Number: 21199420259

Status: Unutilized

Directions:

Comments:

Reasons: Within 2000 ft. of flammable or explosive material; Secured Area

Bldg. 192B

Twin Cities Army Ammunition Plant

New Brighton MN 55112

Landholding Agency: Army

Property Number: 21199420260

Status: Unutilized

Directions:

Comments:

Reasons: Secured Area; Within 2000 ft. of flammable or explosive material

Bldg. 195

Twin Cities Army Ammunition Plant

New Brighton MN 55112

Landholding Agency: Army

Property Number: 21199420261

Status: Unutilized

Directions:

Comments:

Reasons: Within 2000 ft. of flammable or explosive material; Secured Area

Bldg. 196

Twin Cities Army Ammunition Plant

New Brighton MN 55112

Landholding Agency: Army

Property Number: 21199420262

Status: Unutilized

Directions:

Comments:

Reasons: Secured Area; Within 2000 ft. of flammable or explosive material

Bldg. 199

Twin Cities Army Ammunition Plant

New Brighton MN 55112

Landholding Agency: Army

Property Number: 21199420263

Status: Unutilized

Directions:

Comments:

Reasons: Within 2000 ft. of flammable or explosive material; Secured Area

Bldg. 303

Twin Cities Army Ammunition Plant

New Brighton MN 55112

Landholding Agency: Army

Property Number: 21199420264

Status: Unutilized

Directions:

Comments:

Reasons: Secured Area; Within 2000 ft. of flammable or explosive material

Bldg. 304

Twin Cities Army Ammunition Plant

New Brighton MN 55112

Landholding Agency: Army

Property Number: 21199420265

Status: Unutilized

Directions:

Comments:

Reasons: Secured Area; Within 2000 ft. of flammable or explosive material

Bldg. 314

Twin Cities Army Ammunition Plant

New Brighton MN 55112

Landholding Agency: Army

Property Number: 21199420266

Status: Unutilized

Directions:

Comments:

Reasons: Extensive deteriorationWithin 2000 ft. of flammable or explosive material; Secured Area

Bldg. 315

Twin Cities Army Ammunition Plant

New Brighton MN 55112

Landholding Agency: Army

Property Number: 21199420267

Status: Unutilized

Directions:

Comments:

Reasons: Within 2000 ft. of flammable or explosive material; Secured Area

Bldg. 327

Twin Cities Army Ammunition Plant

New Brighton MN 55112

Landholding Agency: Army

Property Number: 21199420268

Status: Unutilized

Directions:

Comments:

Reasons: Within 2000 ft. of flammable or explosive material; Secured Area

Bldg. 328

Twin Cities Army Ammunition Plant

New Brighton MN 55112

Landholding Agency: Army

Property Number: 21199420269

Status: Unutilized

Directions:

Comments:

Reasons: Secured Area; Within 2000 ft. of flammable or explosive material

Bldg. 329

Twin Cities Army Ammunition Plant

New Brighton MN 55112

Landholding Agency: Army

Property Number: 21199420270

Status: Unutilized

Directions:

Comments:

Reasons: Within 2000 ft. of flammable or explosive material; Secured Area

Bldg. 330

Twin Cities Army Ammunition Plant

New Brighton MN 55112

Landholding Agency: Army

Property Number: 21199420271

Status: Unutilized

Directions:

Comments:

Reasons: Within 2000 ft. of flammable or explosive material; Secured Area

Bldg. 338B

Twin Cities Army Ammunition Plant

New Brighton MN 55112

Landholding Agency: Army

Property Number: 21199420272

Status: Unutilized

Directions:

Comments:

Reasons: Within 2000 ft. of flammable or explosive material; Secured Area

Bldg. 338C

Twin Cities Army Ammunition Plant

New Brighton MN 55112

Landholding Agency: Army

Property Number: 21199420273

Status: Unutilized

Directions:

Comments:

Reasons: Within 2000 ft. of flammable or explosive material; Secured Area

Bldg. 338D

Twin Cities Army Ammunition Plant

New Brighton MN 55112

Landholding Agency: Army

Property Number: 21199420274

Status: Unutilized

Directions:

Comments:

Reasons: Within 2000 ft. of flammable or explosive material; Secured Area

Bldg. 372

Twin Cities Army Ammunition Plant

New Brighton MN 55112

Landholding Agency: Army

Property Number: 21199420275

Status: Unutilized

Directions:

Comments:

Reasons: Secured Area; Within 2000 ft. of flammable or explosive material

Bldg. 908

Twin Cities Army Ammunition Plant

New Brighton MN 55112

Landholding Agency: Army

Property Number: 21199420279

Status: Unutilized

Directions:

Comments:

Reasons: Extensive deterioration; Within 2000 ft. of flammable or explosive material; Secured Area

Bldg. 1190

Twin Cities Army Ammunition Plant

New Brighton MN 55112

Landholding Agency: Army

Property Number: 21199420281

Status: Unutilized

Directions:

Comments:

Reasons: Extensive deterioration; Secured Area; Within 2000 ft. of flammable or explosive material

Bldg. 1490

Twin Cities Army Ammunition Plant

New Brighton MN 55112

Landholding Agency: Army

Property Number: 21199420282

Status: Unutilized

Directions:

Comments:

Reasons: Secured Area; Within 2000 ft. of flammable or explosive material

Bldg. 5154

Twin Cities Army Ammunition Plant

New Brighton MN 55112

Landholding Agency: Army

Property Number: 21199420283

Status: Unutilized

Directions:

Comments:

Reasons: Secured Area; Within 2000 ft. of flammable or explosive material

Bldg. 158

Twin Cities Army Ammunition Plant

New Brighton MN 55112

Landholding Agency: Army

Property Number: 21199430060

Status: Unutilized

Directions:

Comments:

Reasons: Secured Area

Bldg. 567A

Twin Cities Army Ammunition Plant

New Brighton MN 55112

Landholding Agency: Army

Property Number: 21199430062

Status: Unutilized

Directions:

Comments:

Reasons: Secured Area

Bldg. 567B

Twin Cities Army Ammunition Plant

New Brighton MN 55112

Landholding Agency: Army

Property Number: 21199430063

Status: Unutilized

Directions:

Comments:

Reasons: Secured Area

Bldgs. 570, 571

Twin Cities AAP

Arden Hills MN 55112-3928

Landholding Agency: Army

Property Number: 21200130053

Status: Excess

GSA Number:

Reasons: Within 2000 ft. of flammable or explosive material; Secured Area

Bldgs. 917A, 917B

Twin Cities AAP

Arden Hills MN 55112-3928

Landholding Agency: Army

Property Number: 21200130054

Status: Excess

GSA Number:

Reasons: Secured Area; Within 2000 ft. of flammable or explosive material

Missouri

3 Buildings

Whiteman AFB

Whiteman AFB MO 65305

Landholding Agency: Air Force

Property Number: 18201610012

Status: Excess

Directions: Building #107, 410, 534

Comments: public access denied and no alternative method to gain access without compromising national security.

Reasons: Secured Area

4 Buildings

705 Memorial Dr.

Saint Joseph MO

Landholding Agency: Air Force

Property Number: 18201610019

Status: Underutilized

Directions: Building 52, 56, 58, 82

Comments: public access denied and no alternative method to gain access without compromising national security; property located within floodway which has not been correct or contained.

Reasons: Floodway, Secured Area

Lake City Army Ammo. Plant 59

Independence MO 64050

Landholding Agency: Army

Property Number: 21199013666

Status: Unutilized

Directions:

Comments:

Reasons: Secured Area

Lake City Army Ammo. Plant 59A

Independence MO 64050

Landholding Agency: Army

Property Number: 21199013667

Status: Unutilized

Directions:

Comments:

Reasons: Secured Area

Lake City Army Ammo. Plant

59C

Independence MO 64050

Landholding Agency: Army

Property Number: 21199013668

Status: Unutilized

Directions:

Comments:

Reasons: Secured Area

Bldg #1

St. Louis Army Ammunition Plant

4800 Goodfellow Blvd.

St. Louis MO 63120-1798

Landholding Agency: Army

Property Number: 21199120067

Status: Unutilized

Directions:

Comments:

Reasons: Secured Area

Bldg #2

St. Louis Army Ammunition Plant

4800 Goodfellow Blvd.

St. Louis MO 63120-1798

Landholding Agency: Army

Property Number: 21199120068

Status: Unutilized

Directions:

Comments:

Reasons: Secured Area

Bldg. T-2350

Ft. Leonard Wood

Ft. Leonard Wood MO 65473

Landholding Agency: Army

Property Number: 21199430075

Status: Underutilized

Directions:

Comments:

Reasons: Within 2000 ft. of flammable or explosive material

Bldg. 149

Lake City Army Ammunition Plant

Independence MO 64050

Landholding Agency: Army

Property Number: 21199530136

Status: Unutilized

Directions:

Comments:

Reasons: Secured Area; Within 2000 ft. of flammable or explosive material

Bldg. 4

St. Louis Army Ammunition Plant

St. Louis MO 63120-1584

Landholding Agency: Army

Property Number: 21199610469

Status: Unutilized

Directions:

Comments:

Reasons: Secured Area; Extensive deterioration

Bldg. 7

St. Louis Army Ammunition Plant

St. Louis MO 63120-1584

Landholding Agency: Army

Property Number: 21199610470

Status: Unutilized

Directions:

Comments:

Reasons: Secured Area; Within 2000 ft. of flammable or explosive material

Bldg. 11

St. Louis Army Ammunition Plant

St. Louis MO 63120-1584

Landholding Agency: Army

Property Number: 21199610471

Status: Unutilized

Directions:

Comments:

Reasons: Secured Area

Bldg. 13

St. Louis Army Ammunition Plant

St. Louis MO 63120-1584

Landholding Agency: Army

Property Number: 21199610472

Status: Unutilized

Directions:

Comments:

Reasons: Secured Area

Bldg. 14

St. Louis Army Ammunition Plant

St. Louis MO 63120-1584

Landholding Agency: Army

Property Number: 21199610473

Status: Unutilized

Directions:

Comments:

Reasons: Secured Area; Extensive deterioration

Bldg. 15

St. Louis Army Ammunition Plant

St. Louis MO 63120-1584

Landholding Agency: Army

Property Number: 21199610474

Status: Unutilized

Directions:

Comments:

Reasons: Extensive deterioration; Secured Area

Bldg. 16

St. Louis Army Ammunition Plant

St. Louis MO 63120-1584

Landholding Agency: Army

Property Number: 21199610475

Status: Unutilized

Directions:

Comments:

Reasons: Extensive deterioration; Secured Area

Bldg. 5396

Fort Leonard Wood

Pulaski MO 65473-8994

Landholding Agency: Army

Property Number: 21199910020

Status: Unutilized

GSA Number:

Reasons: Extensive deterioration

Bldg. 5539

Fort Leonard Wood

Pulaski MO 65473-8994

Landholding Agency: Army

Property Number: 21199910021

Status: Unutilized

GSA Number:

Reasons: Extensive deterioration

6 Bldgs.

Lake City Army Ammunition Plant

40A, B, C, 41A, 41B, 41C

Independence MO 64050

Landholding Agency: Army

Property Number: 21199910023

Status: Excess

GSA Number:

Reasons: Within 2000 ft. of flammable or explosive material; Secured Area

3 Bldgs.

Lake City Army Ammunition Plant

52B, 52C, 71A

Independence MO 64050

Landholding Agency: Army

Property Number: 21199910025

Status: Excess

GSA Number:

Reasons: Within 2000 ft. of flammable or explosive material; Secured Area

Bldgs. 131A, 132A

Lake City Army Ammunition Plant

Independence MO 64050

Landholding Agency: Army

Property Number: 21199910028

Status: Excess

GSA Number:

Reasons: Secured Area; Within 2000 ft. of flammable or explosive material

Bldgs. 133A-133E

Lake City Army Ammunition Plant

Independence MO 64050

Landholding Agency: Army

Property Number: 21199910029

Status: Excess

GSA Number:

Reasons: Secured Area; Within 2000 ft. of flammable or explosive material

10 Bldgs.

Lake City Army Ammunition Plant

134A-134E, 135A-135E

Independence MO 64050

Landholding Agency: Army

Property Number: 21199910030

Status: Excess

GSA Number:

Reasons: Within 2000 ft. of flammable or explosive material; Secured Area

Bldgs. 141A-141B

Lake City Army Ammunition Plant

Independence MO 64050

Landholding Agency: Army

Property Number: 21199910033

Status: Excess

GSA Number:

Reasons: Secured Area; Within 2000 ft. of flammable or explosive material

Bldgs. 144A, 144B

Lake City Army Ammunition Plant

Independence MO 64050

Landholding Agency: Army

Property Number: 21199910034

Status: Excess

GSA Number:

Reasons: Within 2000 ft. of flammable or explosive material; Secured Area

3 Bldgs.

Lake City Army Ammunition Plant

145A, 145B, 145C

Independence MO 65050

Landholding Agency: Army

Property Number: 21199910035

Status: Excess

GSA Number:

Reasons: Within 2000 ft. of flammable or explosive material; Secured Area

Bldg. 3A

Lake City Army Ammunition Plant

Independence MO 64050

Landholding Agency: Army

Property Number: 21199920082

Status: Unutilized

GSA Number:

Reasons: Within 2000 ft. of flammable or explosive material; Secured Area

Bldg. 58A

Lake City AAP

Independence MO 64050

Landholding Agency: Army

Property Number: 21200030049

Status: Underutilized

GSA Number:

Reasons: Secured Area

Bldg. P4122

U.S. Army Reserve Center

St. Louis MO 63120-1794

Landholding Agency: Army

Property Number: 21200240055

Status: Unutilized

GSA Number:

Reasons: Extensive deterioration

Bldgs. P4074, P4072, P4073

St. Louis Ordnance Plant

St. Louis MO 63120-1794

Landholding Agency: Army

Property Number: 21200310019

Status: Unutilized

GSA Number:

Reasons: Extensive deterioration

Bldgs. 02200, 02205, 02223

Fort Leonard Wood

Ft. Leonard Wood MO 65743-8944

Landholding Agency: Army

Property Number: 21200320025

Status: Unutilized

GSA Number:

Reasons: Extensive deterioration

Bldg. 01360

Fort Leonard Wood

Ft. Leonard Wood MO 65743-8944

Landholding Agency: Army

Property Number: 21200330030

Status: Unutilized

GSA Number:

Reasons: Extensive deterioration

Bldg. 01361

Fort Leonard Wood

Ft. Leonard Wood MO 65743-8944

Landholding Agency: Army

Property Number: 21200330031

Status: Unutilized

GSA Number:

Reasons: Extensive deterioration

Bldgs. 5402, 5742

Fort Leonard Wood

Ft. Leonard Wood MO 65743-8944

Landholding Agency: Army

Property Number: 21200430029

Status: Unutilized

Reasons: Extensive deterioration

Bldg. 00645

Fort Leonard Wood

Pulaski MO 65743

Landholding Agency: Army

Property Number: 21200640051

Status: Unutilized

Reasons: Extensive deterioration

Bldg. 02553

Fort Leonard Wood

Pulaski MO 65743

Landholding Agency: Army

Property Number: 21200640052

Status: Unutilized

Reasons: Extensive deterioration

Bldgs. 1448, 1449

Fort Leonard Wood

Pulaski MO 65473

Landholding Agency: Army

Property Number: 21200740145

Status: Unutilized

Reasons: Extensive deterioration

Bldgs. 2841, 2842

Fort Leonard Wood

Pulaski MO 65473

Landholding Agency: Army

Property Number: 21200740146

Status: Unutilized

Reason s: Extensive deterioration

4 Bldgs.

Fort Leonard Wood

5234, 5339, 5345, 5351

Pulaski MO 65473

Landholding Agency: Army

Property Number: 21200740147

Status: Unutilized

Reasons: Extensive deterioration

Bldgs. 5535, 5742

Fort Leonard Wood

Pulaski MO 65473

Landholding Agency: Army

Property Number: 21200740148

Status: Unutilized

Reasons: Extensive deterioration

Bldgs. 0071B, 0072

Lake City Army Ammo Plant

Independence MO 64056

Landholding Agency: Army

Property Number: 21200820001

Status: Unutilized

Reasons: Extensive deterioration; Secured Area; Within 2000 ft. of flammable or explosive material

Bldgs. 2282, 2841, 2842

Fort Leonard Wood

Pulaski MO 65473

Landholding Agency: Army

Property Number: 21200830017

Status: Underutilized

Reasons: Within 2000 ft. of flammable or explosive material; Secured Area

Bldg. 528

Weldon Springs LTA

Saint Charles MO 63304

Landholding Agency: Army

Property Number: 21200840034

Status: Unutilized

Reasons: Extensive deterioration

5 Bldgs.

Fort Leonard Wood

Pulaski MO 65473

Landholding Agency: Army

Property Number: 21200840035

Status: Unutilized

Directions: 05360, 05361, 05367, 05368, 05369

Reasons: Secured Area

6 Bldgs.

Fort Leonard Wood

Pulaski MO 65473

Landholding Agency: Army

Property Number: 21200840036

Status: Unutilized

Directions: 05370, 05371, 05372, 05373, 05374, 05376

Reasons: Secured Area

9 Bldgs.

Fort Leonard Wood

Pulaski MO 65473

Landholding Agency: Army

Property Number: 21200840037

Status: Unutilized

Directions: 06120, 06124, 06125, 06128, 06129, 06130, 06131, 06133, 06135

Reasons: Secured Area

Bldgs. 204, 802, 2563

Fort Leonard Wood

Pulaski MO 65473

Landholding Agency: Army

Property Number: 21200930012

Status: Unutilized

Reasons: Secured Area

13 Bldgs.

Fort Leonard Wood

Pulaski MO 65473

Landholding Agency: Army

Property Number: 21200940044

Status: Unutilized

Directions: 401, 761, 762, 766, 790, 791, 792, 793, 794, 795, 796, 797, 798

Reasons: Secured Area

7 Bldgs.

Fort Leonard Wood

Pulaski MO 65473

Landholding Agency: Army

Property Number: 21200940045

Status: Unutilized

Directions: 851, 852, 853, 854, 857, 859, 2305

Reasons: Secured Area

9 Bldgs.

Fort Leonard Wood

Pulaski MO 65473

Landholding Agency: Army

Property Number: 21200940047

Status: Unutilized

Directions: 9031, 9033, 9035, 9037, 9039, 9041, 9043, 9045, 9047

Reasons: Secured Area

6 Bldgs.

Fort Leonard Wood

Pulaski MO 65473

Landholding Agency: Army

Property Number: 21200940048

Status: Unutilized

Directions: 9057, 9059, 9061, 9063, 9071, 12315

Reasons: Secured Area

Bldg. 06020

Fort Leonard Wood

Pulaski MO 65473

Landholding Agency: Army

Property Number: 21201010010

Status: Unutilized

Reasons: Secured Area; Floodway

15 Bldgs.

Lake City Army Ammo Plant

Independence MO 64051

Landholding Agency: Army

Property Number: 21201010011

Status: Unutilized

Directions: 11A, 20B, 22A, 22B, 22C, 23A, 23B, 23C, 24A, 24B, 24C, 24D, 24E, 25A, 29A

Reasons: Within 2000 ft. of flammable or explosive material; Secured Area

9 Bldgs.

Lake City Army Ammo Plant

Independence MO 64051

Landholding Agency: Army

Property Number: 21201010012

Status: Unutilized

Directions: 31, 32A, 33A, 33B, 34A, 34B, 38F, 38G, 38H

Reasons: Within 2000 ft. of flammable or explosive material; Secured Area

9 Bldgs.

Lake City Army Ammo Plant

Independence MO 64051

Landholding Agency: Army

Property Number: 21201010013

Status: Unutilized

Directions: 52A, 53, 55, 59, 60, 73W, 79, 79A, 79B

Reasons: Within 2000 ft. of flammable or explosive material; Secured Area

7 Bldgs.

Lake City Army Ammo Plant

Independence MO 64051

Landholding Agency: Army

Property Number: 21201010014

Status: Unutilized

Directions: 80F, 91D, 91F, 94D 120A, 120D, 120G

Reasons: Within 2000 ft. of flammable or explosive material; Secured Area

6 Bldgs.

Lake City Army Ammo Plant

Independence MO 64051

Landholding Agency: Army

Property Number: 21201010015

Status: Unutilized

Directions: T056R, T94B, T94C, T239, T247, T260

Reasons: Within 2000 ft. of flammable or explosive material; Secured Area

14 Bldgs.

Lake City AAP

Independence MO 64051

Landholding Agency: Army

Property Number: 21201040010

Status: Unutilized

Directions: 59, 59A, 59B, 59C, 60, 66A, 66B, 66C, 66D, 66E, 67, 70A 70B 80D

Reasons: Secured Area; Within 2000 ft. of flammable or explosive material

10 Bldgs.

Fort Leonard Wood

Pulaski MO 65473

Landholding Agency: Army

Property Number: 21201040011

Status: Unutilized

Directions: 1228, 1255, 1269, 2101, 2112, 2551, 2552, 5280, 5506, 6824

Reasons: Secured Area

Harry S. Truman Reservior

15968 Truman Rd.

Warsaw MO 65355

Landholding Agency: Army

Property Number: 21201110001

Status: Underutilized

Directions: 07015 and L43002

Reasons: Extensive deterioration

12 Bldgs.

Ft. Leonard Woods

Ft. Leonard Woods MO 65473

Landholding Agency: Army

Property Number: 21201110043

Status: Excess

Directions: 00642, 00650, 00651, 00652, 00653, 00654, 00655, 00656, 00657, 00658, 00659, 00660

Reasons: Secured Area

Bldgs. 01604 and 05130

Ft. Leonard Woods

Ft. Leonard Woods MO 65473

Landholding Agency: Army

Property Number: 21201110044

Status: Excess

Reasons: Extensive deterioration; Secured Area

8 Bldgs.

Ft. Leonard Woods

Ft. Leonard Woods MO 65473

Landholding Agency: Army

Property Number: 21201110062

Status: Excess

Directions: 00618, 0618A, 00618B, 00619, 0619A, 0619B, 00906, 00907

Reasons: Secured Area

Bldgs. 5130 and 5136

Ft. Leonard Woods

FLW MO

Landholding Agency: Army

Property Number: 21201120011

Status: Excess

Reasons: Secured Area; Extensive deterioration

Bldg. 1269

Ft. Leonard Woods

FLW MO

Landholding Agency: Army

Property Number: 21201120013

Status: Excess

Reasons: Secured Area

Bldg. 1255

Ft. Leonard Woods

FLW MO

Landholding Agency: Army

Property Number: 21201120014

Status: Excess

Reasons: Secured Area

Bldg. 1228

Ft. Leonard Woods

FLW MO

Landholding Agency: Army

Property Number: 21201120015

Status: Excess

Reasons: Secured Area

Bldgs. 906 and 907

Ft. Leonard Woods

FLW MO

Landholding Agency: Army

Property Number: 21201120016

Status: Excess

Reasons: Secured Area

14 Bldgs.

Camp Clark

Nevada MO 64772

Landholding Agency: Army

Property Number: 21201130046

Status: Unutilized

Directions: K0001, K0002, K0003, K0004, K0005, K0006, K0007, K0008, K0010, K0012, K0014, K0016, K0018, K0020

Reasons: Extensive deterioration

11 Bldgs.

Camp Clark

Nevada MO 64772

Landholding Agency: Army

Property Number: 21201130047

Status: Unutilized

Directions: J0006, J0007, J0008, J0009, J0010, J0011, J0012, J0013, J0015, J0017, J0019

Reasons: Secured Area; Extensive deterioration

12 Bldgs.

Camp Clark

Nevada MO 64772

Landholding Agency: Army

Property Number: 21201130048

Status: Unutilized

Directions: 435, 436, 438, 460, 466, 504, 506, J0001, J0002, J0003, J0004, J0005

Reasons: Secured Area; Extensive deterioration

13 Bldgs.

Camp Clark

Nevada MO 64772

Landholding Agency: Army

Property Number: 21201130049

Status: Unutilized

Directions: 00383, 00384, 00385, 00386, 00388, 00389, 00391, 00392, 00402, 00410, 00411, 00425, 00433

Reasons: Secured Area; Extensive deterioration

Bldg T62-9

Lake City Army Ammunition Plant

Independence MO 64051

Landholding Agency: Army

Property Number: 21201140071

Status: Underutilized

Reasons: Contamination; Secured Area

2 Bldgs.

Railroad Ave.

Fort Leonard Wood MO 65473

Landholding Agency: Army

Property Number: 21201140072

Status: Unutilized

Directions: 02351, 02352

Reasons: Secured Area

11 Bldgs.

Ft. Leonard Woods

Ft. Leonard Woods MO 65473

Landholding Agency: Army

Property Number: 21201220019

Status: Excess

Directions: 499, 720, 745, 2555, 2556, 2557, 2558, 5076, 8208, 8370, 30

Comments: nat'l security concerns; public access denied & no alternative method to gain access w/out comprising nat'l security.

Reasons: Secured Area

14 Buildings

Camp Crowder

Neosho MO 64850

Landholding Agency: Army

Property Number: 21201230010

Status: Unutilized

Directions: 5, 6, 8, 9, 10, 12, 18, 34, 35, 36, 37, 38, 39, 51

Comments: military personnel only; public access denied & no alternative method to gain access w/out comprising nat'l security.

Reasons: Secured Area

11 Buildings

Ft. Leonard Wood

Ft. Leonard Wood MO 65473

Landholding Agency: Army

Property Number: 21201230032

Status: Underutilized

Directions: 2314, 2313, 1614, 1230, 786, 689, 404, 690, 763, 764, 766

Comments: no public access & no alternative method w/out comprising nat'l security.

Reasons: Secured Area

19 Buildings

Ft. Leonard Wood

Ft. Leonard Wood MO 65473

Landholding Agency: Army

Property Number: 21201230033

Status: Unutilized

Directions: 9613, 9611, 6127, 6125, 6124, 6120, 5125, 5124, 5122, 5073, 2565, 2349, 1134, 978, 975, 758, 9615, 9617, 9619

Comments: no public access & no alternative method to gain access w/out comprising nat'l security.

Reasons: Secured Area

4 Buildings

Ft. Leonard Wood

Ft. Leonard Wood MO 65473

Landholding Agency: Army

Property Number: 21201230038

Status: Unutilized

Directions: 565, 566, 567, 569

Comments: no public access & no alternative method to gain access w/out comprising nat'l security.

Reasons: Secured Area

5 Buildings

Ft. Leonard Wood

Ft. Leonard Wood MO 65473

Landholding Agency: Army

Property Number: 21201230039

Status: Underutilized

Directions: 664, 665, 669, 686, 687

Comments: no public access & no alternative method to gain access w/out comprising nat'l security

Reasons: Secured Area

3 Buildings

Ft. Leonard Wood

Ft. Leonard Wood MO 65473

Landholding Agency: Army

Property Number: 21201230040

Status: Unutilized

Directions: 688, 759, 760

Comments: no public access & no alternative method to gain access w/out comprising nat'l security.

Reasons: Secured Area

9 Buildings

Ft. Leonard Wood

Ft. Leonard Wood MO 65473

Landholding Agency: Army

Property Number: 21201230041

Status: Excess

Directions: 711, 712, 713, 714, 715, 720, 721, 722, 723

Comments: no public access & no alternative method to gain access w/out compring nat'l security.

Reasons: Secured Area

Bldg. 724

Utah St.

Ft. Leonard Wood MO 65473

Landholding Agency: Army

Property Number: 21201230059

Status: Excess

Comments: no public access;no alternative method for public to gain access w/out comprising nat'l security.

Reasons: Secured Area

Bldg. 31

Camp Crowder

Neosha MO 64850

Landholding Agency: Army

Property Number: 21201230061

Status: Unutilized

Comments: military personnel/authorized use personnel; public access denied & no alternative method for public to gain access w/out comprising nat'l security.

Reasons: Secured Area

4 Buildings

Ft. Leonard Wood

Ft. Leonard Wood MO 65473

Landholding Agency: Army

Property Number: 21201240017

Status: Unutilized

Directions: 691, 692, 693, 694

Comments: located in secured area, public access denied & no alternative method to gain access without compromising national security.

Reasons: Secured Area

4 Buildings

Ft. Leonard Wood

Ft. Leonard Wood MO 65473

Landholding Agency: Army

Property Number: 21201320022

Status: Unutilized

Directions: 05343, 05382, 05394, 06501

Comments: public access denied & no alternative method to gain access w/out compromising nat'l security.

Reasons: Secured Area

Building 00007

890 Ray A. Carver Ave. (Camp Crowder)

Neosho MO 64850

Landholding Agency: Army

Property Number: 21201330035

Status: Excess

Comments: public access denied & no alternative method to gain access w/out compromising nat'l security.

Reasons: Secured Area

15 Buildings

Camp Clark MOARING

Nevada MO 64772

Landholding Agency: Army

Property Number: 21201340003

Status: Unutilized

Directions: H0001, H0002, H0003, H0004, H0005, H00006, H0007, H0008, H0009, H0010, H0011, H0012, H0013, H0015, H0016

Comments: public access denied and no alternative method to gain access without compromising national security.

Reasons: Secured Area

T151D

Lake City Army Ammunition Plant

Independence MO 64056

Landholding Agency: Army

Property Number: 21201430017

Status: Excess

Directions: T151D

Comments: public access denied and no alternative without compromising national security.

Reasons: Secured Area

13 Buildings

Fort Leonard Wood

Fort Leonard Wood MO 65473

Landholding Agency: Army

Property Number: 21201440024

Status: Unutilized

Directions: 02431; 02433; 02435; 02462; 02464; 02466; 02468; 02470; 02472; 02474; 02476; 02478; 02480

Comments: public access denied and no alternative method to gain access w/out compromising national security.

Reasons: Secured Area

11 Buildings

Fort Leonard Wood

Fort Leonard Wood MO 65473

Landholding Agency: Army

Property Number: 21201440029

Status: Unutilized

Directions: 02461; 02463; 02465; 02467; 02469; 02471; 02473; 02475; 02477; 02479; 02481

Comments: public access denied and no alternative method to gain access w/out compromising national security.

Reasons: Secured Area

3 Buildings

Fort Leonard Wood

Fort Leonard Wood MO 65473

Landholding Agency: Army

Property Number: 21201440030

Status: Unutilized

Directions: 02430; 02432; 02434

Comments: public access denied and no alternative method to gain access w/out compromising national security.

Reasons: Secured Area

2 Buildings

Fort Leonard Wood Lake of Ozarks Rec. Area

Fort Leonard Wood MO 65473

Landholding Agency: Army

Property Number: 21201440031

Status: Unutilized

Directions: 00550; 00500

Comments: public access denied and no alternative method to gain access w/out compromising national security.

Reasons: Secured Area

3 Building

Ft. Leonard Wood Lake of the Ozarks Rec. Area

Fort Leonard Wood MO 65049

Landholding Agency: Army

Property Number: 21201510026

Status: Unutilized

Directions: 00555; 00550; 00500

Comments: fair condition prior approve to gain access is required, for more information contact Army about a specific property.

Reasons: Secured Area

39 Buildings

Fort Leonard Wood

Ft. Leaonard Wood MO 65473

Landholding Agency: Army

Property Number: 21201530076

Status: Unutilized

Directions: 600OL; 00671; 06695; 700OL; 00769; 773; 775; 777; 777A; 780; 800OL; 00860; 00870; 00981; 0981A; 0981B; 0981C; 0981D; 0981E; 0981F; 0981G; 0981H; 0981I; 0981J; 0981K; 0981L; 0981M; 0981N; 0981O; 0981P; 1027; 02370; 5015; 5270; 5282; 0981Q; 771; 772

Comments: public access denied and no alternative method to gain access without compromising national security.

Reasons: Secured Area

4 Buildings

Fort Leonard Wood

Ft. Leonard Wood MO 65473

Landholding Agency: Army

Property Number: 21201530096

Status: Unutilized

Directions: 662; 1611; 2387; 2388

Comments: properties w/in an airport military airfield; public access denied and no alternative method to gain access w/out compromising national security

Reasons: Within airport runway clear zone, Secured Area

9 Buildings

Fort Leonard Wood

Ft. Leonard Wood MO

Landholding Agency: Army

Property Number: 21201540058

Status: Unutilized

Directions: 682-RPUID: 575534; 683-RPUID: 581273 ; 781-RPUID:593764; 887-RPUID:593487; 2307-RPUID: 573663; 2341-RPUID:597115; 4199-RPUID:579050; 5027-RPUID: 595346; 5167-RPUID: 593968

Comments: public access denied and no alternative method to gain access without compromising national security.

Reasons: Secured Area

9 Buildings

Fort Leonard Wood

Fort Leonard Wood MO

Landholding Agency: Army

Property Number: 21201540059

Status: Unutilized

Directions: 5279-RPUID: 618544; 5422-RPUID: 598786; 5426-RPUID: 618281; 5432-RPUID: 615691; 5442-RPUID: 582917; 5452-RPUID: 587677; 5502-RPUID: 606152; 5584-RPUID:582723; 5733-RPUID:594089

Comments: public access denied and no alternative method to gain access without compromising national security.

Reasons: Secured Area

2 Buildings

Fort Leonard Wood

Fort Leonard Wood MO

Landholding Agency: Army

Property Number: 21201540060

Status: Unutilized

Directions: 12652-RPUID:607957; 668

Comments: public access denied and no alternative method to gain access without compromising national security.

Reasons: Secured Area

Building 0033A

25201 East 78 Hwy

Independence MO 64056

Landholding Agency: Army

Property Number: 21201610039

Status: Excess

Directions: RPUID: 341156

Comments: public access denied and no alternative method to gain access without compromising national security.

Reasons: Secured Area

11 Buildings

Lake City Army Ammunition Plant

Independence MO 64056

Landholding Agency: Army

Property Number: 21201610040

Status: Unutilized

Directions: T0227:340480; T151D:340508; T0231:340482; T0230:340481; 0038A:341172; 0093C:339706; 0070A:341261; 0068B:341250; T038F:340492; 0020A:336462; 00146:341081

Comments: public access denied and no alternative method to gain access without compromising national security.

Reasons: Secured Area

15 Buildings

Lake City Army Ammunition Plant

Independence MO 64056

Landholding Agency: Army

Property Number: 21201610042

Status: Underutilized

Directions: 11430:336781; 11433:336783; 11423:336774; 1146:580777; 1144:608662; 1142:615420; 11424:336775; 11421:336772; 11426:336777; 1143:595736; 11422:336773; 1141:608663; 11410:609475; 11411:595737; 11431:336782

Comments: public access denied and no alternative method to gain access without compromising national security.

Reasons: Secured Area

Building 0033A

25201 East 78 Hwy

Independence MO 64056

Landholding Agency: Army

Property Number: 21201610062

Status: Excess

Directions: RPUID:341156

Comments: public access denied and no alternative method to gain access without compromising national security.

Reasons: Secured Area

Montana

Bldg. P0516

Fort Harrison

Ft. Harrison MT 59636

Landholding Agency: Army

Property Number: 21200420104

Status: Excess

Reasons: Secured Area; Extensive deterioration

4 Bldgs.

Ft. Harrison

0003A, T0003, T0024, T0562

Lewis & Clark MT 59636

Landholding Agency: Army

Property Number: 21200740018

Status: Unutilized

Reasons: Extensive deterioration

Bldg. 101-2

Hawthorne Army Ammunition Plant

Group Mine Filling Plant, Central Mag. Area

Hawthorne NV 89415

Landholding Agency: Army

Property Number: 21199013615

Status: Underutilized

Directions:

Comments:

Reasons: Secured Area; Within 2000 ft. of flammable or explosive material

Bldg. 101-3

Hawthorne Army Ammunition Plant

Group Mine Filling Plant, Central Mag. Area

Hawthrone NV 89415

Landholding Agency: Army

Property Number: 21199013616

Status: Underutilized

Directions:

Comments:

Reasons: Within 2000 ft. of flammable or explosive material; Secured Area

Bldg. 101-4

Hawthorne Army Ammunition Plant

Group Mine Filling Plant, Central Mag. Area

Hawthorne NV 89415

Landholding Agency: Army

Property Number: 21199013617

Status: Underutilized

Directions:

Comments:

Reasons: Secured Area; Within 2000 ft. of flammable or explosive material

Bldg. 101-5

Hawthorne Army Ammunition Plant

Group Mine Filling Plant, Central Mag. Area

Hawthorne NV 89415

Landholding Agency: Army

Property Number: 21199013618

Status: Underutilized

Directions:

Comments:

Reasons: Within 2000 ft. of flammable or explosive material; Secured Area

Bldg. 101-7

Hawthorne Army Ammunition Plant

Group Mine Filling Plant, Central Mag. Area

Hawthorne NV 89415

Landholding Agency: Army

Property Number: 21199013619

Status: Underutilized

Directions:

Comments:

Reasons: Within 2000 ft. of flammable or explosive material; Secured Area

Bldg. 101-8

Hawthorne Army Ammunition Plant

Group Mine Filling Plant, Central Mag. Area

Hawthorne NV 89415

Landholding Agency: Army

Property Number: 21199013620

Status: Underutilized

Directions:

Comments:

Reasons: Secured Area; Within 2000 ft. of flammable or explosive material

Bldg. 101-9

Hawthorne Army Ammunition Plant

Group Mine Filling Plant, Central Mag. Area

Hawthorne NV 89415

Landholding Agency: Army

Property Number: 21199013621

Status: Underutilized

Directions:

Comments:

Reasons: Secured Area; Within 2000 ft. of flammable or explosive material

Bldg. 101-10

Hawthorne Army Ammunition Plant

Group Mine Filling Plant, Central Mag. Area

Hawthorne NV 89415

Landholding Agency: Army

Property Number: 21199013622

Status: Underutilized

Directions:

Comments:

Reasons: Secured Area; Within 2000 ft. of flammable or explosive material

Bldg. 101-19

Hawthorne Army Ammunition Plant

Group Mine Filling Plant, Central Mag. Area

Hawthorne NV 89415

Landholding Agency: Army

Property Number: 21199013625

Status: Underutilized

Directions:

Comments:

Reasons: Within 2000 ft. of flammable or explosive material; Secured Area

Bldg. 101-20

Hawthorne Army Ammunition Plant

Group Mine Filling Plant, Central Mag. Area

Hawthorne NV 89415

Landholding Agency: Army

Property Number: 21199013626

Status: Underutilized

Directions:

Comments:

Reasons: Secured Area; Within 2000 ft. of flammable or explosive material

Bldg. 101-31

Hawthorne Army Ammunition Plant

Group Mine Filling Plant, Central Mag. Area

Hawthorne NV 89415

Landholding Agency: Army

Property Number: 21199013627

Status: Underutilized

Directions:

Comments:

Reasons: Within 2000 ft. of flammable or explosive material; Secured Area

Bldg. 101-32

Hawthorne Army Ammunition Plant

Group Mine Filling Plant, Central Mag. Area

Hawthorne NV 89415

Landholding Agency: Army

Property Number: 21199013628

Status: Underutilized

Directions:

Comments:

Reasons: Secured Area; Within 2000 ft. of flammable or explosive material

Bldg. 101-35

Hawthorne Army Ammunition Plant

Group Mine Filling Plant, Central Mag. Area

Hawthorne NV 89415

Landholding Agency: Army

Property Number: 21199013630

Status: Underutilized

Directions:

Comments:

Reasons: Within 2000 ft. of flammable or explosive material; Secured Area

Bldg. 101-36

Hawthorne Army Ammunition Plant

Group Mine Filling Plant, Central Mag. Area

Hawthorne NV 89415

Landholding Agency: Army

Property Number: 21199013631

Status: Underutilized

Directions:

Comments:

Reasons: Within 2000 ft. of flammable or explosive material; Secured Area

Bldg. 101-37

Hawthorne Army Ammunition Plant

Group Mine Filling Plant, Central Mag. Area

Hawthorne NV 89415

Landholding Agency: Army

Property Number: 21199013632

Status: Underutilized

Directions:

Comments:

Reasons: Within 2000 ft. of flammable or explosive material; Secured Area

Bldg. 101-52

Hawthorne Army Ammunition Plant

Group Mine Filling Plant, Central Mag. Area

Hawthorne NV 89415

Landholding Agency: Army

Property Number: 21199013633

Status: Underutilized

Directions:

Comments:

Reasons: Within 2000 ft. of flammable or explosive material; Secured Area

Bldg. 101-53

Hawthorne Army Ammunition Plant

Group Mine Filling Plant, Central Mag. Area

Hawthorne NV 89415

Landholding Agency: Army

Property Number: 21199013634

Status: Underutilized

Directions:

Comments:

Reasons: Within 2000 ft. of flammable or explosive material; Secured Area

Bldg. 101-54

Hawthorne Army Ammunition Plant

Group Mine Filling Plant, Central Mag. Area

Hawthorne NV 89415

Landholding Agency: Army

Property Number: 21199013635

Status: Underutilized

Directions:

Comments:

Reasons: Secured Area; Within 2000 ft. of flammable or explosive material

Bldg. 101-56

Hawthorne Army Ammunition Plant

Group Mine Filling Plant, Central Mag. Area

Hawthorne NV 89415

Landholding Agency: Army

Property Number: 21199013636

Status: Underutilized

Directions:

Comments:

Reasons: Secured Area; Within 2000 ft. of flammable or explosive material

Bldg. 101-57

Hawthorne Army Ammunition Plant

Group Mine Filling Plant, Central Mag. Area

Hawthorne NV 89415

Landholding Agency: Army

Property Number: 21199013637

Status: Underutilized

Directions:

Comments:

Reasons: Within 2000 ft. of flammable or explosive material; Secured Area

Bldg. 101-58

Hawthorne Army Ammunition Plant

Group Mine Filling Plant, Central Mag. Area

Hawthorne NV 89415

Landholding Agency: Army

Property Number: 21199013638

Status: Underutilized

Directions:

Comments:

Reasons: Secured Area; Within 2000 ft. of flammable or explosive material

Bldg. 101-59

Hawthorne Army Ammunition Plant

Group Mine Filling Plant, Central Mag. Area

Hawthorne NV 89415

Landholding Agency: Army

Property Number: 21199013639

Status: Underutilized

Directions:

Comments:

Reasons: Within 2000 ft. of flammable or explosive material; Secured Area

Bldg. 101-63

Hawthorne Army Ammunition Plant

Group Mine Filling Plant, Central Mag. Area

Hawthorne NV 89415

Landholding Agency: Army

Property Number: 21199013640

Status: Underutilized

Directions:

Comments:

Reasons: Within 2000 ft. of flammable or explosive material; Secured Area

Bldg. 101-66

Hawthorne Army Ammunition Plant

Group Mine Filling Plant, Central Mag. Area

Hawthorne NV 89415

Landholding Agency: Army

Property Number: 21199013641

Status: Underutilized

Directions:

Comments:

Reasons: Secured Area; Within 2000 ft. of flammable or explosive material

Bldg. 101-67

Hawthorne Army Ammunition Plant

Group Mine Filling Plant, Central Mag. Area

Hawthorne NV 89415

Landholding Agency: Army

Property Number: 21199013642

Status: Underutilized

Directions:

Comments:

Reasons: Within 2000 ft. of flammable or explosive material; Secured Area

Bldg. 101-69

Hawthorne Army Ammunition Plant

Group Mine Filling Plant, Central Mag. Area

Hawthorne NV 89415

Landholding Agency: Army

Property Number: 21199013643

Status: Underutilized

Directions:

Comments:

Reasons: Within 2000 ft. of flammable or explosive material; Secured Area

17 Buildings

Hawthorne Army Depot

Howthorne NV 89415

Landholding Agency: Army

Property Number: 21201530055

Status: Unutilized

Directions: Building's 00522 RPUID:327231; 00524-327232; 00525-330745; 00539-317384; 01038-324157; 01039-319502; 01072-330014; 01073-327412; 01075-321403; 01084-322599; 01085-330760; 01086-324111; 01087-324112; 01088-319045; 02021-322596; 04932-330789; 0A273-327372

Comments: public access denied and no alternative method to gain access without compromising National Security.

Reasons: Secured Area

24 Buildings

Hawthorne Army Depot

Hawthorne NV 89415

Landholding Agency: Army

Property Number: 21201530075

Status: Unutilized

Directions: 0A350(322632); 0A354(326593); 0A388(327371); 0A395(319492); 0A518(327229); 0A669(324262); OC429(323329); 0PA14(1055821); 1S100(319056); 00040(324168); 71; 86BT4;00097(330820); 107Z8 (324429); 143; 00171; 00192; 00275; 00328; 00360; 00379; 00504; 11099; 00074

Comments: public access denied and no alternative method to gain access without compromising national security.

Reasons: Secured Area

14 Buildings

Hawthorne Army Depot

Hawthorne NV 89415

Landholding Agency: Army

Property Number: 21201530087

Status: Unutilized

Directions: 10317 RPUID:319511; 10320-320932; 10310-324158; 10311-319509; 11067-1044155; 10610-330071; 10338-324121; 10337-327406; 10336-319516; 10335-319515; 10334-319514; 10333-319057; 10330-327729; 10329-327728

Comments: public access denied and no alternative method to gain access without compromising national security.

Reasons: Secured Area

2 Buildings

Hawthorne Army depot

Hawthorne Army Depot NV

Landholding Agency: Army

Property Number: 21201540040

Status: Unutilized

Directions: 0C261-RPUID: 330817; 10341-RPUID: 319518

Comments: flam/explos. materials are located on adjacent industrial, commercial, or Federal facility; public access denied and no alternative method to gain access without compromising national security

Reasons: Within 2000 ft. of flammable or explosive material; Secured Area

New Jersey

Bldg. 94631

JBMDL

JBMDL NJ

Landholding Agency: Air Force

Property Number: 18201610025

Status: Unutilized

Comments: public access denied and no alternative method to gain access without compromising national security.

Reasons: Secured Area

11 Buildings

JBMDL

JBMDL NJ

Landholding Agency: Air Force

Property Number: 18201610027

Status: Unutilized

Directions: 90451; 94281; 9853; 9000; 9078; 9159; 9214; 9469; 9479; 9823; 9841

Comments: public access denied and no alternative method to gain access without compromising national security.

Reasons: Secured Area

Bldg. No. 1354A

Armament Res. Dev. Ctr.

Picatinny Arsenal NJ 07806-5000

Landholding Agency: Army

Property Number: 21199010444

Status: Excess

Directions: Route 15 North

Comments:

Reasons: Within 2000 ft. of flammable or explosive material; Secured Area

Bldg. No. 1308

Armament Res. Dev. Ctr.

Picatinny Arsenal NJ 07806-5000

Landholding Agency: Army

Property Number: 21199010452

Status: Excess

Directions: Route 15 North

Comments:

Reasons: Secured Area; Within 2000 ft. of flammable or explosive material

Bldg. No. 1309

Armament Res. Dev. Ctr.

Picatinny Arsenal NJ 07806-5000

Landholding Agency: Army

Property Number: 21199010454

Status: Excess

Directions: Route 15 North

Comments:

Reasons: Within 2000 ft. of flammable or explosive material; Secured Area

Bldg. No. 1071G

Armament Res. Dev. Ctr.

Picatinny Arsenal NJ 07806-5000

Landholding Agency: Army

Property Number: 21199010458

Status: Excess

Directions: Route 15 North

Comments:

Reasons: Within 2000 ft. of flammable or explosive material; Secured Area

Bldg. No. 1364

Armament Res. Dev. Ctr.

Picatinny Arsenal NJ 07806-5000

Landholding Agency: Army

Property Number: 21199010464

Status: Unutilized

Directions: Route 15 North

Comments:

Reasons: Within 2000 ft. of flammable or explosive material; Secured Area

Bldg. No. 1071C

Armament Res. Dev. Ctr.

Picatinny Arsenal NJ 07806-5000

Landholding Agency: Army

Property Number: 21199010474

Status: Excess

Directions: Route 15 North

Comments:

Reasons: Secured Area; Within 2000 ft. of flammable or explosive material

Bldg. 209

Armament Research Dev. Center

Route 15 North

Picatinny Arsenal NJ 07806

Landholding Agency: Army

Property Number: 21199010639

Status: Excess

Directions:

Comments:

Reasons: Secured Area; Within 2000 ft. of flammable or explosive material

Bldg. 295

Armament Research, Dev. Center

Route 15 North

Picatinny Arsenal NJ 07806

Landholding Agency: Army

Property Number: 21199010663

Status: Excess

Directions:

Comments:

Reasons: Secured Area; Within 2000 ft. of flammable or explosive material

Bldg. 296

Armament Research, Dev. Center

Route 15 North

Picatinny Arsenal NJ 07806

Landholding Agency: Army

Property Number: 21199010664

Status: Excess

Directions:

Comments:

Reasons: Secured Area; Within 2000 ft. of flammable or explosive material

Bldg. 514

Armament Research, Dev. Center

Route 15 North

Picatinny Arsenal NJ 07806

Landholding Agency: Army

Property Number: 21199010680

Status: Unutilized

Directions:

Comments:

Reasons: Secured Area; Within 2000 ft. of flammable or explosive material

Bldg. 540

Armament Research, Dev. Center

Route 15 North

Picatinny Arsenal NJ 07806-5000

Landholding Agency: Army

Property Number: 21199010690

Status: Unutilized

Directions:

Comments:

Reasons: Within 2000 ft. of flammable or explosive material; Secured Area

Bldg. 813-A

Armament Research, Dev. Center

Route 15 North

Picatinny Arsenal NJ 07806-5000

Landholding Agency: Army

Property Number: 21199010698

Status: Excess

Directions:

Comments:

Reasons: Secured Area; Within 2000 ft. of flammable or explosive material

Bldg. 1436

Armament Research, Dev. Center

Route 15 North

Picatinny Arsenal NJ 07806-5000

Landholding Agency: Army

Property Number: 21199010701

Status: Excess

Directions:

Comments:

Reasons: Secured Area; Within 2000 ft. of flammable or explosive material

Bldg. 1437

Armament Research, Dev. Center

Route 15 North

Picatinny Arsenal NJ 07806-5000

Landholding Agency: Army

Property Number: 21199010702

Status: Excess

Directions:

Comments:

Reasons: Secured Area; Within 2000 ft. of flammable or explosive material

Bldg. 1519

Armament Research, Dev. Center

Route 15 North

Picatinny Arsenal NJ 07806-5000

Landholding Agency: Army

Property Number: 21199010705

Status: Unutilized

Directions:

Comments:

Reasons: Secured Area; Within 2000 ft. of flammable or explosive material

Bldg. 1520

Armament Research, Dev. Center

Route 15 North

Picatinny Arsenal NJ 07806-5000

Landholding Agency: Army

Property Number: 21199010706

Status: Unutilized

Directions:

Comments:

Reasons: Within 2000 ft. of flammable or explosive material; Secured Area

Bldg. 717I

Armament Research, Dev. Center

Route 15 North

Picatinny Arsenal NJ 07806-5000

Landholding Agency: Army

Property Number: 21199012428

Status: Excess

Directions:

Comments:

Reasons: Within 2000 ft. of flammable or explosive material; Secured Area

Bldg. 605

Armament Research, Dev. Center

Route 15 North

Picatinny Arsenal NJ 07806-5000

Landholding Agency: Army

Property Number: 21199012434

Status: Unutilized

Directions:

Comments:

Reasons: Secured Area; Within 2000 ft. of flammable or explosive material

Bldg. 732A

Armament Research, Dev. Center

Route 15 North

Picatinny Arsenal NJ 07806-5000

Landholding Agency: Army

Property Number: 21199012444

Status: Unutilized

Directions:

Comments:

Reasons: Secured Area; Within 2000 ft. of flammable or explosive material

Bldg. 810A

Armament Research, Dev. Center

Route 15 North

Picatinny Arsenal NJ 07806-5000

Landholding Agency: Army

Property Number: 21199012445

Status: Excess

Directions:

Comments:

Reasons: Within 2000 ft. of flammable or explosive material; Secured Area

Bldg. 807B

Armament Research, Dev. Center

Route 15 North

Picatinny Arsenal NJ 07806-5000

Landholding Agency: Army

Property Number: 21199012447

Status: Excess

Directions:

Comments:

Reasons: Secured Area; Within 2000 ft. of flammable or explosive material

Bldg. 3625

Armament Res. Dev. Ctr.

Picatinny Arsenal NJ 07806-5000

Landholding Agency: Army

Property Number: 21199012448

Status: Unutilized

Directions:

Route 15 North

Comments:

Reasons: Within 2000 ft. of flammable or explosive material; Secured Area

Bldg. 930

Armament Research, Dev. Center

Route 15 North

Picatinny Arsenal NJ 07806-5000

Landholding Agency: Army

Property Number: 21199012452

Status: Unutilized

Directions:

Comments:

Reasons: Within 2000 ft. of flammable or explosive material; Secured Area

Bldg. 3603

Armament Res. Dev. Ctr.

Picatinny Arsenal NJ 07806-5000

Landholding Agency: Army

Property Number: 21199012456

Status: Unutilized

Directions:

Route 15 North

Comments:

Reasons: Secured Area; Within 2000 ft. of flammable or explosive material

Bldg. 911

Armament Research, Dev. Center

Route 15 North

Picatinny Arsenal NJ 07806-5000

Landholding Agency: Army

Property Number: 21199012457

Status: Unutilized

Directions:

Comments:

Reasons: Within 2000 ft. of flammable or explosive material; Secured Area

Bldg. 3617

Armament Res. Dev. Ctr.

Picatinny Arsenal NJ 07806-5000

Landholding Agency: Army

Property Number: 21199012458

Status: Unutilized

Directions: Route 15 North

Comments:

Reasons: Within 2000 ft. of flammable or explosive material; Secured Area

Bldg. 3618

Armament Res. Dev. Ctr.

Picatinny Arsenal NJ 07806-5000

Landholding Agency: Army

Property Number: 21199012461

Status: Unutilized

Directions: Route 15 North

Comments:

Reasons: Secured Area; Within 2000 ft. of flammable or explosive material

Bldg. 816A

Armament Research. Dev. Center

Route 15 North

Picatinny Arsenal NJ 07806-5000

Landholding Agency: Army

Property Number: 21199012465

Status: Excess

Directions:

Comments:

Reasons: Within 2000 ft. of flammable or explosive material; Secured Area

Bldg. 816B

Armament Research, Dev. Center

Route 15 North

Picatinny Arsenal NJ 07806-5000

Landholding Agency: Army

Property Number: 21199012469

Status: Excess

Directions:

Comments:

Reasons: Secured Area; Within 2000 ft. of flammable or explosive material

Bldg. 918

Armament Research, Dev. Center

Picatinny Arsenal NJ 07806-5000

Landholding Agency: Army

Property Number: 21199012475

Status: Unutilized

Directions:

Route 15

Comments:

Reasons: Within 2000 ft. of flammable or explosive material; Secured Area

Bldg. 1431

Armament Research Dev. and Engineering Center

Route 15 North

Picatinny Arsenal NJ 07806

Landholding Agency: Army

Property Number: 21199012765

Status: Excess

Directions:

Comments:

Reasons: Secured Area

Bldg. 154

Armament Res. Development Ctr.

Route 15 North

Picatinny Arsenal NJ 07806

Landholding Agency: Army

Property Number: 21199014306

Status: Unutilized

Directions:

Comments:

Reasons: Secured Area; Within 2000 ft. of flammable or explosive material

Bldg. 3518

Armament Res. Development Ctr.

Route 15 North

Picatinny Arsenal NJ 07806

Landholding Agency: Army

Property Number: 21199014311

Status: Unutilized

Directions:

Comments:

Reasons: Within 2000 ft. of flammable or explosive material; Secured Area

Bldg. 1031

Armament Res. Development Ctr.

Route 15 North

Picatinny Arsenal NJ 07806

Landholding Agency: Army

Property Number: 21199014317

Status: Unutilized

Directions:

Comments:

Reasons: Secured Area; Within 2000 ft. of flammable or explosive material

Bldg. 1071

Armament Research, Dev. Center

Route 15 North

Picatinny Arsenal NJ 07806-5000

Landholding Agency: Army

Property Number: 21199140617

Status: Unutilized

Directions:

Comments:

Reasons: Secured Area

Bldg. 291

Armament Research, Development Center

Picatinny Arsenal NJ 07806-5000

Landholding Agency: Army

Property Number: 21199420006

Status: Underutilized

Directions:

Comments:

Reasons: Secured Area; Extensive deterioration

Bldg. 3056

Armament R Engineering Ctr

Picatinny Arsenal NJ 07806-5000

Landholding Agency: Army

Property Number: 21199740127

Status: Unutilized

Directions:

Comments:

Reasons: Extensive deterioration

Bldg. 3213

Armament Research

Picatinny Arsenal NJ 07806-5000

Landholding Agency: Army

Property Number: 21199940098

Status: Unutilized

GSA Number:

Reasons: Other—unexploded ordnance

Bldg. 1242

Armament R, D, Center

Picatinny Arsenal NJ 07806-5000

Landholding Agency: Army

Property Number: 21200130062

Status: Unutilized

GSA Number:

Reasons: Extensive deterioration

Bldg. 1381/2

Armament R, D, Center

Picatinny Arsenal NJ 07806-5000

Landholding Agency: Army

Property Number: 21200130063

Status: Unutilized

GSA Number:

Reasons: Extensive deterioration

Bldgs. 01305, 01306

Picatinny Arsenal

Dover NJ 07806-5000

Landholding Agency: Army

Property Number: 21200230074

Status: Unutilized

GSA Number:

Reasons: Secured Area; Within 2000 ft. of flammable or explosive material

Bldg. 1462A

Picatinny Arsenal

Dover NJ 07806

Landholding Agency: Army

Property Number: 21200330060

Status: Unutilized

GSA Number:

Reasons: Extensive deterioration

Bldg. 00492

Fort Monmouth

Monmouth NJ 07703

Landholding Agency: Army

Property Number: 21200510025

Status: Unutilized

Reasons: Extensive deterioration

Bldg. 00908

Fort Monmouth

Monmouth NJ 07703

Landholding Agency: Army

Property Number: 21200510026

Status: Unutilized

Reasons: Extensive deterioration

4 Bldgs.

Picatinny Arsenal

230, 230A, 230B, 230G

Dover NJ 07806-5000

Landholding Agency: Army

Property Number: 21200520026

Status: Unutilized

Reasons: Secured Area; Within 2000 ft. of flammable or explosive material

Bldgs. 232, 234, 235

Picatinny Arsenal

Dover NJ 07806-5000

Landholding Agency: Army

Property Number: 21200520027

Status: Unutilized

Reasons: Within 2000 ft. of flammable or explosive material; Secured Area

5 Bldgs.

Picatinny Arsenal

427, 427B, 429A, 430B, 477

Dover NJ 07806-5000

Landholding Agency: Army

Property Number: 21200520030

Status: Unutilized

Reasons: Within 2000 ft. of flammable or explosive material; Secured Area

3 Bldgs.

Picatinny Arsenal

641C, 641F, 641G

Dover NJ 07806-5000

Landholding Agency: Army

Property Number: 21200520033

Status: Unutilized

Comments: 641D was demolished.

Reasons: Within 2000 ft. of flammable or explosive material; Secured Area

Bldgs. 1241, 1242, 1242A

Picatinny Arsenal

Dover NJ 07806-5000

Landholding Agency: Army

Property Number: 21200520035

Status: Unutilized

Reasons: Secured Area; Within 2000 ft. of flammable or explosive material

Bldg. 3612

Picatinny Arsenal

Dover NJ 07806-5000

Landholding Agency: Army

Property Number: 21200520039

Status: Unutilized

Reasons: Within 2000 ft. of flammable or explosive material; Secured Area

Bldg. 01406

Picatinny Arsenal

Dover NJ 07806

Landholding Agency: Army

Property Number: 21200530023

Status: Unutilized

Reasons: Secured Area; Within 2000 ft. of flammable or explosive material

Bldgs. 224, 225

Picatinny Arsenal

Dover NJ 07806

Landholding Agency: Army

Property Number: 21200620017

Status: Unutilized

Comments: 221a was demolished.

Reasons: Secured Area; Within 2000 ft. of flammable or explosive material

Bldgs. 230, 230f

Picatinny Arsenal

Dover NJ 07806

Landholding Agency: Army

Property Number: 21200620018

Status: Unutilized

Reasons: Within 2000 ft. of flammable or explosive material; Secured Area

Bldgs. 231, 232a, 236

Picatinny Arsenal

Dover NJ 07806

Landholding Agency: Army

Property Number: 21200620019

Status: Unutilized

Reasons: Within 2000 ft. of flammable or explosive material; Secured Area

Bldg. 252c

Picatinny Arsenal

Dover NJ 07806

Landholding Agency: Army

Property Number: 21200620020

Status: Unutilized

Reasons: Within 2000 ft. of flammable or explosive material; Secured Area

Bldg. 403

Picatinny Arsenal

Dover NJ 07806

Landholding Agency: Army

Property Number: 21200620022

Status: Unutilized

Reasons: Within 2000 ft. of flammable or explosive material; Secured Area

Bldg. 224

Picatinny Arsenal

Dover NJ 07806

Landholding Agency: Army

Property Number: 21200630001

Status: Unutilized

Comments: 221A was demolished.

Reasons: Secured Area

Bldgs. 230F, 232A, 252C

Picatinny Arsenal

Dover NJ 07806

Landholding Agency: Army

Property Number: 21200630002

Status: Unutilized

Reasons: Secured Area

Bldgs. 427A, 429

Picatinny Arsenal

Dover NJ 07806

Landholding Agency: Army

Property Number: 21200630003

Status: Unutilized

Reasons: Secured Area

Bldgs. 430, 430B

Picatinny Arsenal

Dover NJ 07806

Landholding Agency: Army

Property Number: 21200630004

Status: Unutilized

Reasons: Secured Area

Bldgs. 436, 437

Picatinny Arsenal

Dover NJ 07806

Landholding Agency: Army

Property Number: 21200630005

Status: Unutilized

Reasons: Secured Area

Bldgs. 471, 471A, 471B

Picatinny Arsenal

Dover NJ 07806

Landholding Agency: Army

Property Number: 21200630006

Status: Unutilized

Reasons: Secured Area

Bldg. 477F

Picatinny Arsenal

Dover NJ 07806

Landholding Agency: Army

Property Number: 21200630007

Status: Unutilized

Comments: 477E was demolished.

Reasons: Secured Area

3 Bldgs.

Picatinny Arsenal

Dover NJ 07806

Landholding Agency: Army

Property Number: 21200630012

Status: Unutilized

Directions: 1509, 1509A, 1510A

Comments: 1510 was demolished.

Reasons: Secured Area

Bldgs. 1513, 1514, 1515

Picatinny Arsenal

Dover NJ 07806

Landholding Agency: Army

Property Number: 21200630013

Status: Unutilized

Reasons: Secured Area

Bldgs. 1517, 1518, 1529

Picatinny Arsenal

Dover NJ 07806

Landholding Agency: Army

Property Number: 21200630014

Status: Unutilized

Reasons: Secured Area

Bldg. 1609A

Picatinny Arsenal

Dover NJ 07806

Landholding Agency: Army

Property Number: 21200630015

Status: Unutilized

Reasons: Secured Area

Bldg. 3320

Picatinny Arsenal

Dover NJ 07806

Landholding Agency: Army

Property Number: 21200630016

Status: Unutilized

Reasons: Secured Area

Bldgs. 3500, 3501, 3515

Picatinny Arsenal

Dover NJ 07806

Landholding Agency: Army

Property Number: 21200630018

Status: Unutilized

Reasons: Secured Area

Bldg. 00354

Picatinny Arsenal

Morris NJ 07806

Landholding Agency: Army

Property Number: 21200720102

Status: Unutilized

Comments: 00350, 00352 were demolished.

Reasons: Within 2000 ft. of flammable or explosive material; Secured Area

4 Bldgs.

Picatinny Arsenal

Dover NJ 07806

Landholding Agency: Army

Property Number: 21200820043

Status: Unutilized

Directions: 717C, 727, 916, 937

Reasons: Within 2000 ft. of flammable or explosive material; Secured Area

4 Bldgs.

Picatinny Arsenal

Dover NJ 07806

Landholding Agency: Army

Property Number: 21200820046

Status: Unutilized

Directions: 3533, 3608, 3611, 3616

Comments: 3236 was demolished.

Reasons: Within 2000 ft. of flammable or explosive material; Secured Area

Bldg. 3716

Picatinny Arsenal

Dover NJ 07806

Landholding Agency: Army

Property Number: 21200820047

Status: Unutilized

Comments: 3715 was demolished.

Reasons: Secured Area; Within 2000 ft. of flammable or explosive material

5 Bldgs.

Picatinny Arsenal

Dover NJ 07806

Landholding Agency: Army

Property Number: 21201140035

Status: Unutilized

Directions: 00281, 03013, 00332, 0623F, 0639A

Reasons: Contamination; Secured Area; Extensive deterioration

2 Buildings

Picatinny Arsenal

Dover NJ 07806

Landholding Agency: Army

Property Number: 21201440056

Status: Unutilized

Directions: 3208B; 3208G

Comments: documented deficiencies: roof caving in; walls are rotted; overgrown vegetation; clear threat to physical safety.

Reasons: Extensive deterioration

New York

Bldg. 12

Watervliet Arsenal

Watervliet NY

Landholding Agency: Army

Property Number: 21199730099

Status: Unutilized

Directions:

Comments:

Reasons: Extensive deterioration

Bldgs. B9008, B9009

Youngstown Training Site

Youngstown NY 14131

Landholding Agency: Army

Property Number: 21200220064

Status: Unutilized

GSA Number:

Reasons: Extensive deterioration

Bldgs. B9016, B9017, B9018

Youngstown Training Site

Youngstown NY 14131

Landholding Agency: Army

Property Number: 21200220065

Status: Unutilized

GSA Number:

Reasons: Extensive deterioration

Bldgs. B9025, B9026, B9027

Youngstown Training Site

Youngstown NY 14131

Landholding Agency: Army

Property Number: 21200220066

Status: Unutilized

GSA Number:

Reasons: Extensive deterioration

Bldgs. B9033, B9034

Youngstown Training Site

Youngstown NY 14131

Landholding Agency: Army

Property Number: 21200220067

Status: Unutilized

GSA Number:

Reasons: Extensive deterioration

Bldg. B9042

Youngstown Training Site

Youngstown NY 14131

Landholding Agency: Army

Property Number: 21200220068

Status: Unutilized

GSA Number:

Reasons: Extensive deterioration

Bldg. 108

Fredrick J ILL, Jr. USARC

Bullville NY 10915-0277

Landholding Agency: Army

Property Number: 21200510028

Status: Unutilized

Reasons: Secured Area

Bldgs. 107, 112, 113

Kerry P. Hein USARC

NY058

Shoreham NY 11778-9999

Landholding Agency: Army

Property Number: 21200510054

Status: Excess

Reasons: Secured Area

Bldgs. 214, 215, 228

Fort Hamilton

Brooklyn NY 11252

Landholding Agency: Army

Property Number: 21201010031

Status: Unutilized

Reasons: Secured Area

4 Bldgs.

Fort Hamilton

Brooklyn NY 11252

Landholding Agency: Army

Property Number: 21201020018

Status: Unutilized

Directions: FENCC, 214, 215, 228

Reasons: Secured Area

Bldg. 08703

null

Ft. Drum NY

Landholding Agency: Army

Property Number: 21201120049

Status: Excess

Reasons: Extensive deterioration

2 Buildings

Fort Hamilton

Wainwright Dr. NY 11252

Landholding Agency: Army

Property Number: 21201510018

Status: Unutilized

Directions: 0137A; 0137B

Comments: public access denied and no alternative method to gain access without compromising national security.

Reasons: Secured Area

Building 0137C

Fort Hamilton

Wainwright Dr. NY 11252

Landholding Agency: Army

Property Number: 21201510019

Status: Underutilized

Comments: public access denied & no alternative method to gain access without compromising national security.

Reasons: Secured Area

2018; US Army Garrison 9W South

Morgan's Farm Rte. 9W South

West Point NY 10996

Landholding Agency: Army

Property Number: 21201510038

Status: Unutilized

Directions: RPU ID 358939

Comments: documented deference's; interior & exterior wood rotten beyond repair; foundation unsound; roof collapsing; clear threat to physical safety.

Reasons: Extensive deterioration

3 Buildings

Fort Drum

Fort Drum NY 13602

Landholding Agency: Army

Property Number: 21201520021

Status: Underutilized

Directions: Buildings 2153, 175, 173

Comments: public access denied and no alternative method to gain access without compromising national security.

Reasons: Secured Area

Building 00849

U.S. Army Garrison, West Point

West Point NY 10996

Landholding Agency: Army

Property Number: 21201530059

Status: Underutilized

Comments: public access denied & no alternative method to gain access without compromising national security.

Reasons: Secured Area

Buildings 1486 & 2552

Fort Drum

Ft. Drum NY 13602

Landholding Agency: Army

Property Number: 21201530077

Status: Unutilized

Directions: RPUID: 314900 and 300780 respectively

Comments: public access denied and no alternative method to gain access without compromising national security.

Reasons: Secured Area

Building 1438

West Point; Range Rd. (Range 8)

West Point NY 10996

Landholding Agency: Army

Property Number: 21201530095

Status: Unutilized

Comments: RE-DETERMINATION: structurally unsound; attempt of removal will most likely result in collapse of bldg.; clear threat to personal physical safety.

Reasons: Extensive deterioration

12 Buildings

Fort Drum

Ft. Drum NY 13602

Landholding Agency: Army

Property Number: 21201540015

Status: Unutilized

Directions: BRK11 (RPUID: 1193675); BRK12 (RPUID: 1193672); BRK13 (RPUID: 1193812); BRK14 (RPUID: 1193815); BRK15 (RPUID: 1193814); BRK16 (RPUID: 1193816); BRK17 (RPUID: 1193813); BRK18 (RPUID: 1193850); BRK19 (RPUID: 1193852); BRK20 (RPUID: 1193851); BRK21 (RPUID: 1193854); BRK22 (RPUID: 1193853)?

Comments: property located within an airport runway clear zone or military airfield; Public access denied and no alternative method to gain access without compromising national security.

Reasons: Secured Area; Within airport runway clear zone

3 Buildings

Fort Drum

Ft. Drum NY 13602

Landholding Agency: Army

Property Number: 21201540016

Status: Unutilized

Directions: BRK23 (RPUID: 1193853); BRK24 (RPUID: 1193884); BRK25 (RPUID: 1193885)

Comments: public access denied and no alternative method to gain access without compromising national security.

Reasons: Secured Area

1236

U.S. Army Garrison, West Point

West Point NY 10996

Landholding Agency: Army

Property Number: 21201540033

Status: Unutilized

Comments: document deficiencies: condemned; ceilings, walls, flooring, doors, and windows are rotted and beyond repair; wood deteriorated to state of non-repair; clear threat to physical safety.

Reasons: Extensive deterioration

10 Buildings

Fort Drum

Ft. Drum NY 13602

Landholding Agency: Army

Property Number: 21201540055

Status: Unutilized

Directions: BRK01 (RPUID: 1193186); BRK02 (RPUID:1193187); BRK03 (RPUID: 1193237); BRK04 (RPUID: 1193238); BRK05 (RPUID: 1193240); BRK06 (RPUID:1193239); BRK07 (RPUID: 1193241); BRK08 (RPUID: 1193669); BRK09 (RPUID: 1193674); BRK10 (RPUID: 1193671)

Comments: public access denied and no alternative method to gain access without compromising national security.

Reasons: Secured Area

North Carolina

Bldg. A-1815

Fort Bragg

Ft. Bragg NC 28307

Landholding Agency: Army

Property Number: 21199640074

Status: Unutilized

Directions:

Comments:

Reasons: Extensive deterioration

Bldg. A5435

Fort Bragg

Ft. Bragg NC 28307

Landholding Agency: Army

Property Number: 21199710109

Status: Unutilized

Directions:

Comments:

Reasons: Extensive deterioration

4 Bldgs.

Fort Bragg

#A5628, A5630, A5631, A5632

Ft. Bragg NC 28307

Landholding Agency: Army

Property Number: 21199710110

Status: Unutilized

Directions:

Comments:

Reasons: Extensive deterioration

Bldg. M-2362, Fort Bragg

null

Ft. Bragg NC 28307

Landholding Agency: Army

Property Number: 21199710224

Status: Unutilized

Directions:

Comments:

Reasons: Extensive deterioration

Bldg. H4886

Fort Bragg

Ft. Bragg NC 28307

Landholding Agency: Army

Property Number: 21199810167

Status: Unutilized

Directions:

Comments:

Reasons: Extensive deterioration

Bldg. 09066

Fort Bragg

Ft. Bragg NC 28314

Landholding Agency: Army

Property Number: 21200430042

Status: Unutilized

Reasons: Extensive deterioration

Bldgs. 09039

Fort Bragg

Cumberland NC 28310

Landholding Agency: Army

Property Number: 21200440050

Status: Unutilized

Comments: 09134 demolished 12/7/2009.

Reasons: Extensive deterioration

Bldg. P4544

Fort Bragg

Cumberland NC 28310

Landholding Agency: Army

Property Number: 21200440051

Status: Unutilized

Comments: P4443 was demolished on 9/16/2008

Reasons: Extensive deterioration

Bldgs. A5451, A5452,

Fort Bragg

Cumburland NC 28310

Landholding Agency: Army

Property Number: 21200530041

Status: Unutilized

Comments: A5454 demolished.

Reasons: Extensive deterioration

Bldgs. A5646 thru A5654

Fort Bragg

Cumburland NC 28310

Landholding Agency: Army

Property Number: 21200530044

Status: Unutilized

Reasons: Extensive deterioration

Bldgs. C7646, C7845

Fort Bragg

Ft. Bragg NC 28310

Landholding Agency: Army

Property Number: 21200610020

Status: Unutilized

Reasons: Extensive deterioration

Bldgs. A3872, A3879, A3881

Fort Bragg

Ft. Bragg NC 28310

Landholding Agency: Army

Property Number: 21200620024

Status: Unutilized

Reasons: Extensive deterioration

Bldgs. A4118, A4119

Fort Bragg

Ft. Bragg NC 28310

Landholding Agency: Army

Property Number: 21200620026

Status: Unutilized

Comments: bldg. A4318 was demo in 3/13/2008.

Reasons: Extensive deterioration

Bldgs. A4685, A4686, A4687

Fort Bragg

Ft. Bragg NC 28310

Landholding Agency: Army

Property Number: 21200620030

Status: Unutilized

Reasons: Extensive deterioration

Bldgs. M6750, M6751

Fort Bragg

Ft. Bragg NC 28310

Landholding Agency: Army

Property Number: 21200620034

Status: Unutilized

Comments: M6753 was demolished on 03/13/2008.

Reasons: Extensive deterioration

4 Bldgs.

Fort Bragg

Ft. Bragg NC 28310

Landholding Agency: Army

Property Number: 21200630029

Status: Unutilized

Directions: A2003, A2205, A2207, A2302

Reasons: Extensive deterioration

Bldg. T2758

Fort Bragg

Ft. Bragg NC 28310

Landholding Agency: Army

Property Number: 21200630031

Status: Unutilized

Reasons: Extensive deterioration

Bldgs. T2857, T2858, T2954

Fort Bragg

Ft. Bragg NC 28310

Landholding Agency: Army

Property Number: 21200630034

Status: Unutilized

Reasons: Extensive deterioration

Bldgs. D3548, D3555

Fort Bragg

Ft. Bragg NC 28310

Landholding Agency: Army

Property Number: 21200630041

Status: Unutilized

Reasons: Extensive deterioration

4 Bldgs.

Fort Bragg

Ft. Bragg NC 28310

Landholding Agency: Army

Property Number: 21200630043

Status: Unutilized

Directions: A3703, A3872, A3879, A3881

Reasons: Extensive deterioration

Bldgs. A4118, A4119, A4318

Fort Bragg

Ft. Bragg NC 28310

Landholding Agency: Army

Property Number: 21200630046

Status: Unutilized

Reasons: Extensive deterioration

5 Bldgs.

Fort Bragg

Ft. Bragg NC 28310

Landholding Agency: Army

Property Number: 21200630047

Status: Unutilized

Directions: A4620, A4622, A4623, A4626, A4628

Reasons: Extensive deterioration

Bldgs. A4635, A4636

Fort Bragg

Ft. Bragg NC 28310

Landholding Agency: Army

Property Number: 21200630048

Status: Unutilized

Reasons: Extensive deterioration

Bldg. 02723

Fort Bragg

Ft. Bragg NC 28310

Landholding Agency: Army

Property Number: 21200720029

Status: Unutilized

Reasons: Extensive deterioration

Bldg. 9656

Fort Bragg

Ft. Bragg NC 28310

Landholding Agency: Army

Property Number: 21200720032

Status: Unutilized

Reasons: Extensive deterioration

Bldg. P3839

Fort Bragg

Cumberland NC 28310

Landholding Agency: Army

Property Number: 21200740020

Status: Unutilized

Reasons: Extensive deterioration; Secured Area

2 Bldgs.

Fort Bragg

Ft. Bragg NC 28310

Landholding Agency: Army

Property Number: 21200740154

Status: Unutilized

Directions: 2847 and 3236

Reasons: Secured Area; Within 2000 ft. of flammable or explosive material; Extensive deterioration

6 Bldgs.

Fort Bragg

Ft. Bragg NC 28310

Landholding Agency: Army

Property Number: 21200740155

Status: Unutilized

Directions: 3241, 3245, 3249, 3253, 3258, 3262

Reasons: Within 2000 ft. of flammable or explosive material; Secured Area; Extensive deterioration

5 Bldgs.

Fort Bragg

Ft. Bragg NC 28310

Landholding Agency: Army

Property Number: 21200740157

Status: Unutilized

Directions: 5024, 5028, 5032, 5034, 5071

Reasons: Within 2000 ft. of flammable or explosive material; Secured Area; Extensive deterioration

8 Bldgs.

Fort Bragg

Ft. Bragg NC 28310

Landholding Agency: Army

Property Number: 21200740158

Status: Unutilized

Directions: 5182, 5381, 5473, 5645, 5779, 5849, 5878, 5880

Reasons: Within 2000 ft. of flammable or explosive material; Secured Area; Extensive deterioration

7 Bldgs.

Fort Bragg

Cumberland NC 28310

Landholding Agency: Army

Property Number: 21200830018

Status: Unutilized

Directions: 21414, 21559, 21755, 21757, 21859, 21862, 21957

Reasons: Secured Area

Bldgs. 31602, 31603, 31604

Fort Bragg

Cumberland NC 28310

Landholding Agency: Army

Property Number: 21200830019

Status: Unutilized

Reasons: Secured Area

Bldg. 55047

Fort Bragg

Cumberland NC 28310

Landholding Agency: Army

Property Number: 21200830021

Status: Unutilized

Comments: 55353 and 55250 was demolished.

Reasons: Secured Area

4 Bldgs.

Fort Bragg

Cumberland NC 28310

Landholding Agency: Army

Property Number: 21200830022

Status: Unutilized

Directions: 83015, 83019, 83201, 83502

Comments: 82807, 82809 were demolished.

Reasons: Secured Area

M4020

Fort Bragg

Cumberland NC 28310

Landholding Agency: Army

Property Number: 21200830023

Status: Unutilized

Comments: M5865, M5868, C4614 were demolished.

Reasons: Secured Area

6 Bldgs.

Fort Bragg

Cumberland NC 28310

Landholding Agency: Army

Property Number: 21200920049

Status: Unutilized

Directions: A1355, A2029, A2031, A2032, A2144, P2352

Reasons: Extensive deterioration; Secured Area

8 Bldgs.

Fort Bragg

Cumberland NC 28310

Landholding Agency: Army

Property Number: 21200920050

Status: Unutilized

Directions: C4125, 09045, 11460, 22809, 23212, 23810, 30844, 55010

Reasons: Secured Area; Extensive deterioration

5 Bldgs.

Simmons Army Airfield

Cumberland NC 28310

Landholding Agency: Army

Property Number: 21200920053

Status: Unutilized

Directions: P2455, P2457, P2542, P2757, P2852

Reasons: Extensive deterioration; Secured Area

Bldg. T3361

Fort Bragg

Camp Mackall NC 28373

Landholding Agency: Army

Property Number: 21200940033

Status: Unutilized

Comments: T3354 demolished.

Reasons: Secured Area; Extensive deterioration

12 Bldgs.

Fort Bragg

Ft. Bragg NC 28310

Landholding Agency: Army

Property Number: 21201020019

Status: Unutilized

Directions: 661A, M2146, C2629, F2630, A3527, C3609, A3726, A3728, C3731, A3732, A3734, A3736

Reasons: Secured Area

3 Bldgs.

Fort Bragg

Cumberland NC 28310

Landholding Agency: Army

Property Number: 21201030017

Status: Unutilized

Directions:

31743, M5044, M5040

Comments: T2139 demolished.

Reasons: Secured Area; Extensive deterioration

Bldg. 83022

Fort Bragg

Cumberland NC 28310

Landholding Agency: Army

Property Number: 21201040020

Status: Unutilized

Reasons: Extensive deterioration; Secured Area

4 Bldgs.

Ft. Bragg

Ft. Bragg NC 28310

Landholding Agency: Army

Property Number: 21201110031

Status: Unutilized

Directions: X5062, X5066, X6260, X6266

Reasons: Extensive deterioration; Secured Area

5 Bldgs.

null

Ft. Bragg NC 28310

Landholding Agency: Army

Property Number: 21201110032

Status: Unutilized

Directions: X5041, X5045, X5049, X5053, X5058

Reasons: Secured Area; Extensive deterioration

5 Bldgs.

null

Ft. Bragg NC

Landholding Agency: Army

Property Number: 21201110033

Status: Unutilized

Directions: X4134, X4137, X4139, X4141, X5036

Reasons: Secured Area; Extensive deterioration

5 Bldgs.

null

Ft. Bragg NC 28310

Landholding Agency: Army

Property Number: 21201110034

Status: Unutilized

Directions: N3305, X3266, X3770, X4126, X4130

Reasons: Extensive deterioration; Secured Area

Bldg. 31802

null

Fort Bragg NC 28310

Landholding Agency: Army

Property Number: 21201130004

Status: Unutilized

Reasons: Secured Area; Extensive deterioration

Bldg. 1537

null

Fort Bragg NC 28310

Landholding Agency: Army

Property Number: 21201130005

Status: Unutilized

Reasons: Extensive deterioration

Bldg. 22017 and 91765

Fort Bragg

Fort Bragg NC 28310

Landholding Agency: Army

Property Number: 21201210061

Status: Unutilized

Comments: nat'l security concerns; restricted access and no alternative method of access.

Reasons: Secured Area

B-H1607

Ft. Bragg

Ft. Bragg NC 28310

Landholding Agency: Army

Property Number: 21201210094

Status: Unutilized

Comments: nat'l security concerns; no public access; restricted area; no alternative method to gain access.

Reasons: Secured Area

4 Buildings

Ft. Bragg

Ft. Bragg NC 28308

Landholding Agency: Army

Property Number: 21201230004

Status: Unutilized

Directions: 276, 31335, C1624, D1910

Comments: restricted access to authorized military personnel only; public access denied & no alternative method to gain access w/out comprising nat'l security.

Reasons: Secured Area

2 Buildings

Ft. Bragg

Ft. Bragg NC 28310

Landholding Agency: Army

Property Number: 21201240015

Status: Underutilized

Directions: W2976, W2979

Comments: located on secured military installation; authorized personnel only; public access denied & no alternative method to gain access w/out compromising nat'l security.

Reasons: Secured Area

Buildings 6036 & 7556

4030 & 4551 Normandy Dr.

Ft. Bragg NC 28310

Landholding Agency: Army

Property Number: 21201310032

Status: Underutilized

Comments: located w/in military reservation;public access denied & no alternative method to gain access w/out compromising nat'l security.

Reasons: Secured Area

4 Buildings

Ft. Bragg

Ft. Bragg NC 28310

Landholding Agency: Army

Property Number: 21201310057

Status: Underutilized

Directions: F2131, F2534, F3040, F3134

Comments: restricted military installation; public denied & no alternative method to gain access w/out compromising nat'l security.

Reasons: Secured Area

7 Buildings

Ft. Bragg

Ft. Bragg NC 28310

Landholding Agency: Army

Property Number: 21201320001

Status: Underutilized

Directions: 21817, A5886, C8310, D2302, D2307, D2502, D2507

Comments: military reservation; access limited to military personnel only; access denied & no alternative method to gain access w/out compromising nat'l security.

Reasons: Secured Area

U1704

Fort Bragg

Ft. Bragg NC 28310

Landholding Agency: Army

Property Number: 21201420034

Status: Underutilized

Comments: public access denied and no alternative method to gain access w/out compromising national security.

Reasons: Secured Area

4 Buildings

Fort Bragg

Fort Bragg NC 28310

Landholding Agency: Army

Property Number: 21201430033

Status: Unutilized

Directions: 69241; A5424, D2236; D2336

Comments: public access denied & no alternative without compromising National Security.

Reasons: Secured Area

7 Buildings

Fort Bragg

Fort Bragg NC 28310

Landholding Agency: Army

Property Number: 21201430034

Status: Underutilized

Directions: B5356; 42101; 68444; 83749; 83846; Z1943; AFSCH

Comments: public access denied & no alternative without compromising National Security.

Reasons: Secured Area

4 Buildings

Fort Bragg

Ft. Bragg NC 28310

Landholding Agency: Army

Property Number: 21201440001

Status: Unutilized

Directions: M6450; M2346; 14865; 03554

Comments: public access denied and no alternative method to gain access w/out compromising national security.

Reasons: Secured Area

7 Buildings

Fort Bragg

Ft. Bragg NC 28310

Landholding Agency: Army

Property Number: 21201440021

Status: Underutilized

Directions: 12732; 69262; 69357; 85703; 85706; 86103; 42102

Comments: public access denied and no alternative method to gain access w/out compromising national security.

Reasons: Secured Area

9 Buildings

Ft. Bragg

Ft. Bragg NC 28310

Landholding Agency: Army

Property Number: 21201510016

Status: Unutilized

Directions: A5030; A5031; A5033; A5221; A5222; A5224; A5225; A5234; A5420;

Comments: public access denied and no alternative method to gain access without compromising national security.

Reasons: Secured Area

10 Buildings

Fort Bragg

Ft. Bragg NC 28310

Landholding Agency: Army

Property Number: 21201510017

Status: Underutilized

Directions: A4920; A4921; A4922; A4923; A4930; A4931; A5020; A5021; A5022; A5023

Comments: public access denied and no alternative method to gain access without compromising national security.

Reasons: Secured Area

21 Buildings

Ft. Bragg

Ft. Bragg NC 28310

Landholding Agency: Army

Property Number: 21201520013

Status: Unutilized

Directions: Buildings W3276, W3173, M6748, M6148, A5436, A5421, A5236, A5036, A5035, A5025, A5024, A4935, A4934, A4933, A4932, A4928, A4927, A4926, A4925, A4924, 229

Comments: public access denied and no alternative method to gain access without compromising national security.

Reasons: Secured Area

Building 14930

3225 Normandy Drive

Ft. Bragg NC 28310

Landholding Agency: Army

Property Number: 21201520014

Status: Underutilized

Comments: public access denied and no alternative method to gain access without compromising national security.

Reasons: Secured Area

717

Ft. Bragg

Ft. Bragg NC 28310

Landholding Agency: Army

Property Number: 21201530017

Status: Unutilized

Directions: RPUID: 506663

Comments: public access denied and no alternative method to gain access without compromising National Security.

Reasons: Secured Area

D2919

FT. Bragg

Ft. Bragg NC 28310

Landholding Agency: Army

Property Number: 21201530018

Status: Underutilized

Directions: RPUID: 611669

Comments: public access denied and no alternative method to gain access without compromising National Security.

Reasons: Secured Area

O9101

Ft. Bragg

Ft. Bragg NC 28310

Landholding Agency: Army

Property Number: 21201530019

Status: Unutilized

Directions:

RPUID: 304533

Comments: public access denied and no alternative method to gain access without compromising National Security.

Reasons: Secured Area

O9102

Ft. Bragg

Ft. Bragg NC 28310

Landholding Agency: Army

Property Number: 21201530020

Status: Unutilized

Directions: RPUID: 304534

Comments: public access denied and no alternative method to gain access without compromising National Security.

Reasons: Secured Area

5 Buildings

Ft. Bragg

Ft. Bragg NC 28310

Landholding Agency: Army

Property Number: 21201530022

Status: Underutilized

Directions: E1351; E1541; E1650; E1743; E3825

Comments: public access denied and no alternative method to gain access without compromising National Security.

Reasons: Secured Area

27 Buildings

Fort Bragg

Cumberland NC 28310

Landholding Agency: Army

Property Number: 21201540002

Status: Unutilized

Directions: 15132-RPUID: 581224; M6460-RPUID: 610295; M2348-RPUID: 958708; E4325-RPUID: 613768; A5428-RPUID: 597133; M6146-RPUID: 597164; M6143-RPUID: 576307; M2646-RPUID: 958720; M6445-RPUID: 595599; M2360-RPUID: 958714; M6438-RPUID: 557152; M6450-RPUID: 577153; M6733-RPUID: 609986; M6746-RPUID: 571513; M6751-RPUID: 584516; M2359-RPUID: 958713; A5628-RPUID: 581440; M6433-RPUID: 590748; A5630-RPUID: 593150; M2357-RPUID: 958713; M2338-RPUID: 958304; M2340-RPUID: 958305; M2342-RPUID: 958704; M2343-RPUID: 958705; M2345-RPUID: 958706; M2350-RPUID: 958709; M2351-RPUID: 958710

Comments: public access denied and no alternative method to gain access without compromising national security.

Reasons: Secured Area

5 Buildings

Fort Bragg

Fort Bragg NC 28310

Landholding Agency: Army

Property Number: 21201540003

Status: Underutilized

Directions: 15433-RPUID: 1034408; 15533-RPUID: 1034409; 15631-RPUID: 607469; 15730-RPUID: 297551; F1231-RPUID: 575616

Comments: public access denied and no alternative method to gain access without compromising national security.

Reasons: Secured Area

20 Buildings

Fort Bragg

Cumberland NC 28310

Landholding Agency: Army

Property Number: 21201540004

Status: Underutilized

Directions: 85303; A3764; D3022; H3237; H3554; M2346; M2353; M2356; M2505; M2642; M2650; M2651; M2653; M5051; M6142; M6205; M6150; P2341; X6088; M2640

Comments: public access denied and no alternative method to gain access without compromising national security.

Reasons: Secured Area

6 Buildings

Fort Bragg

Fort Bragg NC 28310

Landholding Agency: Army

Property Number: 21201610011

Status: Underutilized

Directions: Building 22326 RPUID: 293152; 22426 RPUID: 297111; 22428 RPUID: 289548; 22727 RPUID: 604968 238 RPUID: 505916; 239 RPUID: 505917

Comments: public access denied and no alternative method to gain access without compromising national security.

Reasons: Secured Area

15 Buildings

Fort Bragg

Fort Bragg NC 28310

Landholding Agency: Army

Property Number: 21201610024

Status: Unutilized

Directions: Building 69373 RPUID: 1033411; M2338: 958304; M2343: 958705; M2348: 958708; M2351: 958710; M2353: 958711; M2505: 580476; M2545: 1034467; M2646: 958720; M6143: 5976307; M6146: 597164 M6438: 577152; M6460: 610295; M6750: 591555; O4860: 289720

Comments: public access denied and no alternative method to gain access without compromising national security.

Reasons: Secured Area

North Dakota

Bldg. 440

Stanley R. Mickelsen

Nekoma ND 58355

Landholding Agency: Army

Property Number: 21199940103

Status: Unutilized

GSA Number:

Reasons: Extensive deterioration

Bldg. 455

Stanley R. Mickelsen

Nekoma ND 58355

Landholding Agency: Army

Property Number: 21199940104

Status: Unutilized

GSA Number:

Reasons: Extensive deterioration

Bldg. 456

Stanley R. Mickelsen

Nekoma ND 58355

Landholding Agency: Army

Property Number: 21199940105

Status: Unutilized

GSA Number:

Reasons: Extensive deterioration

Bldg. 3101

Stanley R. Mickelsen

Langdon ND 58355

Landholding Agency: Army

Property Number: 21199940106

Status: Unutilized

GSA Number:

Reasons: Extensive deterioration

Bldg. 3110

Stanley R. Mickelsen

Langdon ND 58355

Landholding Agency: Army

Property Number: 21199940107

Status: Unutilized

GSA Number:

Reasons: Extensive deterioration

Ohio

Facility 20094

2710 D. St.

WPAFB OH 45433

Landholding Agency: Air Force

Property Number: 18201620003

Status: Excess

Comments: public access denied and no alternative method to gain access without compromising national security.

Reasons: Secured Area

Facility 20098

2812 D. St.

WPAFB OH 45433

Landholding Agency: Air Force

Property Number: 18201620004

Status: Excess

Comments: public access denied and no alternative method to gain access without compromising national security.

Reasons: Secured Area

Facility 30072

5570 Skeel Ave.

WPAFB OH 45433

Landholding Agency: Air Force

Property Number: 18201620005

Status: Excess

Comments: public access denied and no alternative method to gain access without compromising national security.

Reasons: Secured Area

Facility 20197

4185 Logistics St.

WPAFB OH 45433

Landholding Agency: Air Force

Property Number: 18201620006

Status: Excess

Comments: public access denied and no alternative method to gain access without compromising national security.

Reasons: Secured Area

Facility 30144

5136 Pearson Rd.

WPAFB OH 45433

Landholding Agency: Air Force

Property Number: 18201620007

Status: Excess

Comments: public access denied and no alternative method to gain access without compromising national security.

Reasons: Secured Area

Bldg. S0390

Lima Army Tank Plant

Lima OH 45804-1898

Landholding Agency: Army

Property Number: 21199730104

Status: Unutilized

Directions:

Comments:

Reasons: Secured Area

Bldg. T0441

Lima Army Tank Plant

Lima OH 45804-1898

Landholding Agency: Army

Property Number: 21199730105

Status: Unutilized

Directions:

Comments:

Reasons: Secured Area

Bldg. 00442

Lima Army Tank Plant

Lima OH 45804-1898

Landholding Agency: Army

Property Number: 21199730106

Status: Unutilized

Directions:

Comments:

Reasons: Secured Area

Bldg. 00443

Lima Army Tank Plant

Lima OH 45804-1898

Landholding Agency: Army

Property Number: 21199730107

Status: Unutilized

Directions:

Comments:

Reasons: Secured Area

Bldg. 00452

Lima Army Tank Plant

Lima OH 45804-1898

Landholding Agency: Army

Property Number: 21199730108

Status: Unutilized

Directions:

Comments:

Reasons: Extensive deterioration; Secured Area

Oklahoma

Bldg. 00445

Fort Sill

Lawton OK 73501

Landholding Agency: Army

Property Number: 21200330065

Status: Unutilized

GSA Number:

Reasons: Extensive deterioration

Bldg. 01193

Fort Sill

Lawton OK 73501-5100

Landholding Agency: Army

Property Number: 21200430043

Status: Unutilized

Reasons: Extensive deterioration

Bldgs. 1500, 1515, 1539

Fort Sill

Lawton OK 73503

Landholding Agency: Army

Property Number: 21200530053

Status: Unutilized

Reasons: Within 2000 ft. of flammable or explosive material

Bldg. 2185

Fort Sill

Lawton OK 73503

Landholding Agency: Army

Property Number: 21200530054

Status: Unutilized

Reasons: Within 2000 ft. of flammable or explosive material

Bldgs. 2306, 2332

Fort Sill

Lawton OK 73503

Landholding Agency: Army

Property Number: 21200530055

Status: Unutilized

Reasons: Within 2000 ft. of flammable or explosive material

6 Bldgs.

Fort Sill

Lawton OK 73503

Landholding Agency: Army

Property Number: 21200530056

Status: Unutilized

Directions: 2452, 2458, 2464, 2473, 2485, 2491

Reasons: Within 2000 ft. of flammable or explosive material

Bldg. 3359

Fort Sill

Lawton OK 73503

Landholding Agency: Army

Property Number: 21200530058

Status: Unutilized

Reasons: Within 2000 ft. of flammable or explosive material

4 Bldgs.

Fort Sill

3455, 3461, 3475, 3491

Lawton OK 73503

Landholding Agency: Army

Property Number: 21200530059

Status: Unutilized

Reasons: Within 2000 ft. of flammable or explosive material

Bldgs. 5150, 6101, 6111

Fort Sill

Lawton OK 73503

Landholding Agency: Army

Property Number: 21200530060

Status: Unutilized

Reasons: Within 2000 ft. of flammable or explosive material

4 Bldgs.

Fort Sill

Lawton OK 73501

Landholding Agency: Army

Property Number: 21200840047

Status: Unutilized

Directions: M5680, M5681, M5682, M5683

Reasons: Extensive deterioration

RS Kerr Lake

HC61

Sallisaw OK 74955

Landholding Agency: Army

Property Number: 21201040042

Status: Underutilized

Reasons: Extensive deterioration

Fort Sill, (4 Bldgs)

Fort Sill

Lawton OK

Landholding Agency: Army

Property Number: 21201110027

Status: Unutilized

Directions: Bldgs: 00208, M4902, M4903, 06204

Reasons: Extensive deterioration

14 Bldgs.

Fort Sill

Lawton OK 73501

Landholding Agency: Army

Property Number: 21201130056

Status: Unutilized

Directions: 00214, 00216, 01445, 01447, 01448, 01468, 02524, 02594, 02809, 6472, 6473, 6474, M1453, M4905

Reasons: Extensive deterioration; Contamination

5 Building

McAlester Army Ammunition Plant

McAlester OK 74501

Landholding Agency: Army

Property Number: 21201330015

Status: Underutilized

Directions: 00029, 00139, 00148, 00159, 00235

Comments: anti-terrorism/force protection security reqs., public access denied & no alternative method to gain access w/out compromising Nat'l security.

Reasons: Secured Area

6 Buildings

Fort Sill

Ft. Sill OK 73503

Landholding Agency: Army

Property Number: 21201440054

Status: Unutilized

Directions: 6280; 6281; 6283; 6292; 6295; 6293

Comments: public access denied and no alternative method to gain access w/out compromising national security.

Reasons: Secured Area

2 Buildings

McAlester Army Ammunition Plant

McAlester OK 74501

Landholding Agency: Army

Property Number: 21201610002

Status: Unutilized

Directions: 33 RPUID:579769; 34 RPUID:594469

Comments: public access denied and no alternative method to gain access without compromising national security.

Reasons: Secured Area

Oregon

2 Buildings

6801 NE Cornfoot Road

Portland OR 97218

Landholding Agency: Air Force

Property Number: 18201610018

Status: Unutilized

Directions: Building 120 & 125

Comments: public access denied and no alternative method to gain access without compromising national security.

Reasons: Secured Area

Bldg. 38

Tooele Army Depot

Umatilla Depot Activity

Hermiston OR 97838

Landholding Agency: Army

Property Number: 21199012174

Status: Underutilized

Directions: 13 miles east of Hermiston Oregon on I-84

Comments:

Reasons: Secured Area

Bldg. 53

Tooele Army Depot

Umatilla Depot Activity

Hermiston OR 97838

Landholding Agency: Army

Property Number: 21199012175

Status: Underutilized

Directions: 13 miles east of Hermiston Oregon on I-84

Comments:

Reasons: Secured Area

Bldg. 54

Tooele Army Depot

Umatilla Depot Activity

Hermiston OR 97838

Landholding Agency: Army

Property Number: 21199012176

Status: Underutilized

Directions: 8 miles east of Hermiston Oregon on I-84

Comments:

Reasons: Secured Area

Bldg. 83

Tooele Army Depot

Umatilla Depot Activity

Hermiston OR 97838

Landholding Agency: Army

Property Number: 21199012178

Status: Underutilized

Directions: 13 miles east of Hermiston Oregon on I-84

Comments:

Reasons: Secured Area

Bldg. 85

Tooele Army Depot

Umatilla Depot Activity

Hermiston OR 97838

Landholding Agency: Army

Property Number: 21199012179

Status: Underutilized

Directions: 13 miles east of Hermiston Oregon on I-84

Comments:

Reasons: Secured Area

Bldg. 127

Tooele Army Depot

Umatilla Army Activity

Hermiston OR 97838

Landholding Agency: Army

Property Number: 21199012185

Status: Unutilized

Directions: 13 miles east of Hermiston Oregon on I-84

Comments:

Reasons: Secured Area

Bldg. 128

Tooele Army Depot

Umatilla Depot Activity

Hermiston OR 97838

Landholding Agency: Army

Property Number: 21199012186

Status: Unutilized

Directions: 13 miles east of Hermiston Oregon on I-84

Comments:

Reasons: Secured Area

Bldg. 155

Tooele Army Depot

Umatilla Depot Activity

Hermiston OR 97838

Landholding Agency: Army

Property Number: 21199012189

Status: Unutilized

Directions: 13 miles east of Hermiston Oregon on I-84

Comments:

Reasons: Secured Area

Bldg. 208

Tooele Army Depot

Umatilla Depot Activity

Hermiston OR 97838

Landholding Agency: Army

Property Number: 21199012190

Status: Underutilized

Directions: 13 miles east of Hermiston Oregon on I-84

Comments:

Reasons: Secured Area

Bldg. 211

Tooele Army Depot

Umatilla Depot Activity

Hermiston OR 97838

Landholding Agency: Army

Property Number: 21199012191

Status: Underutilized

Directions: 13 miles east of Hermiston Oregon on I-84

Comments:

Reasons: Secured Area

Bldg. 417

Tooele Army Depot

Umatilla Depot Activity

Hermiston OR 97838

Landholding Agency: Army

Property Number: 21199012195

Status: Unutilized

Directions: 8 miles east of Hermiston Oregon on I-84

Comments:

Reasons: Secured Area

Bldg. 418

Tooele Army Depot

Umatilla Depot Activity

Hermiston OR 97838

Landholding Agency: Army

Property Number: 21199012196

Status: Unutilized

Directions: 8 Miles East of Hermiston, Oregon on I-84

Comments:

Reasons: Secured Area

Bldg. 433

Tooele Army Depot

Umatilla Depot Activity

Hermiston OR 97838

Landholding Agency: Army

Property Number: 21199012197

Status: Underutilized

Directions: 13 Miles East of Hermiston, Oregon I-84

Comments:

Reasons: Secured Area

Bldg. 457

Tooele Army Depot

Umatilla Depot Activity

Hermiston OR 97838

Landholding Agency: Army

Property Number: 21199012198

Status: Underutilized

Directions: 8 Miles East of Hermiston, Oregon I-84

Comments:

Reasons: Secured Area

Bldg. 482

Tooele Army Depot

Umatilla Depot Activity

Hermiston OR 97838

Landholding Agency: Army

Property Number: 21199012199

Status: Unutilized

Directions: 13 Miles East of Hermiston, Oregon I-84

Comments:

Reasons: Secured Area

Bldg. 483

Tooele Army Depot

Umatilla Depot Activity

Hermiston OR 97838

Landholding Agency: Army

Property Number: 21199012200

Status: Unutilized

Directions: 13 Miles East of Hermiston Oregon on I-84

Comments:

Reasons: Secured Area

Bldg. 484

Tooele Army Depot

Umatilla Depot Activity

Hermiston OR 97838

Landholding Agency: Army

Property Number: 21199012201

Status: Unutilized

Directions: 13 Miles East of Hermiston Oregon I-84

Comments:

Reasons: Secured Area

Bldg. 485

Tooele Army Depot

Umatilla Depot Activity

Hermiston OR 97838

Landholding Agency: Army

Property Number: 21199012202

Status: Unutilized

Directions: 13 Miles East of Hermiston Oregon on I-84

Comments:

Reasons: Secured Area

Bldg. 486

Tooele Army Depot

Umatilla Depot Activity

Hermiston OR 97838

Landholding Agency: Army

Property Number: 21199012203

Status: Unutilized

Directions: 8 Miles East of Hermiston Oregon I-84

Comments:

Reasons: Secured Area

Bldg. 488

Tooele Army Depot

Umatilla Depot Activity

Hermiston OR 97838

Landholding Agency: Army

Property Number: 21199012204

Status: Unutilized

Directions:

8 Miles East of Hermiston Oregon on I-84

Comments:

Reasons: Secured Area

Bldg. 490

Tooele Army Depot

Umatilla Depot Activity

Hermiston OR 97838

Landholding Agency: Army

Property Number: 21199012205

Status: Unutilized

Directions: 13 Miles East of Hermiston Oregon on I-84

Comments:

Reasons: Secured Area

Bldg. 493

Tooele Army Depot

Umatilla Depot Activity

Hermiston OR 97838

Landholding Agency: Army

Property Number: 21199012207

Status: Unutilized

Directions: 8 Miles East of Hermiston, Oregon I-84

Comments:

Reasons: Secured Area

Bldg. 494

Tooele Army Depot

Umatilla Depot Activity

Hermiston OR 97838

Landholding Agency: Army

Property Number: 21199012208

Status: Unutilized

Directions: 13 Miles East of Hermiston, Oregon on I-84

Comments:

Reasons: Secured Area

Bldg. 608

Tooele Army Depot

Umatilla Depot Activity

Hermiston OR 97838

Landholding Agency: Army

Property Number: 21199012217

Status: Underutilized

Directions: 8 Miles East of Hermiston, Oregon I-84

Comments:

Reasons: Secured Area

Bldg. 616

Tooele Army Depot

Umatilla Depot Activity

Hermiston OR 97838

Landholding Agency: Army

Property Number: 21199012225

Status: Unutilized

Directions: 13 Miles East of Hermiston, Oregon I-84

Comments:

Reasons: Secured Area

Bldg. 624

Tooele Army Depot

Umatilla Depot Activity

Hermiston OR 97838

Landholding Agency: Army

Property Number: 21199012229

Status: Underutilized

Directions: 8 Miles East of Hermiston, Oregon on I-84

Comments:

Reasons: Secured Area

Bldg. 431

Tooele Army Depot

Umatilla Depot Activity

Hermiston OR 97838

Landholding Agency: Army

Property Number: 21199012279

Status: Unutilized

Directions:

Comments:

Reasons: Secured Area

Bldg. 202

Tooele Army Depot, Umatilla Depot

Hermiston OR 97838

Landholding Agency: Army

Property Number: 21199014304

Status: Unutilized

Directions: 13 miles east of Hermiston, Oregon on I-84

Comments:

Reasons: Secured Area

Bldg. 203

Tooele Army Depot

Umatilla Depot

Hermiston OR 97838

Landholding Agency: Army

Property Number: 21199014305

Status: Unutilized

Directions: 13 miles east of Hermiston, Oregon on I-84.

Comments:

Reasons: Secured Area

Bldg. 137

Tooele Army Depot

Umatilla Depot Activity

Hermiston OR 97838

Landholding Agency: Army

Property Number: 21199014782

Status: Unutilized

Directions: 8 miles east of Hermiston, OR on I-84

Comments:

Reasons: Secured Area

Bldg. 489

Tooele Army Depot

Umatilla Depot Activity

Hermiston OR 97838

Landholding Agency: Army

Property Number: 21199030362

Status: Unutilized

Directions: 8 miles East of Hermiston, OR. on I-84.

Comments:

Reasons: Secured Area

Bldg. 619

Umatilla Depot Activity

Hermiston OR 97838

Landholding Agency: Army

Property Number: 21199120032

Status: Unutilized

Directions: 8 miles east of Hermiston, Oregon on I-84.

Comments:

Reasons: Secured Area

Bldgs. 122, 123, 125

Umatilla Chemical Depot

OR 97838

Landholding Agency: Army

Property Number: 21199840108

Status: Unutilized

Directions:

Comments:

Reasons: Secured Area

Bldgs. 204, 205

Umatilla Chemical Depot

OR 97838

Landholding Agency: Army

Property Number: 21199840109

Status: Unutilized

Directions:

Comments:

Reasons: Secured Area

Bldg. 346

Umatilla Chemical Depot

OR 97838

Landholding Agency: Army

Property Number: 21199840110

Status: Unutilized

Directions:

Comments:

Reasons: Secured Area

Pennsylvania

11 Bldgs.

Fort Indiantown Gap

Annville PA 17003-5000

Landholding Agency: Army

Property Number: 21199810190

Status: Unutilized

Directions: T-10-24, T-10-25, T-10-26, T-10-27, T-10-28, T-10-29, T-10-30, T-10-31, T-10-32, T-10-33, T-10-34

Comments:

Reasons: Extensive deterioration

Bldg. 00635

Carlisle Barracks

Carlisle PA 17013

Landholding Agency: Army

Property Number: 21200640115

Status: Unutilized

Reasons: Extensive deterioration

Bldgs. 00302, 00630, 00846

Carlisle Barracks

Cumberland PA 17013

Landholding Agency: Army

Property Number: 21200720107

Status: Unutilized

Reasons: Extensive deterioration

Bldg. 00301

Carlisle Barracks

Cumberland PA 17013

Landholding Agency: Army

Property Number: 21200740026

Status: Unutilized

Reasons: Extensive deterioration

Bldg. 00257

Carlisle Barracks

Cumberland PA 17013

Landholding Agency: Army

Property Number: 21200830001

Status: Excess

Reasons: Extensive deterioration

Bldg. 00017

Scranton Army Ammo Plant

Scranton PA 18505

Landholding Agency: Army

Property Number: 21200840048

Status: Unutilized

Reasons: Extensive deterioration; Secured Area

5 Bldgs.

Letterkenny Army Depot

Chambersburg PA 17201

Landholding Agency: Army

Property Number: 21200920063

Status: Unutilized

Directions: 01466, 03231, 03243, 03244, 03245

Reasons: Within 2000 ft. of flammable or explosive material; Secured Area

Bldg. S0093

Tobyhanna Army Depot

Monroe PA 18466

Landholding Agency: Army

Property Number: 21200920065

Status: Underutilized

Reasons: Within 2000 ft. of flammable or explosive material; Secured Area

4 Bldgs.

Letterkenny Army Depot

Franklin PA 17201

Landholding Agency: Army

Property Number: 21200940034

Status: Unutilized

Directions: S3627, 03811, S4344, S5298

Reasons: Secured Area

Bldg. 891

Carlisle Barracks

Cumberland PA 17013

Landholding Agency: Army

Property Number: 21201020023

Status: Excess

Reasons: Secured Area

Bldg.70

Tobyhanna Army Depot

Tobyhanna PA 18466

Landholding Agency: Army

Property Number: 21201210048

Status: Underutilized

Comments: nat'l security concerns; no public access and no alternative method to gain access.

Reasons: Secured Area

Bldg. 71

Tobyhanna Army Depot

Tobyhanna PA 18466

Landholding Agency: Army

Property Number: 21201220008

Status: Underutilized

Comments: nat'l security concerns; public access is denied & no alternative method to gain access w/out comprising nat'l security.

Reasons: Secured Area

2 Buildings

Tobyhanna Army Deport

Tobyhanna PA 18466

Landholding Agency: Army

Property Number: 21201420027

Status: Underutilized

Directions: 0511A; 0511B

Comments: public access denied & no alternative method to gain access w/out compromising National Security.

Reasons: Secured Area

Letterkenny Army Depot

Bldg. 2365; 1465; 1456

Intersection of Georgia Avenue

Chambersburg PA 17201

Landholding Agency: Army

Property Number: 21201510001

Status: Unutilized

Directions: 2365; 1465; 1456

Comments: public Access denied & no alternative method to gain access w/out compromising Nat'l Sec.

Reasons: Secured Area

9 Buildings

Defense Distribution Susquehanna, PA

New Cumberland PA 17070

Landholding Agency: Army

Property Number: 21201520010

Status: Underutilized

Directions: Building 0090; 00901; 00902; 00904; 02021; 02023; 02024; 02025; 02027

Comments: public access denied and no alternative method to gain access without compromising national security; Property located within an airport runway clear zone or military airfield.

Reasons: Secured Area; Within airport runway clear zone

Building 1008

11 Hap Arnold Blvd.

Tobyhanna PA 18466

Landholding Agency: Army

Property Number: 21201530047

Status: Unutilized

Comments: public access denied and no alternative method to gain access without compromising National Security.

Reasons: Secured Area

S2705 & S2706

Letterkenny Army Depot

Letterkenny Army Depo PA 17201

Landholding Agency: Army

Property Number: 21201540031

Status: Unutilized

Comments: public access denied and no alternative method to gain access without compromising national security.

Reasons: Secured Area

Puerto Rico

Building 00215

Ft. Allen Trng. Center

Juan Diaz PR 00795

Landholding Agency: Army

Property Number: 21201530004

Status: Unutilized

Comments: doc. deficiencies; documentation provided represents a dear threat to personal phys. safety. Public access denied and no alternative method to gain access w/out compromising Nat. Sec.

Reasons: Extensive deterioration

29 Buildings

Victory Road; USAG FORT BUCHANAN, RQ327

Fort Buchanan PR 00934

Landholding Agency: Army

Property Number: 21201540013

Status: Excess

Directions: 01029; 01030; 01031; 01032; 01033; 01034; 01035; 01036; 01037; 01038; 01039; 01040; 01041; 01042; 01043;01044; 01046; 01047; 01048; 01049; 01050; 01051; 01052; 01054; 01055; 01056; 01057; 01058; 01061

Comments: public access denied and no alternative method to gain access without compromising national security.

Reasons: Secured Area

Building 00215

Fort Allen Training Center

Rd. #1

Juan Diaz PR 00795

Landholding Agency: Army

Property Number: 21201540049

Status: Unutilized

Comments: documented deficiencies: condemned due to a fault in the structural integrity; foundation instability and deterioration the walls and ceilings have fallen.

Reasons: Extensive deterioration

3 Buildings

Camp Santiago Trng Center

(RQ577)

Salinas PR 00751

Landholding Agency: Army

Property Number: 21201540050

Status: Unutilized

Directions: 00415-RPUID: 951222; 00416; 00414

Comments: documented deficiencies: condemned; due to structural integrity walls and foundation are cracked.

Reasons: Extensive deterioration

6 Buildings

USAG Fort Buchanan, RQ327

Fort Buchanan PR

Landholding Agency: Army

Property Number: 21201610023

Status: Excess

Directions: Buildings 01053; 01059; 01063; 01065; 01067; 01069

Comments: public access denied and no alternative method to gain access without compromising national security.

Reasons: Secured Area

Rhode Island

Bldgs. 0A65V, 340, 382

Camp Fogarty Training Site

Kent RI 02818

Landholding Agency: Army

Property Number: 21201040022

Status: Excess

Reasons: Secured Area

Building 000P2

570 Read Schoolhouse Rd.

NG Coventry RI 02816

Landholding Agency: Army

Property Number: 21201440049

Status: Excess

Comments: public access denied and no alternative method to gain access w/out compromising national security.

Reasons: Secured Area

Building OSKRG

Camp Fogarty

East Greenwich RI 02818

Landholding Agency: Army

Property Number: 21201440052

Status: Unutilized

Comments: documented Deficiencies: structural damage; several large holes; severely rotten foundation; extreme rodent infestation; clear threat to physical safety.

Reasons: Extensive deterioration

Samoa

Bldg. 00002

Army Reserve Center

Pago Pago AQ 96799

Landholding Agency: Army

Property Number: 21200810001

Status: Unutilized

Reasons: Floodway, Secured Area

Bldg. 00644

Tree Top U.S. Army Reserve Ctr

Pago AQ

Landholding Agency: Army

Property Number: 21201040039

Status: Unutilized

Reasons: Secured Area; Extensive deterioration

South Carolina

4 Buildings

Shaw Air Force Base

Sumter SC 29152

Landholding Agency: Air Force

Property Number: 18201610010

Status: Excess

Directions: Building #1048, 1005, 1051, 1053

Comments: public access denied and no alternative method to gain access without compromising national security.

Reasons: Secured Area

Building 396

419 Polifka Dr., Shaw AFB

Sumter SC 29152

Landholding Agency: Air Force

Property Number: 18201610011

Status: Underutilized

Comments: public access denied and no alternative method to gain access without compromising national security.

Reasons: Secured Area

Bldg. 01916

DRMS Storage Facility

Ft. Jackson SC

Landholding Agency: Army

Property Number: 21201120020

Status: Unutilized

Reasons: Extensive deterioration; Secured Area

Bldg. 1727

Ft. Jackson

Ft. Jackson SC

Landholding Agency: Army

Property Number: 21201220024

Status: Unutilized

Comments: nat'l security concerns; public access denied and no alternative method to gain access w/out comprising nat'l security.

Reasons: Secured Area

J5800

Wildcat Rd.

Ft. Jackson SC 29207

Landholding Agency: Army

Property Number: 21201230013

Status: Underutilized

Comments: controlled access pts.; public access denied & no alternative method to gain access w/out comprising nat'l security.

Reasons: Secured Area

4 Buildings

Golden Arrow Rd.

Ft. Jackson SC 29207

Landholding Agency: Army

Property Number: 21201230014

Status: Underutilized

Directions: F5035, F5036, F5037, F5048

Comments: controlled access pts.; public access denied & no alternative method to gain access w/out comprising nat'l security.

Reasons: Secured Area

11 Buildings

Ft. Jackson

Ft. Jackson SC 29207

Landholding Agency: Army

Property Number: 21201310031

Status: Unutilized

Directions: P8654, P8655, Q8374, O7160, 07165, O7170, O7178, O7179, M7507, N7657, N7664

Comments: located w/in controlled military installation; public access denied & no alternative method to gain access w/out compromising nat'l security.

Reasons: Secured Area

24 Buildings

Ft. Jackson

Ft. Jackson SC 29207

Landholding Agency: Army

Property Number: 21201310035

Status: Unutilized

Directions: F7123, F7124, F7125, F7132, F7133, F7903, F6685, F6792, F6794, F6800, F6802, F6926, F7017, F7023, F6050, F6051, F6142, F6143, F6461, F6462, F6467, F6681, F6684, E5991

Comments: located w/in controlled military installation; public access denied & no alternative method to gain access w/out compromising nat'l security.

Reasons: Secured Area

5 Buildings

Fort Jackson

Fort Jackson SC 29207

Landholding Agency: Army

Property Number: 21201410012

Status: Unutilized

Directions: 1708, 10802, P8670, Q8381, Q8384

Comments: public access denied and no alternative method to gain access w/out compromising national security.

Reasons: Secured Area

P8663

Fort Jackson

Ft. Jackson SC 29207

Landholding Agency: Army

Property Number: 21201410029

Status: Unutilized

Comments: public access denied and no alternative method to gain access w/out compromising national security.

Reasons: Secured Area

27 Buildings

Fort Jackson

Fort Jackson SC 29207

Landholding Agency: Army

Property Number: 21201430025

Status: Unutilized

Directions: 1444, 1530, 1531, 1532, 1539, 1540, 1541, 1542, 2139, 2260, 2275, 2285, 2462, 2464, 2522, 2785, 3058, 3210, 3270, 3280, 4325, 4354, 4376, 4400, 4407, 11559, E4830

Comments: public access denied & no alternative without compromising National Security.

Reasons: Secured Area

FT. Jackson Bldg. 4325 & 4376

Jackson Blvd.

Ft. Jackson SC 29207

Landholding Agency: Army

Property Number: 21201510033

Status: Unutilized

Directions: 4325; 4376

Comments: public access denied & no alternative method to gain access w/out compromising Nat'l Sec.

Reasons: Secured Area

Ft. Jackson Bldg. 2570

2570 Warehouse Rd.

Ft. Jackson SC 29207

Landholding Agency: Army

Property Number: 21201510034

Status: Unutilized

Directions: 2570

Comments: public access denied & no alternative method to gain access w/out compromising Nat'l Sec.

Reasons: Secured Area

3 Buildings

Fort Jackson

Ft. Jackson SC 29207

Landholding Agency: Army

Property Number: 21201510035

Status: Unutilized

Directions: Bldg. 2571; 2572; 2567

Comments: public access denied & no alternative method to gain access w/out compromising Nat'l Sec.

Reasons: Secured Area

6 Buildings

Fort Jackson

Ft. Jackson SC 29207

Landholding Agency: Army

Property Number: 21201510036

Status: Unutilized

Directions: Bldg. 2580; 2590; 3500; 3510; 3511; 3521

Comments: public access denied & no alternative method to gain access w/out compromising Nat'l Sec.

Reasons: Secured Area

20 Buildings

Fort Jackson

Fort Jackson SC 29207

Landholding Agency: Army

Property Number: 21201530051

Status: Unutilized

Directions: Building: 1920; 2253; 2495; 2500; 2510; 2512; 2520; 2522; 2524; 2530; 2545; 2533; 2558; 2562; 2563; 2567; 2570; 2571; 2572; 2580

Comments: public access denied and no alternative method to gain access without compromising National Security.

Reasons: Secured Area

20 Buildings

Fort Jackson

Fort Jackson SC 29207

Landholding Agency: Army

Property Number: 21201530052

Status: Unutilized

Directions: Buildings: 2590; 3220; 3290; 3295; 3500; 3510; 3511; 3521; 4205; 4210; 4215; 4225; 4230; 4235; 4325; 4376; 4470; 4475; 5578; 5579

Comments: public access denied and no alternative method to gain access without compromising National Security.

Reasons: Secured Area

24 Buildings

Fort Jackson

Fort Jackson SC 29207

Landholding Agency: Army

Property Number: 21201530053

Status: Unutilized

Directions: Building's: 5580; 5581; 5582; 5583; 5585; 5586; 5590; 10613; E4801; E4802; E4803; E4811; E4816; E4821; E4822; E4823; E4824; E4825; E4828; E4829; E4830; E4832; E4833; 5584

Comments: public access denied and no alternative method to gain access without compromising National Security.

Reasons: Secured Area

4 Buildings

Fort Jackson

Fort Jackson SC 29207

Landholding Agency: Army

Property Number: 21201530054

Status: Unutilized

Directions: Building's: 9451; 9452; 9453; 9455

Comments: public access denied and no alternative method to gain access without compromising National Security.

Reasons: Secured Area

5 Buildings

Fort Jackson

Fort Jackson SC 29207

Landholding Agency: Army

Property Number: 21201530083

Status: Unutilized

Directions: 10612, 10614, 10624, 10625, 10628

Comments: public access denied and no alternative method to gain access without compromising national security.

Reasons: Secured Area

Tennessee

Bldg. 225

Holston Army Ammunition Plant

Kingsport TN 61299-6000

Landholding Agency: Army

Property Number: 21199012304

Status: Unutilized

Directions:

Comments:

Reasons: Secured Area

Bldg. 226

Holston Army Ammunition Plant

Kingsport TN 61299-6000

Landholding Agency: Army

Property Number: 21199012305

Status: Unutilized

Directions:

Comments:

Reasons: Secured Area

Bldg. F9

Holston Army Ammunition Plant

Kingsport TN 61299-6000

Landholding Agency: Army

Property Number: 21199012306

Status: Unutilized

Directions:

Comments:

Reasons: Within 2000 ft. of flammable or explosive material; Secured Area

Bldg. P5

Holston Army Ammunition Plant

Kingsport TN 61299-6000

Landholding Agency: Army

Property Number: 21199012307

Status: Unutilized

Directions:

Comments:

Reasons: Secured Area; Within 2000 ft. of flammable or explosive material

Bldg. P9

Holston Army Ammunition Plant

Kingsport TN 61299-6000

Landholding Agency: Army

Property Number: 21199012308

Status: Unutilized

Directions:

Comments:

Reasons: Secured Area; Within 2000 ft. of flammable or explosive material

Bldg. V1

Holston Army Ammunition Plant

Kingsport TN 61299-6000

Landholding Agency: Army

Property Number: 21199012309

Status: Unutilized

Directions:

Comments:

Reasons: Within 2000 ft. of flammable or explosive material; Secured Area

Bldg. V3

Holston Army Ammunition Plant

Kingsport TN 61299-6000

Landholding Agency: Army

Property Number: 21199012311

Status: Unutilized

Directions:

Comments:

Reasons: Within 2000 ft. of flammable or explosive material; Secured Area

Bldg. F-1

Holston Army Ammunition Plant

Kingsport TN 61299-6000

Landholding Agency: Army

Property Number: 21199012314

Status: Unutilized

Directions:

Comments:

Reasons: Secured Area; Within 2000 ft. of flammable or explosive material

Bldg. 107

Holston Army Ammunition Plant

Kingsport TN 61299-6000

Landholding Agency: Army

Property Number: 21199012316

Status: Unutilized

Directions:

Comments:

Reasons: Secured Area; Within 2000 ft. of flammable or explosive material

Bldg. R9

Holston Army Ammunition Plant

Kingsport TN 61299-6000

Landholding Agency: Army

Property Number: 21199012317

Status: Unutilized

Directions:

Comments:

Reasons: Within 2000 ft. of flammable or explosive material; Secured Area

Bldg. V9

Holston Army Ammunition Plant

Kingsport TN 61299-6000

Landholding Agency: Army

Property Number: 21199012337

Status: Unutilized

Directions:

Comments:

Reasons: Within 2000 ft. of flammable or explosive material; Secured Area

Bldg. R1

Holston Army Ammunition Plant

Kingsport TN 61299-6000

Landholding Agency: Army

Property Number: 21199013790

Status: Unutilized

Directions:

Comments:

Reasons: Secured Area

Holston Army Ammunition Plant

4509 West Stone Drive

Kingsport TN 37660-9982

Landholding Agency: Army

Property Number: 21199140613

Status: Unutilized

Directions:

Comments:

Reasons: Within 2000 ft. of flammable or explosive material; Secured Area

Bldg. I010

Holston Army Ammunition Plant

Kingsport TN 61299-6000

Landholding Agency: Army

Property Number: 21199440212

Status: Unutilized

Directions:

Comments:

Reasons: Secured Area; Within 2000 ft. of flammable or explosive material

Bldg. J010

Holston Army Ammunition Plant

Kingsport TN 61299-6000

Landholding Agency: Army

Property Number: 21199440213

Status: Unutilized

Directions:

Comments:

Reasons: Secured Area; Within 2000 ft. of flammable or explosive material

Bldg. K010

Holston Army Ammunition Plant

Kingsport TN 61299-6000

Landholding Agency: Army

Property Number: 21199440214

Status: Unutilized

Directions:

Comments:

Reasons: Secured Area; Within 2000 ft. of flammable or explosive material

Bldg. L010

Holston Army Ammunition Plant

Kingsport TN 61299-6000

Landholding Agency: Army

Property Number: 21199440215

Status: Unutilized

Directions:

Comments:

Reasons: Secured Area; Within 2000 ft. of flammable or explosive material

Bldg. M010

Holston Army Ammunition Plant

Kingsport TN 61299-6000

Landholding Agency: Army

Property Number: 21199440216

Status: Unutilized

Directions:

Comments:

Reasons: Secured Area; Within 2000 ft. of flammable or explosive material

Bldg. J001

Holston Army Ammunition Plant

Kingsport TN

Landholding Agency: Army

Property Number: 21199510025

Status: Unutilized

Directions:

Comments:

Reasons: Secured Area

Bldg. M001

Holston Army Ammunition Plant

Kingsport TN

Landholding Agency: Army

Property Number: 21199510026

Status: Unutilized

Directions:

Comments:

Reasons: Within 2000 ft. of flammable or explosive material; Secured Area

Bldg. N001

Holston Army Ammunition Plant

Kingsport TN

Landholding Agency: Army

Property Number: 21199510027

Status: Unutilized

Directions:

Comments:

Reasons: Within 2000 ft. of flammable or explosive material; Secured Area

Bldg. 227

Holston Army Amo Plant

Kingsport TN 37660

Landholding Agency: Army

Property Number: 21200310040

Status: Excess

GSA Number:

Reasons: Extensive deterioration

Bldgs. D-1, D-2, D-6 thru D-10

Holston Army Ammo Plant

Kingsport TN 37660

Landholding Agency: Army

Property Number: 21200320054

Status: Excess

GSA Number:

Reasons: Secured Area; Extensive deterioration; Within 2000 ft. of flammable or explosive material

6 Bldgs.

Holston Army Ammo Plant

E-1, E-2, E-5, E-7 thru E-9

Kingsport TN 37660

Landholding Agency: Army

Property Number: 21200320055

Status: Excess

GSA Number:

Reasons: Extensive deterioration; Secured Area; Within 2000 ft. of flammable or explosive material

Bldgs. G-1, G-2, G-3, G-9

Holston Army Ammo Plant

Kingsport TN 37660

Landholding Agency: Army

Property Number: 21200320056

Status: Excess

GSA Number:

Reasons: Extensive deterioration; Secured Area; Within 2000 ft. of flammable or explosive material

5 Bldgs.

Holston Army Ammo Plant

I-1, I-2, I-7, I-8, I-9

Kingsport TN 37660

Landholding Agency: Army

Property Number: 21200320058

Status: Excess

GSA Number:

Reasons: Extensive deterioration; Within 2000 ft. of flammable or explosive material; Secured Area

Bldgs. K-1, K-7, K-9

Holston Army Ammo Plant

Kingsport TN 37660

Landholding Agency: Army

Property Number: 21200320059

Status: Excess

GSA Number:

Reasons: Secured Area; Extensive deterioration; Within 2000 ft. of flammable or explosive material

Bldgs. L-1M, L-2, L-9

Holston Army Ammo Plant

Kingsport TN 37660

Landholding Agency: Army

Property Number: 21200320060

Status: Excess

GSA Number:

Reasons: Within 2000 ft. of flammable or explosive material; Extensive deterioration; Secured Area

Bldgs. O-1, O-7, O-9

Holston Army Ammo Plant

Kingsport TN 37660

Landholding Agency: Army

Property Number: 21200320061

Status: Excess

GSA Number:

Reasons: Within 2000 ft. of flammable or explosive material; Extensive deterioration; Secured Area

Bldgs. J-2, J-6 thru J-9

Holston Army Ammo Plant

Kingsport TN 37660

Landholding Agency: Army

Property Number: 21200320062

Status: Excess

GSA Number:

Reasons: Within 2000 ft. of flammable or explosive material; Secured Area; Extensive deterioration

Bldgs. M-2, M-7, M-9

Holston Army Ammo Plant

Kingsport TN 37660

Landholding Agency: Army

Property Number: 21200320063

Status: Excess

GSA Number:

Reasons: Secured Area; Extensive deterioration; Within 2000 ft. of flammable or explosive material

Bldg. U-2

Holston Army Ammo Plant

Kingsport TN 37660

Landholding Agency: Army

Property Number: 21200320064

Status: Excess

GSA Number:

Reasons: Extensive deterioration; Secured Area; Within 2000 ft. of flammable or explosive material

Bldgs. P-3, P-7

Holston Army Ammo Plant

Kingsport TN 37660

Landholding Agency: Army

Property Number: 21200320065

Status: Excess

GSA Number:

Reasons: Within 2000 ft. of flammable or explosive material; Secured Area; Extensive deterioration

Bldgs. 4, A-5, B-5, B-9

Holston Army Ammo Plant

Kingsport TN 37660

Landholding Agency: Army

Property Number: 21200320066

Status: Excess

GSA Number:

Reasons: Extensive deterioration; Secured Area; Within 2000 ft. of flammable or explosive material

Bldgs. A14, A20, A28

Holston Army Ammo Plant

Kingsport TN 37660

Landholding Agency: Army

Property Number: 21200320068

Status: Excess

GSA Number:

Reasons: Secured Area; Extensive deterioration; Within 2000 ft. of flammable or explosive material

4 Bldgs.

Holston Army Ammo Plant

301, 303B, 304, 312

Kingsport TN 37660

Landholding Agency: Army

Property Number: 21200320071

Status: Excess

GSA Number:

Reasons: Extensive deterioration; Secured Area; Within 2000 ft. of flammable or explosive material

Bldgs. 401, 408

Holston Army Ammo Plant

Kingsport TN 37660

Landholding Agency: Army

Property Number: 21200320073

Status: Excess

GSA Number:

Reasons: Within 2000 ft. of flammable or explosive material; Secured Area; Extensive deterioration

Bldg. A-35

Holston Army Ammo Plant

Kingsport TN 37660

Landholding Agency: Army

Property Number: 21200340056

Status: Unutilized

GSA Number:

Reasons: Secured Area; Within 2000 ft. of flammable or explosive material

Bldg. 4-A

Holston Army Ammo Plant

Kingsort TN 37660

Landholding Agency: Army

Property Number: 21200510042

Status: Unutilized

Reasons: Secured Area

Bldg. X0028

Milan Army Ammo Plant

Gibson TN 38358

Landholding Agency: Army

Property Number: 21200520052

Status: Excess

Reasons: Extensive deterioration; Within 2000 ft. of flammable or explosive material; Secured Area

Bldgs. 8(1), 8(2), 8(4)

Holston Army Ammo Plant

Kingsport TN 37660

Landholding Agency: Army

Property Number: 21200530064

Status: Unutilized

Reasons: Within 2000 ft. of flammable or explosive material; Secured Area

Bldg. H-8

Holston Army Ammo Plant

Kingsport TN 37660

Landholding Agency: Army

Property Number: 21200640070

Status: Unutilized

Reasons: Within 2000 ft. of flammable or explosive material; Secured Area; Extensive deterioration

Bldgs. 136, 148

Holston Army Ammo Plant

Kingsport TN 37660

Landholding Agency: Army

Property Number: 21200640071

Status: Unutilized

Reasons: Within 2000 ft. of flammable or explosive material; Secured Area

Bldg. 8(3)

Holston Army Ammo Plant

Kingsport TN 37660

Landholding Agency: Army

Property Number: 21200710035

Status: Unutilized

Reasons: Within 2000 ft. of flammable or explosive material; Secured Area

Bldgs. 00001, 00003, 00030

John Sevier Range

Knoxville TN 37918

Landholding Agency: Army

Property Number: 21200930021

Status: Excess

Reasons: Extensive deterioration

9 Bldgs.

Holston Army Ammo Plant

Kingsport TN 37660

Landholding Agency: Army

Property Number: 21201030020

Status: Unutilized

Directions: 6, 8A, 24A, 25A, 40A, 101, 118, 143, 154

Reasons: Within 2000 ft. of flammable or explosive material; Secured Area

9 Bldgs.

Holston Army Ammo Plant

Kingsport TN 37660

Landholding Agency: Army

Property Number: 21201030021

Status: Unutilized

Directions: 249, 252, 253, 254, 255, 256, 302B, 315, 331

Comments: public access denied and no alternative method to gain access w/out compromising national security.

Reasons: Within 2000 ft. of flammable or explosive material; Secured Area

8 Bldgs.

Holston Army Ammo Plant

Kingsport TN 37660

Landholding Agency: Army

Property Number: 21201030022

Status: Unutilized

Directions: 404, 405, 406, 407, 411, 414, 423, 427

Reasons: Secured Area; Within 2000 ft. of flammable or explosive material

9 Bldgs.

Holston Army Ammo Plant

Kingsport TN 37660

Landholding Agency: Army

Property Number: 21201030023

Status: Unutilized

Directions: A-0, B-11, C-3A, F-3, G-1A, M-8, N-10A, O-5, D-6A

Reasons: Within 2000 ft. of flammable or explosive material; Secured Area

11 Bldgs.

Holston Army Ammo Plant

Kingsport TN 37660

Landholding Agency: Army

Property Number: 21201030024

Status: Unutilized

Directions: YM-1, YM-2, YM-3, YM-4, YM-5, YM-6, YM-7, YM-8, YM-9, YM-10, YM-11

Reasons: Within 2000 ft. of flammable or explosive material; Secured Area

2 Buildings

Holston Army Amo Plant

Kingsport TN 37660

Landholding Agency: Army

Property Number: 21201310037

Status: Unutilized

Directions: 328, 328A

Comments: located w/in secured area; public access denied & no alternative method to gain access w/out compromising nat'l security.

Reasons: Secured Area

Building 50139

2280 Hwy 104 W. Suite 2

(Milan Army Ammunition Plant)

Milan TN 38358

Landholding Agency: Army

Property Number: 21201330012

Status: Unutilized

Directions: 50139

Comments: public access denied & no alternative method to gain access w/out compromising nat. security.

Reasons: Secured Area

J0139

Milan AAP

Milan TN 38358

Landholding Agency: Army

Property Number: 21201330073

Status: Unutilized

Comments: restricted area; public access denied & no alternative method to gain access w/out compromising nat'l security.

Reasons: Secured Area

4 Buildings

Milan AAP

Milan TN 38358

Landholding Agency: Army

Property Number: 21201340035

Status: Excess

Directions: I0205; I0206; I0207; T0114

Comments: public access denied & no alternative method to gain access without compromising National Security.

Reasons: Secured Area

0302B

Holston Army Ammunition Plant

Kingsport TN 37660

Landholding Agency: Army

Property Number: 21201410005

Status: Unutilized

Comments: public access denied and no alternative method to gain access w/out compromising national security.

Reasons: Secured Area

A0018

Holston Army Ammunition Plant

Kingsport TN 37660

Landholding Agency: Army

Property Number: 21201410031

Status: Underutilized

Comments: property is adjacent to a building that processes explosive materials as part of an acid maufacturing plant.

Reasons: Within 2000 ft. of flammable or explosive material

Building 348

Holston Army Ammunition Plant

Kingsport TN 37660

Landholding Agency: Army

Property Number: 21201420025

Status: Unutilized

Comments: public access denied & no alternative method to gain access w/out compromising National Security.

Reasons: Secured Area

Building 127

Holston Army Ammunition Plant

Kingsport TN 37660

Landholding Agency: Army

Property Number: 21201520031

Status: Unutilized

Comments: public access denied and no alternative method to gain access without compromising National Security.

Reasons: Secured Area

2 Buildings

Milan APP

Milan TN 38358

Landholding Agency: Army

Property Number: 21201530098

Status: Excess

Directions: S0021; S0022

Comments: public access denied and no alternative method to gain access without compromising national security.

Reasons: Secured Area

Texas

Bldg. M-3

Lone Star Army Ammunition Plant

Highway 82 West

Texarkana TX 75505-9100

Landholding Agency: Army

Property Number: 21199012524

Status: Unutilized

Directions:

Comments:

Reasons: Within 2000 ft. of flammable or explosive material; Secured Area

Bldg. C-11

Lone Star Army Ammunition Plant

Highway 82 West

Texarkana TX 75505-9100

Landholding Agency: Army

Property Number: 21199012529

Status: Unutilized

Directions:

Comments:

Reasons: Within 2000 ft. of flammable or explosive material; Secured Area

Bldg. C-10

Lone Star Army Ammunition Plant

Highway 82 West

Texarkana TX 75505-9100

Landholding Agency: Army

Property Number: 21199012533

Status: Unutilized

Directions:

Comments:

Reasons: Secured Area; Within 2000 ft. of flammable or explosive material

Bldg. C-15

Lone Star Army Ammunition Plant

Highway 82 West

Texarkana TX 75505-9100

Landholding Agency: Army

Property Number: 21199012536

Status: Unutilized

Directions:

Comments:

Reasons: Secured Area

Bldg. J-17

Lone Star Army Ammunition Plant

Highway 82 West

Texarkana TX 75505-9100

Landholding Agency: Army

Property Number: 21199012540

Status: Unutilized

Directions:

Comments:

Reasons: Secured Area; Within 2000 ft. of flammable or explosive material

Bldg. J-21

Lone Star Army Ammunition Plant

Highway 82 West

Texarkana TX 75505-9100

Landholding Agency: Army

Property Number: 21199012542

Status: Unutilized

Directions:

Comments:

Reasons: Secured Area; Within 2000 ft. of flammable or explosive material

Bldg. M-24

Lone Star Army Ammunition Plant

Highway 82 West

Texarkana TX 75505-9100

Landholding Agency: Army

Property Number: 21199012545

Status: Unutilized

Directions:

Comments:

Reasons: Secured Area; Within 2000 ft. of flammable or explosive material

Bldg C-42

Lone Star Army Ammunition Plant

Highway 82 West

Texarkana TX 75505-9100

Landholding Agency: Army

Property Number: 21199030337

Status: Unutilized

Directions:

Comments:

Reasons: Within 2000 ft. of flammable or explosive material; Secured Area

Bldg. C-6

Lone Star Army Ammunition Plant

Highway 82 West

Texarkana TX 75505-9100

Landholding Agency: Army

Property Number: 21199030338

Status: Unutilized

Directions:

Comments:

Reasons: Secured Area; Within 2000 ft. of flammable or explosive material

Bldg. J-1

Lone Star Army Ammunition Plant

Highway 82 West

Texarkana TX 75505-9100

Landholding Agency: Army

Property Number: 21199030339

Status: Unutilized

Directions:

Comments:

Reasons: Within 2000 ft. of flammable or explosive material; Secured Area

Bldg. J-3

Lone Star Army Ammunition Plant

Highway 82 West

Texarkana TX 75505-9100

Landholding Agency: Army

Property Number: 21199030340

Status: Unutilized

Directions:

Comments:

Reasons: Within 2000 ft. of flammable or explosive material; Secured Area

Bldg. J-6

Lone Star Army Ammunition Plant

Highway 82 West

Texarkana TX 75505-9100

Landholding Agency: Army

Property Number: 21199030341

Status: Unutilized

Directions:

Comments:

Reasons: Within 2000 ft. of flammable or explosive material; Secured Area

Bldg. J-7

Lone Star Army Ammunition Plant

Highway 82 West

Texarkana TX 75505-9100

Landholding Agency: Army

Property Number: 21199030342

Status: Unutilized

Directions:

Comments:

Reasons: Within 2000 ft. of flammable or explosive material; Secured Area

Bldg. M-1

Lone Star Army Ammunition Plant

Highway 82 West

Texarkana TX 75505-9100

Landholding Agency: Army

Property Number: 21199030343

Status: Unutilized

Directions:

Comments:

Reasons: Secured Area; Within 2000 ft. of flammable or explosive material

Bldg. M-6

Lone Star Army Ammunition Plant

Highway 82 West

Texarkana TX 75505-9100

Landholding Agency: Army

Property Number: 21199030344

Status: Unutilized

Directions:

Comments:

Reasons: Secured Area; Within 2000 ft. of flammable or explosive material

Bldg. M-7

Lone Star Army Ammunition Plant

Highway 82 West

Texarkana TX 75505-9100

Landholding Agency: Army

Property Number: 21199030345

Status: Unutilized

Directions:

Comments:

Reasons: Within 2000 ft. of flammable or explosive material; Secured Area

Bldg. 1ST-1

Longhorn Army Ammunition Plant

Karnack TX 75671

Landholding Agency: Army

Property Number: 21199620827

Status: Unutilized

Directions:

Comments:

Reasons: Within 2000 ft. of flammable or explosive material; Secured Area

Bldg. 3156

Fort Bliss

El Paso TX 79916

Landholding Agency: Army

Property Number: 21199830171

Status: Unutilized

Directions:

Comments:

Reasons: Extensive deterioration

Bldgs. 7139

Fort Bliss

El Paso TX 79916

Landholding Agency: Army

Property Number: 21199830186

Status: Unutilized

Directions:

Comments:

Reasons: Extensive deterioration

Bldgs. 7151, 7154, 7157-7159

Fort Bliss

El Paso TX 79916

Landholding Agency: Army

Property Number: 21199830187

Status: Unutilized

Directions:

Comments:

Reasons: Extensive deterioration

Bldgs. 9901

Fort Bliss

El Paso TX 79916

Landholding Agency: Army

Property Number: 21200320079

Status: Unutilized

GSA Number:

Reasons: Extensive deterioration

Bldgs. YAREA

Longhorn Army Ammo Plant

Kamack TX 75661

Landholding Agency: Army

Property Number: 21200340062

Status: Excess

GSA Number:

Directions: 0003Y, 0004Y, 004Y2, 0013Y, 0016Y, 16Y1, 16Y2, 0018Y, 018Y1 0029Y, 0032Y, 0034Y, 0038Y, 0040Y, 0045Y

Reasons: Secured Area

Bldgs. P-3X, 3X-4of5

Longhorn Army Ammo Plant

Karnack TX 75661

Landholding Agency: Army

Property Number: 21200340063

Status: Excess

GSA Number:

Directions: 00P10, 00P11, 0046A, 0049B, 0053B, 0054B, 0055B, 0056B, 0059B, 0060B 0068F, 0026E, 0032E, 0029D

Reasons: Secured Area

Bldgs. P-3X, 3X-3of5

Longhorn Army Ammo Plant

Karnack TX 75661

Landholding Agency: Army

Property Number: 21200340064

Status: Excess

GSA Number:

Directions: 00S13, 00P13, 00B10, 00B16, SHEDC, 00B15, 00B13, 00B11, 000B9, 000B7, SHEDJ, SHEDD, 000M4, 000P3, 000P1

Reasons: Secured Area

Bldgs. P-3X 5of5

Longhorn Army Ammo Plant

Karnack TX 75661

Landholding Agency: Army

Property Number: 21200340065

Status: Excess

GSA Number:

Directions: 0025D, 0025C, 0050G, 0054F, 0053D, 0054G, 0031G, 00403, 00406, 00408, 00409, 0016T, 0020T, 0035T, 0036T036T1

Reasons: Secured Area

Bldgs. Inert SH10F3

Longhorn Army Ammo Plant

Karnack TX 75661

Landholding Agency: Army

Property Number: 21200340066

Status: Excess

GSA Number:

Directions: 00101, 00102, 0102R, 00103, 000L6, 00402, 000L5, SHEDL, SHEDB, 0061I, 0060I, 0022B, 0032B, 0029A, 0031A

Reasons: Secured Area

Bldgs. Inert SH3of3

Longhorn Army Ammo Plant

Karnack TX 75661

Landholding Agency: Army

Property Number: 21200340067

Status: Excess

GSA Number:

Directions: 016T1, 020T1, 0034T, 034T1, 0020X, 022X1

Reasons: Secured Area

Bldgs. SH2of3

Longhorn Army Ammo Plant

Karnack TX 75661

Landholding Agency: Army

Property Number: 21200340068

Status: Excess

GSA Number:

Directions: 068G1, 068F1, 0022B, 0032B, 054F1, 0040H, 00402, 00404, 00405, 0018G, 0015G, 0009G, 0010G, 0011G

Reasons: Secured Area

Bldgs. Inert

Longhorn Army Ammo Plant

Karnack TX 75661

Landholding Agency: Army

Property Number: 21200340069

Status: Excess

GSA Number:

Directions: 00703, 0703A, 0703C, 0707E, 0018K, 01ST1, 0201A, 00202, 00204, 0022G, 0025G, 0031W, 0049W, 0501E, 510B2, 0601B, 018K1

Reasons: Secured Area

Bldgs. SHOPS

Longhorn Army Ammo Plant

Karnack TX 75661

Landholding Agency: Army

Property Number: 21200340070

Status: Excess

GSA Number:

Directions: 00723, 0722P, 0704D, 00715, 00744, 0722G

Reasons: Secured Area

Bldgs. Magaz

Longhorn Army Ammo Plant

Karnack TX 75661

Landholding Agency: Army

Property Number: 21200340071

Status: Excess

GSA Number:

Directions: 08111, 08117, 81110, 81111, 81112, 81113, 81114 81117, 81118, 81121, 81122, 81124, 81128, 81141, 81143, 81156

Reasons: Secured Area

Bldgs. P-3X SHT1of5

Longhorn Army Ammo Plant

Karnack TX 75661

Landholding Agency: Army

Property Number: 21200340072

Status: Excess

GSA Number:

Directions: 02121 thru 21211, 21214 thru 21221, 21223, 21225, 21227, 21231D thru 21240, 21242, 21244, 21246, 21248

Reasons: Secured Area

Bldgs. P-3X SHT2of5

Longhorn Army Ammo Plant

Karnack TX 75661

Landholding Agency: Army

Property Number: 21200340073

Status: Excess

GSA Number:

Directions: 21250 thru 21257, 21259, 0027X, 0022X, 0035X

Reasons: Secured Area

Bldgs. 56208, 56220

Fort Hood

Ft. Hood TX 76544

Landholding Agency: Army

Property Number: 21200420146

Status: Unutilized

Reasons: Extensive deterioration

Bldgs. 7122, 7125

Fort Bliss

El Paso TX 79916

Landholding Agency: Army

Property Number: 21200540070

Status: Unutilized

Reasons: Extensive deterioration

Bldg. 7136

Fort Bliss

El Paso TX 79916

Landholding Agency: Army

Property Number: 21200540071

Status: Unutilized

Reasons: Extensive deterioration

Bldg. D5040

Grand Prairie Reserve Complex

Tarrant TX 75051

Landholding Agency: Army

Property Number: 21200620045

Status: Unutilized

Reasons: Secured Area; Extensive deterioration

Bldgs. 1177, 1178, 1179

Fort Bliss

El Paso TX 79916

Landholding Agency: Army

Property Number: 21200640073

Status: Unutilized

Reasons: Extensive deterioration

Bldgs. 199, 1271, 11306

Fort Bliss

El Paso TX 79916

Landholding Agency: Army

Property Number: 21200710036

Status: Unutilized

Reasons: Secured Area

Bldgs. 56226, 56228

Fort Hood

Bell TX 76544

Landholding Agency: Army

Property Number: 21200720109

Status: Excess

Reasons: Extensive deterioration

Bldg. 1235

Fort Bliss

El Paso TX 79916

Landholding Agency: Army

Property Number: 21200740030

Status: Unutilized

Reasons: Extensive deterioration; Secured Area

Bldg. 00002

Denton

Lewisville TX 76102

Landholding Agency: Army

Property Number: 21200810034

Status: Unutilized

Reasons: Extensive deterioration

9 Bldgs.

Fort Bliss

El Paso TX 79916

Landholding Agency: Army

Property Number: 21200820013

Status: Excess

Directions: 1610, 1680, 2322, 2323, 2332, 2333, 2343, 2353, 3191

Reasons: Secured Area

Bldg. 08017

Fort Worth

Tarrant TX 76108

Landholding Agency: Army

Property Number: 21200830028

Status: Unutilized

Reasons: Extensive deterioration; Secured Area

9 Bldgs.

Fort Worth

Tarrant TX 76108

Landholding Agency: Army

Property Number: 21200830029

Status: Unutilized

Directions: 8501, 8504, 8505, 8506, 8507, 8508, 8509, 8511, 8514

Reasons: Secured Area; Extensive deterioration

Bldgs. 617, 619, 889, 890

Fort Bliss

El Paso TX

Landholding Agency: Army

Property Number: 21200830030

Status: Unutilized

Reasons: Extensive deterioration

4 Bldgs.

Fort Bliss

El Paso TX 79916

Landholding Agency: Army

Property Number: 21200830039

Status: Unutilized

Directions: 11411, 11530, 11540, 11550

Reasons: Extensive deterioration

Bldg. 5817

Fort Bliss

El Paso TX 79916

Landholding Agency: Army

Property Number: 21200920071

Status: Unutilized

Reasons: Extensive deterioration

Bldgs. 9550, 9557, 9558, 11301

Fort Bliss

El Paso TX 79916

Landholding Agency: Army

Property Number: 21200930025

Status: Unutilized

Reasons: Extensive deterioration

Bldgs. 11284, 11304

Fort Bliss

El Paso TX 79916

Landholding Agency: Army

Property Number: 21200940036

Status: Unutilized

Reasons: Secured Area

Bldg. 25

Brownwood

Brown TX 76801

Landholding Agency: Army

Property Number: 21201020033

Status: Unutilized

Reasons: Extensive deterioration

Bldg. 00046

Ft. Bliss

El Paso TX

Landholding Agency: Army

Property Number: 21201120056

Status: Unutilized

Reasons: Extensive deterioration

6 Bldgs.

Ft. Bliss

El Paso TX

Landholding Agency: Army

Property Number: 21201120059

Status: Unutilized

Directions: 07180, 07184, 07186, 07188, 07190, 07192

Reasons: Extensive deterioration

Bldg 1674

42nd & Old Ironsides

Fort Hood TX 76544

Landholding Agency: Army

Property Number: 21201140065

Status: Excess

Reasons: Secured Area; Contamination

5 Buildings

Ft. Wolters

Ft. Wolters TX 76067

Landholding Agency: Army

Property Number: 21201410004

Status: Excess

Directions: 1178, 1179, 1180, 1201, 1213?

Comments: public access denied and no alternative method to gain access w/out compromising national security.

Reasons: Secured Area

3 Buildings

Red River Army Depot

Red River Army Depot TX 75507

Landholding Agency: Army

Property Number: 21201440041

Status: Excess

Directions: 01161; 01162; 01165

Comments: public access denied and no alternative method to gain access w/out compromising national security.

Reasons: Secured Area

01154

Red River Army Depot

Texarkana TX 75507

Landholding Agency: Army

Property Number: 21201440042

Status: Excess

Comments: public access denied and no alternative method to gain access w/out compromising national security.

Reasons: Secured Area

4 Buildings

Fort Hood

Ft. Hood TX 76544

Landholding Agency: Army

Property Number: 21201440061

Status: Unutilized

Directions: 36019; 36027; 36028; 36043

Comments: public access denied and no alternative method to gain access without compromising national security.

Reasons: Secured Area

Building 01249

1249 Irwin Rd.

Fort Bliss TX 79916

Landholding Agency: Army

Property Number: 21201520044

Status: Unutilized

Comments: public access denied and no alternative method to gain access without compromising national security.

Reasons: Secured Area

9111; RPUID: 180441

Hell on Wheels Avenue

Fort Hood TX 76544

Landholding Agency: Army

Property Number: 21201540026

Status: Excess

Comments: documented deficiencies: property has holes in the structure that most likely will result in collapse if removed off-site; clear threat to physical safety.

Reasons: Extensive deterioration

16 Buildings

Fort Bliss

El Paso TX 79916

Landholding Agency: Army

Property Number: 21201540051

Status: Unutilized

Directions: 03682; 03693; 05041; 05043; 05044; 05045; 07013; 07021; 09495; 09683; 11269; 11519; 11520; 11626; 11660; 11682

Comments: public access denied and no alternative method to gain access without compromising national security.

Reasons: Secured Area

2 Buildings

Fort Hood

Fort Hood TX 76544

Landholding Agency: Army

Property Number: 21201610016

Status: Excess

Directions: Building 4222 RPUID:312106; 56007 RPUID:172572

Comments: public access denied and no alternative method to gain access without compromising national security.

Reasons: Secured Area

7 Buildings

Fort Hood

Fort Hood TX 76544

Landholding Agency: Army

Property Number: 21201610018

Status: Unutilized

Directions: 56448:956596; 56449:956597; 56171:312159; 8314:180917; 8400:180742; 9426:180261; 4261:312300

Comments: public access denied and no alternative method to gain access without compromising national security.

Reasons: Secured Area

2 Buildings

Fort Hood

Fort Hood TX 76544

Landholding Agency: Army

Property Number: 21201610047

Status: Excess

Directions: 2033 RPUID:171493; 56616 RPUID:171884

Comments: public access denied and no alternative method to gain access without compromising national security.

Reasons: Secured Area

Utah

Bldg. 5145

Deseret Chemical Depot

Tooele UT 84074

Landholding Agency: Army

Property Number: 21199820120

Status: Unutilized

Directions:

Comments:

Reasons: Extensive deterioration; Secured Area

Bldg. 8030

Deseret Chemical Depot

Tooele UT 84074

Landholding Agency: Army

Property Number: 21199820121

Status: Unutilized

Directions:

Comments:

Reasons: Extensive deterioration; Secured Area

Bldgs. 04546, 04550

Deseret Chemical Depot

Stockton UT 84071

Landholding Agency: Army

Property Number: 21200610034

Status: Excess

Reasons: Extensive deterioration

Bldg. 5126

Deseret Chemical Depot

Stockton UT

Landholding Agency: Army

Property Number: 21200820075

Status: Excess

Comments: Bldg. 4535 was demolished 04/12/2012.

Reasons: Secured Area

16 Bldgs.

Green River Test Complex

Green River UT 84525

Landholding Agency: Army

Property Number: 21201210043

Status: Unutilized

Directions: 50101, 50102, 50106, 50108, 50109, 50130, 50131, 50133, 50210, 50253, 50291, 50308, 50331, 50400

Comments: nat'l security concerns; no public access and no alternative method to gain access.

Reasons: Secured Area

14 Bldgs.

Green River Test Complex

Green River UT 84525

Landholding Agency: Army

Property Number: 21201210044

Status: Unutilized

Directions: 50001, 50002, 50003, 50006, 50019, 50020, 50022, 50024, 50027, 50029, 50031, 50032, 50040, 50043

Comments: nat'l security concerns; no public access and no alternative method to gain access.

Reasons: Secured Area

2 Bldgs.

Green River Test Complex

Green River UT 84525

Landholding Agency: Army

Property Number: 21201210096

Status: Unutilized

Directions: 50105, 50207

Comments: nat'l security concerns; no public access and no alternative method to gain access.

Reasons: Secured Area

Building Z2206 & Z2212

115500 Stark Rd.

Stockton UT 84071

Landholding Agency: Army

Property Number: 21201330027

Status: Unutilized

Comments: secured facility access denied to general public & no alter. method to gain access w/out compromising nat'l security.

Reasons: Secured Area

16 Buildings

DUGWAY PROVING GROUND

DUGWAY PROVING GROUND UT 84022

Landholding Agency: Army

Property Number: 21201540036

Status: Underutilized

Directions: 00001-RPUID: 570563; 00003-RPUID: 588352; 00005-RPUID: 588352; 00007-RPUID: 611072; 00011-RPUID: 614435; 00020-RPUID: 611287; 00021-RPUID: 614434; 00022-RPUID: 570464; 00023-RPUID: 599972; 00024-RPUID: 575282; 00025-RPUID: 586999;00027-RPUID: 570566; 00029-RPUID: 587000;00031-618225; 33-RPUID: 599973; 37-RPUID: 587002

Comments: public access denied and no alternative method to gain access without compromising national security.

Reasons: Secured Area

20 Buildings

DUGWAY PROVING GROUND

DUGWAY PROVING GROUND UT 84022

Landholding Agency: Army

Property Number: 21201540037

Status: Underutilized

Directions: 00154-598832; 00156-595717; 00158-574114; 00162-603757; 00163-574115; 00164-585779; 00167-595718; 00171-586937; 00173-607725; 00175-574117; 00177-603576; 00180-575781; 00181-575670; 00183-574119; 00185-598833; 00186-595719; 00187-609946; 00197-609948; 00198-579166; 00201-600412

Comments: public access denied and no alternative method to gain access without compromising national security.

Reasons: Secured Area

20 Buildings

DUGWAY PROVING GROUND

DUGWAY PROVING GROUND UT 84022

Landholding Agency: Army

Property Number: 21201540038

Status: Underutilized

Directions: 00205-609949; 00209-602438; 00256-583679; 00303-600093; 00306-616070; 00313-590335; 00321-587745; 00325-583680; 00329-573173; 00351-579174; 00361-600095; 5236-581055; 05362-579151; 05363-576303; 05367-573490; 05375-575942; 05381-578690; 05382-583591; 05383-599699; 05390-604657

Comments: public access denied and no alternative method to gain access without compromising national security.

Reasons: Secured Area

14 Buildings

DUGWAY PROVING GROUND

DUGWAY PROVING GROUND UT 84022

Landholding Agency: Army

Property Number: 21201540039

Status: Underutilized

Directions: 00069-RPUID: 599975; 00093-RPUID: 618228;00152-RPUID: 621801; 00103-RPUID:587003; 00107-RPUID: 611292; 00113-RPUID: 605404; 00118-RPUID: 590378; 00119-RPUID: 606737; 00123-RPUID: 577667; 00125-RPUID: 577668; 00127-RPUID: 607723; 00129-RPUID: 574112; 00131-RPUID: 577669; 00140-RPUID: 606738

Comments: public access denied and no alternative method to gain access without compromising national security.

Reasons: Secured Area

Virginia

Bldg. 4327-07 Warehouse

Radford Army Ammunition Plant

Radford VA 24141

Landholding Agency: Army

Property Number: 21199010833

Status: Unutilized

Directions: State Highway 114

Comments:

Reasons: Secured Area; Within 2000 ft. of flammable or explosive material

Bldgs. 4339-23

Radford Army Ammunition Plant

Latrine

Radford VA 24141

Landholding Agency: Army

Property Number: 21199010835

Status: Unutilized

Directions: State Highway 114

Comments:

Reasons: Secured Area; Within 2000 ft. of flammable or explosive material; Other—Latrine, detached structure

Bldg. 3012, Nitrating House

Radford Army Ammunition Plant

Radford VA 24141

Landholding Agency: Army

Property Number: 21199010836

Status: Unutilized

Directions: State Highway 114

Comments:

Reasons: Secured Area; Within 2000 ft. of flammable or explosive material

Bldg. 4339-02

Radford Army Ammunition Plant

Radford VA 24141

Landholding Agency: Army

Property Number: 21199010837

Status: Underutilized

Directions: State Highway 114

Comments:

Reasons: Other—Latrine, detached structure; Secured Area; Within 2000 ft. of flammable or explosive material

Bldg. 4339-10

Radford Army Ammunition Plant

Latrine

Radford VA 24141

Landholding Agency: Army

Property Number: 21199010838

Status: Unutilized

Directions: State Highway 114

Comments:

Reasons: Within 2000 ft. of flammable or explosive material; Other—Latrine, detached structure; Secured Area

Bldg. 4339-11

Radford Army Ammunition Plant

Latrine

Radford VA 24141

Landholding Agency: Army

Property Number: 21199010840

Status: Unutilized

Directions: State Highway 114

Comments:

Reasons: Secured Area; Other—Latrine, detached structure; Within 2000 ft. of flammable or explosive material

Bldg. 4339-24

Radford Army Ammunition Plant

Latrine

Radford VA 24141

Landholding Agency: Army

Property Number: 21199010841

Status: Unutilized

Directions: State Highway 114

Comments:

Reasons: Secured Area; Other—Latrine, detached structure; Within 2000 ft. of flammable or explosive material

Bldg. 4710-01

Radford Army Ammunition Plant

Latrine

Radford VA 24141

Landholding Agency: Army

Property Number: 21199010843

Status: Unutilized

Directions: State Highway 114

Comments:

Reasons: Within 2000 ft. of flammable or explosive material; Other—Latrine, detached structure; Secured Area

Bldg. 3511-00

Radford Army Ammunition Plant

Blocker Press

Radford VA 24141

Landholding Agency: Army

Property Number: 21199010844

Status: Unutilized

Directions: State Highway 114

Comments:

Reasons: Secured Area; Within 2000 ft. of flammable or explosive material

Bldg. 4710-02

Radford Army Ammunition Plant

Latrine

Radford VA 24141

Landholding Agency: Army

Property Number: 21199010845

Status: Unutilized

Directions: State Highway 114

Comments:

Reasons: Within 2000 ft. of flammable or explosive material; Secured Area; Other—Latrine, detached structure.

Bldg. 4343-00

Radford Army Ammunition Plant

Codmium Plating House

Radford VA 24141

Landholding Agency: Army

Property Number: 21199010848

Status: Unutilized

Directions: State Highway 114

Comments:

Reasons: Secured Area; Within 2000 ft. of flammable or explosive material.

Bldg. 4901-00

Radford Army Ammunition Plant

Block Press House

Radford VA 24141

Landholding Agency: Army

Property Number: 21199010849

Status: Unutilized

Directions: State Highway 114

Comments:

Reasons: Within 2000 ft. of flammable or explosive material; Secured Area

Bldg. 3553-00, A-1

Radford Army Ammunition Plant

Press Cutting House

Radford VA 24141

Landholding Agency: Army

Property Number: 21199010851

Status: Unutilized

Directions: State Highway 114

Comments:

Reasons: Within 2000 ft. of flammable or explosive material; Secured Area

Bldg. 4905-00

Radford Army Ammunition Plant

Control House

Radford VA 24141

Landholding Agency: Army

Property Number: 21199010852

Status: Unutilized

Directions: State Highway 114

Comments:

Reasons: Secured Area; Within 2000 ft. of flammable or explosive material.

Bldg. 4909-01

Radford Army Ammunition Plant

Solvent Recovery House

Radford VA 24141

Landholding Agency: Army

Property Number: 21199010853

Status: Unutilized

Directions: State Highway 114

Comments:

Reasons: Within 2000 ft. of flammable or explosive material; Secured Area

Bldg. 4909-02

Radford Army Ammunition Plant

Solvent Recovery House

Radford VA 24141

Landholding Agency: Army

Property Number: 21199010854

Status: Unutilized

Directions: State Highway 114

Comments:

Reasons: Secured Area; Within 2000 ft. of flammable or explosive material.

Bldg. 3649-00

Radford Army Ammunition Plant

Premix House No. 3

Radford VA 24141

Landholding Agency: Army

Property Number: 21199010855

Status: Unutilized

Directions: State Highway 114

Comments:

Reasons: Secured Area; Within 2000 ft. of flammable or explosive material.

Bldg. 4909-03

Radford Army Ammunition Plant

Solvent Recovery House

Radford VA 24141

Landholding Agency: Army

Property Number: 21199010856

Status: Unutilized

Directions: State Highway 114

Comments:

Reasons: Secured Area; Within 2000 ft. of flammable or explosive material.

Bldg. 4909-04

Radford Army Ammunition Plant

Solvent Recovery House

Radford VA 24141

Landholding Agency: Army

Property Number: 21199010857

Status: Unutilized

Directions: State Highway 114

Comments:

Reasons: Secured Area; Within 2000 ft. of flammable or explosive material.

Bldg. 4909-05

Radford Army Ammunition Plant

Solvent Recovery House

Radford VA 24141

Landholding Agency: Army

Property Number: 21199010858

Status: Unutilized

Directions: State Highway 114

Comments:

Reasons: Within 2000 ft. of flammable or explosive material; Secured Area

Bldg. 3662-00

Radford Army Ammunition Plant

Screen Storehouse

Radford VA 24141

Landholding Agency: Army

Property Number: 21199010859

Status: Unutilized

Directions: State Highway 114

Comments:

Reasons: Within 2000 ft. of flammable or explosive material; Secured Area

Bldg. 4910-01

Radford Army Ammunition Plant

Water Dry House

Radford VA 24141

Landholding Agency: Army

Property Number: 21199010860

Status: Unutilized

Directions: State Highway 114

Comments:

Reasons: Within 2000 ft. of flammable or explosive material; Secured Area

Bldg. 4910-02

Radford Army Ammunition Plant

Water Dry House

Radford VA 24141

Landholding Agency: Army

Property Number: 21199010861

Status: Unutilized

Directions: State Highway 114

Comments:

Reasons: Within 2000 ft. of flammable or explosive material; Secured Area

Bldg. 4910-03

Radford Army Ammunition Plant

Water Dry House

Radford VA 24141

Landholding Agency: Army

Property Number: 21199010862

Status: Unutilized

Directions: State Highway 114

Comments:

Reasons: Within 2000 ft. of flammable or explosive material; Secured Area

Bldg. 3670-00

Radford Army Ammunition Plant

Perchlorate Grind House

Radford VA 24141

Landholding Agency: Army

Property Number: 21199010863

Status: Unutilized

Directions: State Highway 114

Comments:

Reasons: Within 2000 ft. of flammable or explosive material; Secured Area

Bldg. 4910-04

Radford Army Ammunition Plant

Water Dry House

Radford VA 24141

Landholding Agency: Army

Property Number: 21199010864

Status: Unutilized

Directions: State Highway 114

Comments:

Reasons: Within 2000 ft. of flammable or explosive material; Secured Area

Bldg. 4910-05

Radford Army Ammunition Plant

Water Dry House

Radford VA 24141

Landholding Agency: Army

Property Number: 21199010865

Status: Unutilized

Directions: State Highway 114

Comments:

Reasons: Within 2000 ft. of flammable or explosive material; Secured Area

Bldg. 3672-00

Radford Army Ammunition Plant

Perchlorate Grind House

Radford VA 24141

Landholding Agency: Army

Property Number: 21199010866

Status: Unutilized

Directions: State Highway 114

Comments:

Reasons: Secured Area; Within 2000 ft. of flammable or explosive material.

Bldg. 3675-00

Radford Army Ammunition Plant

Air Dry House

Radford VA 24141

Landholding Agency: Army

Property Number: 21199010867

Status: Unutilized

Directions: State Highway 114

Comments:

Reasons: Within 2000 ft. of flammable or explosive material; Secured Area

Bldg. 4911-02

Radford Army Ammunition Plant

Air Dry House

Radford VA 24141

Landholding Agency: Army

Property Number: 21199010868

Status: Unutilized

Directions: State Highway 114

Comments:

Reasons: Within 2000 ft. of flammable or explosive material; Secured Area

Bldg. 4912-05

Radford Army Ammunition Plant

Waste Powder and Solvent Storage

Radford VA 24141

Landholding Agency: Army

Property Number: 21199010869

Status: Unutilized

Directions: State Highway 114

Comments:

Reasons: Within 2000 ft. of flammable or explosive material; Secured Area

Bldg. 3676-00

Radford Army Ammunition Plant

C-7 Mix House

Radford VA 24141

Landholding Agency: Army

Property Number: 21199010870

Status: Unutilized

Directions: State Highway 114

Comments:

Reasons: Within 2000 ft. of flammable or explosive material; Secured Area

Bldg. 4913-00

Radford Army Ammunition Plant

Large Grain Disassembly House

Radford VA 24141

Landholding Agency: Army

Property Number: 21199010871

Status: Unutilized

Directions: State Highway 114

Comments:

Reasons: Within 2000 ft. of flammable or explosive material; Secured Area

Bldg. 3678-00

Radford Army Ammunition Plant

Air Dry House

Radford VA 24141

Landholding Agency: Army

Property Number: 21199010872

Status: Unutilized

Directions: State Highway 114

Comments:

Reasons: Secured Area; Within 2000 ft. of flammable or explosive material.

Bldg. 4933-00

Radford Army Ammunition Plant

Filter House

Radford VA 24141

Landholding Agency: Army

Property Number: 21199010874

Status: Unutilized

Directions: State Highway 114

Comments:

Reasons: Secured Area; Within 2000 ft. of flammable or explosive material.

Bldg. 3688

Radford Army Ammunition Plant

Control House

Radford VA 24141

Landholding Agency: Army

Property Number: 21199010875

Status: Unutilized

Directions: State Highway 114

Comments:

Reasons: Within 2000 ft. of flammable or explosive material; Secured Area

Bldg. 4935-00

Radford Army Ammunition Plant

Chilled Water Refrigeration

Radford VA 24141

Landholding Agency: Army

Property Number: 21199010876

Status: Unutilized

Directions: State Highway 114

Comments:

Reasons: Within 2000 ft. of flammable or explosive material; Secured Area

Bldg. 4945-02

Radford Army Ammunition Plant

Coating House

Radford VA 24141

Landholding Agency: Army

Property Number: 21199010877

Status: Unutilized

Directions: State Highway 114

Comments:

Reasons: Within 2000 ft. of flammable or explosive material; Secured Area

Bldg. 3702-00

Radford Army Ammunition Plant

Chemical Grind House

Radford VA 24141

Landholding Agency: Army

Property Number: 21199010878

Status: Unutilized

Directions: State Highway 114

Comments:

Reasons: Secured Area; Within 2000 ft. of flammable or explosive material.

Bldg. 4952-00

Radford Army Ammunition Plant

Beaker Wrap House

Radford VA 24141

Landholding Agency: Army

Property Number: 21199010879

Status: Unutilized

Directions: State Highway 114

Comments:

Reasons: Secured Area; Within 2000 ft. of flammable or explosive material.

Bldg. 3706-00

Radford Army Ammunition Plant

Pre-Mix Rest House

Radford VA 24141

Landholding Agency: Army

Property Number: 21199010880

Status: Unutilized

Directions: State Highway 114

Comments:

Reasons: Within 2000 ft. of flammable or explosive material; Secured Area

Bldg. 3723-00

Radford Army Ammunition Plant

Nibbling House

Radford VA 24141

Landholding Agency: Army

Property Number: 21199010881

Status: Unutilized

Directions: State Highway 114

Comments:

Reasons: Within 2000 ft. of flammable or explosive material; Secured Area

Bldg. 3742-00

Radford Army Ammunition Plant

Catch Tank House

Radford VA 24141

Landholding Agency: Army

Property Number: 21199010882

Status: Unutilized

Directions: State Highway 114

Comments:

Reasons: Secured Area; Within 2000 ft. of flammable or explosive material.

Bldg. 3743-00

Radford Army Ammunition Plant

Weigh House No. 1

Radford VA 24141

Landholding Agency: Army

Property Number: 21199010883

Status: Unutilized

Directions: State Highway 114

Comments:

Reasons: Secured Area; Within 2000 ft. of flammable or explosive material.

Bldg. 5501-00

Radford Army Ammunition Plant

Finishing Bldg.

Radford VA 24141

Landholding Agency: Army

Property Number: 21199010884

Status: Unutilized

Directions: State Highway 114

Comments:

Reasons: Secured Area; Within 2000 ft. of flammable or explosive material.

Bldg. 5502-00

Radford Army Ammunition Plant

Waste Water Treatment Plant

Radford VA 24141

Landholding Agency: Army

Property Number: 21199010885

Status: Unutilized

Directions: State Highway 114

Comments:

Reasons: Secured Area; Within 2000 ft. of flammable or explosive material

Bldg. 7112-01

Radford Army Ammunition Plant

Increment House

Radford VA 24141

Landholding Agency: Army

Property Number: 21199010886

Status: Unutilized

Directions: State Highway 114

Comments:

Reasons: Secured Area; Within 2000 ft. of flammable or explosive material

Bldg. 5500-00

Radford Army Ammunition Plant

Manufacturing Bldg.

Radford VA 24141

Landholding Agency: Army

Property Number: 21199010887

Status: Unutilized

Directions: State Highway 114

Comments:

Reasons: Within 2000 ft. of flammable or explosive material; Secured Area

Bldg. 7126-00

Radford Army Ammunition Plant

Halfway House

Radford VA 24141

Landholding Agency: Army

Property Number: 21199010889

Status: Unutilized

Directions: State Highway 114

Comments:

Reasons: Within 2000 ft. of flammable or explosive material; Secured Area

Bldg. 7160-00

Radford Army Ammunition Plant

Area Maintenance Office

Radford VA 24141

Landholding Agency: Army

Property Number: 21199010890

Status: Unutilized

Directions: State Highway 114

Comments:

Reasons: Secured Area; Within 2000 ft. of flammable or explosive material

Bldg. 7800-00

Radford Army Ammunition Plant

Extruded Grain Finishing House

Radford VA 24141

Landholding Agency: Army

Property Number: 21199010892

Status: Unutilized

Directions: State Highway 114

Comments:

Reasons: Within 2000 ft. of flammable or explosive material; Secured Area

Bldg. 7806-00

Radford Army Ammunition Plant

Latrine and Utility House

Radford VA 24141

Landholding Agency: Army

Property Number: 21199010893

Status: Unutilized

Directions: State Highway 114

Comments:

Reasons: Within 2000 ft. of flammable or explosive material; Secured Area

Bldg. 9203-00

Radford Army Ammunition Plant

Solvent Preparation Bldg.

Radford VA 24141

Landholding Agency: Army

Property Number: 21199010894

Status: Unutilized

Directions: State Highway 114

Comments:

Reasons: Secured Area; Within 2000 ft. of flammable or explosive material

Bldg. 9205

Radford Army Ammunition Plant

Green Line Complex

Radford VA 24141

Landholding Agency: Army

Property Number: 21199010895

Status: Unutilized

Directions: State Highway 114

Comments:

Reasons: Within 2000 ft. of flammable or explosive material; Secured Area

Bldg. 9209

Radford Army Ammunition Plant

Traying Bldg.

Radford VA 24141

Landholding Agency: Army

Property Number: 21199010896

Status: Unutilized

Directions: State Highway 114

Comments:

Reasons: Within 2000 ft. of flammable or explosive material; Secured Area

Bldg. 9210

Radford Army Ammunition Plant

Traying Bldg.

Radford VA 24141

Landholding Agency: Army

Property Number: 21199010897

Status: Unutilized

Directions: State Highway 114

Comments:

Reasons: Secured Area; Within 2000 ft. of flammable or explosive material

Bldg. 9211

Radford Army Ammunition Plant

Traying Bldg.

Radford VA 24141

Landholding Agency: Army

Property Number: 21199010898

Status: Unutilized

Directions: State Highway 114

Comments:

Reasons: Secured Area; Within 2000 ft. of flammable or explosive material

Bldg. 9206

Radford Army Ammunition Plant

Green Line Complex

Radford VA 24141

Landholding Agency: Army

Property Number: 21199010899

Status: Unutilized

Directions: State Highway 114

Comments:

Reasons: Within 2000 ft. of flammable or explosive material; Secured Area

Bldg. 9207

Radford Army Ammunition Plant

Green Line Complex

Radford VA 24141

Landholding Agency: Army

Property Number: 21199010900

Status: Unutilized

Directions: State Highway 114

Comments:

Reasons: Within 2000 ft. of flammable or explosive material; Secured Area

Bldg. 9310-01

Radford Army Ammunition Plant

Rolled Powder Bldg.

Radford VA 24141

Landholding Agency: Army

Property Number: 21199010901

Status: Unutilized

Directions: State Highway 114

Comments:

Reasons: Secured Area; Within 2000 ft. of flammable or explosive material

Bldg. 9361-06

Radford Army Ammunition Plant

Material Storage

Radford VA 24141

Landholding Agency: Army

Property Number: 21199010903

Status: Unutilized

Directions: State Highway 114

Comments:

Reasons: Within 2000 ft. of flammable or explosive material; Secured Area

Bldg. 9500-00

Radford Army Ammunition Plant

Nitrating House

Radford VA 24141

Landholding Agency: Army

Property Number: 21199010904

Status: Unutilized

Directions: State Highway 114

Comments:

Reasons: Secured Area; Within 2000 ft. of flammable or explosive material

Bldg. 9503-00

Radford Army Ammunition Plant

Finishing House

Radford VA 24141

Landholding Agency: Army

Property Number: 21199010905

Status: Unutilized

Directions: State Highway 114

Comments:

Reasons: Secured Area; Within 2000 ft. of flammable or explosive material

Bldg. 9510-00

Radford Army Ammunition Plant

Spent Acid Recovery

Radford VA 24141

Landholding Agency: Army

Property Number: 21199010907

Status: Unutilized

Directions: State Highway 114

Comments:

Reasons: Secured Area; Within 2000 ft. of flammable or explosive material

Bldg. 9546-01

Radford Army Ammunition Plant

Soda Ash Mix House

Radford VA 24141

Landholding Agency: Army

Property Number: 21199010909

Status: Unutilized

Directions: State Highway 114

Comments:

Reasons: Secured Area; Within 2000 ft. of flammable or explosive material

Bldg. 9550-00

Radford Army Ammunition Plant

Storage Bldg.

Radford VA 24141

Landholding Agency: Army

Property Number: 21199010910

Status: Unutilized

Directions: State Highway 114

Comments:

Reasons: Within 2000 ft. of flammable or explosive material; Secured Area

Bldg. 1600

Radford Army Ammunition Plant

Solvent Recovery House

Radford VA 24141

Landholding Agency: Army

Property Number: 21199011521

Status: Unutilized

Directions: State Highway 114

Comments:

Reasons: Secured Area; Within 2000 ft. of flammable or explosive material

Bldg. 1604

Radford Army Ammunition Plant

Solvent Recovery House

Radford VA 24141

Landholding Agency: Army

Property Number: 21199011522

Status: Unutilized

Directions: State Highway 114

Comments:

Reasons: Secured Area; Within 2000 ft. of flammable or explosive material

Bldg. 1608

Radford Army Ammunition Plant

Solvent Recovery House

Radford VA 24141

Landholding Agency: Army

Property Number: 21199011523

Status: Unutilized

Directions: State Highway 114

Comments:

Reasons: Within 2000 ft. of flammable or explosive material; Secured Area

Bldg. NR 0221-00

Radford Army Ammunition Plant

Boiler House

Dublin VA 24084

Landholding Agency: Army

Property Number: 21199011524

Status: Unutilized

Directions:

Comments:

Reasons: Secured Area; Within 2000 ft. of flammable or explosive material

Bldg. 1618

Radford Army Ammunition Plant

Solvent Recovery House

Radford VA 24141

Landholding Agency: Army

Property Number: 21199011525

Status: Unutilized

Directions: State Highway 114

Comments:

Reasons: Within 2000 ft. of flammable or explosive material; Secured Area

Bldg. 1619

Radford Army Ammunition Plant

Solvent Recovery House

Radford VA 24141

Landholding Agency: Army

Property Number: 21199011526

Status: Unutilized

Directions: State Highway 114

Comments:

Reasons: Within 2000 ft. of flammable or explosive material; Secured Area

Bldg. 1622

Radford Army Ammunition Plant

Solvent Recovery House

Radford VA 24141

Landholding Agency: Army

Property Number: 21199011527

Status: Unutilized

Directions: State Highway 114

Comments:

Reasons: Secured Area; Within 2000 ft. of flammable or explosive material

Bldg. 1625

Radford Army Ammunition Plant

Solvent Recovery House

Radford VA 24141

Landholding Agency: Army

Property Number: 21199011528

Status: Unutilized

Directions: State Highway 114

Comments:

Reasons: Within 2000 ft. of flammable or explosive material; Secured Area

Bldg. 1650

Radford Army Ammunition Plant

Water Dry House

Radford VA 24141

Landholding Agency: Army

Property Number: 21199011530

Status: Unutilized

Directions: State Highway 114

Comments:

Reasons: Secured Area; Within 2000 ft. of flammable or explosive material

Bldg. 1651

Radford Army Ammunition Plant

Water Dry House

Radford VA 24141

Landholding Agency: Army

Property Number: 21199011531

Status: Unutilized

Directions: State Highway 114

Comments:

Reasons: Secured Area; Within 2000 ft. of flammable or explosive material

Bldg. 1652

Radford Army Ammunition Plant

Water Dry House

Radford VA 24141

Landholding Agency: Army

Property Number: 21199011532

Status: Unutilized

Directions: State Highway 114

Comments:

Reasons: Within 2000 ft. of flammable or explosive material; Secured Area

Bldg. 221-25

Radford Army Ammunition Plant

Burning Ground Office

Radford VA 24141

Landholding Agency: Army

Property Number: 21199011533

Status: Unutilized

Directions: State Highway 114

Comments:

Reasons: Within 2000 ft. of flammable or explosive material; Secured Area

Bldg. 1653

Radford Army Ammunition Plant

Water Dry House

Radford VA 24141

Landholding Agency: Army

Property Number: 21199011534

Status: Unutilized

Directions: State Highway 114

Comments:

Reasons: Within 2000 ft. of flammable or explosive material; Secured Area

Bldg. 1654

Radford Army Ammunition Plant

Water Dry House

Radford VA 24141

Landholding Agency: Army

Property Number: 21199011535

Status: Unutilized

Directions: State Highway 114

Comments:

Reasons: Within 2000 ft. of flammable or explosive material; Secured Area

Bldg. NR 222-00

Radford Army Ammunition Plant

Change House, New River Facility

Dublin VA 24084

Landholding Agency: Army

Property Number: 21199011536

Status: Unutilized

Directions:

Comments:

Reasons: Secured Area; Within 2000 ft. of flammable or explosive material

Bldg. 1655

Radford Army Ammunition Plant

Water Dry House

Radford VA 24141

Landholding Agency: Army

Property Number: 21199011537

Status: Unutilized

Directions: State Highway 114

Comments:

Reasons: Secured Area; Within 2000 ft. of flammable or explosive material

Bldg. 1656

Radford Army Ammunition Plant

Water Dry House

Radford VA 24141

Landholding Agency: Army

Property Number: 21199011538

Status: Unutilized

Directions: State Highway 114

Comments:

Reasons: Secured Area; Within 2000 ft. of flammable or explosive material

Bldg. NR-225

Radford Army Ammunition Plant

Maintenance Office, New River Facility

Radford VA 24084

Landholding Agency: Army

Property Number: 21199011539

Status: Unutilized

Directions:

Comments:

Reasons: Within 2000 ft. of flammable or explosive material; Secured Area

Bldg. 1657

Radford Army Ammunition Plant

Water Dry House

Radford VA 24141

Landholding Agency: Army

Property Number: 21199011540

Status: Unutilized

Directions: State Highway 114

Comments:

Reasons: Within 2000 ft. of flammable or explosive material; Secured Area

Bldg. 1658

Radford Army Ammunition Plant

Water Dry House

Radford VA 24141

Landholding Agency: Army

Property Number: 21199011541

Status: Unutilized

Directions: State Highway 114

Comments:

Reasons: Within 2000 ft. of flammable or explosive material; Secured Area

Bldg. 0407-00

Radford Army Ammunition Plant

Filter Plant Station

Radford VA 24141

Landholding Agency: Army

Property Number: 21199011542

Status: Unutilized

Directions: State Highway 114

Comments:

Reasons: Secured Area; Within 2000 ft. of flammable or explosive material

Bldg. 0403-09

Radford Army Ammunition Plant

Control House Water Monitoring

Radford VA 24141

Landholding Agency: Army

Property Number: 21199011543

Status: Unutilized

Directions: State Highway 114

Comments:

Reasons: Within 2000 ft. of flammable or explosive material; Secured Area

Bldg. 1659

Radford Army Ammunition Plant

Water Dry House

Radford VA 24141

Landholding Agency: Army

Property Number: 21199011544

Status: Unutilized

Directions: State Highway 114

Comments:

Reasons: Within 2000 ft. of flammable or explosive material; Secured Area

Bldg. 1675

Radford Army Ammunition Plant

Water Dry House

Radford VA 24141

Landholding Agency: Army

Property Number: 21199011545

Status: Unutilized

Directions: State Highway 114

Comments:

Reasons: Within 2000 ft. of flammable or explosive material; Secured Area

Bldg. 1676

Radford Army Ammunition Plant

Water Dry House

Radford VA 24141

Landholding Agency: Army

Property Number: 21199011547

Status: Unutilized

Directions: State Highway 114

Comments:

Reasons: Secured Area; Within 2000 ft. of flammable or explosive material

Bldg. 1007

Radford Army Ammunition Plant

Acid Screening House

Radford VA 24141

Landholding Agency: Army

Property Number: 21199011548

Status: Unutilized

Directions: State Highway 114

Comments:

Reasons: Within 2000 ft. of flammable or explosive material; Secured Area

Bldg. 1008

Radford Army Ammunition Plant

Acid Heat And Circulating House

Radford VA 24141

Landholding Agency: Army

Property Number: 21199011549

Status: Unutilized

Directions: State Highway 114

Comments:

Reasons: Within 2000 ft. of flammable or explosive material; Secured Area

Bldg. 1010

Radford Army Ammunition Plant

Dry House and Conveyor

Radford VA 24141

Landholding Agency: Army

Property Number: 21199011550

Status: Unutilized

Directions: State Highway 114

Comments:

Reasons: Within 2000 ft. of flammable or explosive material; Secured Area

Bldg. 1012

Radford Army Ammunition Plant

Nitrating House

Radford VA 24141

Landholding Agency: Army

Property Number: 21199011551

Status: Unutilized

Directions: State Highway 114

Comments:

Reasons: Secured Area; Within 2000 ft. of flammable or explosive material

Bldg. 1014-00

Radford Army Ammunition Plant

Emergency Catch House

Radford VA 24141

Landholding Agency: Army

Property Number: 21199011553

Status: Unutilized

Directions: State Highway 114

Comments:

Reasons: Within 2000 ft. of flammable or explosive material; Secured Area

Bldg. 1019

Radford Army Ammunition Plant

Boiling Tub House

Radford VA 24141

Landholding Agency: Army

Property Number: 21199011554

Status: Unutilized

Directions: State Highway 114

Comments:

Reasons: Within 2000 ft. of flammable or explosive material; Secured Area

Bldg. 1024-00

Radford Army Ammunition Plant

Poacher House

Radford VA 24141

Landholding Agency: Army

Property Number: 21199011555

Status: Unutilized

Directions: State Highway 114

Comments:

Reasons: Within 2000 ft. of flammable or explosive material; Secured Area

Bldg. 1026-00

Radford Army Ammunition Plant

Final Wringer House Equipment

Radford VA 24141

Landholding Agency: Army

Property Number: 21199011556

Status: Unutilized

Directions: State Highway 114

Comments:

Reasons: Within 2000 ft. of flammable or explosive material; Secured Area

Bldg. 1500-00

Radford Army Ammunition Plant

Dehy Press House

Radford VA 24141

Landholding Agency: Army

Property Number: 21199011557

Status: Unutilized

Directions: State Highway 114

Comments:

Reasons: Within 2000 ft. of flammable or explosive material; Secured Area

Bldg. 1501-00

Radford Army Ammunition Plant

Alcohol Pump and Accumulator House

Radford VA 24141

Landholding Agency: Army

Property Number: 21199011558

Status: Unutilized

Directions: State Highway 114

Comments:

Reasons: Secured Area; Within 2000 ft. of flammable or explosive material

Bldg. 1508-00

Radford Army Ammunition Plant

Mix House No. 1

Radford VA 24141

Landholding Agency: Army

Property Number: 21199011560

Status: Unutilized

Directions: State Highway 114

Comments:

Reasons: Secured Area; Within 2000 ft. of flammable or explosive material

Bldg. 1509-00

Radford Army Ammunition Plant

Mix House No. 2

Radford VA 24141

Landholding Agency: Army

Property Number: 21199011561

Status: Unutilized

Directions: State Highway 114

Comments:

Reasons: Within 2000 ft. of flammable or explosive material; Secured Area

Bldg. 1510-00

Radford Army Ammunition Plant

Block Press House

Radford VA 24141

Landholding Agency: Army

Property Number: 21199011562

Status: Unutilized

Directions: State Highway 114

Comments:

Reasons: Secured Area; Within 2000 ft. of flammable or explosive material

Bldg. 1511-00

Radford Army Ammunition Plant

Block Press House

Radford VA 24141

Landholding Agency: Army

Property Number: 21199011563

Status: Unutilized

Directions: State Highway 114

Comments:

Reasons: Secured Area; Within 2000 ft. of flammable or explosive material

Bldg. 1512-00

Radford Army Ammunition Plant

Block Press House

Radford VA 24141

Landholding Agency: Army

Property Number: 21199011564

Status: Unutilized

Directions: State Highway 114

Comments:

Reasons: Secured Area; Within 2000 ft. of flammable or explosive material

Bldg. 1513-00

Radford Army Ammunition Plant

Finishing Press House No. 2

Radford VA 24141

Landholding Agency: Army

Property Number: 21199011565

Status: Unutilized

Directions: State Highway 114

Comments:

Reasons: Secured Area; Within 2000 ft. of flammable or explosive material

Bldg. 1514-00

Radford Army Ammunition Plant

Finishing Press House No. 3

Radford VA 24141

Landholding Agency: Army

Property Number: 21199011566

Status: Unutilized

Directions: State Highway 114

Comments:

Reasons: Secured Area; Within 2000 ft. of flammable or explosive material

Bldg. 1521-00

Radford Army Ammunition Plant

Hydraulic Station

Radford VA 24141

Landholding Agency: Army

Property Number: 21199011567

Status: Unutilized

Directions:

Comments:

Reasons: Within 2000 ft. of flammable or explosive material; Secured Area

Bldg. 1548-00

Radford Army Ammunition Plant

Oil Storage House

Radford VA 24141

Landholding Agency: Army

Property Number: 21199011568

Status: Unutilized

Directions: State Highway 114

Comments:

Reasons: Secured Area; Within 2000 ft. of flammable or explosive material

Bldg. 1549-00

Radford Army Ammunition Plant

Area Maintenance Shop

Radford VA 24141

Landholding Agency: Army

Property Number: 21199011569

Status: Unutilized

Directions: State Highway 114

Comments:

Reasons: Secured Area; Within 2000 ft. of flammable or explosive material

Bldg. 1554-00

Radford Army Ammunition Plant

Powder Line Office

Radford VA 24141

Landholding Agency: Army

Property Number: 21199011570

Status: Unutilized

Directions: State Highway 114

Comments:

Reasons: Within 2000 ft. of flammable or explosive material; Secured Area

Bldg. 1558-00

Radford Army Ammunition Plant

Ingredient Storehouse

Radford VA 24141

Landholding Agency: Army

Property Number: 21199011571

Status: Unutilized

Directions: State Highway 114

Comments:

Reasons: Within 2000 ft. of flammable or explosive material; Secured Area

Bldg. 1567-00

Radford Army Ammunition Plant

Lunch Room

Radford VA 24141

Landholding Agency: Army

Property Number: 21199011573

Status: Unutilized

Directions: State Highway 114

Comments:

Reasons: Within 2000 ft. of flammable or explosive material; Secured Area

Bldg. 1685-00

Radford Army Ammunition Plant

Sorting House

Radford VA 24141

Landholding Agency: Army

Property Number: 21199011574

Status: Unutilized

Directions: State Highway 114

Comments:

Reasons: Within 2000 ft. of flammable or explosive material; Secured Area

Bldg. 1703-00

Radford Army Ammunition Plant

Coating House

Radford VA 24141

Landholding Agency: Army

Property Number: 21199011575

Status: Unutilized

Directions: State Highway 114

Comments:

Reasons: Secured Area; Within 2000 ft. of flammable or explosive material

Bldg. 1851-00

Radford Army Ammunition Plant

Screening House

Radford VA 24141

Landholding Agency: Army

Property Number: 21199011577

Status: Unutilized

Directions: State Highway 114

Comments:

Reasons: Secured Area; Within 2000 ft. of flammable or explosive material

Bldg. 1980-06

Radford Army Ammunition Plant

Radford VA 24141

Landholding Agency: Army

Property Number: 21199011579

Status: Unutilized

Directions: State Highway 114

Comments:

Reasons: Within 2000 ft. of flammable or explosive material; Other—latrine; detached structure; Secured Area

Bldg. 1980-17

Radford Army Ammunition Plant

Radford VA 24141

Landholding Agency: Army

Property Number: 21199011580

Status: Unutilized

Directions: State Highway 114

Comments:

Reasons: Other—latrine; detached structure; Secured Area; Within 2000 ft. of flammable or explosive material

Bldg. 2051-00

Radford Army Ammunition Plant

NC Fines Separation

Radford VA 24141

Landholding Agency: Army

Property Number: 21199011581

Status: Unutilized

Directions: State Highway 114

Comments:

Reasons: Within 2000 ft. of flammable or explosive material; Secured Area

Bldg. 2509-00

Radford Army Ammunition Plant

Mix House

Radford VA 24141

Landholding Agency: Army

Property Number: 21199011582

Status: Unutilized

Directions: State Highway 114

Comments:

Reasons: Within 2000 ft. of flammable or explosive material; Secured Area

Bldg. 2518

Radford Army Ammunition Plant

Finishing Press And Cutting House

Radford VA 24141

Landholding Agency: Army

Property Number: 21199011585

Status: Unutilized

Directions: State Highway 114

Comments:

Reasons: Secured Area; Within 2000 ft. of flammable or explosive material

Bldg. 2519

Radford Army Ammunition Plant

Finishing Press And Cutting House

Radford VA 24141

Landholding Agency: Army

Property Number: 21199011588

Status: Unutilized

Directions: State Highway 114

Comments:

Reasons: Within 2000 ft. of flammable or explosive material; Secured Area

Bldg. 2559-00

Radford Army Ammunition Plant

Refrigeration Building

Radford VA 24141

Landholding Agency: Army

Property Number: 21199011591

Status: Unutilized

Directions: State Highway 114

Comments:

Reasons: Secured Area; Within 2000 ft. of flammable or explosive material

Bldg. 3045-00

Radford Army Ammunition Plant

State Highway 114

Radford VA

Landholding Agency: Army

Property Number: 21199013559

Status: Unutilized

Directions:

Comments:

Reasons: Within 2000 ft. of flammable or explosive material; Secured Area

Bldg. 3022-00

Radford Army Ammunition Plant

State Highway 114

Radford VA

Landholding Agency: Army

Property Number: 21199013560

Status: Unutilized

Directions:

Comments:

Reasons: Secured Area; Within 2000 ft. of flammable or explosive material

Bldg. 3050-00

Radford Army Ammunition Plant

State Highway 114

Radford VA

Landholding Agency: Army

Property Number: 21199013561

Status: Unutilized

Directions:

Comments:

Reasons: Secured Area; Within 2000 ft. of flammable or explosive material

Bldg. 3046-00

Radford Army Ammunition Plant

State Highway 114

Radford VA

Landholding Agency: Army

Property Number: 21199013562

Status: Unutilized

Directions:

Comments:

Reasons: Within 2000 ft. of flammable or explosive material; Secured Area

Bldg. 3007-00

Radford Army Ammunition Plant

State Highway 114

Radford VA

Landholding Agency: Army

Property Number: 21199013563

Status: Unutilized

Directions:

Comments:

Reasons: Secured Area; Within 2000 ft. of flammable or explosive material

Bldg. 3002-00

Radford Army Ammunition Plant

State Highway 114

Radford VA

Landholding Agency: Army

Property Number: 21199013564

Status: Unutilized

Directions:

Comments:

Reasons: Secured Area; Within 2000 ft. of flammable or explosive material

Bldg. 3010-00

Radford Army Ammunition Plant

State Highway 114

Radford VA

Landholding Agency: Army

Property Number: 21199013566

Status: Unutilized

Directions:

Comments:

Reasons: Within 2000 ft. of flammable or explosive material; Secured Area

Bldg. 3019-00

Radford Army Ammunition Plant

State Highway 114

Radford VA

Landholding Agency: Army

Property Number: 21199013567

Status: Unutilized

Directions:

Comments:

Reasons: Secured Area; Within 2000 ft. of flammable or explosive material

Bldg. 9544-00

Radford Army Ammunition Plant

State Highway 114

Radford VA

Landholding Agency: Army

Property Number: 21199013569

Status: Unutilized

Directions:

Comments:

Reasons: Secured Area; Within 2000 ft. of flammable or explosive material

Bldg. 206

Radford Army Ammunition Plant

State Highway 114

Radford VA

Landholding Agency: Army

Property Number: 21199013570

Status: Unutilized

Directions:

Comments:

Reasons: Within 2000 ft. of flammable or explosive material; Secured Area

Bldg. 221-05

Radford Army Ammunition Plant

State Highway 114

Radford VA 24141

Landholding Agency: Army

Property Number: 21199110142

Status: Unutilized

Directions:

Comments:

Reasons: Secured Area; Within 2000 ft. of flammable or explosive material

Bldg. 221-06

Radford Army Ammunition Plant

State Highway 114

Radford VA 24141

Landholding Agency: Army

Property Number: 21199110143

Status: Unutilized

Directions:

Comments:

Reasons: Within 2000 ft. of flammable or explosive material; Secured Area

Bldg. B1826 Elev. Motor House

Radford Army Ammunition Plant

State Hwy. 114

Radford VA 24141

Landholding Agency: Army

Property Number: 21199120071

Status: Unutilized

Directions:

Comments:

Reasons: Within 2000 ft. of flammable or explosive material; Secured Area

Bldg. A426

Powder Burning Ground Office

Radford Army Ammunition Plant

Radford VA 24141

Landholding Agency: Army

Property Number: 21199140618

Status: Unutilized

Directions: State Highway 114

Comments:

Reasons: Secured Area; Within 2000 ft. of flammable or explosive material

Bldg. 456, Filter House

Radford Army Ammunition Plant

Radford VA 24141

Landholding Agency: Army

Property Number: 21199140619

Status: Unutilized

Directions: State Highway 114

Comments:

Reasons: Within 2000 ft. of flammable or explosive material; Secured Area

Bldg. 734

AOP Plant Control House

Radford Army Ammunition Plant

Radford VA 24141

Landholding Agency: Army

Property Number: 21199140620

Status: Unutilized

Directions: State Highway 114

Comments:

Reasons: Within 2000 ft. of flammable or explosive material; Secured Area

Bldg. D1733, Control Shelter

Radford Army Ammunition Plant

Radford VA 24141

Landholding Agency: Army

Property Number: 21199140621

Status: Unutilized

Directions: State Highway 114

Comments:

Reasons: Within 2000 ft. of flammable or explosive material; Secured Area

Bldg. B3553, Lunch Room

Radford Army Ammunition Plant

Radford VA 24141

Landholding Agency: Army

Property Number: 21199140622

Status: Unutilized

Directions: State Highway 114

Comments:

Reasons: Within 2000 ft. of flammable or explosive material; Secured Area

Bldg. B3670, Control House

Radford Army Ammunition Plant

Radford VA 24141

Landholding Agency: Army

Property Number: 21199140623

Status: Unutilized

Directions: State Highway 114

Comments:

Reasons: Within 2000 ft. of flammable or explosive material; Secured Area

Bldg. B3671, Control House

Radford Army Ammunition Plant

Radford VA 24141

Landholding Agency: Army

Property Number: 21199140624

Status: Unutilized

Directions: State Highway 114

Comments:

Reasons: Within 2000 ft. of flammable or explosive material; Secured Area

Bldg. B3677, Elevator House

Radford Army Ammunition Plant

Radford VA 24141

Landholding Agency: Army

Property Number: 21199140627

Status: Unutilized

Directions: State Highway 114

Comments:

Reasons: Within 2000 ft. of flammable or explosive material; Secured Area

Bldg. A4912-05, Blower House

Radford Army Ammunition Plant

Radford VA 24141

Landholding Agency: Army

Property Number: 21199140628

Status: Unutilized

Directions: State Highway 114

Comments:

Reasons: Secured Area; Within 2000 ft. of flammable or explosive material

Bldg. B4912-11, Control House

Radford Army Ammunition Plant

Radford VA 24141

Landholding Agency: Army

Property Number: 21199140629

Status: Unutilized

Directions: State Highway 114

Comments:

Reasons: Within 2000 ft. of flammable or explosive material; Secured Area

Bldg. C4913, Control House

Radford Army Ammunition Plant

Radford VA 24141

Landholding Agency: Army

Property Number: 21199140630

Status: Unutilized

Directions: State Highway 114

Comments:

Reasons: Secured Area; Within 2000 ft. of flammable or explosive material

Bldg. D4915, Storage Building

Radford Army Ammunition Plant

Radford VA 24141

Landholding Agency: Army

Property Number: 21199140631

Status: Unutilized

Directions: State Highway 114

Comments:

Reasons: Secured Area; Within 2000 ft. of flammable or explosive material

Bldg. 7103-01, HE Saw House

Radford Army Ammunition Plant

Radford VA 24141

Landholding Agency: Army

Property Number: 21199140632

Status: Unutilized

Directions: State Highway 114

Comments:

Reasons: Within 2000 ft. of flammable or explosive material; Secured Area

Bldg. A7103-01, Motor House

Radford Army Ammunition Plant

Radford VA 24141

Landholding Agency: Army

Property Number: 21199140633

Status: Unutilized

Directions: State Highway 114

Comments:

Reasons: Secured Area; Within 2000 ft. of flammable or explosive material

Bldg. T0117

Radford Army Ammunition Plant

Radford VA 24141

Landholding Agency: Army

Property Number: 21199830223

Status: Unutilized

Directions:

Comments:

Reasons: Secured Area; Within 2000 ft. of flammable or explosive material

5 Bldgs.

Radford Army Ammunition Plant

Radford VA 24141

Landholding Agency: Army

Property Number: 21199830224

Status: Unutilized

Directions: 0221-03, 0221-30, 0221-31, 0221-32, 0221-33

Comments:

Reasons: Secured Area; Within 2000 ft. of flammable or explosive material

3 Bldgs.

Radford Army Ammunition Plant

Radford VA 24141

Landholding Agency: Army

Property Number: 21199830225

Status: Unutilized

Directions: A0266-01, 0266-03, 0266-08

Comments:

Reasons: Within 2000 ft. of flammable or explosive material; Secured Area

Bldg. 0267-00

Radford Army Ammunition Plant

Radford VA 24141

Landholding Agency: Army

Property Number: 21199830226

Status: Unutilized

Directions:

Comments:

Reasons: Within 2000 ft. of flammable or explosive material; Secured Area

2 Bldgs.

Radford Army Ammunition Plant

Radford VA 24141

Landholding Agency: Army

Property Number: 21199830227

Status: Unutilized

Directions: 0421-00, A0421-00

Comments:

Reasons: Secured Area; Within 2000 ft. of flammable or explosive material

Bldg. A0425-00

Radford Army Ammunition Plant

Radford VA 24141

Landholding Agency: Army

Property Number: 21199830228

Status: Unutilized

Directions:

Comments:

Reasons: Secured Area; Within 2000 ft. of flammable or explosive material

Bldg. A0428-00

Radford Army Ammunition Plant

Radford VA 24141

Landholding Agency: Army

Property Number: 21199830229

Status: Unutilized

Directions:

Comments:

Reasons: Within 2000 ft. of flammable or explosive material; Secured Area

Bldg. 0525-00

Radford Army Ammunition Plant

Radford VA 24141

Landholding Agency: Army

Property Number: 21199830230

Status: Unutilized

Directions:

Comments:

Reasons: Secured Area; Within 2000 ft. of flammable or explosive material

3 Bldgs.

Radford Army Ammunition Plant

Radford VA 24141

Landholding Agency: Army

Property Number: 21199830231

Status: Unutilized

Directions: 0602-00N, 0603-00N, 0604-00N

Comments:

Reasons: Within 2000 ft. of flammable or explosive material; Secured Area

Bldg. 1035-00

Radford Army Ammunition Plant

Radford VA 24141

Landholding Agency: Army

Property Number: 21199830233

Status: Unutilized

Directions:

Comments:

Reasons: Within 2000 ft. of flammable or explosive material; Secured Area

Bldg. D1601-00

Radford Army Ammunition Plant

Radford VA 24141

Landholding Agency: Army

Property Number: 21199830235

Status: Unutilized

Directions:

Comments:

Reasons: Within 2000 ft. of flammable or explosive material; Secured Area

3 Bldgs.

Radford Army Ammunition Plant

Radford VA 24141

Landholding Agency: Army

Property Number: 21199830236

Status: Unutilized

Directions: B1608-00, C1608-00, D1608-00

Comments:

Reasons: Within 2000 ft. of flammable or explosive material; Secured Area

3 Bldgs.

Radford Army Ammunition Plant

Radford VA 24141

Landholding Agency: Army

Property Number: 21199830237

Status: Unutilized

Directions: 1651-00, A1651-00, B1651-00

Comments:

Reasons: Secured Area; Within 2000 ft. of flammable or explosive material

4 Bldgs.

Radford Army Ammunition Plant

Radford VA 24141

Landholding Agency: Army

Property Number: 21199830238

Status: Unutilized

Directions: A1652-00, B1652-00, A1653-00, B1653-00

Comments:

Reasons: Within 2000 ft. of flammable or explosive material; Secured Area

Bldg. 1732-00

Radford Army Ammunition Plant

Radford VA 24141

Landholding Agency: Army

Property Number: 21199830240

Status: Unutilized

Directions:

Comments:

Reasons: Within 2000 ft. of flammable or explosive material; Secured Area

Bldg. 19803-23

Radford Army Ammunition Plant

Radford VA 24141

Landholding Agency: Army

Property Number: 21199830242

Status: Unutilized

Directions:

Comments:

Reasons: Within 2000 ft. of flammable or explosive material; Secured Area

3 Bldgs.

Radford Army Ammunition Plant

Radford VA 24141

Landholding Agency: Army

Property Number: 21199830243

Status: Unutilized

Directions: 2002-00, T2018-00, 2050-00

Comments:

Reasons: Within 2000 ft. of flammable or explosive material; Secured Area

2 Bldgs.

Radford Army Ammunition Plant

Radford VA 24141

Landholding Agency: Army

Property Number: 21199830244

Status: Unutilized

Directions: B2518-00, A2519-00

Comments:

Reasons: Within 2000 ft. of flammable or explosive material; Secured Area

2 Bldgs.

Radford Army Ammunition Plant

Radford VA 24141

Landholding Agency: Army

Property Number: 21199830245

Status: Unutilized

Directions: A3553-00, C3553-00

Comments:

Reasons: Within 2000 ft. of flammable or explosive material; Secured Area

Bldg. A3561-00

Radford Army Ammunition Plant

Radford VA 24141

Landholding Agency: Army

Property Number: 21199830246

Status: Unutilized

Directions:

Comments:

Reasons: Secured Area; Within 2000 ft. of flammable or explosive material

4 Bldgs.

Radford Army Ammunition Plant

Radford VA 24141

Landholding Agency: Army

Property Number: 21199830248

Status: Unutilized

Directions: 3641-00, 3647-00, A3647-00, B3647-00

Comments:

Reasons: Secured Area; Within 2000 ft. of flammable or explosive material

4 Bldgs.

Radford Army Ammunition Plant

Radford VA 24141

Landholding Agency: Army

Property Number: 21199830250

Status: Unutilized

Directions: A3670-00, C3670-00, A3676-00, B3676-00

Comments:

Reasons: Within 2000 ft. of flammable or explosive material; Secured Area

Bldg. 3727-00

Radford Army Ammunition Plant

Radford VA 24141

Landholding Agency: Army

Property Number: 21199830251

Status: Unutilized

Directions:

Comments:

Reasons: Within 2000 ft. of flammable or explosive material; Secured Area

Bldg. 3901-00

Radford Army Ammunition Plant

Radford VA 24141

Landholding Agency: Army

Property Number: 21199830252

Status: Unutilized

Directions:

Comments:

Reasons: Secured Area; Within 2000 ft. of flammable or explosive material

3 Bldgs.

Radford Army Ammunition Plant

Radford VA 24141

Landholding Agency: Army

Property Number: 21199830254

Status: Unutilized

Directions: 4334-00, 4339-26, 4339-36

Comments:

Reasons: Secured Area; Within 2000 ft. of flammable or explosive material

3 Bldgs.

Radford Army Ammunition Plant

Radford VA 24141

Landholding Agency: Army

Property Number: 21199830255

Status: Unutilized

Directions: 4703-00, 4708-00, 4712-00

Comments:

Reasons: Within 2000 ft. of flammable or explosive material; Secured Area

7 Bldgs.

Radford Army Ammunition Plant

Radford VA 24141

Landholding Agency: Army

Property Number: 21199830256

Status: Unutilized

Directions: A4909-04, B4909-04, C4909-04, B4910-04, A4911-02, B4911-02, C4911-02

Comments:

Reasons: Within 2000 ft. of flammable or explosive material; Secured Area

15 Bldgs.

Radford Army Ammunition Plant

Radford VA 24141

Landholding Agency: Army

Property Number: 21199830257

Status: Unutilized

Directions: B4912-10, C4912-10, 4912-11, A4912-11, 4912-12, A4912-12, B4912-12, C4912-12, 4912-32, A4912-32, B4912-32, 4912-38, A4912-38, 4912-47, A4912-47

Comments:

Reasons: Within 2000 ft. of flammable or explosive material; Secured Area

2 Bldgs.

Radford Army Ammunition Plant

Radford VA 24141

Landholding Agency: Army

Property Number: 21199830258

Status: Unutilized

Directions: 4915-00, A4915-00

Comments:

Reasons: Secured Area; Within 2000 ft. of flammable or explosive material

4 Bldgs.

Radford Army Ammunition Plant

Radford VA 24141

Landholding Agency: Army

Property Number: 21199830259

Status: Unutilized

Directions: 4922-00, A4924-02, 4924-07, 4928-00

Comments:

Reasons: Within 2000 ft. of flammable or explosive material; SecuredArea

3 Bldgs.

Radford Army Ammunition Plant

Radford VA 24141

Landholding Agency: Army

Property Number: 21199830260

Status: Unutilized

Directions: A4945-02, B4945-02, 4951-06

Comments:

Reasons: Secured Area; Within 2000 ft. of flammable or explosive material

3 Bldgs.

Radford Army Ammunition Plant

Radford VA 24141

Landholding Agency: Army

Property Number: 21199830261

Status: Unutilized

Directions: 5002-00, 5020-00, 5027-00

Comments:

Reasons: Within 2000 ft. of flammable or explosive material; Secured Area

3 Bldgs.

Radford Army Ammunition Plant

Radford VA 24141

Landholding Agency: Army

Property Number: 21199830263

Status: Unutilized

Directions: 5510-00, 5511-00, 5512-00

Comments:

Reasons: Within 2000 ft. of flammable or explosive material; Secured Area

6 Bldgs.

Radford Army Ammunition Plant

Radford VA 24141

Landholding Agency: Army

Property Number: 21199830264

Status: Unutilized

Directions: 7100-00, A7102-02, B7102-02, 7105-00, A7105-00, 7120-02

Comments:

Reasons: Secured Area; Within 2000 ft. of flammable or explosive material

10 Bldgs.

Radford Army Ammunition Plant

Radford VA 24141

Landholding Agency: Army

Property Number: 21199830265

Status: Unutilized

Directions: 9200-00, 9201-00, 9202-00, 9204-00, 9208-00, 9212-00, 9215-00, 9216-00, 9217-00, 9218-00

Comments:

Reasons: Within 2000 ft. of flammable or explosive material; Secured Area

Bldg. C3677-00

Radford AAP

Radford VA 24141

Landholding Agency: Army

Property Number: 21200020079

Status: Unutilized

GSA Number:

Reasons: Secured Area; Within 2000 ft. of flammable or explosive material

Bldg. 5504-00

Radford AAP

Radford VA 24141

Landholding Agency: Army

Property Number: 21200020080

Status: Unutilized

GSA Number:

Reasons: Secured Area; Within 2000 ft. of flammable or explosive material

Bldg. 7503-00

Radford AAP

Radford VA 24141

Landholding Agency: Army

Property Number: 21200020081

Status: Unutilized

GSA Number:

Reasons: Secured Area; Within 2000 ft. of flammable or explosive material

Bldgs. 3074, 3075

Fort Belvoir

Ft. Belvoir VA 22060-5110

Landholding Agency: Army

Property Number: 21200130077

Status: Unutilized

GSA Number:

Reasons: Extensive deterioration

Bldg. A0415

Radford AAP

Radford VA 24143-0100

Landholding Agency: Army

Property Number: 21200230038

Status: Unutilized

GSA Number:

Reasons: Secured Area

Bldg. 00200

Radford Army Amo Plant

Radford VA 24143-0100

Landholding Agency: Army

Property Number: 21200240071

Status: Unutilized

GSA Number:

Reasons: Secured Area; Within 2000 ft. of flammable or explosive material

Bldg. T4022

Radford Army Amo Plant

Radford VA 24143-0100

Landholding Agency: Army

Property Number: 21200240072

Status: Unutilized

GSA Number:

Reasons: Secured Area; Extensive deterioration; Within 2000 ft. of flammable or explosive material

Bldg. 00723

Fort Story

Ft. Story VA 23459

Landholding Agency: Army

Property Number: 21200310046

Status: Unutilized

GSA Number:

Reasons: Extensive deterioration

Bldg. 00222

Radford Army Ammo Plant

Radford VA 24143

Landholding Agency: Army

Property Number: 21200510045

Status: Unutilized

Reasons: Secured Area

Bldgs. 22127, 22128

Radford Army Ammo Plant

Radford VA 24143

Landholding Agency: Army

Property Number: 21200510046

Status: Unutilized

Reasons: Secured Area

Bldg. 00677

Fort Belvoir

Fairfax VA 22060

Landholding Agency: Army

Property Number: 21200710043

Status: Unutilized

Reasons: Extensive deterioration

Bldgs. 00705, 00706, 00771

Fort Belvoir

Fairfax VA 22060

Landholding Agency: Army

Property Number: 21200710044

Status: Unutilized

Reasons: Extensive deterioration

Bldgs. 01112, 01139

Fort Belvoir

Fairfax VA 22060

Landholding Agency: Army

Property Number: 21200710045

Status: Unutilized

Reasons: Extensive deterioration

5 Bldgs.

Fort Belvoir

Fairfax VA 22060

Landholding Agency: Army

Property Number: 21200710046

Status: Unutilized

Directions: 01141, 01146, 01147, 01148, 01153

Reasons: Extensive deterioration

Bldgs. 3065-3071

Fort Belvoir

Fairfax VA 22060

Landholding Agency: Army

Property Number: 21200710047

Status: Unutilized

Reasons: Extensive deterioration

Bldgs. 3086, 3087, 3099

Fort Belvoir

Fairfax VA 22060

Landholding Agency: Army

Property Number: 21200710048

Status: Unutilized

Reasons: Extensive deterioration

Bldgs. 05089, 05093, 05099

Fort Belvoir

Fairfax VA 22060

Landholding Agency: Army

Property Number: 21200710049

Status: Unutilized

Reasons: Extensive deterioration

4 Bldgs.

Fort Belvoir

Fairfax VA 22060

Landholding Agency: Army

Property Number: 21200720043

Status: Unutilized

Directions: 0629, 0630, 00704, 00771

Reasons: Extensive deterioration

Bldgs. 01147, 01148

Fort Belvoir

Fairfax VA 22060

Landholding Agency: Army

Property Number: 21200720044

Status: Unutilized

Reasons: Extensive deterioration

4 Bldgs.

Fort Belvoir

Fairfax VA 22060

Landholding Agency: Army

Property Number: 21200720045

Status: Unutilized

Directions: 05002, 05009, 05010, 05014

Reasons: Extensive deterioration

5 Bldgs.

Fort Belvoir

Fairfax VA 22060

Landholding Agency: Army

Property Number: 21200720046

Status: Unutilized

Directions: 05033, 05034, 05035, 05036, 05037

Reasons: Extensive deterioration

Bldgs. 05040, 05043

Fort Belvoir

Fairfax VA 22060

Landholding Agency: Army

Property Number: 21200720047

Status: Unutilized

Reasons: Extensive deterioration

6 Bldgs.

Fort Belvoir

Fairfax VA 22060

Landholding Agency: Army

Property Number: 21200720049

Status: Unutilized

Directions: 05071, 05072, 05073, 05075, 05076, 05077

Reasons: Extensive deterioration

Bldgs. 05081, 05088

Fort Belvoir

Fairfax VA 22060

Landholding Agency: Army

Property Number: 21200720050

Status: Unutilized

Reasons: Extensive deterioration

7 Bldgs.

Fort Belvoir

Fairfax VA 22060

Landholding Agency: Army

Property Number: 21200720051

Status: Unutilized

Directions: 05090, 05092, 05094, 05095, 05096, 05097, 05098

Reasons: Extensive deterioration

Bldgs. US042, US044, US45B

Radford AAP

Montgomery VA 24013

Landholding Agency: Army

Property Number: 21200740031

Status: Underutilized

Reasons: Within 2000 ft. of flammable or explosive material; Secured Area

Bldg. 01001

Radford AAP

Montgomery VA 24013

Landholding Agency: Army

Property Number: 21200740032

Status: Underutilized

Reasons: Within 2000 ft. of flammable or explosive material; Secured Area

4 Bldgs.

Radford Army Ammo Plant

Radford VA 24143

Landholding Agency: Army

Property Number: 21200740170

Status: Unutilized

Directions: 36410, 36470, 36500, 37060

Reasons: Within 2000 ft. of flammable or explosive material; Secured Area

4 Bldgs.

Fort Story

Ft. Story VA 23459

Landholding Agency: Army

Property Number: 21200810037

Status: Unutilized

Directions: T0540, T0750, T0753, T0762

Reasons: Extensive deterioration

Bldgs. 01140, 01154

Fort Belvoir

Fairfax VA 22060

Landholding Agency: Army

Property Number: 21200810042

Status: Unutilized

Reasons: Extensive deterioration

Bldgs. 05015, 05021

Fort Belvoir

Fairfax VA 22060

Landholding Agency: Army

Property Number: 21200810043

Status: Unutilized

Reasons: Extensive deterioration

Bldg. P0545

Fort Story

Ft. Story VA 23459

Landholding Agency: Army

Property Number: 21200830040

Status: Unutilized

Reasons: Extensive deterioration

Bldgs. 00187, 00189, 00707

Fort Belvoir

Fairfax VA 22060

Landholding Agency: Army

Property Number: 21200840056

Status: Underutilized

Reasons: Secured Area

Bldg. T0514

Fort Story

Ft. Story VA 23459

Landholding Agency: Army

Property Number: 21200920077

Status: Unutilized

Reasons: Extensive deterioration

4 Bldgs.

Radford Army Ammo Plant

Radford VA 24143

Landholding Agency: Army

Property Number: 21200930028

Status: Unutilized

Directions: 1030, 1031, 1038, 1044

Reasons: Within 2000 ft. of flammable or explosive material; Secured Area

Bldgs. 1000, 2000, 2010

Radford AAP

Montgomery VA 24143

Landholding Agency: Army

Property Number: 21200940038

Status: Unutilized

Reasons: Secured Area; Within 2000 ft. of flammable or explosive material

Bldgs. 1106, 1109, 1110

Fort Belvoir

Fairfax VA 22060

Landholding Agency: Army

Property Number: 21201010037

Status: Unutilized

Reasons: Extensive deterioration

4 Bldgs.

Radford Army Ammo Plant

Montgomery VA 24013

Landholding Agency: Army

Property Number: 21201010038

Status: Unutilized

Directions: US042, US044, US45B, 51565

Reasons: Within 2000 ft. of flammable or explosive material; Secured Area

8 Bldgs.

Hampton Readiness Center

Hampton VA 23666

Landholding Agency: Army

Property Number: 21201020026

Status: Unutilized

Directions: 8, 9, 10, 12, 13, 14, 15, 23

Reasons: Extensive deterioration

4 Bldgs.

Radford AAP

Montgomery VA 24143

Landholding Agency: Army

Property Number: 21201030030

Status: Unutilized

Directions: 1002, 1003, 1026, 1045

Reasons: Secured Area; Within 2000 ft. of flammable or explosive material

16 Bldgs.

Radford AAP

Montgomery VA 24143

Landholding Agency: Army

Property Number: 21201030032

Status: Unutilized

Directions: 1666A, 1666B, 1668A, 1671A, 1671B, 1672A, 1672B, 1674, 1674A, 1674B, 1675, 1675A, 1675B, 1676, 1676A, 1676B

Reasons: Secured Area; Within 2000 ft. of flammable or explosive material

12 Bldgs.

Radford AAP

Montgomery VA 24143

Landholding Agency: Army

Property Number: 21201030033

Status: Unutilized

Directions: 1751, 1754, 1762, 1765, 2002, 2003, 2007, 2026, 2047, 2048, 2049, 2050A

Reasons: Within 2000 ft. of flammable or explosive material; Secured Area

10 Bldgs.

Radford AAP

Montgomery VA 24143

Landholding Agency: Army

Property Number: 21201030034

Status: Unutilized

Directions: 3621, 3652, 3655, 3658, 3675, 3675B, 3675C, 3678A, 3678B, 3678C

Reasons: Within 2000 ft. of flammable or explosive material; Secured Area

6 Bldgs.

Radford AAP

Montgomery VA 24143

Landholding Agency: Army

Property Number: 21201030035

Status: Unutilized

Directions: 4703, 9101A, 9101B, 9102A, 9102B, 9103B

Reasons: Secured Area; Within 2000 ft. of flammable or explosive material

9 Bldgs.

Radford AAP

Montgomery VA 24143

Landholding Agency: Army

Property Number: 21201030036

Status: Unutilized

Directions: 49102, 49103, 49126, 71022, 71032, 72215, 91248, 91253, 91254

Reasons: Secured Area; Within 2000 ft. of flammable or explosive material

18 Bldgs.

Radford AAP

Montgomery VA 24143

Landholding Agency: Army

Property Number: 21201030038

Status: Unutilized

Directions: 98206, 98209, 98216, 98217, 98218, 98224, 98226, 98227, 98231, 98232, 98242, 98244, 98280, 98289, 98291, 98294, 98297, 98298

Reasons: Secured Area; Within 2000 ft. of flammable or explosive material

8 Bldgs.

Radford AAP

Montgomery VA 24143

Landholding Agency: Army

Property Number: 21201030039

Status: Unutilized

Directions: 98303, 98304, 98307, 98327, 98332, 98347, 98348, 98364

Reasons: Within 2000 ft. of flammable or explosive material; Secured Area

Bldg. ANTEN

Fort Eustis

Ft. Eustis VA 23604

Landholding Agency: Army

Property Number: 21201040032

Status: Unutilized

Reasons: Extensive deterioration

Bldgs. 1132, 1133, 1134

Fort Belvoir

Fairfax VA 22060

Landholding Agency: Army

Property Number: 21201040033

Status: Excess

Reasons: Extensive deterioration

6 Bldgs.

Radford AAP

Radford VA 24143

Landholding Agency: Army

Property Number: 21201040036

Status: Unutilized

Directions: 1000, 1010, 2000, 2010, 22116, USO43

Reasons: Within 2000 ft. of flammable or explosive material; Secured Area

1618B

Radford Army Ammo Plant

Rte 114, P.O. Box 2

Radford VA

Landholding Agency: Army

Property Number: 21201110007

Status: Unutilized

Reasons: Secured Area

Bldg 1618B

Rte. 114, P.O. Box 2

Radford Army Ammo Plant

Radford VA 24143

Landholding Agency: Army

Property Number: 21201120063

Status: Unutilized

Reasons: Not accessible by road; Within 2000 ft. of flammable or explosive material; Secured Area

Bldg 1621

Rte., P.O. Box 2

Radford Army Ammo Plant

Radford VA 24143

Landholding Agency: Army

Property Number: 21201120064

Status: Unutilized

Reasons: Not accessible by road; Contamination; Secured Area

Bldg. 98241

Rte., 114, P.O. Box 2

Radford Army Ammunition Plant

Radford VA

Landholding Agency: Army

Property Number: 21201120065

Status: Unutilized

Reasons: Not accessible by road; Within 2000 ft. of flammable or explosive material; Secured Area

Bldg. 00731

null

Radford VA

Landholding Agency: Army

Property Number: 21201130009

Status: Excess

Reasons: Within 2000 ft. of flammable or explosive material; Extensive deterioration; Secured Area

Bldg. 0731A

Rte 114 P.O. Box 2

Radford VA

Landholding Agency: Army

Property Number: 21201130011

Status: Excess

Reasons: Secured Area; Within 2000 ft. of flammable or explosive material; Extensive deterioration

Bldg. 07352

null

Radford VA 24143

Landholding Agency: Army

Property Number: 21201130012

Status: Unutilized

Reasons: Within 2000 ft. of flammable or explosive material; Secured Area; Extensive deterioration

Bldgs. 00736 & 0736A

null

Radford VA 24143

Landholding Agency: Army

Property Number: 21201130013

Status: Excess

Reasons: Secured Area; Extensive deterioration; Within 2000 ft. of flammable or explosive material

Bldgs. 2302 & 2303

null

Fort Belvoir VA 22060

Landholding Agency: Army

Property Number: 21201130031

Status: Excess

Reasons: Secured Area

4 Bldgs.

8000 Jefferson Davis Hwy

Defense Supply Center

Richmond VA 23297

Landholding Agency: Army

Property Number: 21201140063

Status: Unutilized

Directions: 00091, 00006, 00007, 00010

Reasons: Secured Area

Bldg 00104

8000 Jefferson Davis Hwy

Richmond VA 23297

Landholding Agency: Army

Property Number: 21201140069

Status: Unutilized

Reasons: Secured Area

12 Bldgs.

Ft. Pickett Trng Ctr

Blackstone VA 23824

Landholding Agency: Army

Property Number: 21201210051

Status: Excess

Directions: T2823, T2826, T2828, T2829, T2838, T2860, T2861, T2856, T2862, T2863, T2864, T2865

Comments: nat'l security concerns; no public access and no alternative method to gain access.

Reasons: Secured Area

16 Bldgs.

Ft. Pickett Trng Ctr

Blackstone VA 23824

Landholding Agency: Army

Property Number: 21201220038

Status: Excess

Directions: T2814, T2815, T2816, T2817, T2823, T2826, T2827, T2828, T2829, T2838, T2841, T2856, T2860, T2861, T2863, T2862

Comments: nat'l security concerns; public access denied & no alternative method to gain access w/out comprising nat'l security.

Reasons: Secured Area

12 Bldgs.

Ft. Pickett Trng Ctr

Blackstone VA 23824

Landholding Agency: Army

Property Number: 21201220042

Status: Excess

Directions: A1811, AT306, AT307, R0013, R0014, R0021, R0026, R0027, R0040, R0055, R0063, R0064

Comments: nat'l security concerns; public access denied and no alternative method to gain access w/out comprising nat'l security.

Reasons: Secured Area

2 Buildings

114 P.O. Box 2

Radford VA 24143

Landholding Agency: Army

Property Number: 21201230047

Status: Unutilized

Directions: 2045, 2046

Comments: restricted area; public access denied & no alternative method to gain access w/out comprising nat'l security.

Reasons: Secured Area

26 Building

null

Radford VA 24143

Landholding Agency: Army

Property Number: 21201320007

Status: Unutilized

Directions: 1506A, 1506B, 1609, 1609A, 1609B, 1609C, 1616, 1616A, 1616B, 1616C, 2500, 2501, 2506, 2508, 2510, 2512, 2515, 2516, 2518, 2555, 2555A, 2560A, 2558, 2560, 3740, 9379

Comments: w/in restricted area, public assess denied & no alter. method w/out compromising nat'l sec.

Reasons: Secured Area

2 Buildings

Fort Pickett Training Cener

Blackstone VA 23824

Landholding Agency: Army

Property Number: 21201330054

Status: Unutilized

Directions: T1710, T2606

Comments: public access denied & no alternative method to gain access w/out compromising nat'l security.

Reasons: Secured Area

T1810

Fort Pickett Training Center

Blackstone VA 23824

Landholding Agency: Army

Property Number: 21201340022

Status: Unutilized

Comments: public access denied and no alternative method to gain access without compromising national security.

Reasons: Secured Area

2 Buildings

Radford Army Ammunition Plant

Radford VA 24143

Landholding Agency: Army

Property Number: 21201410018

Status: Underutilized

Directions: 726, 730

Comments: public access denied and no alternative method to gain access w/out compromising national security.

Reasons: Secured Area

2 Buildings

Radford Army Ammunition Plant

Rte 114, P.O. Box 2

Radford VA 24143-0002

Landholding Agency: Army

Property Number: 21201420029

Status: Underutilized

Directions: 726;730

Comments: public access denied and no alternative method to gain access without compromising national security.

Reasons: Secured Area

726 and 730

Radford Army Ammunition Plant

Radford VA 24143-0002

Landholding Agency: Army

Property Number: 21201430002

Status: Underutilized

Directions: 726; 730

Comments: public access denied and no alternative without compromising national security.

Reasons: Secured Area

5 Buildings

Fort Pickett Training Center

Blackstone VA 23824

Landholding Agency: Army

Property Number: 21201440006

Status: Unutilized

Directions: T2362; T2363; T2364; T2411; T2603

Comments: public access denied and no alternative method to gain access w/out compromising national security.

Reasons: Secured Area

6 Buildings

Fort Belvior

Ft. Belvior VA 22060

Landholding Agency: Army

Property Number: 21201440017

Status: Excess

Directions: 1151; 1906; 1141; 1186; 1194; 1195

Comments: public access denied and no alternative method to gain access w/out compromising national security.

Reasons: Secured Area

Building 00215

Radford Army Ammunition Plant

Radford VA 24143

Landholding Agency: Army

Property Number: 21201510045

Status: Excess

Comments: public access denied and no alternative method to gain access without compromising national security.

Reasons: Secured Area

16 Buildings

Radford Army Ammunition Plant

Radford VA 24143

Landholding Agency: Army

Property Number: 21201520019

Status: Unutilized

Directions: Buildings 71063, 7106-02A, 71062, 49103B, 49103A, 49102B, 2560B, 2521, 2518B, 2518A, 2517B, 2517A, 2515A, 7106-03A, 71064, 7106-04A

Comments: public access denied and no alternative method to gain access without compromising national security.

Reasons: Secured Area

16 Buildings

Radford Army Ammunition Plant

Radford VA 24143

Landholding Agency: Army

Property Number: 21201520020

Status: Unutilized

Directions: Buildings 71091, 71092A, 71101, 71101A, 7115, 7136, 2511, 2516A, 2516B, 2521, 2521A, 2554, 71102A, 71092, 71102, 71122

Comments: public access denied and no alternative method to gain access without compromising national security.

Reasons: Secured Area

3 Buildings

Defense Supply Center

Richmond VA 25297

Landholding Agency: Army

Property Number: 21201530006

Status: Unutilized

Directions: 19 (RPWD: 268718); 20 (RPWD: 268698); 53 (RPWD: 238700)

Comments: public access denied and no alternative method to gain access without compromising National Security.

Reasons: Secured Area

Building 06202

Fort Lee; 19th Street

Ft. Lee VA 23801

Landholding Agency: Army

Property Number: 21201530100

Status: Unutilized

Comments: documented deficiencies: structural issues due to flooding; clear threat to personal safety.

Reasons: Extensive deterioration

06217

Fort Lee

Ft. Lee VA 23801

Landholding Agency: Army

Property Number: 21201540029

Status: Unutilized

Comments: public access denied and no alternative method to gain access without compromising national security.

Reasons: Secured Area

1555A

Radford Army Ammunition

Plant; Rte. 114 P.O. Box 2

Radford VA 24143

Landholding Agency: Army

Property Number: 21201540042

Status: Unutilized

Comments: public access denied and no alternative method to gain access without compromising national security.

Reasons: Secured Area

5 Buildings

Sandston Armory

Sandston VA 23150

Landholding Agency: Army

Property Number: 21201610065

Status: Unutilized

Directions: Building T4504; T3704; T4500; T3702; T3700

Comments: public access denied and no alternative method to gain access without compromising national security.

Reasons: Secured Area

Washington

Bldg. 6991

Fort Lewis

Ft. Lewis WA 98433

Landholding Agency: Army

Property Number: 21199810242

Status: Unutilized

Directions:

Comments:

Reasons: Extensive deterioration

15 Bldgs.

Fort Lewis

Pierce WA 98433

Landholding Agency: Army

Property Number: 21201030041

Status: Unutilized

Directions: 3417, 3418, 3423, 3424, 3427, 3428, 3429, 3430, 3433, 3434, 3435, 3436, 3439, 3442, 3444

Reasons: Secured Area; Extensive deterioration

Bldgs. 00852 and 00853

Yakima Trng. Ctr.

Yakima WA 98901

Landholding Agency: Army

Property Number: 21201140001

Status: Unutilized

Reasons: Extensive deterioration

8995

American Lake Ave.

JBLM WA 98433

Landholding Agency: Army

Property Number: 21201230021

Status: Unutilized

Comments: secured military cantonment area; public access denied & no alternative method to gain access w/out comprising nat'l security.

Reasons: Secured Area

3 Buildings

Joint Base Lewis-McChord

JBLM WA 98433

Landholding Agency: Army

Property Number: 21201310043

Status: Underutilized

Directions: 1158, 3151, 8066

Comments: secured military cantonment area; public access denied & noalternative method to gain access w/out compromising nat'l security.

Reasons: Secured Area

10 Buildings

Joint Base Lewis McChord

JBLM WA 98433

Landholding Agency: Army

Property Number: 21201310066

Status: Underutilized

Directions: 03154, 03156, 03157, 03158, 03160, 03161, 03163, 03164, 03165, 03167

Comments: secured military cantonment area; public access denied & no alternative method to gain access w/out compromising nat'l security.

Reasons: Secured Area

5 Buildings

Division Dr.

JBLM WA 98433

Landholding Agency: Army

Property Number: 21201320024

Status: Underutilized

Directions: 03131; 03135, 03139, 03317, 03320

Comments: secured military cantonment area; public access denied & no alternative method to gain access w/out compromising nat'l security.

Reasons: Secured Area

3 Buildings

Libbey Ave.

JBLM WA 98433

Landholding Agency: Army

Property Number: 21201320025

Status: Underutilized

Directions: 03316, 03322, 03330

Comments: secured military cantonment area; public access denied & no alternative method to gain access w/out compromising nat'l security.

Reasons: Secured Area

23 Buildings

Joint Base Lewis McChord

JBLM WA 98433

Landholding Agency: Army

Property Number: 21201440047

Status: Underutilized

Directions: 07517; 07514; 07507; 07500; 03422; 03421; 03420; 03419; 03416; 03415; 03414; 03413; 03412; 03324; 03287; 03286; 03279; 03278; 03277; 03214;03212; 03213; 03080

Comments: public access denied and no alternative method to gain access w/out compromising national security.

Reasons: Secured Area

6 Buildings

Sloane St.

Joint Base Lewis McCh WA 03933

Landholding Agency: Army

Property Number: 21201510021

Status: Underutilized

Directions: 004ED; D0110; 14109; 09643; 03932; 03933

Comments: public access denied & no alternative method to gain access w/out compromising Nat'l Sec.

Reasons: Secured Area

Joint Base Lewis McChord

Bldg. #08277

8277 Shoreline Beach Rd.

Pierce WA 98433

Landholding Agency: Army

Property Number: 21201510024

Status: Underutilized

Comments: public access denied & no alternative method to gain access w/out compromising Nat'l Sec.

Reasons: Within airport runway clear zone Secured Area

Yakima Training Ctr. Bldg. 223

223 Firing Center Road

Yakima WA 98901

Landholding Agency: Army

Property Number: 21201510029

Status: Underutilized

Comments: public access denied & no alternative method to gain access w/out compromising Nat'l Sec.

Reasons: Secured Area

Building 223

Joint Base Lewis McChord

JBLM WA 98433

Landholding Agency: Army

Property Number: 21201510043

Status: Underutilized

Comments: public access denied and no alternative method to gain access without compromising national security.

Reasons: Secured Area

Building #09623

9623 Rainier Drive

Joint Base Lewis-McCh WA 98433

Landholding Agency: Army

Property Number: 21201610019

Status: Excess

Comments: public access denied and no alternative method to gain access without compromising national security.

Reasons: Secured Area

Building 02541

Firing Center Road

Yakima Training Center WA 98901

Landholding Agency: Army

Property Number: 21201610022

Status: Excess

Comments: public access denied and no alternative method to gain access without compromising national security.

Reasons: Secured Area

Wisconsin

Bldg.1993-1

Badger Army Ammunition Plant

Baraboo WI 53913

Landholding Agency: Army

Property Number: 21199011094

Status: Underutilized

Directions:

Comments: friable asbestos

Reasons: Secured Area; Other environmental, Within 2000 ft. of flammable or explosive material

Bldg. 227-1

Badger Army Ammunition Plant

Change House

Baraboo WI 53913

Landholding Agency: Army

Property Number: 21199011104

Status: Unutilized

Directions:

Comments: friable asbestos.

Reasons: Within 2000 ft. of flammable or explosive material; Other environmental, Secured Area

Bldg. 513-2

Badger Army Ammunition Plant

Change House

Baraboo WI 53913

Landholding Agency: Army

Property Number: 21199011106

Status: Unutilized

Directions:

Comments: friable asbestos.

Reasons: Within 2000 ft. of flammable or explosive material; Other environmental, Secured Area

Bldg. 513-4

Badger Army Ammunition Plant

Change House

Baraboo WI 53913

Landholding Agency: Army

Property Number: 21199011108

Status: Unutilized

Directions:

Comments: friable asbestos.

Reasons: Within 2000 ft. of flammable or explosive material; Other environmental, Secured Area

Bldg. 720-2

Badger Army Ammunition Plant

Change House

Baraboo WI 53913

Landholding Agency: Army

Property Number: 21199011110

Status: Unutilized

Directions:

Comments: friable asbestos.

Reasons: Other environmental, Secured Area; Within 2000 ft. of flammable or explosive material

Bldg. 2016

Badger Army Ammunition Plant

Change House

Baraboo WI 53913

Landholding Agency: Army

Property Number: 21199011111

Status: Unutilized

Directions:

Comments: friable asbestos.

Reasons: Within 2000 ft. of flammable or explosive material; Other environmental, Secured Area

Bldg. 3016

Badger Army Ammunition Plant

Change House

Baraboo WI 53913

Landholding Agency: Army

Property Number: 21199011112

Status: Unutilized

Directions:

Comments: friable asbestos.

Reasons: Secured Area; Within 2000 ft. of flammable or explosive material; Other environmental

Bldg. 5016

Badger Army Ammunition Plant

Change House

Baraboo WI 53913

Landholding Agency: Army

Property Number: 21199011113

Status: Unutilized

Directions:

Comments: friable asbestos.

Reasons: Secured Area; Within 2000 ft. of flammable or explosive material; Other environmental

Bldg. 2031

Badger Army Ammunition Plant

Change House

Baraboo WI 53913

Landholding Agency: Army

Property Number: 21199011115

Status: Unutilized

Directions:

Comments: friable asbestos.

Reasons: Secured Area; Other environmental, Within 2000 ft. of flammable or explosive material

Bldg. 3031

Badger Army Ammunition Plant

Change House

Baraboo WI 53913

Landholding Agency: Army

Property Number: 21199011116

Status: Unutilized

Directions:

Comments: friable asbestos.

Reasons: Other environmental, Secured Area; Within 2000 ft. of flammable or explosive material

Bldg. 4031

Badger Army Ammunition Plant

Change House

Baraboo WI 53913

Landholding Agency: Army

Property Number: 21199011117

Status: Unutilized

Directions:

Comments: friable asbestos.

Reasons: Secured Area; Other environmental, Within 2000 ft. of flammable or explosive material

Bldg. 5031

Badger Army Ammunition Plant

Change House

Baraboo WI 53913

Landholding Agency: Army

Property Number: 21199011119

Status: Unutilized

Directions:

Comments: friable asbestos.

Reasons: Other environmental, Within 2000 ft. of flammable or explosive material; Secured Area

Bldg. 2036

Badger Army Ammunition Plant

Change House

Baraboo WI 53913

Landholding Agency: Army

Property Number: 21199011120

Status: Unutilized

Directions:

Comments: friable asbestos.

Reasons: Within 2000 ft. of flammable or explosive material; Secured Area; Other environmental

Bldg. 3036

Badger Army Ammunition Plant

Change House

Baraboo WI 53913

Landholding Agency: Army

Property Number: 21199011122

Status: Unutilized

Directions:

Comments: friabls asbestos.

Reasons: Other environmental, Within 2000 ft. of flammable or explosive material; Secured Area

Bldg. 4036

Badger Army Ammunition Plant

Change House

Baraboo WI 53913

Landholding Agency: Army

Property Number: 21199011123

Status: Unutilized

Directions:

Comments: friable asbestos.

Reasons: Secured Area; Within 2000 ft. of flammable or explosive material; Other environmental

Bldg. 2504-1

Badger Army Ammunition Plant

Change House

Baraboo WI 53913

Landholding Agency: Army

Property Number: 21199011125

Status: Unutilized

Directions:

Comments: friable asbestos.

Reasons: Secured Area; Within 2000 ft. of flammable or explosive material; Other environmental

Bldg. 2504-2

Badger Army Ammunition Plant

Change House

Baraboo WI 53913

Landholding Agency: Army

Property Number: 21199011126

Status: Unutilized

Directions:

Comments: friable asbstos.

Reasons: Other environmental, Within 2000 ft. of flammable or explosive material; Secured Area

Bldg. 3504-2

Badger Army Ammunition Plant

Change House

Baraboo WI 53913

Landholding Agency: Army

Property Number: 21199011128

Status: Unutilized

Directions:

Comments: friable asbestos.

Reasons: Within 2000 ft. of flammable or explosive material; Other environmental, Secured Area

Bldg. 4504-1

Badger Army Ammunition Plant

Change House

Baraboo WI 53913

Landholding Agency: Army

Property Number: 21199011129

Status: Unutilized

Directions:

Comments: friable asbestos.

Reasons: Within 2000 ft. of flammable or explosive material; Other environmental, Secured Area

Bldg. 4504-2

Badger Army Ammunition Plant

Change House

Baraboo WI 53913

Landholding Agency: Army

Property Number: 21199011130

Status: Unutilized

Directions:

Comments: friable asbestos.

Reasons: Other environmental, Secured Area; Within 2000 ft. of flammable or explosive material

Bldg. 5504-1

Badger Army Ammunition Plant

Change House

Baraboo WI 53913

Landholding Agency: Army

Property Number: 21199011131

Status: Unutilized

Directions:

Comments: friable asbestos.

Reasons: Within 2000 ft. of flammable or explosive material; Other environmental, Secured Area

Bldg. 5504-2

Badger Army Ammunition Plant

Change House

Baraboo WI 53913

Landholding Agency: Army

Property Number: 21199011132

Status: Unutilized

Directions:

Comments: friable asbestos.

Reasons: Within 2000 ft. of flammable or explosive material; Secured Area; Other environmental

Bldg. 2557

Badger Army Ammunition Plant

Change House

Baraboo WI 53913

Landholding Agency: Army

Property Number: 21199011133

Status: Unutilized

Directions:

Comments: friable asbestos.

Reasons: Within 2000 ft. of flammable or explosive material; Secured Area; Other environmental

Bldg. 2563

Badger Army Ammunition Plant

Change House

Baraboo WI 53913

Landholding Agency: Army

Property Number: 21199011134

Status: Unutilized

Directions:

Comments: friable asbestos.

Reasons: Secured Area; Within 2000 ft. of flammable or explosive material; Other environmental

Bldg. 3563-1

Badger Army Ammunition Plant

Change House

Baraboo WI 53913

Landholding Agency: Army

Property Number: 21199011135

Status: Unutilized

Directions:

Comments: friable asbestos.

Reasons: Other environmental, Secured Area; Within 2000 ft. of flammable or explosive material

Bldg. 4563-3

Badger Army Ammunition Plant

Change House

Baraboo WI 53913

Landholding Agency: Army

Property Number: 21199011138

Status: Unutilized

Directions:

Comments: friable asbestos.

Reasons: Other environmental, Within 2000 ft. of flammable or explosive material; Secured Area

Bldg. 4563-4

Badger Army Ammunition Plant

Change House

Baraboo WI 53913

Landholding Agency: Army

Property Number: 21199011139

Status: Unutilized

Directions:

Comments: friable asbestos.

Reasons: Within 2000 ft. of flammable or explosive material; Other environmental, Secured Area

Bldg. 5557-1

Badger Army Ammunition Plant

Change House

Baraboo WI 53913

Landholding Agency: Army

Property Number: 21199011141

Status: Unutilized

Directions:

Comments: friable asbestos.

Reasons: Secured Area; Other environmental, Within 2000 ft. of flammable or explosive material

Bldg. 5557-2

Badger Army Ammunition Plant

Change House

Baraboo WI 53913

Landholding Agency: Army

Property Number: 21199011142

Status: Unutilized

Directions:

Comments: friable asbestos.

Reasons: Other environmental; Secured Area; Within 2000 ft. of flammable or explosive material

Bldg. 5557-5

Badger Army Ammunition Plant

Change House

Baraboo WI 53913

Landholding Agency: Army

Property Number: 21199011144

Status: Unutilized

Directions:

Comments: friable asbestos.

Reasons: Within 2000 ft. of flammable or explosive material; Secured Area; Other environmental

Bldg. 273

Badger Army Ammunition Plant

Training Facility

Baraboo WI 53913

Landholding Agency: Army

Property Number: 21199011148

Status: Unutilized

Directions:

Comments: friable asbestos.

Reasons: Within 2000 ft. of flammable or explosive material; Other environmental, Secured Area

Bldg. 229

Badger Army Ammunition Plant

Administration Building

Baraboo WI 53913

Landholding Agency: Army

Property Number: 21199011149

Status: Unutilized

Directions:

Comments: friable asbestos.

Reasons: Secured Area; Other environmental, Within 2000 ft. of flammable or explosive material

Bldg. 2030

Badger Army Ammunition Plant

Administration—General Purpose

Baraboo WI 53913

Landholding Agency: Army

Property Number: 21199011150

Status: Unutilized

Directions:

Comments: friable asbestos.

Reasons: Other environmental, Secured Area; Within 2000 ft. of flammable or explosive material

Bldg. 268

Badger Army Ammunition Plant

Administration Bldg.

Baraboo WI 53913

Landholding Agency: Army

Property Number: 21199011151

Status: Unutilized

Directions:

Comments: friable asbestos.

Reasons: Secured Area; Within 2000 ft. of flammable or explosive material; Other environmental

Bldg. 267

Badger Army Ammunition Plant

Administration Bldg.

Baraboo WI 53913

Landholding Agency: Army

Property Number: 21199011152

Status: Unutilized

Directions:

Comments: friable asbestos.

Reasons: Other environmental, Secured Area; Within 2000 ft. of flammable or explosive material

Bldg. 1900-2

Badger Army Ammunition Plant

Standard Magazine

Baraboo WI 53913

Landholding Agency: Army

Property Number: 21199011154

Status: Unutilized

Directions:

Comments: friable asbestos.

Reasons: Other environmental, Within 2000 ft. of flammable or explosive material; Secured Area

Bldg. 1900-3

Badger Army Ammunition Plant

Standard Magazine

Baraboo WI 53913

Landholding Agency: Army

Property Number: 21199011155

Status: Unutilized

Directions:

Comments: friable asbestos.

Reasons: Other environmental, Secured Area; Within 2000 ft. of flammable or explosive material

Bldg. 1900-4

Badger Army Ammunition Plant

Standard Magazine

Baraboo WI 53913

Landholding Agency: Army

Property Number: 21199011156

Status: Unutilized

Directions:

Comments: friable asbestos.

Reasons: Within 2000 ft. of flammable or explosive material; Other environmental, Secured Area

Bldg. 3030

Badger Army Ammunition Plant

Administration—General Purpose

Baraboo WI 53913

Landholding Agency: Army

Property Number: 21199011157

Status: Unutilized

Directions:

Comments: friable asbestos.

Reasons: Secured Area; Within 2000 ft. of flammable or explosive material; Other environmental

Bldg. 1900-7

Badger Army Ammunition Plant

Standard Magazine

Baraboo WI 53913

Landholding Agency: Army

Property Number: 21199011160

Status: Unutilized

Directions:

Comments: friable asbestos.

Reasons: Other environmental, Within 2000 ft. of flammable or explosive material; Secured Area

Bldg. 4030

Badger Army Ammunition Plant

Administration-General Purpose

Baraboo WI 53913

Landholding Agency: Army

Property Number: 21199011161

Status: Unutilized

Directions:

Comments: friable asbestos.

Reasons: Other environmental; Secured Area; Within 2000 ft. of flammable or explosive material

Bldg. 1906-1

Badger Army Ammunition Plant

Standard Magzine

Baraboo WI 53913

Landholding Agency: Army

Property Number: 21199011162

Status: Unutilized

Directions:

Comments: friable asbestos.

Reasons: Other environmental; Secured Area; Within 2000 ft. of flammable or explosive material

Bldg. 1906-10

Badger Army Ammunition Plant

Standard Magazine

Baraboo WI 53913

Landholding Agency: Army

Property Number: 21199011163

Status: Unutilized

Directions:

Comments: friable asbestos.

Reasons: Within 2000 ft. of flammable or explosive material; Other environmental, Secured Area

Bldg. 1906-21

Badger Army Ammunition Plant

Standard Magazine

Baraboo WI 53913

Landholding Agency: Army

Property Number: 21199011164

Status: Unutilized

Directions:

Comments: friable asbestos.

Reasons: Other environmental, Within 2000 ft. of flammable or explosive material; Secured Area

Bldg. 5030

Badger Army Ammunition Plant

Administration—General Purpose

Baraboo WI 53913

Landholding Agency: Army

Property Number: 21199011165

Status: Unutilized

Directions:

Comments: friable asbestos.

Reasons: Secured Area; Other environmental, Within 2000 ft. of flammable or explosive material

Bldg. 1906-31

Badger Army Ammunition Plant

Standard Magazine

Baraboo WI 53913

Landholding Agency: Army

Property Number: 21199011166

Status: Unutilized

Directions:

Comments: friable asbestos.

Reasons: Other environmental, Secured Area; Within 2000 ft. of flammable or explosive material

Bldg. 1993-2

Badger Army Ammunition Plant

Administration—General Purpose

Baraboo WI 53913

Landholding Agency: Army

Property Number: 21199011167

Status: Unutilized

Directions:

Comments: friable asbestos.

Reasons: Other environmental, Secured Area; Within 2000 ft. of flammable or explosive material

Bldg. 1906-42

Badger Army Ammunition Plant

Standard Magazine

Baraboo WI 53913

Landholding Agency: Army

Property Number: 21199011168

Status: Unutilized

Directions:

Comments: friable asbestos.

Reasons: Within 2000 ft. of flammable or explosive material; Other environmental, Secured Area

Bldg. 1906-46

Badger Army Ammunition Plant

Standard Magazine

Baraboo WI 53913

Landholding Agency: Army

Property Number: 21199011169

Status: Unutilized

Directions:

Comments: friable asbestos.

Reasons: Secured Area; Within 2000 ft. of flammable or explosive material; Other environmental

Bldg. 1906-4

Badger Army Ammunition Plant

Standard Magazine

Baraboo WI 53913

Landholding Agency: Army

Property Number: 21199011171

Status: Unutilized

Directions:

Comments: friable asbestos.

Reasons: Within 2000 ft. of flammable or explosive material; Other environmental, Secured Area

Bldg. 1906-12

Badger Army Ammunition Plant

Standard Magazine

Baraboo WI 53913

Landholding Agency: Army

Property Number: 21199011172

Status: Unutilized

Directions:

Comments: friable asbestos.

Reasons: Other environmental, Secured Area; Within 2000 ft. of flammable or explosive material

Bldg. 1906-13

Badger Army Ammunition Plant

Standard Magazine

Baraboo WI 53913

Landholding Agency: Army

Property Number: 21199011173

Status: Unutilized

Directions:

Comments: friable asbestos.

Reasons: Within 2000 ft. of flammable or explosive material; Other environmental, Secured Area

Bldg. 1906-23

Badger Army Ammunition Plant

Standard Magazine

Baraboo WI 53913

Landholding Agency: Army

Property Number: 21199011174

Status: Unutilized

Directions:

Comments: friable asbestos.

Reasons: Other environmental, Within 2000 ft. of flammable or explosive material; Secured Area

Bldg. 1906-28

Badger Army Ammunition Plant

Standard Magazine

Baraboo WI 53913

Landholding Agency: Army

Property Number: 21199011175

Status: Unutilized

Directions:

Comments: friable asbestos.

Reasons: Within 2000 ft. of flammable or explosive material; Secured Area; Other environmental

Bldg. 1932-25

Badger Army Ammunition Plant

Cannon Magazine

Baraboo WI 53913

Landholding Agency: Army

Property Number: 21199011176

Status: Unutilized

Directions:

Comments: friable asbestos.

Reasons: Secured Area; Other environmental, Within 2000 ft. of flammable or explosive material

Bldg. 1906-34

Badger Army Ammunition Plant

Standard Magazine

Baraboo WI 53913

Landholding Agency: Army

Property Number: 21199011177

Status: Unutilized

Directions:

Comments: friable asbestos.

Reasons: Other environmental, Secured Area; Within 2000 ft. of flammable or explosive material

Bldg. 1906-33

Badger Army Ammunition Plant

Standard Magazine

Baraboo WI 53913

Landholding Agency: Army

Property Number: 21199011178

Status: Unutilized

Directions:

Comments: friable asbestos.

Reasons: Secured Area; Within 2000 ft. of flammable or explosive material; Other environmental

Bldg. 1906-39

Badger Army Ammunition Plant

Standard Magazine

Baraboo WI 53913

Landholding Agency: Army

Property Number: 21199011179

Status: Unutilized

Directions:

Comments: friable asbestos.

Reasons: Secured Area; Within 2000 ft. of flammable or explosive material; Other environmental

Bldg. 1932-7

Badger Army Ammunition Plant

Cannon Magazine

Baraboo WI 53913

Landholding Agency: Army

Property Number: 21199011181

Status: Unutilized

Directions:

Comments: friable asbestos.

Reasons: Within 2000 ft. of flammable or explosive material; Secured Area; Other environmental

Bldg. 1906-43

Badger Army Ammunition Plant

Standard Magazine

Baraboo WI 53913

Landholding Agency: Army

Property Number: 21199011182

Status: Unutilized

Directions:

Comments: friable asbestos.

Reasons: Within 2000 ft. of flammable or explosive material; Other environmental, Secured Area

Bldg. 1932-21

Badger Army Ammunition Plant

Cannon Magazine

Baraboo WI 53913

Landholding Agency: Army

Property Number: 21199011183

Status: Unutilized

Directions:

Comments: friable asbestos.

Reasons: Within 2000 ft. of flammable or explosive material; Secured Area; Other environmental

Bldg. 1906-40

Badger Army Ammunition Plant

Standard Magazine

Baraboo WI 53913

Landholding Agency: Army

Property Number: 21199011184

Status: Unutilized

Directions:

Comments: friable asbestos.

Reasons: Other environmental, Within 2000 ft. of flammable or explosive material; Secured Area

Bldg. 1906-48

Badger Army Ammunition Plant

Standard Magazine

Baraboo WI 53913

Landholding Agency: Army

Property Number: 21199011185

Status: Unutilized

Directions:

Comments: friable asbestos.

Reasons: Within 2000 ft. of flammable or explosive material; Other environmental, Secured Area

Bldg. 1906-51

Badger Army Ammunition Plant

Standard Magazine

Baraboo WI 53913

Landholding Agency: Army

Property Number: 21199011186

Status: Unutilized

Directions:

Comments: friable asbestos.

Reasons: Secured Area; Within 2000 ft. of flammable or explosive material; Other environmental

Bldg. 1932-33

Badger Army Ammunition Plant

Cannon Magazine

Baraboo WI 53913

Landholding Agency: Army

Property Number: 21199011187

Status: Unutilized

Directions:

Comments: friable asbestos.

Reasons: Other environmental, Within 2000 ft. of flammable or explosive material; Secured Area

Bldg. 1906-53

Badger Army Ammunition Plant

Standard Magazine

Baraboo WI 53913

Landholding Agency: Army

Property Number: 21199011188

Status: Unutilized

Directions:

Comments: friable asbestos.

Reasons: Within 2000 ft. of flammable or explosive material; Other environmental, Secured Area

Bldg. 1906-8

Badger Army Ammunition Plant

Standard Magazine

Baraboo WI 53913

Landholding Agency: Army

Property Number: 21199011189

Status: Unutilized

Directions:

Comments: friable asbestos.

Reasons: Other environmental, Secured Area; Within 2000 ft. of flammable or explosive material

Bldg. 1932-8

Badger Army Ammunition Plant

Cannon Magazine

Baraboo WI 53913

Landholding Agency: Army

Property Number: 21199011190

Status: Unutilized

Directions:

Comments: friable asbestos.

Reasons: Within 2000 ft. of flammable or explosive material; Other environmental, Secured Area

Bldg. 1906-9

Badger Army Ammunition Plant

Standard Magazine

Baraboo WI 53913

Landholding Agency: Army

Property Number: 21199011191

Status: Unutilized

Directions:

Comments: friable asbestos.

Reasons: Secured Area; Other environmental, Within 2000 ft. of flammable or explosive material

Bldg. 1932-17

Badger Army Ammunition Plant

Cannon Magazine

Baraboo WI 53913

Landholding Agency: Army

Property Number: 21199011192

Status: Unutilized

Directions:

Comments: friable asbestos.

Reasons: Secured Area; Within 2000 ft. of flammable or explosive material; Other environmental

Bldg. 1906-14

Badger Army Ammunition Plant

Standard Magazine

Baraboo WI 53913

Landholding Agency: Army

Property Number: 21199011193

Status: Unutilized

Directions:

Comments: friable asbestos.

Reasons: Within 2000 ft. of flammable or explosive material; Other environmental, Secured Area

Bldg. 1906-15

Badger Army Ammunition Plant

Standard Magazine

Baraboo WI 53913

Landholding Agency: Army

Property Number: 21199011194

Status: Unutilized

Directions:

Comments: friable asbestos.

Reasons: Other environmental, Secured Area; Within 2000 ft. of flammable or explosive material

Bldg. 1906-20

Badger Army Ammunition Plant

Standard Magazine

Baraboo WI 53913

Landholding Agency: Army

Property Number: 21199011195

Status: Unutilized

Directions:

Comments: friable asbestos.

Reasons: Secured Area; Within 2000 ft. of flammable or explosive material; Other environmental

Bldg. 1906-19

Badger Army Ammunition Plant

Standard Magazine

Baraboo WI 53913

Landholding Agency: Army

Property Number: 21199011196

Status: Unutilized

Directions:

Comments: friable asbestos.

Reasons: Within 2000 ft. of flammable or explosive material; Other environmental, Secured Area

Bldg. 1906-25

Badger Army Ammunition Plant

Standard Magazine

Baraboo WI 53913

Landholding Agency: Army

Property Number: 21199011197

Status: Unutilized

Directions:

Comments: friable asbestos.

Reasons: Other environmental, Secured Area; Within 2000 ft. of flammable or explosive material

Bldg. 1906-24

Badger Army Ammunition Plant

Standard Magazine

Baraboo WI 53913

Landholding Agency: Army

Property Number: 21199011198

Status: Unutilized

Directions:

Comments: friable asbestos.

Reasons: Within 2000 ft. of flammable or explosive material; Secured Area; Other environmental

Bldg. 1932-5

Badger Army Ammunition Plant

Cannon Magazine

Baraboo WI 53913

Landholding Agency: Army

Property Number: 21199011199

Status: Unutilized

Directions:

Comments: friable asbestos.

Reasons: Secured Area; Other environmental, Within 2000 ft. of flammable or explosive material

Bldg. 1906-29

Badger Army Ammunition Plant

Standard Magazine

Baraboo WI 53913

Landholding Agency: Army

Property Number: 21199011200

Status: Unutilized

Directions:

Comments: friable asbestos.

Reasons: Other environmental, Secured Area; Within 2000 ft. of flammable or explosive material

Bldg. 1932-23

Badger Army Ammunition Plant

Cannon Magazine

Baraboo WI 53913

Landholding Agency: Army

Property Number: 21199011202

Status: Unutilized

Directions:

Comments: friable asbestos.

Reasons: Secured Area; Within 2000 ft. of flammable or explosive material; Other environmental

Bldg. 1906-45

Badger Army Ammunition Plant

Standard Magazine

Baraboo WI 53913

Landholding Agency: Army

Property Number: 21199011203

Status: Unutilized

Directions:

Comments: friable asbestos.

Reasons: Secured Area; Other environmental, Within 2000 ft. of flammable or explosive material

Bldg. 1906-49

Badger Army Ammunition Plant

Standard Magazine

Baraboo WI 53913

Landholding Agency: Army

Property Number: 21199011204

Status: Unutilized

Directions:

Comments: friable asbestos.

Reasons: Other environmental, Secured Area; Within 2000 ft. of flammable or explosive material

Bldg. 1932-9

Badger Army Ammunition Plant

Cannon Magazine

Baraboo WI 53913

Landholding Agency: Army

Property Number: 21199011205

Status: Unutilized

Directions:

Comments: friable asbestos.

Reasons: Other environmental, Within 2000 ft. of flammable or explosive material; Secured Area

Bldg. 1906-56

Badger Army Ammunition Plant

Standard Magazine

Baraboo WI 53913

Landholding Agency: Army

Property Number: 21199011206

Status: Unutilized

Directions:

Comments: friable asbestos.

Reasons: Other environmental, Within 2000 ft. of flammable or explosive material; Secured Area

Bldg. 9100-1

Badger Army Ammunition Plant

Richmond Magazine

Baraboo WI 53913

Landholding Agency: Army

Property Number: 21199011207

Status: Unutilized

Directions:

Comments: friable asbestos.

Reasons: Secured Area; Other environmental, Within 2000 ft. of flammable or explosive material

Bldg. 1906-54

Badger Army Ammunition Plant

Standard Magazine

Baraboo WI 53913

Landholding Agency: Army

Property Number: 21199011208

Status: Unutilized

Directions:

Comments: friable asbestos.

Reasons: Other environmental, Secured Area; Within 2000 ft. of flammable or explosive material

Bldg. 3000

Badger Army Ammunition Plant

Warehouse

Baraboo WI 53913

Landholding Agency: Army

Property Number: 21199011209

Status: Underutilized

Directions:

Comments: friable asbestos.

Reasons: Within 2000 ft. of flammable or explosive material; Secured Area; Other environmental

Bldg. 5000

Badger Army Ammunition Plant

Warehouse

Baraboo WI 53913

Landholding Agency: Army

Property Number: 21199011210

Status: Underutilized

Directions:

Comments: friable asbestos.

Reasons: Other environmental, Within 2000 ft. of flammable or explosive material; Secured Area

Bldg. 275

Badger Army Ammunition Plant

Warehouse

Baraboo WI 53913

Landholding Agency: Army

Property Number: 21199011211

Status: Underutilized

Directions:

Comments: friable asbestos.

Reasons: Secured Area; Within 2000 ft. of flammable or explosive material; Other environmental

Bldg. 9100-2

Badger Army Ammunition Plant

Richmond Magazine

Baraboo WI 53913

Landholding Agency: Army

Property Number: 21199011213

Status: Unutilized

Directions:

Comments: friable asbestos.

Reasons: Within 2000 ft. of flammable or explosive material; Secured Area; Other environmental

Bldg. 214

Badger Army Ammunition Plant

Administration

Baraboo WI 53913

Landholding Agency: Army

Property Number: 21199011214

Status: Unutilized

Directions:

Comments: friable asbestos.

Reasons: Within 2000 ft. of flammable or explosive material; Other environmental, Secured Area

Bldg. 1975-2

Badger Army Ammunition Plant

Baraboo WI 53913

Landholding Agency: Army

Property Number: 21199011215

Status: Unutilized

Directions:

Comments: friable asbestos.

Reasons: Secured Area; Other environmental, Within 2000 ft. of flammable or explosive material

Bldg. 9100-4

Badger Army Ammunition Plant

Richmond Magazine

Baraboo WI 53913

Landholding Agency: Army

Property Number: 21199011218

Status: Unutilized

Directions:

Comments: friable asbestos.

Reasons: Within 2000 ft. of flammable or explosive material; Other environmental, Secured Area

Bldg. 9100-5

Badger Army Ammunition Plant

Richmond Magazine

Baraboo WI 53913

Landholding Agency: Army

Property Number: 21199011219

Status: Unutilized

Directions:

Comments: friable asbestos.

Reasons: Within 2000 ft. of flammable or explosive material; Other environmental, Secured Area

Bldg. 9100-6

Badger Army Ammunition Plant

Richmond Magazine

Baraboo WI 53913

Landholding Agency: Army

Property Number: 21199011220

Status: Unutilized

Directions:

Comments: friable asbestos.

Reasons: Other environmental, Secured Area; Within 2000 ft. of flammable or explosive material

Bldg. 9100-8

Badger Army Ammunition Plant

Richmond Magazine

Baraboo WI 53913

Landholding Agency: Army

Property Number: 21199011221

Status: Unutilized

Directions:

Comments: friable asbestos.

Reasons: Secured Area; Within 2000 ft. of flammable or explosive material; Other environmental

Bldg. 9100-10

Badger Army Ammunition Plant

Richmond Magazine

Baraboo WI 53913

Landholding Agency: Army

Property Number: 21199011222

Status: Unutilized

Directions:

Comments: friable asbestos.

Reasons: Within 2000 ft. of flammable or explosive material; Other environmental, Secured Area

Bldg. 9100-12

Badger Army Ammunition Plant

Richmond Magazine

Baraboo WI 53913

Landholding Agency: Army

Property Number: 21199011224

Status: Unutilized

Directions:

Comments: friable asbestos.

Reasons: Other environmental, Secured Area; Within 2000 ft. of flammable or explosive material

Bldg. 9100-19

Badger Army Ammunition Plant

Richmond Magazine

Baraboo WI 53913

Landholding Agency: Army

Property Number: 21199011225

Status: Unutilized

Directions:

Comments: friable asbestos.

Reasons: Other environmental, Within 2000 ft. of flammable or explosive material; Secured Area

Bldg. 9102-2

Badger Army Ammunition Plant

Igloo Magazine

Baraboo WI 53913

Landholding Agency: Army

Property Number: 21199011227

Status: Unutilized

Directions:

Comments: friable asbestos.

Reasons: Other environmental, Within 2000 ft. of flammable or explosive material; Secured Area

Bldg. 1975-1

Badger Army Ammunition Plant

Administration

Baraboo WI 53913

Landholding Agency: Army

Property Number: 21199011229

Status: Unutilized

Directions:

Comments: friable asbestos.

Reasons: Secured Area; Within 2000 ft. of flammable or explosive material; Other environmental

Bldg. 1975-4

Badger Army Ammunition Plant

Administration

Baraboo WI 53913

Landholding Agency: Army

Property Number: 21199011230

Status: Unutilized

Directions:

Comments: friable asbestos.

Reasons: Within 2000 ft. of flammable or explosive material; Secured Area; Other environmental

Bldg. 1975-5

Badger Army Ammunition Plant

Administration

Baraboo WI 53913

Landholding Agency: Army

Property Number: 21199011231

Status: Unutilized

Directions:

Comments: friable asbestos.

Reasons: Other environmental, Within 2000 ft. of flammable or explosive material; Secured Area

Bldg. 1975-7

Badger Army Ammunition Plant

Administration

Baraboo WI 53913

Landholding Agency: Army

Property Number: 21199011233

Status: Unutilized

Directions:

Comments: friable asbestos.

Reasons: Other environmental, Secured Area; Within 2000 ft. of flammable or explosive material

Bldg. 1975-8

Badger Army Ammunition Plant

Administration

Baraboo WI 53913

Landholding Agency: Army

Property Number: 21199011234

Status: Unutilized

Directions:

Comments: friable asbestos.

Reasons: Other environmental, Secured Area; Within 2000 ft. of flammable or explosive material

Bldg. 205

Badger Army Ammunition Plant

Clinic

Baraboo WI 53913

Landholding Agency: Army

Property Number: 21199011236

Status: Unutilized

Directions:

Comments: friable asbestos.

Reasons: Within 2000 ft. of flammable or explosive material; Other environmental, Secured Area

Bldg. 2554

Badger Army Ammunition Plant

Administration

Baraboo WI 53913

Landholding Agency: Army

Property Number: 21199011238

Status: Unutilized

Directions:

Comments: friable asbestos.

Reasons: Within 2000 ft. of flammable or explosive material; Other environmental, Secured Area

Bldg. 5554

Badger Army Ammunition Plant

Administration

Baraboo WI 53913

Landholding Agency: Army

Property Number: 21199011240

Status: Unutilized

Directions:

Comments: friable asbestos.

Reasons: Secured Area; Other environmental, Within 2000 ft. of flammable or explosive material

Bldg. 3554

Badger Army Ammunition Plant

Administration

Baraboo WI 53913

Landholding Agency: Army

Property Number: 21199011242

Status: Unutilized

Directions:

Comments: friable asbestos.

Reasons: Within 2000 ft. of flammable or explosive material; Other environmental, Secured Area

Bldg. 4554

Badger Army Ammunition Plant

Administration

Baraboo WI 53913

Landholding Agency: Army

Property Number: 21199011244

Status: Unutilized

Directions:

Comments: friable asbestos.

Reasons: Other environmental, Secured Area; Within 2000 ft. of flammable or explosive material

Bldg. 4568

Badger Army Ammunition Plant

Administration

Baraboo WI 53913

Landholding Agency: Army

Property Number: 21199011247

Status: Unutilized

Directions:

Comments: friable asbestos.

Reasons: Other environmental, Within 2000 ft. of flammable or explosive material; Secured Area

Bldg. 8010

Badger Army Ammunition Plant

Administration

Baraboo WI 53913

Landholding Agency: Army

Property Number: 21199011249

Status: Unutilized

Directions:

Comments: friable asbestos.

Reasons: Secured Area; Other environmental, Within 2000 ft. of flammable or explosive material

Bldg. 6535

Badger Army Ammunition Plant

Bus Station

Baraboo WI 53913

Landholding Agency: Army

Property Number: 21199011256

Status: Unutilized

Directions:

Comments: friable asbestos.

Reasons: Secured Area; Within 2000 ft. of flammable or explosive material; Other environmental

Bldg. 2015

Badger Army Ammunition Plant

Administration

Baraboo WI 53913

Landholding Agency: Army

Property Number: 21199011259

Status: Unutilized

Directions:

Comments: friable asbestos.

Reasons: Within 2000 ft. of flammable or explosive material; Other environmental, Secured Area

Bldg. 3015

Badger Army Ammunition Plant

Administration

Baraboo WI 53913

Landholding Agency: Army

Property Number: 21199011263

Status: Unutilized

Directions:

Comments: friable asbestos.

Reasons: Other environmental, Within 2000 ft. of flammable or explosive material; Secured Area

Bldg. 4015

Badger Army Ammunition Plant

Administration

Baraboo WI 53913

Landholding Agency: Army

Property Number: 21199011265

Status: Unutilized

Directions:

Comments: friable asbestos.

Reasons: Secured Area; Within 2000 ft. of flammable or explosive material; Other environmental

Bldg. 5015

Badger Army Ammunition Plant

Administration

Baraboo WI 53913

Landholding Agency: Army

Property Number: 21199011268

Status: Unutilized

Directions:

Comments: friable asbestos.

Reasons: Within 2000 ft. of flammable or explosive material; Other environmental, Secured Area

Bldg. 6532-1

Badger Army Ammunition Plant

Change House

Baraboo WI 53913

Landholding Agency: Army

Property Number: 21199011270

Status: Unutilized

Directions:

Comments: friable asbestos.

Reasons: Other environmental, Within 2000 ft. of flammable or explosive material; Secured Area

Bldg. 6532-2

Badger Army Ammunition Plant

Change House

Baraboo WI 53913

Landholding Agency: Army

Property Number: 21199011275

Status: Unutilized

Directions:

Comments: friable asbestos.

Reasons: Within 2000 ft. of flammable or explosive material; Secured Area; Other environmental

Bldg. 6532-3

Badger Army Ammunition Plant

Change House

Baraboo WI 53913

Landholding Agency: Army

Property Number: 21199011277

Status: Unutilized

Directions:

Comments: friable asbestos.

Reasons: Other environmental, Secured Area; Within 2000 ft. of flammable or explosive material

Bldg. 6532-4

Badger Army Ammunition Plant

Change House

Baraboo WI 53913

Landholding Agency: Army

Property Number: 21199011280

Status: Unutilized

Directions:

Comments: friable asbestos.

Reasons: Secured Area; Within 2000 ft. of flammable or explosive material; Other environmental

Bldg. 6532-5

Badger Army Ammunition Plant

Change House

Baraboo WI 53913

Landholding Agency: Army

Property Number: 21199011282

Status: Unutilized

Directions:

Comments: friable asbestos.

Reasons: Other environmental, Secured Area; Within 2000 ft. of flammable or explosive material

Bldg. 6532-6

Badger Army Ammunition Plant

Change House

Baraboo WI 53913

Landholding Agency: Army

Property Number: 21199011284

Status: Unutilized

Directions:

Comments: friable asbestos.

Reasons: Other environmental, Secured Area; Within 2000 ft. of flammable or explosive material

Bldg. 6532-7

Badger Army Ammunition Plant

Change House

Baraboo WI 53913

Landholding Agency: Army

Property Number: 21199011286

Status: Unutilized

Directions:

Comments: friable asbestos.

Reasons: Other environmental, Secured Area; Within 2000 ft. of flammable or explosive material

Bldg. 6532-8

Badger Army Ammunition Plant

Change House

Baraboo WI 53913

Landholding Agency: Army

Property Number: 21199011290

Status: Unutilized

Directions:

Comments: friable asbestos.

Reasons: Within 2000 ft. of flammable or explosive material; Other environmental, Secured Area

Bldg. 6532-9

Badger Army Ammunition Plant

Change House

Baraboo WI 53913

Landholding Agency: Army

Property Number: 21199011293

Status: Unutilized

Directions:

Comments: friable asbestos.

Reasons: Within 2000 ft. of flammable or explosive material; Other environmental, Secured Area

Bldg. 6532-10

Badger Army Ammunition Plant

Change House

Baraboo WI 53913

Landholding Agency: Army

Property Number: 21199011295

Status: Unutilized

Directions:

Comments: friable asbestos.

Reasons: Other environmental, Secured Area; Within 2000 ft. of flammable or explosive material

Bldg. 6532-11

Badger Army Ammunition Plant

Change House

Baraboo WI 53913

Landholding Agency: Army

Property Number: 21199011297

Status: Unutilized

Directions:

Comments: friable asbestos.

Reasons: Within 2000 ft. of flammable or explosive material; Other environmental, Secured Area

Bldg. 6532-12

Badger Army Ammunition Plant

Change House

Baraboo WI 53913

Landholding Agency: Army

Property Number: 21199011300

Status: Unutilized

Directions:

Comments: friable asbestos.

Reasons: Other environmental, Secured Area; Within 2000 ft. of flammable or explosive material

Bldg. 6532-13

Badger Army Ammunition Plant

Change House

Baraboo WI 53913

Landholding Agency: Army

Property Number: 21199011302

Status: Unutilized

Directions:

Comments: friable asbestos.

Reasons: Other environmental, Secured Area; Within 2000 ft. of flammable or explosive material

Bldg. 6532-14

Badger Army Ammunition Plant

Change House

Baraboo WI 53913

Landholding Agency: Army

Property Number: 21199011304

Status: Unutilized

Directions:

Comments: friable asbestos.

Reasons: Within 2000 ft. of flammable or explosive material; Other environmental, Secured Area

Bldg. 6532-15

Badger Army Ammunition Plant

Change House

Baraboo WI 53913

Landholding Agency: Army

Property Number: 21199011305

Status: Unutilized

Directions:

Comments: friable asbestos.

Reasons: Secured Area; Other environmental, Within 2000 ft. of flammable or explosive material

Bldg. 6532-16

Badger Army Ammunition Plant

Change House

Baraboo WI 53913

Landholding Agency: Army

Property Number: 21199011306

Status: Unutilized

Directions:

Comments: friable asbestos.

Reasons: Secured Area; Within 2000 ft. of flammable or explosive material; Other environmental

Bldg. 6532-17

Badger Army Ammunition Plant

Change House

Baraboo WI 53913

Landholding Agency: Army

Property Number: 21199011307

Status: Unutilized

Directions:

Comments: friable asbestos.

Reasons: Other environmental, Secured Area; Within 2000 ft. of flammable or explosive material

Bldg. 6532-18

Badger Army Ammunition Plant

Change House

Baraboo WI 53913

Landholding Agency: Army

Property Number: 21199011308

Status: Unutilized

Directions:

Comments: friable asbestos.

Reasons: Other environmental, Within 2000 ft. of flammable or explosive material; Secured Area

Bldg. 6532-19

Badger Army Ammunition Plant

Change House

Baraboo WI 53913

Landholding Agency: Army

Property Number: 21199011309

Status: Unutilized

Directions:

Comments: friable asbestos.

Reasons: Within 2000 ft. of flammable or explosive material; Other environmental, Secured Area

Bldg. 6532-20

Badger Army Ammunition Plant

Change House

Baraboo WI 53913

Landholding Agency: Army

Property Number: 21199011310

Status: Unutilized

Directions:

Comments: friable asbestos.

Reasons: Other environmental, Within 2000 ft. of flammable or explosive material; Secured Area

Bldg. 9016-1

Badger Army Ammunition Plant

Change House

Baraboo WI 53913

Landholding Agency: Army

Property Number: 21199011311

Status: Unutilized

Directions:

Comments: friable asbestos.

Reasons: Secured Area; Within 2000 ft. of flammable or explosive material; Other environmental

Bldg. 9016-3

Badger Army Ammunition Plant

Change House

Baraboo WI 53913

Landholding Agency: Army

Property Number: 21199011317

Status: Unutilized

Directions:

Comments: friable asbestos.

Reasons: Within 2000 ft. of flammable or explosive material; Other environmental, Secured Area

Bldg. 9504-1

Badger Army Ammunition Plant

Change House

Baraboo WI 53913

Landholding Agency: Army

Property Number: 21199011319

Status: Unutilized

Directions:

Comments: friable asbestos.

Reasons: Other environmental, Within 2000 ft. of flammable or explosive material; Secured Area

Bldg. 9504-2

Badger Army Ammunition Plant

Change House

Baraboo WI 53913

Landholding Agency: Army

Property Number: 21199011320

Status: Unutilized

Directions:

Comments: friable asbestos.

Reasons: Other environmental, Secured Area; Within 2000 ft. of flammable or explosive material

Bldg. 9504-4

Badger Army Ammunition Plant

Change House

Baraboo WI 53913

Landholding Agency: Army

Property Number: 21199011323

Status: Unutilized

Directions:

Comments: friable asbestos.

Reasons: Other environmental, Within 2000 ft. of flammable or explosive material; Secured Area

Bldg. 264

Badger Army Ammunition Plant

Baraboo WI

Landholding Agency: Army

Property Number: 21199013872

Status: Underutilized

Directions:

Comments:

Reasons: Secured Area

Bldg. 6861-6

Badger Army Ammunition Plant

Baraboo WI

Landholding Agency: Army

Property Number: 21199013875

Status: Underutilized

Directions:

Comments:

Reasons: Secured Area

Bldg. 6861-1

Badger Army Ammunition Plant

Baraboo WI

Landholding Agency: Army

Property Number: 21199013876

Status: Unutilized

Directions:

Comments:

Reasons: Secured Area

Bldg. 6861-3

Badger Army Ammunition Plant

Baraboo WI

Landholding Agency: Army

Property Number: 21199013877

Status: Unutilized

Directions:

Comments:

Reasons: Secured Area

Bldg. 6861-5

Badger Army Ammunition Plant

Baraboo WI

Landholding Agency: Army

Property Number: 21199013878

Status: Unutilized

Directions:

Comments:

Reasons: Secured Area

Bldg. 6513-27

Badger Army Ammunition Plant

Baraboo WI 53913

Landholding Agency: Army

Property Number: 21199210097

Status: Unutilized

Directions:

Comments:

Reasons: Secured Area; Within 2000 ft. of flammable or explosive material

Bldg. 6823-2

Badger Army Ammunition Plant

Baraboo WI 53913

Landholding Agency: Army

Property Number: 21199210098

Status: Unutilized

Directions:

Comments:

Reasons: Within 2000 ft. of flammable or explosive material; Secured Area

Bldg. 6861-4

Badger Army Ammunition Plant

Baraboo WI 53913

Landholding Agency: Army

Property Number: 21199210099

Status: Unutilized

Directions:

Comments:

Reasons: Within 2000 ft. of flammable or explosive material; Secured Area

Bldg. 6513-28

Badger Army Ammunition Plant

Baraboo WI 53913

Landholding Agency: Army

Property Number: 21199220295

Status: Unutilized

Directions:

Comments:

Reasons: Secured Area

Bldg. 6513-31

Badger Army Ammunition Plant

Baraboo WI 53913

Landholding Agency: Army

Property Number: 21199220296

Status: Unutilized

Directions:

Comments:

Reasons: Secured Area

Bldg. 6513-32

Badger Army Ammunition Plant

Baraboo WI 53913

Landholding Agency: Army

Property Number: 21199220297

Status: Unutilized

Directions:

Comments:

Reasons: Secured Area

Bldg. 6513-33

Badger Army Ammunition Plant

Baraboo WI 53913

Landholding Agency: Army

Property Number: 21199220298

Status: Unutilized

Directions:

Comments:

Reasons: Secured Area

Bldg. 6513-34

Badger Army Ammunition Plant

Baraboo WI 53913

Landholding Agency: Army

Property Number: 21199220299

Status: Unutilized

Directions:

Comments:

Reasons: Secured Area

Bldg. 6513-35

Badger Army Ammunition Plant

Baraboo WI 53913

Landholding Agency: Army

Property Number: 21199220300

Status: Unutilized

Directions:

Comments:

Reasons: Secured Area

Bldg. 6513-36

Badger Army Ammunition Plant

Baraboo WI 53913

Landholding Agency: Army

Property Number: 21199220301

Status: Unutilized

Directions:

Comments:

Reasons: Secured Area

Bldg. 6513-37

Badger Army Ammunition Plant

Baraboo WI 53913

Landholding Agency: Army

Property Number: 21199220302

Status: Unutilized

Directions:

Comments:

Reasons: Secured Area

Bldg. 6513-38

Badger Army Ammunition Plant

Baraboo WI 53913

Landholding Agency: Army

Property Number: 21199220303

Status: Unutilized

Directions:

Comments:

Reasons: Secured Area

Bldg. 6513-39

Badger Army Ammunition Plant

Baraboo WI 53913

Landholding Agency: Army

Property Number: 21199220304

Status: Unutilized

Directions:

Comments:

Reasons: Secured Area

Bldg. 6513-40

Badger Army Ammunition Plant

Baraboo WI 53913

Landholding Agency: Army

Property Number: 21199220305

Status: Unutilized

Directions:

Comments:

Reasons: Secured Area

Bldg. 6513-41

Badger Army Ammunition Plant

Baraboo WI 53913

Landholding Agency: Army

Property Number: 21199220306

Status: Unutilized

Directions:

Comments:

Reasons: Secured Area

Bldg. 6513-47

Badger Army Ammunition Plant

Baraboo WI 53913

Landholding Agency: Army

Property Number: 21199220308

Status: Unutilized

Directions:

Comments:

Reasons: Secured Area

Bldg. 6513-48

Badger Army Ammunition Plant

Baraboo WI 53913

Landholding Agency: Army

Property Number: 21199220309

Status: Unutilized

Directions:

Comments:

Reasons: Secured Area

Bldg. 6513-49

Badger Army Ammunition Plant

Baraboo WI 53913

Landholding Agency: Army

Property Number: 21199220310

Status: Unutilized

Directions:

Comments:

Reasons: Secured Area

Bldg. 6513-50

Badger Army Ammunition Plant

Baraboo WI 53913

Landholding Agency: Army

Property Number: 21199220311

Status: Unutilized

Directions:

Comments:

Reasons: Secured Area

Bldgs. 6657-2, 6659-2

Badger Army Ammunition Plant

Baraboo WI 53913

Landholding Agency: Army

Property Number: 21199510065

Status: Unutilized

Directions:

Comments:

Reasons: Secured Area

Bldgs. 6668-2 thru 6668-4

Badger Army Ammunition Plant

Baraboo WI 53913

Landholding Agency: Army

Property Number: 21199510067

Status: Unutilized

Directions:

Comments:

Reasons: Secured Area

Bldgs. 6808-9 thru 6808-16

Badger Army Ammunition Plant

Baraboo WI 53913

Landholding Agency: Army

Property Number: 21199510069

Status: Unutilized

Directions:

Comments:

Reasons: Extensive deterioration; Secured Area

28 Buildings

Badger Army Ammunition Plant

Baraboo WI 53913

Landholding Agency: Army

Property Number: 21199510070

Status: Unutilized

Directions: Include: 6807-28 thru 6807-33, 6807-36 thru 6807-53, 6807-58 thru 6807-61

Comments:

Reasons: Secured Area; Extensive deterioration

9 Buildings

Badger Army Ammunition Plant

Baraboo WI 53913

Landholding Agency: Army

Property Number: 21199510071

Status: Unutilized

Directions: Include: 6806-3, 6806-4, 6805-8 thru 6805-10, 6803-5 thru 6803-8

Comments:

Reasons: Secured Area; Extensive deterioration

7 Buildings

Badger Army Ammunition Plant

Baraboo WI 53913

Landholding Agency: Army

Property Number: 21199510073

Status: Unutilized

Directions: Include: 6953-2, 6956-2, 6955-2, 6957-2

Comments:

Reasons: Extensive deterioration; Secured Area

8 Buildings

Badger Army Ammunition Plant

Baraboo WI 53913

Landholding Agency: Army

Property Number: 21199510074

Status: Unutilized

Directions: Include: 6828-3, 6828-4, 6828-9, 6828-10, 6868-4 thru 6868-6, 6868-9

Comments:

Reasons: Extensive deterioration; Secured Area

5 Buildings

Badger Army Ammunition Plant

Baraboo WI 53913

Landholding Agency: Army

Property Number: 21199510075

Status: Unutilized

Directions: Include: 906-1-SL5, 6864-2, 6850-2, 6829-4, 6826-3

Comments:

Reasons: Extensive deterioration; Secured Area

21 Buildings

Badger Army Ammunition Plant

Baraboo WI 53913

Landholding Agency: Army

Property Number: 21199510076

Status: Unutilized

Directions: Include: 6815-1 thru 6815-13, 6816-7, 6816-8, 6816-10, 6814-6 thru 6814-10

Comments:

Reasons: Secured Area; Extensive deterioration

31 Buildings

Badger Army Ammunition Plant

Baraboo WI 53913

Landholding Agency: Army

Property Number: 21199510077

Status: Unutilized

Directions: Include: 6810-17 thru 6810-32, 6810-39 thru 6810-44, 6812-11 thru 6812-16, 6812-20 thru 6812-22

Comments:

Reasons: Extensive deterioration; Secured Area

5 Bldgs., Badger AAP

Paste Weigh House

6805-01 thru 6805-05

Baraboo WI 53913

Landholding Agency: Army

Property Number: 21199740184

Status: Unutilized

Directions:

Comments:

Reasons: Within 2000 ft. of flammable or explosive material; Secured Area; Extensive deterioration

10 Bldgs., Badger AAP

Roll House

Baraboo WI 53913

Landholding Agency: Army

Property Number: 21199740185

Status: Unutilized

Directions:

Comments:

Reasons: Secured Area; Within 2000 ft. of flammable or explosive material

4 Bldgs., Badger AAP

Slitting Roll

6802-02, 6802-3, 6802-5, 6802-7

Baraboo WI 53913

Landholding Agency: Army

Property Number: 21199740186

Status: Unutilized

Directions:

Comments:

Reasons: Secured Area; Within 2000 ft. of flammable or explosive material

2 Bldgs., Badger AAP

Press House

6810-04, 6810-07

Baraboo WI 53913

Landholding Agency: Army

Property Number: 21199740187

Status: Unutilized

Directions:

Comments:

Reasons: Secured Area; Within 2000 ft. of flammable or explosive material

7 Bldgs., Badger AAP

Inspection House

6816-01 thru 6816-06, 6816-09

Baraboo WI 53913

Landholding Agency: Army

Property Number: 21199740188

Status: Unutilized

Directions:

Comments:

Reasons: Within 2000 ft. of flammable or explosive material; Secured Area

Bldg. 6826-01, Badger AAP

Supersonic Scanning House

Baraboo WI 53913

Landholding Agency: Army

Property Number: 21199740189

Status: Unutilized

Directions:

Comments:

Reasons: Secured Area; Within 2000 ft. of flammable or explosive material

Bldg. 8008-00, Badger AAP

null

Baraboo WI 53913

Landholding Agency: Army

Property Number: 21199740191

Status: Unutilized

Directions:

Comments:

Reasons: Secured Area; Within 2000 ft. of flammable or explosive material

Bldg. 9016-02, Badger AAP

null

Baraboo WI 53913

Landholding Agency: Army

Property Number: 21199740192

Status: Unutilized

Directions:

Comments:

Reasons: Within 2000 ft. of flammable or explosive material; Secured Area

Bldg. 9045-00, Badger AAP

null

Baraboo WI 53913

Landholding Agency: Army

Property Number: 21199740193

Status: Unutilized

Directions:

Comments:

Reasons: Within 2000 ft. of flammable or explosive material; Secured Area

13 Bldgs., Badger AAP

Latrines

Baraboo WI 53913

Landholding Agency: Army

Property Number: 21199740194

Status: Unutilized

Directions:

Comments:

Reasons: Secured Area; Within 2000 ft. of flammable or explosive material

Bldg. 9101-00, Badger AAP

null

Baraboo WI 53913

Landholding Agency: Army

Property Number: 21199740196

Status: Unutilized

Directions:

Comments:

Reasons: Within 2000 ft. of flammable or explosive material; Secured Area

3 Bldgs., Badger AAP

Telpher System

0923-03, 0923-04, 0923-07

Baraboo WI 53913

Landholding Agency: Army

Property Number: 21199740201

Status: Unutilized

Directions:

Comments:

Reasons: Within 2000 ft. of flammable or explosive material; Secured Area

12 Bldgs., Badger AAP

Solvent Recovery House

1600-19 thru 1600-30

Baraboo WI 53913

Landholding Agency: Army

Property Number: 21199740202

Status: Unutilized

Directions:

Comments:

Reasons: Within 2000 ft. of flammable or explosive material; Secured Area

11 Bldgs., Badger AAP

Water Dry House

1650-20 thru 1650-30

Baraboo WI 53913

Landholding Agency: Army

Property Number: 21199740203

Status: Unutilized

Directions:

Comments:

Reasons: Secured Area; Within 2000 ft. of flammable or explosive material

8 Bldgs., Badger AAP

Rest House

1750-13 thru 1750-19, 1750-21

Baraboo WI 53913

Landholding Agency: Army

Property Number: 21199740205

Status: Unutilized

Directions:

Comments:

Reasons: Secured Area; Within 2000 ft. of flammable or explosive material

6 Bldgs., Badger AAP

Glaze House

1800-02 thru 1800-07

Baraboo WI 53913

Landholding Agency: Army

Property Number: 21199740206

Status: Unutilized

Directions:

Comments:

Reasons: Secured Area; Within 2000 ft. of flammable or explosive material

8 Bldgs., Badger AAP

Screening House

1850-01 thru 1850-08

Baraboo WI 53913

Landholding Agency: Army

Property Number: 21199740207

Status: Unutilized

Directions:

Comments:

Reasons: Extensive deterioration; Within 2000 ft. of flammable or explosive material; Secured Area

4 Bldgs., Badger AAP

Screen Storehouse

1852-02 thru 1852-05

Baraboo WI 53913

Landholding Agency: Army

Property Number: 21199740208

Status: Unutilized

Directions:

Comments:

Reasons: Secured Area; Within 2000 ft. of flammable or explosive material

23 Bldgs., Badger AAP

Magazine Standard

Baraboo WI 53913

Landholding Agency: Army

Property Number: 21199740209

Status: Unutilized

Directions:

Comments:

Reasons: Secured Area; Within 2000 ft. of flammable or explosive material

Bldg. 3566-02, Badger AAP

null

Baraboo WI 53913

Landholding Agency: Army

Property Number: 21199740211

Status: Unutilized

Directions:

Comments:

Reasons: Within 2000 ft. of flammable or explosive material; Secured Area

2 Bldgs., Badger AAP

Dehy Press House

4500-00, 5500-00

Baraboo WI 53913

Landholding Agency: Army

Property Number: 21199740212

Status: Unutilized

Directions:

Comments:

Reasons: Secured Area; Within 2000 ft. of flammable or explosive material

2 Bldgs., Badger AAP

Alcohol Pump House

4501-00, 5501-00

Baraboo WI 53913

Landholding Agency: Army

Property Number: 21199740213

Status: Unutilized

Directions:

Comments:

Reasons: Within 2000 ft. of flammable or explosive material; Secured Area

2 Bldgs., Badger AAP

Ingredient Mix House

4506-00, 5506-00

Baraboo WI 53913

Landholding Agency: Army

Property Number: 21199740215

Status: Unutilized

Directions:

Comments:

Reasons: Within 2000 ft. of flammable or explosive material; Secured Area

4 Bldgs., Badger AAP

Mixer Macerator

4508-01, 4508-02, 5508-01, 5508-02

Baraboo WI 53913

Landholding Agency: Army

Property Number: 21199740216

Status: Unutilized

Directions:

Comments:

Reasons: Secured Area; Within 2000 ft. of flammable or explosive material

6 Bldgs., Badger AAP

Block Press

4510-01 thru 4510-03, 5510-01 thru 5510-03

Baraboo WI 53913

Landholding Agency: Army

Property Number: 21199740217

Status: Unutilized

Directions:

Comments:

Reasons: Within 2000 ft. of flammable or explosive material; Secured Area

5 Bldgs., Badger AAP

Final Press

4513-01 thru 4513-03, 5513-01, 5513-02

Baraboo WI 53913

Landholding Agency: Army

Property Number: 21199740218

Status: Unutilized

Directions:

Comments:

Reasons: Within 2000 ft. of flammable or explosive material; Secured Area

5 Bldgs., Badger AAP

Cutting House

4515-01 thru 4516-03, 5516-01, 5516-02

Baraboo WI 53913

Landholding Agency: Army

Property Number: 21199740219

Status: Unutilized

Directions:

Comments:

Reasons: Secured Area; Within 2000 ft. of flammable or explosive material

5 Bldgs., Badger AAP

Loading Platform

4517-01 thru 4517-03, 5517-01, 5517-02

Baraboo WI 53913

Landholding Agency: Army

Property Number: 21199740220

Status: Unutilized

Directions:

Comments:

Reasons: Secured Area; Within 2000 ft. of flammable or explosive material

2 Bldgs., Badger AAP

Hydraulic Station

4521-00, 5521-00

Baraboo WI 53913

Landholding Agency: Army

Property Number: 21199740221

Status: Unutilized

Directions:

Comments:

Reasons: Within 2000 ft. of flammable or explosive material; Secured Area

3 Bldgs., Badger AAP

Maintenance Shop

4549-00, 5549-00, 5045-00

Baraboo WI 53913

Landholding Agency: Army

Property Number: 21199740222

Status: Unutilized

Directions:

Comments:

Reasons: Within 2000 ft. of flammable or explosive material; Secured Area

Bldg. 4555-00, Badger AAP

ACR Bldg.

Baraboo WI 53913

Landholding Agency: Army

Property Number: 21199740223

Status: Unutilized

Directions:

Comments:

Reasons: Secured Area; Within 2000 ft. of flammable or explosive material

6 Bldgs., Badger AAP

Material Store

Baraboo WI 53913

Landholding Agency: Army

Property Number: 21199740224

Status: Unutilized

Directions: 4558-01, 4558-02, 4567-00, 5558-01, 5558-02, 5567-00

Comments:

Reasons: Within 2000 ft. of flammable or explosive material; Secured Area

2 Bldgs., Badger AAP

Acid Mix

5002-00, 9002-00

Baraboo WI 53913

Landholding Agency: Army

Property Number: 21199740225

Status: Unutilized

Directions:

Comments:

Reasons: Within 2000 ft. of flammable or explosive material; Secured Area

2 Bldgs., Badger AAP

Acid Screening

5007-00, 9007-00

Baraboo WI 53913

Landholding Agency: Army

Property Number: 21199740226

Status: Unutilized

Directions:

Comments:

Reasons: Within 2000 ft. of flammable or explosive material; Secured Area

2 Bldgs., Badger AAP

Acid Heat

5008-00, 9008-00

Baraboo WI 53913

Landholding Agency: Army

Property Number: 21199740227

Status: Unutilized

Directions:

Comments:

Reasons: Secured Area; Within 2000 ft. of flammable or explosive material

3 Bldgs., Badger AAP

Cellulose Drying House

5010-00, 5044-00, 9010-00

Baraboo WI 53913

Landholding Agency: Army

Property Number: 21199740228

Status: Unutilized

Directions:

Comments:

Reasons: Within 2000 ft. of flammable or explosive material; Secured Area

2 Bldgs., Badger AAP

Nitrating House

5012-00, 9012-00

Baraboo WI 53913

Landholding Agency: Army

Property Number: 21199740230

Status: Unutilized

Directions:

Comments:

Reasons: Secured Area; Within 2000 ft. of flammable or explosive material

2 Bldgs., Badger AAP

Steam Pressure Reducing Station

000E-02, 000F-02

Baraboo WI 53913

Landholding Agency: Army

Property Number: 21199740232

Status: Unutilized

Directions:

Comments:

Reasons: Secured Area; Within 2000 ft. of flammable or explosive material

Bldg. 0021-03, Badger AAP

null

Baraboo WI 53913

Landholding Agency: Army

Property Number: 21199740233

Status: Unutilized

Directions:

Comments:

Reasons: Within 2000 ft. of flammable or explosive material; Secured Area

Bldg. 0202-04, Badger AAP

null

Baraboo WI 53913

Landholding Agency: Army

Property Number: 21199740234

Status: Unutilized

Directions:

Comments:

Reasons: Secured Area; Within 2000 ft. of flammable or explosive material

Bldg. 0204-B1, Badger AAP

null

Baraboo WI 53913

Landholding Agency: Army

Property Number: 21199740235

Status: Unutilized

Directions:

Comments:

Reasons: Within 2000 ft. of flammable or explosive material; Secured Area

Bldg. 0271-00, Badger AAP

null

Baraboo WI 53913

Landholding Agency: Army

Property Number: 21199740236

Status: Unutilized

Directions:

Comments:

Reasons: Within 2000 ft. of flammable or explosive material; Secured Area

4 Bldgs., Badger AAP

0308-01, 0308-02, 0308-03, 0316-00

Baraboo WI 53913

Landholding Agency: Army

Property Number: 21199740237

Status: Unutilized

Directions:

Comments:

Reasons: Within 2000 ft. of flammable or explosive material; Secured Area

Bldg. 0312-00, Badger AAP

null

Baraboo WI 53913

Landholding Agency: Army

Property Number: 21199740238

Status: Unutilized

Directions:

Comments:

Reasons: Within 2000 ft. of flammable or explosive material; Secured Area; Extensive deterioration

Bldg. 0318-00, Badger AAP

null

Baraboo WI 53913

Landholding Agency: Army

Property Number: 21199740239

Status: Unutilized

Directions:

Comments:

Reasons: Secured Area; Within 2000 ft. of flammable or explosive material

Bldg. 0402-00, Badger AAP

null

Baraboo WI 53913

Landholding Agency: Army

Property Number: 21199740240

Status: Unutilized

Directions:

Comments:

Reasons: Within 2000 ft. of flammable or explosive material; Secured Area

2 Bldgs., Badger AAP

Waste Acid Disposal Plant

0420-04, 0420-06

Baraboo WI 53913

Landholding Agency: Army

Property Number: 21199740241

Status: Unutilized

Directions:

Comments:

Reasons: Within 2000 ft. of flammable or explosive material; Secured Area

Bldg. 0425, Badger AAP

PH Recorder

Baraboo WI 53913

Landholding Agency: Army

Property Number: 21199740242

Status: Unutilized

Directions:

Comments:

Reasons: Secured Area; Within 2000 ft. of flammable or explosive material

Bldg. 0534-00, Badger AAP

Fire Station #2

Baraboo WI 53913

Landholding Agency: Army

Property Number: 21199740244

Status: Unutilized

Directions:

Comments:

Reasons: Secured Area; Within 2000 ft. of flammable or explosive material

2 Bldgs., Badger AAP

Nitric Circulator

0705-00, 0706-00

Baraboo WI 53913

Landholding Agency: Army

Property Number: 21199740246

Status: Unutilized

Directions:

Comments:

Reasons: Within 2000 ft. of flammable or explosive material; Secured Area

2 Bldgs., Badger AAP

Fume Exhaust

5013-00, 9013-00

Baraboo WI 53913

Landholding Agency: Army

Property Number: 21199740247

Status: Unutilized

Directions:

Comments:

Reasons: Within 2000 ft. of flammable or explosive material; Secured Area

2 Bldgs., Badger AAP

NC Pump House

5014-00, 9014-00

Baraboo WI 53913

Landholding Agency: Army

Property Number: 21199740248

Status: Unutilized

Directions:

Comments:

Reasons: Secured Area; Within 2000 ft. of flammable or explosive material

2 Bldgs., Badger AAP

Boiling Tub House

5019-00, 9019-00

Baraboo WI 53913

Landholding Agency: Army

Property Number: 21199740249

Status: Unutilized

Directions:

Comments:

Reasons: Secured Area; Within 2000 ft. of flammable or explosive material

4 Bldgs., Badger AAP

Settling Pit

5020-00, 9020-00, 5025-00, 9025-00

Baraboo WI 53913

Landholding Agency: Army

Property Number: 21199740250

Status: Unutilized

Directions:

Comments:

Reasons: Secured Area; Within 2000 ft. of flammable or explosive material

2 Bldgs., Badger AAP

Beater House

5022-00, 9022-00

Baraboo WI 53913

Landholding Agency: Army

Property Number: 21199740251

Status: Unutilized

Directions:

Comments:

Reasons: Secured Area; Within 2000 ft. of flammable or explosive material

2 Bldgs., Badger AAP

Poacher

5024-00, 9024-00

Baraboo WI 53913

Landholding Agency: Army

Property Number: 21199740252

Status: Unutilized

Directions:

Comments:

Reasons: Within 2000 ft. of flammable or explosive material; Secured Area

4 Bldgs., Badger AAP

Final Wringer

5026-00, 5043-00, 9026-00, 9043-00

Baraboo WI 53913

Landholding Agency: Army

Property Number: 21199740253

Status: Unutilized

Directions:

Comments:

Reasons: Secured Area; Within 2000 ft. of flammable or explosive material

2 Bldgs., Badger AAP

Spent Acid Pump

5035-00, 9035-00

Baraboo WI 53913

Landholding Agency: Army

Property Number: 21199740254

Status: Unutilized

Directions:

Comments:

Reasons: Within 2000 ft. of flammable or explosive material; Secured Area

2 Bldgs., Badger AAP

Maintenance Shop

5037-00, 9037-00

Baraboo WI 53913

Landholding Agency: Army

Property Number: 21199740255

Status: Unutilized

Directions:

Comments:

Reasons: Secured Area; Within 2000 ft. of flammable or explosive material

2 Bldgs., Badger AAP

Chemical Storehouse

5038-00, 9038-00

Baraboo WI 53913

Landholding Agency: Army

Property Number: 21199740256

Status: Unutilized

Directions:

Comments:

Reasons: Within 2000 ft. of flammable or explosive material; Secured Area

Bldg. 5555-00, Badger AAP

ACR Bldg. Work

Baraboo WI 53913

Landholding Agency: Army

Property Number: 21199740257

Status: Unutilized

Directions:

Comments:

Reasons: Secured Area; Within 2000 ft. of flammable or explosive material

Bldg. 5557-03, Badger AAP

Change House

Baraboo WI 53913

Landholding Agency: Army

Property Number: 21199740258

Status: Unutilized

Directions:

Comments:

Reasons: Within 2000 ft. of flammable or explosive material; Secured Area

13 Bldgs., Badger AAP

Latrines

Baraboo WI 53913

Landholding Agency: Army

Property Number: 21199740259

Status: Unutilized

Directions: 6513-05, 11, 25, 26, 29, 45, 9063-06 thru 10, 13, 14

Comments:

Reasons: Secured Area; Within 2000 ft. of flammable or explosive material

2 Bldgs., Badger AAP

Transfer Shed

6531-01, 02

Baraboo WI 53913

Landholding Agency: Army

Property Number: 21199740260

Status: Unutilized

Directions:

Comments:

Reasons: Secured Area; Within 2000 ft. of flammable or explosive material

Bldg. 6538-00, Badger AAP

Powerhouse #2

Baraboo WI 53913

Landholding Agency: Army

Property Number: 21199740261

Status: Unutilized

Directions:

Comments:

Reasons: Secured Area; Within 2000 ft. of flammable or explosive material

2 Bldgs., Badger AAP

Gate House

6543-02, 6543-04

Baraboo WI 53913

Landholding Agency: Army

Property Number: 21199740262

Status: Unutilized

Directions:

Comments:

Reasons: Secured Area; Within 2000 ft. of flammable or explosive material

3 Bldgs., Badger AAP

Inspection House

6543-11, 13, 14

Baraboo WI 53913

Landholding Agency: Army

Property Number: 21199740264

Status: Unutilized

Directions:

Comments:

Reasons: Secured Area; Within 2000 ft. of flammable or explosive material

10 Bldgs., Badger AAP

Pre-Dry House

6709-14, 15, 16, 20, 22, 23, 24, 25, 26, 28

Baraboo WI 53913

Landholding Agency: Army

Property Number: 21199740268

Status: Unutilized

Directions:

Comments:

Reasons: Extensive deterioration; Within 2000 ft. of flammable or explosive material; Secured Area

11 Bldgs., Badger AAP

Rest House

Baraboo WI 53913

Landholding Agency: Army

Property Number: 21199740269

Status: Unutilized

Directions: 6726-02, 6803-01, 02, 03, 04, 6812-08, 17, 18, 19, 6828-07, 6882-02

Comments:

Reasons: Secured Area; Within 2000 ft. of flammable or explosive material

3 Bldgs., Badger AAP

Rest House

6804-01, 08, 14

Baraboo WI 53913

Landholding Agency: Army

Property Number: 21199740271

Status: Unutilized

Directions:

Comments:

Reasons: Secured Area; Within 2000 ft. of flammable or explosive material

Bldg. 0423-0

Badger AAP

Baraboo WI 53913

Landholding Agency: Army

Property Number: 21200020083

Status: Unutilized

GSA Number:

Reasons: Within 2000 ft. of flammable or explosive material; Secured Area

Bldg. 0931-0

Badger AAP

Baraboo WI 53913

Landholding Agency: Army

Property Number: 21200020084

Status: Unutilized

GSA Number:

Reasons: Secured Area; Within 2000 ft. of flammable or explosive material

Bldg. 1800-1

Badger AAP

Baraboo WI 53913

Landholding Agency: Army

Property Number: 21200020085

Status: Unutilized

GSA Number:

Reasons: Within 2000 ft. of flammable or explosive material; Secured Area

Bldgs. 1805-1, 1805-2, 1852-1

Badger AAP

Baraboo WI 53913

Landholding Agency: Army

Property Number: 21200020086

Status: Unutilized

GSA Number:

Reasons: Secured Area; Within 2000 ft. of flammable or explosive material

Bldgs. 1994-0, 1995-0

Badger AAP

Baraboo WI 53913

Landholding Agency: Army

Property Number: 21200020087

Status: Unutilized

GSA Number:

Reasons: Secured Area; Within 2000 ft. of flammable or explosive material

Bldgs. 3502-0, 3566-1

Badger AAP

Baraboo WI 53913

Landholding Agency: Army

Property Number: 21200020088

Status: Unutilized

GSA Number:

Reasons: Within 2000 ft. of flammable or explosive material; Secured Area

Bldg. 4524-4

Badger AAP

Baraboo WI 53913

Landholding Agency: Army

Property Number: 21200020089

Status: Unutilized

GSA Number:

Reasons: Within 2000 ft. of flammable or explosive material; Secured Area

Bldg. 6536-0

Badger AAP

Baraboo WI 53913

Landholding Agency: Army

Property Number: 21200020090

Status: Unutilized

GSA Number:

Reasons: Within 2000 ft. of flammable or explosive material; Secured Area

Bldgs. 6662-0, 6666-0, 6669-0

Badger AAP

Baraboo WI 53913

Landholding Agency: Army

Property Number: 21200020091

Status: Unutilized

GSA Number:

Reasons: Secured Area

Bldgs. 6706-2, 6712-0, 6724-0

Badger AAP

Baraboo WI 53913

Landholding Agency: Army

Property Number: 21200020092

Status: Unutilized

GSA Number:

Reasons: Within 2000 ft. of flammable or explosive material; Secured Area

Bldgs. 6731-2, -3, -4

Badger AAP

Baraboo WI 53913

Landholding Agency: Army

Property Number: 21200020093

Status: Unutilized

GSA Number:

Reasons: Within 2000 ft. of flammable or explosive material; Secured Area

5 Bldgs.

Badger AAP

Baraboo WI 53913

Landholding Agency: Army

Property Number: 21200020094

Status: Unutilized

GSA Number:

Directions: 6732-0, 6732-1, 6736-0, 6738-0, 6738-1

Reasons: Within 2000 ft. of flammable or explosive material; Secured Area

5 Bldgs.

Badger AAP

Baraboo WI 53913

Landholding Agency: Army

Property Number: 21200020095

Status: Unutilized

GSA Number:

Directions: 6826-2, 6850-1, 6863-0, 6881-0, 6882-1

Reasons: Within 2000 ft. of flammable or explosive material; Secured Area

4 Bldgs.

Badger AAP

Baraboo WI 53913

Landholding Agency: Army

Property Number: 21200020096

Status: Unutilized

GSA Number:

Directions: 6953-1, 6955-1, 6956-1, 6957-1

Reasons: Within 2000 ft. of flammable or explosive material; Secured Area

12 Bldgs.

Badger AAP

Baraboo WI 53913

Landholding Agency: Army

Property Number: 21200020097

Status: Unutilized

GSA Number:

Directions: 1725-1 thru 7, 1725-13 thru 17

Reasons: Within 2000 ft. of flammable or explosive material; Secured Area

Bldgs. 1825-1 thru 4

Badger AAP

Baraboo WI 53913

Landholding Agency: Army

Property Number: 21200020099

Status: Unutilized

GSA Number:

Reasons: Within 2000 ft. of flammable or explosive material; Secured Area

Bldgs. 1875-1 thru 4

Badger AAP

Baraboo WI 53913

Landholding Agency: Army

Property Number: 21200020100

Status: Unutilized

GSA Number:

Reasons: Within 2000 ft. of flammable or explosive material; Secured Area

13 Bldgs.

Badger AAP

Baraboo WI 53913

Landholding Agency: Army

Property Number: 21200020101

Status: Unutilized

GSA Number:

Directions: 1996-1 thru 10, 1996-19 thru 21

Reasons: Within 2000 ft. of flammable or explosive material; Secured Area

Bldgs. 2002-0, 3002-0, 4002-0

Badger AAP

Baraboo WI 53913

Landholding Agency: Army

Property Number: 21200020102

Status: Unutilized

GSA Number:

Reasons: Within 2000 ft. of flammable or explosive material; Secured Area

Bldgs. 2003-0, 3003-0, 4003-0

Badger AAP

Baraboo WI 53913

Landholding Agency: Army

Property Number: 21200020103

Status: Unutilized

GSA Number:

Reasons: Within 2000 ft. of flammable or explosive material; Secured Area

Bldgs. 2005-0, 3005-0, 4005-0

Badger AAP

Baraboo WI 53913

Landholding Agency: Army

Property Number: 21200020104

Status: Unutilized

GSA Number:

Reasons: Secured Area; Within 2000 ft. of flammable or explosive material

Bldgs. 2007-0, 3007-0, 4007-0

Badger AAP

Baraboo WI 53913

Landholding Agency: Army

Property Number: 21200020105

Status: Unutilized

GSA Number:

Reasons: Within 2000 ft. of flammable or explosive material; Secured Area

Bldgs. 2011-0, 3011-0, 4011-0

Badger AAP

Baraboo WI 53913

Landholding Agency: Army

Property Number: 21200020107

Status: Unutilized

GSA Number:

Reasons: Within 2000 ft. of flammable or explosive material; Secured Area

Bldgs. 2012-0, 3012-0, 4012-0

Badger AAP

Baraboo WI 53913

Landholding Agency: Army

Property Number: 21200020108

Status: Unutilized

GSA Number:

Reasons: Secured Area; Within 2000 ft. of flammable or explosive material

Bldgs. 2013-0, 3013-0, 4013-0

Badger AAP

Baraboo WI 53913

Landholding Agency: Army

Property Number: 21200020109

Status: Unutilized

GSA Number:

Reasons: Secured Area; Within 2000 ft. of flammable or explosive material

4 Bldgs.

Badger AAP

Baraboo WI 53913

Landholding Agency: Army

Property Number: 21200020110

Status: Unutilized

GSA Number:

Directions: 8002-0, 8003-0, 8004-0, 8006-0

Reasons: Within 2000 ft. of flammable or explosive material; Secured Area

Bldgs. 0420-01, 02, 03

Badger AAP

Baraboo WI 53913

Landholding Agency: Army

Property Number: 21200020111

Status: Unutilized

GSA Number:

Reasons: Within 2000 ft. of flammable or explosive material; Secured Area

Bldgs. 0712-17, 18, 19

Badger AAP

Baraboo WI 53913

Landholding Agency: Army

Property Number: 21200020112

Status: Unutilized

GSA Number:

Reasons: Within 2000 ft. of flammable or explosive material; Secured Area

Bldgs. 0923-01, 02, 05, 06, 08

Badger AAP

Baraboo WI 53913

Landholding Agency: Army

Property Number: 21200020113

Status: Unutilized

GSA Number:

Reasons: Secured Area; Within 2000 ft. of flammable or explosive material

29 Bldgs.

Badger AAP

Baraboo WI 53913

Landholding Agency: Army

Property Number: 21200020114

Status: Unutilized

GSA Number:

Directions: 1600-01 thru 18, 1600-31 thru 39, 41, 42

Reasons: Within 2000 ft. of flammable or explosive material; Secured Area

Bldgs. 1650-36 thru 42

Badger AAP

Baraboo WI 53913

Landholding Agency: Army

Property Number: 21200020115

Status: Unutilized

GSA Number:

Reasons: Within 2000 ft. of flammable or explosive material; Secured Area

Bldgs. 2014-0, 3014-0, 4014-0

Badger AAP

Baraboo WI 53913

Landholding Agency: Army

Property Number: 21200020116

Status: Unutilized

GSA Number:

Reasons: Within 2000 ft. of flammable or explosive material; Secured Area

Bldgs. 2019-0, 3019-0, 4019-0

Badger AAP

Baraboo WI 53913

Landholding Agency: Army

Property Number: 21200020117

Status: Unutilized

GSA Number:

Reasons: Within 2000 ft. of flammable or explosive material; Secured Area

Bldgs. 2022-0, 3022-0, 4022-0

Badger AAP

Baraboo WI 53913

Landholding Agency: Army

Property Number: 21200020119

Status: Unutilized

GSA Number:

Reasons: Within 2000 ft. of flammable or explosive material; Secured Area

6 Bldgs.

Badger AAP

Baraboo WI 53913

Landholding Agency: Army

Property Number: 21200020120

Status: Unutilized

GSA Number:

Directions: 2024-0, 3024-0, 4024-0, 2025-0, 3025-0, 4025-0

Reasons: Secured Area; Within 2000 ft. of flammable or explosive material

Bldgs. 2026-0, 3026-0, 4026-0

Badger AAP

Baraboo WI 53913

Landholding Agency: Army

Property Number: 21200020121

Status: Unutilized

GSA Number:

Reasons: Within 2000 ft. of flammable or explosive material; Secured Area

Bldgs. 2035-0, 3035-0, 4035-0

Badger AAP

Baraboo WI 53913

Landholding Agency: Army

Property Number: 21200020122

Status: Unutilized

GSA Number:

Reasons: Secured Area; Within 2000 ft. of flammable or explosive material

Bldgs. 2043-0, 3043-0, 4043-0

Badger AAP

Baraboo WI 53913

Landholding Agency: Army

Property Number: 21200020123

Status: Unutilized

GSA Number:

Reasons: Secured Area; Within 2000 ft. of flammable or explosive material

Bldgs. 2500-0, 3500-0

Badger AAP

Baraboo WI 53913

Landholding Agency: Army

Property Number: 21200020125

Status: Unutilized

GSA Number:

Reasons: Secured Area; Within 2000 ft. of flammable or explosive material

Bldgs. 2501-0, 3501-0

Badger AAP

Baraboo WI 53913

Landholding Agency: Army

Property Number: 21200020126

Status: Unutilized

GSA Number:

Reasons: Within 2000 ft. of flammable or explosive material; Secured Area

7 Bldgs.

Badger AAP

Baraboo WI 53913

Landholding Agency: Army

Property Number: 21200020127

Status: Unutilized

GSA Number:

Directions: 2506-0, 3506-0, 4506-0, 2508-1, 2508-2, 3508-1, 3508-2

Reasons: Secured Area; Within 2000 ft. of flammable or explosive material

13 Bldgs.

Badger AAP

Baraboo WI 53913

Landholding Agency: Army

Property Number: 21200020128

Status: Unutilized

GSA Number:

Directions: 2510-1 thru 3, 3510-1 thru 3, 2513-1 thru 4, 3513-1 thru 3

Reasons: Within 2000 ft. of flammable or explosive material; Secured Area

5 Bldgs.

Badger AAP

Baraboo WI 53913

Landholding Agency: Army

Property Number: 21200020129

Status: Unutilized

GSA Number:

Directions: 2517-1, 2517-2, 3517-1, 3517-2, 3517-3

Reasons: Within 2000 ft. of flammable or explosive material; Secured Area

6 Bldgs.

Badger AAP

Baraboo WI 53913

Landholding Agency: Army

Property Number: 21200020130

Status: Unutilized

GSA Number:

Directions: 2546-1 thru 4, 2555-0, 3555-0

Reasons: Within 2000 ft. of flammable or explosive material; Secured Area

Bldg. 3044-0

Badger AAP

Baraboo WI 53913

Landholding Agency: Army

Property Number: 21200020131

Status: Unutilized

GSA Number:

Reasons: Secured Area; Within 2000 ft. of flammable or explosive material

Bldgs. 3502-1, 3502-2

Badger AAP

Baraboo WI 53913

Landholding Agency: Army

Property Number: 21200020132

Status: Unutilized

GSA Number:

Reasons: Secured Area; Within 2000 ft. of flammable or explosive material

Bldgs. 3516-1, 2, 3

Badger AAP

Baraboo WI 53913

Landholding Agency: Army

Property Number: 21200020133

Status: Unutilized

GSA Number:

Reasons: Within 2000 ft. of flammable or explosive material; Secured Area

Bldgs. 4524-1, 2, 3

Badger AAP

Baraboo WI 53913

Landholding Agency: Army

Property Number: 21200020134

Status: Unutilized

GSA Number:

Reasons: Within 2000 ft. of flammable or explosive material; Secured Area

Bldgs. 6529-0, 6586-1

Badger AAP

Baraboo WI 53913

Landholding Agency: Army

Property Number: 21200020136

Status: Unutilized

GSA Number:

Reasons: Within 2000 ft. of flammable or explosive material; Secured Area

Bldgs. 6672-1, 6672-2

Badger AAP

Baraboo WI 53913

Landholding Agency: Army

Property Number: 21200020138

Status: Unutilized

GSA Number:

Reasons: Secured Area; Within 2000 ft. of flammable or explosive material

4 Bldgs.

Badger AAP

Baraboo WI 53913

Landholding Agency: Army

Property Number: 21200020139

Status: Unutilized

GSA Number:

Directions: 6702-3, 6702-4, 6704-3, 6704-4

Reasons: Secured Area; Within 2000 ft. of flammable or explosive material

Bldg. 6705-3, 6705-4

Badger AAP

Baraboo WI 53913

Landholding Agency: Army

Property Number: 21200020140

Status: Unutilized

GSA Number:

Reasons: Within 2000 ft. of flammable or explosive material; Secured Area

15 Bldgs.

Badger AAP

Baraboo WI 53913

Landholding Agency: Army

Property Number: 21200020141

Status: Unutilized

GSA Number:

Directions: 6709-2, 6709-5 thru 13, 6709-17 thru 19, 6709-21, 6709-27

Reasons: Within 2000 ft. of flammable or explosive material; Secured Area

11 Bldgs.

Badger AAP

Baraboo WI 53913

Landholding Agency: Army

Property Number: 21200020142

Status: Unutilized

GSA Number:

Directions: 6804-2 thru 7, 6804-9 thru 13

Reasons: Secured Area; Within 2000 ft. of flammable or explosive material

4 Bldgs.

Badger AAP

Baraboo WI 53913

Landholding Agency: Army

Property Number: 21200020144

Status: Unutilized

GSA Number:

Directions: 6808-1, 4, 6, 8

Reasons: Within 2000 ft. of flammable or explosive material; Secured Area

20 Bldgs.

Badger AAP

Baraboo WI 53913

Landholding Agency: Army

Property Number: 21200020145

Status: Unutilized

GSA Number:

Directions: 6810-1 thru 3, 6810-5, 6810-6, 6810-8, 6810-10 thru 16, 33 thru 38

Reasons: Within 2000 ft. of flammable or explosive material; Secured Area

7 Bldgs.

Badger AAP

Baraboo WI 53913

Landholding Agency: Army

Property Number: 21200020146

Status: Unutilized

GSA Number:

Directions: 6812-1 thru 7

Reasons: Secured Area; Within 2000 ft. of flammable or explosive material

Bldgs. 6814-1 thru 5

Badger AAP

Baraboo WI 53913

Landholding Agency: Army

Property Number: 21200020147

Status: Unutilized

GSA Number:

Reasons: Secured Area; Within 2000 ft. of flammable or explosive material

Bldgs. 6817-1 thru 4

Badger AAP

Baraboo WI 53913

Landholding Agency: Army

Property Number: 21200020148

Status: Unutilized

GSA Number:

Reasons: Secured Area; Within 2000 ft. of flammable or explosive material

Bldgs. 6828-1, 2, 8

Badger AAP

Baraboo WI 53913

Landholding Agency: Army

Property Number: 21200020149

Status: Unutilized

GSA Number:

Reasons: Within 2000 ft. of flammable or explosive material; Secured Area

Bldgs. 6829-1, 2

Badger AAJP

Baraboo WI 53913

Landholding Agency: Army

Property Number: 21200020150

Status: Unutilized

GSA Number:

Reasons: Secured Area; Within 2000 ft. of flammable or explosive material

Bldgs. 6837-1, 2

Badger AAP

Baraboo WI 53913

Landholding Agency: Army

Property Number: 21200020151

Status: Unutilized

GSA Number:

Reasons: Within 2000 ft. of flammable or explosive material; Secured Area

Bldgs. 6868-1, 2, 3, 7, 8

Badger AAP

Baraboo WI 53913

Landholding Agency: Army

Property Number: 21200020152

Status: Unutilized

GSA Number:

Reasons: Within 2000 ft. of flammable or explosive material; Secured Area

28 Bldgs.

Badger AAP

Baraboo WI 53913

Landholding Agency: Army

Property Number: 21200020154

Status: Unutilized

GSA Number:

Directions: 9062-01 thru 18, 25, 28, 9063-01 thru 05, 11, 12, 15

Reasons: Secured Area; Within 2000 ft. of flammable or explosive material

45 Bldgs.

Badger AAP

Baraboo WI 53913

Landholding Agency: Army

Property Number: 21200020155

Status: Unutilized

GSA Number:

Directions: Steam Pressure Reducing Station

Reasons: Secured Area; Within 2000 ft. of flammable or explosive material

Bldg. 420-8

Badger Army Amo Plant

Baraboo WI 53913

Landholding Agency: Army

Property Number: 21200240074

Status: Unutilized

GSA Number:

Reasons: Secured Area; Within 2000 ft. of flammable or explosive material

Bldgs. 750, 751, 753

Badger Army Amo Plant

Baraboo WI 3913

Landholding Agency: Army

Property Number: 21200240075

Status: Unutilized

GSA Number:

Reasons: Within 2000 ft. of flammable or explosive material; Secured Area

Bldgs. 763, 765, 768

Badger Army Amo Plant

Baraboo WI 53913

Landholding Agency: Army

Property Number: 21200240077

Status: Unutilized

GSA Number:

Reasons: Secured Area; Within 2000 ft. of flammable or explosive material

Bldgs. 770-1 thru 770-3

Badger Army Amo Plant

Baraboo WI 53913

Landholding Agency: Army

Property Number: 21200240078

Status: Unutilized

GSA Number:

Reasons: Within 2000 ft. of flammable or explosive material; Secured Area

Bldgs. 771, 00778

Badger Army Amo Plant

Baraboo WI 53913

Landholding Agency: Army

Property Number: 21200240079

Status: Unutilized

GSA Number:

Reasons: Secured Area; Within 2000 ft. of flammable or explosive material

Bldgs. 791, 793

Badger Army Amo Plant

Baraboo WI 53913

Landholding Agency: Army

Property Number: 21200240080

Status: Unutilized

GSA Number:

Reasons: Within 2000 ft. of flammable or explosive material; Secured Area

Building 01301

S 10th Avenue

Fort McCoy WI 54656

Landholding Agency: Army

Property Number: 21201520030

Status: Unutilized

Comments: public access denied and no alternative method to gain access without compromising National Security.

Reasons: Secured Area

3 Buildings

Milwaukee USARC/AMSA #49

Milwaukee WI 53218

Landholding Agency: Army

Property Number: 21201610034

Status: Unutilized

Directions: 00309 RPUID:968289 (9,728 sq.ft.); 00401 RUPUID:968293 (,603 sq.ft.); GC444 RPUID:967743 (21,954 sq.ft.)

Comments: off-site removal; 63+yrs. old; bey. useful life; vac. 1 mo.; train; veh. main. shop; prior app. need to gain acc.; no future agency need; due to size may not be feas. to move; con. Army for more info.

Reasons: Secured Area

Wyoming

.66 Acres

5305 Randall Ave.

Warren WY 82005

Landholding Agency: Air Force

Property Number: 18201610007

Status: Unutilized

Comments: public access denied and no alternative method to gain access without compromising national security.

Reasons: Secured Area

Land

Arkansas

60 Acres

Harris Rd.

Little Rock AR 72099

Landholding Agency: Air Force

Property Number: 18201610023

Status: Unutilized

Comments: public access denied and no alternative method to gain access without compromising national security.

Reasons: Secured Area

California

91110

Fort Hunter Liggett

Ft. Hunter Liggett CA 93928

Landholding Agency: Army

Property Number: 21201420001

Status: Underutilized

Directions: government-owned land w/privately owned historic building

Comments: public access denied and no alternative method to gain access w/out compromising national security.

Reasons: Secured Area

Florida

XLWU

Tyndall Air Force Base

Tyndall Air Force Bas FL 32403

Landholding Agency: Air Force

Property Number: 18201610005

Status: Unutilized

Directions: 1 Acre

Comments: public access denied & no alter. method to gain access without compro. nat. sec.; property located within an airport runway clear zone or military AF.; & floodway which has not been corr. or conta.

Reasons: Secured Area

Maryland

4 Concrete Pads

Aberdeen Proving Ground

Aberdeen MD 21005

Landholding Agency: Army

Property Number: 21201540056

Status: Unutilized

Directions: E3176-981045; E5335-981052; E5628-996138; E7226-981063

Comments: public access denied and no alternative method to gain access without compromising national security.

Reasons: Secured Area

Minnesota

Portion of R.R. Spur

Twin Cities Army Ammunition Plant

New Brighton MN 55112

Landholding Agency: Army

Property Number: 21199620472

Status: Unutilized

Directions:

Comments:

Reasons: Other—landlocked

New Jersey

Land

Armament Research Development Center

Route 15 North

Picatinny Arsenal NJ 07806

Landholding Agency: Army

Property Number: 21199013788

Status: Unutilized

Directions:

Comments:

Reasons: Secured Area

Spur Line/Right of Way

Armament Rsch., Dev., Center

Picatinny Arsenal NJ 07806-5000

Landholding Agency: Army

Property Number: 21199530143

Status: Unutilized

Directions:

Comments:

Reasons: Floodway

2.0 Acres, Berkshire Trail

Armament Rsch, Development Center

Picatinny Arsenal NJ 07806-5000

Landholding Agency: Army

Property Number: 21199910036

Status: Underutilized

GSA Number:

Reasons: Secured Area; Within 2000 ft. of flammable or explosive material

Oklahoma

Building 654

1 C Tree Road

McAlester OK 74501

Landholding Agency: Army

Property Number: 21201610001

Status: Unutilized

Directions: RPUID:356053

Comments: public access denied and no alternative method to gain access without compromising national security.

Reasons: Secured Area

South Carolina

Basketball Court

Ft. Jackson

Ft. Jackson SC

Landholding Agency: Army

Property Number: 21201220025

Status: Unutilized

Comments: nat'l security concerns; public access denied and no alternative method to gain access w/out comprising nat'l security.

Reasons: Secured Area

Texas

Land—Approx. 50 acres

Lone Star Army Ammunition Plant

Texarkana TX 75505-9100

Landholding Agency: Army

Property Number: 21199420308

Status: Unutilized

Directions:

Comments:

Reasons: Secured Area

Land 1

Brownwood

Brown TX 76801

Landholding Agency: Army

Property Number: 21201020034

Status: Unutilized

Reasons: Contamination

Utah

B-50000

Green River Test Complex

Green River UT 84525

Landholding Agency: Army

Property Number: 21201210047

Status: Unutilized

Comments: nat'l security concerns; no public access and no alternative method to gain access.

Reasons: Secured Area

[FR Doc. 2016-08117 Filed 4-14-16; 8:45 am]

BILLING CODE 4210-67-P